DEPARTMENT OF THE INTERIOR

Bureau of Indian Affairs

Indian Child Welfare Act; Designated Tribal Agents for Service of Notice

AGENCY: Bureau of Indian Affairs, Interior.

ACTION: Notice.

SUMMARY: The regulations implementing the Indian Child Welfare Act provide that Indian tribes may designate an agent other than the tribal chairman for service of notice of proceedings under the Act. This notice includes the current list of designated tribal agents for service of notice.

FOR FURTHER INFORMATION CONTACT: Sue V. Settles, Chief, Human Services Division, Bureau of Indian Affairs, 1849 C Street, NW., Mail Stop 4513-MIB, Washington, DC 20240; Telephone: (202) 513-7622.

SUPPLEMENTARY INFORMATION: The regulations implementing the Indian Child Welfare Act, 25 U.S.C. 1901 et seq., provide that Indian tribes may designate an agent other than the tribal chairman for service of notice of proceedings under the Act. See 25 CFR 23.12. The Secretary of the Interior is required to publish in the Federal Register on an annual basis the names and addresses of the designated tribal agents. This notice is published in exercise of authority delegated by the Secretary of the Interior to the Principal Deputy Assistant Secretary—Indian Affairs by 209 DM 8.

This notice presents, in two different formats, the names and addresses of current designated tribal agents for service of notice. The first format lists designated tribal agents by region and alphabetically by tribe within each region. The second format is a table that lists designated tribal agents alphabetically by the tribal affiliation (first listing American Indian tribes, then listing Alaska Native tribes). Each format also lists the Bureau of Indian Affairs contact(s) for each of the twelve regions.

A. List of Designated Tribal Agents by Region

1. Alaska Region

2. Eastern Oklahoma Region

3. Eastern Region

4. Great Plains Region

5. Midwest Region

6. Navajo Region

7. Northwest Region

8. Pacific Region

9. Rocky Mountain Region

10. Southern Plains Region

11. Southwest Region

12. Western Region

B. List of Designated Tribal Agents by Tribal Affiliation

1. Tribes Other Than Alaska Native Tribes and Villages

2. Alaska Native Tribes and Villages

A. List of Designated Tribal Agents by Region

1. Alaska Region

Eugene Virden, Regional Director, Alaska Regional Office, P.O. Box 25520, 709 W. 9th, 3rd Floor, Federal Building, Juneau, AK 99802-5520; Phone: (800) 645-8397; Fax: (907) 586-7057.

Gloria Gorman, M.S.W., Human Services Director, P.O. Box 25520, 709 W. 9th, 3rd Floor, Federal Building, Juneau, AK 99802-5520; Phone: (800) 645-8397 extension 2; Fax: (907) 586-7037.

A

Afognak, Native Village of (formerly the Village of Afognak), Denise Malutin, ICWA Worker, 115 Mill Bay Rd Ste 201 Kodiak, AK 99615; Phone: (907) 486-6357; Fax: (907) 486-6529; E-mail: denise@afognak.org

Agdaagux Tribe of King Cove, Arthur Newman, Tribal Administrator, P.O. Box 249, King Cove, AK 99612; Phone: (907) 497-2648; Fax: (907) 497-2803; E-mail: ATC@arctic.net and Grace Smith, Family Programs Coordinator, Aleutian/Pribilof Islands Association, 1131 East International Airport Road, Anchorage, AK 99518-1408; Phone: (907) 276-2700 or 222-4236; Fax: (907) 279-4351; E-mail: graces@apiai.org.

Akhiok, Native Village of, Rachelle Joy, KANA Foster Parent Support Specialist, 3449 Rezanof Drive East, Kodiak, AK 99615; Phone: (907) 486-9869; Fax: (907) 486-4829; E-mail: rachelle.joy@kanaweb.org.

Akiachak Native Community, Georgiann Wassilie, Tribal Family Services, P.O. Box 51070, Akiachak, AK 99551-0070; Phone: (907) 825-4626/4073; Fax: (907) 825-4029; E-mail: n/a.

Akiak Native Community, Sheila Williams, Tribal Administrator and Andrea Jasper, ICWA Worker, P.O. Box 52127, Akiak, AK 99552; Phone: (907) 765-7112/7117; Fax: (907) 765-7512; E-mail: n/a.

Native Village of Akutan, Grace Smith, Family Programs Coordinator, Aleutian/Pribilof Islands Association, 1131 East International Airport Road, Anchorage, AK 99518-1408; Phone: (907) 276-2700; Fax: (907) 279-4351; E-mail: graces@apiai.org.

Village of Alakanuk, Charlene Smith, ICWA Specialist, or Daisy Lamont, CFSS-ICWA, P.O. Box 149, Alakanuk AK 99554; Phone: (907) 238-3704/3730; Fax: (907) 238-3705; E-mail: csmith@avcp.org, dlamont@avcp.org. AVCP ICWA Staff, Association of Village Council Presidents, ICWA Staff, P.O. Box 219, Bethel, AK 99559; Phone: (907) 543-7300; Fax: (907) 543-5759; E-mail: icwa@avcp.org.

Alatna Village, Wilma David, Tribal Family Youth Specialist, P.O. Box 70, Allakaket, AK 99720; Phone: (907) 968-8397; Fax: (907) 968-2305; and Legal Department, Tanana Chiefs Conference, 122 First Avenue, Suite 600, Fairbanks, AK 99701; Phone: (907) 452-8251 ext. 3178; Fax: (907) 459-3953; E-mail: n/a.

Aleknagik, Native Village of, Jane Gottschalk, Caseworker II, P.O. Box 115, Aleknagik, AK 99555; Phone: (907) 842-4577; Fax: (907) 842-2229; janegottschalk@gmail.com; and Children's Services Program Manager, Bristol Bay Native Association, P.O. Box 310, 1500 Kanakanak Road, Dillingham, AK 99576; Phone: (907) 842-4139; Fax: (907) 842-4106; E-mail: cnixon@bbna.com.

Algaaciq Native Village (St. Mary's), Gertrude Paukan, ICWA Case Worker, P.O. Box 48, 200 Paukan Avenue, St. Mary's, AK 99658-0048; Phone: (907) 438-2932/2933; Fax: (907) 438-2227; E-mail: gpaukan@avcp.org and Association of Village Council Presidents, ICWA Staff, P.O. Box 219, Bethel, AK 99559; Phone: (907) 543-7300; Fax: (907) 543-5759; E-mail: icwa@avcp.org.

Allakaket Village, Emily Bergman, Tribal Family Youth Specialist (TFYS), P.O. Box 50, Allakaket, AK 99720; Phone: (907) 968-2303; Fax: (907) 968-2233; E-mail: Emily.bergman@tananachiefs.org and Legal Department, Tanana Chiefs Conference, 122 First Avenue, Suite 600, Fairbanks, AK 99701; Phone: (907) 452-8251, ext. 3178; Fax: (907) 459-3953; E-mail: n/a.

Native Village of Ambler, Carol B. Cleveland, ICWA Coordinator, Box 86047, Ambler, AK 99786; Phone: (907) 445-2189; Fax: (907) 445-2257; E-mail: icwa@ivisaappaat.org.

Village of Anaktuvuk, Tribal President, P.O. Box 21065 Anaktuvuk Pass, AK 99721; Phone: (907) 661-2575; Fax: (907) 661-2576; and Dalles Lee Brower, Voc Rehab Director, Inupiat Community of the Arctic Slope; P.O. Box 934, 6986 Ahmaogak St., Barrow, AK 99723; Phone: (907) 852-2448; Fax: (907) 852-2449; E-mail: casvr@gci.net.

Yupiit of Andreafski, ICWA Program Director, P.O. Box 88, St. Mary's, AK 99658-0088; Phone: (907) 438-2572; Fax: (907) 438-2573; E-mail: n/a.

Angoon Community Association, Marlene F. Zuboff, ICWA/Social Services Manager, P.O. Box 328, Angoon, AK 99820; Phone: (907) 788-3411; Fax: (907) 788-3412; E-mail: mzuboff@ccthita.org.

Village of Aniak, Muriel Morgan, ICWA Worker, Box 349, Aniak, AK 99557; Phone: (907) 675-4349; Fax (907) 675-4513; E-mail: n/a.

Anvik Village, Alberta Walker, Tribal Family Youth Specialist (TFYS), P.O. Box 10, Anvik, AK 99558; Phone: (907) 663-6378; Fax: (907) 663-6357; E-mail: n/a and Legal Department, Tanana Chiefs Conference, 122 First Avenue, Suite 600, Fairbanks, AK 99701; Phone: (907) 452-8251, ext. 3178; Fax: (907) 459-3953; E-mail: n/a.

Arctic Village, Nena C. Wilson, ICWA Manager, or Margorie Gemmill, Tribal Administrator, P.O. Box 69, Arctic Village, AK 99722; Phone: (907) 587-5523/5328; Fax: (907) 587-5128; E-mail: n/a.

Asa'carsarmiut Tribe (formerly Native Village of Mountain Village), James C. Landlord, First Chief, P.O. Box 32249, Mountain Village, AK 99632; Phone: (907) 591-2815; Fax: (907) 591-2811; Evelyn D. Peterson, Social Service Director, Asastasia Larson, P.O. Box 32107, Mountain Village, AK 99632; Phone: (907) 591-2428; Fax: (907) 591-2934; E-mail: atcicwa@gci.nett.

Native Village of Atka, Kathy Dirks, ICWA Coordinator, Unalaska, AK 99685; Phone: (907) 581-6574; Fax: (907) 581-2040; E-mail: kathyd@apiai.org; Grace Smith, Family Programs Coordinator, Aleutian/Pribilof Islands Association, 1131 East International Airport Road, Anchorage, AK 99518-1408; Phone: (907) 276-2700 or (907) 222-4236; Fax: (907) 279-4351; E-mail: graces@apiai.org.

Atmautluak, Village of, Moses Pavilla Sr., Tribal Judge and Melvina Nicholai, ICWA Worker, and Nicholai O. Pavilla Sr., Vice President, P.O. Box 6568, Atmautluak, AK 99559; Phone: (907) 553-5610/5510; Fax: (907) 553-5612/5150; E-mail: atmautluaktc@hughes.net.

Atqasuk Village (Atkasook), Candace Itta, President, P.O. Box 91108, Atqasuk, AK 99791; Phone: (907) 633-2575; Fax: (907) 633-2576; E-mail: icastaq@astacalaska.net; and Arctic Slope Native Association, Maude Hopson, ICWA Worker; P.O. Box 1232, Barrow, Alaska 99723 Phone: (907) 852-9374; Fax: (907) 852-2761; E-mail: maude.hopson@arcticslope.org; icwa@arcticslope.org.

B

Native Village of Barrow Inupiat Traditional Government, Edith Kaleak, Social Services Director, P.O. Box 1130, Barrow, AK 99723; Phone: (907) 852-4411; Fax: (907) 852-4413; E-mail: ekaleak@nvbarrow.net.

Beaver Village, Arlene Pitka, ICWA Coordinator, P.O. Box 24029, Beaver, AK 99724; Phone: (907) 628-6126; Fax: (907) 628-6815; and Legal Department, Tanana Chiefs Conference, 122 First Avenue, Suite 600, Fairbanks, AK 99701; Phone (907) 452-8251 ext. 3178; Fax: (907) 459-3953; E-mail: n/a.

Native Village of Belkofski, Grace Smith, Family Program Coordinator, Aleutian/Pribilof Islands Association, 1131 East International Airport Road, Anchorage, AK 99518-1408; Phone: 1-800-478-2742; Fax: (907) 222-9735; E-mail: graces@apiai.org.

Bettles Field (See Evansville Village)

Village of Bill Moore's Slough, Nancy C. Andrews, ICWA Family Specialist, Pauline Okitkun, Tribal Administrator, P.O. Box 20288, Kotlik, AK 99620; Phone: (907) 899-4236/4232; Fax: (907) 899-4002/4461; E-mail: n/a.

Birch Creek Tribe, Jackie Baalam, Tribal Family Youth Specialist (TFYS), 1410 S. Cushman Street, Suite 3B, Fairbanks, AK 99701; Phone: (907) 221-2215; Fax: (907) 455-8486; and Legal Department, Tanana Chiefs Conference, 122 First Avenue, Suite 600, Fairbanks, AK 99701; Phone (907) 452-8251 ext. 3178; Fax: (907) 459-3953; E-mail: n/a.

Native Village of Brevig Mission, Linda M. Divers, Tribal Family Coordinator, P.O. Box 85039, Brevig Mission, AK 99785; Phone: (907) 642-3012; Fax: (907) 642-3042; E-mail: linda@kawerak.org.

Native Village of Buckland, Lani Hadley, ICWA Coordinator, P.O. Box 67, Buckland, AK 99727-0067; Phone: (907) 494-2169; Fax: (907) 494-2168; E-mail: n/a.

C

Native Village of Cantwell, Veronica Nicholas, President, P.O. Box 94, Cantwell, AK 99729; Phone: (907) 768-2591; Fax: (907) 768-1111; E-mail: hallvc@mtaonline.net.; and Katherine McConkey, Director, Tribal Community Services, Copper River Native Association, Drawer H, Copper Center, AK 99573; Phone: (907) 822-5241, ext. 232; Fax: (907) 822-8801; E-mail: kathy@crnative.org.

Central Council of the Tlingit and Haida Indian Tribes, Leonora Florendo, ICWA Coordinator, 320 W. Willoughby Avenue, Suite 300, Juneau, AK 99801-9983; Phone: (907) 463-7163; Fax: (907) 463-7343; E-mail: lflorendo@ccthita.org.

Chalkyitsik Village, Donna L. Crow, Tribal Family Youth Specialist, P.O. Box 57, Chalkyitsik, AK 99788; Phone: (907) 848-8117; Fax: (907) 848-8119; and Legal Department, Tanana Chiefs Conference, 122 First Avenue, Suite 600, Fairbanks, AK 99701; Phone (907) 452-8251 ext. 3178; Fax: (907) 459-3953; E-mail: n/a.

Native Village of Chanega (aka Chenega), Norma Selanoff, ICWA Worker and GayDell Trumblee, Tribal Administrator, P.O. Box 8079, Chenega Bay, AK 99574; Phone: (907) 573-5386/5130; Fax: (907) 573-5387/5120; E-mail: g.trumblee@nativevillageofchanega.com.

Cheesh-Na Tribe, (formerly the Native Village of Chistochina), Wilson Justin, Tribal Administrator, P.O. Box 241, Gakona, AK 99586; Phone: (907) 822-3503; Fax: (907) 822-5179; E-mail: wjustin@cheeshna.com.

Village of Chefornak, Edward Kinegak, ICWA Specialist, P.O. Box 110, Chefornak, AK 99561-0110; Phone: (907) 867-8808; Fax: (907) 867-8711; E-mail: ekinegak@gci.net; and Association of Village Council Presidents, ICWA Staff, P.O. Box 219, Bethel, AK 99559; Phone (907) 543-7300; Fax: (907) 543-5759; E-mail: icwa@avcp.org.

Chevak Native Village (aka Qissunamiut Tribe), Esther Friday, ICWA Director/Worker, P.O. Box 140, Chevak, AK 99563; Phone: (907) 858-7918; Fax: (907) 858-7919; and Association of Village Council Presidents, ICWA Staff, P.O. Box 219, Bethel, AK 99559; Phone (907) 543-7300; Fax: (907) 543-5759; E-mail: icwa@avcp.org.

Chickaloon Native Village, Penny Westing, ICWA Case Manager, P.O. Box 1105, Chickaloon, AK 99674; Phone: (907) 745-0749/0794; Fax: (907) 745-0709; E-mail: cvadmin@chickaloon.org; penny@chickaloon.org.

Chignik Bay Tribal Council (formerly the Native Village of Chignik), Debbie Carlson, Administrator, P.O. Box 50, Chignik, AK. 99564; Phone: (907) 749-2445; Fax: (907) 749-2423; and Children's Services Program Manager, Bristol Bay Native Association, P.O. Box 310, 1500 Kanakanak Road, Dillingham, AK 99576; Phone (907) 842-4139; Fax: (907) 842-4106; E-mail: cnixon@bbna.com.

Native Village of Chignik Lagoon, Clemence Grunert, Jr., President and Delissa Jones, Village Administrator, P.O. Box 09, Chignik Lagoon, AK. 99565; Phone: (907) 840-2281; Fax: (907) 840-2217; E-mail: clagoon@gci.net; and Children's Services Program Manager, Bristol Bay Native Association, P.O. Box 310, 1500 Kanakanak Road, Dillingham, AK 99576; Phone: (907) 842-4139; Fax: (907) 842-4106; E-mail: cnixon@bbna.com.

Chignik Lake Village, John Lind, President, P.O. Box 33 Chignik Lake, AK 99548; Phone: (907) 845-2212; Fax: (907) 845-2217; and Children's Services Program Manager, Bristol Bay Native Association, P.O. Box 310, 1500 Kanakanak Road, Dillingham, AK 99576; Phone: (907) 842-4139; Fax: (907) 842-4106; E-mail: mailto: cnixon@bbna.com; cnixon@bbna.com.

Chilkat Indian Village (Klukwan), Anna Stevens, Tribal Service Specialist/ICWA Worker, P.O. Box 2207, Haines, AK 99827; Phone: (907) 767-5505; Fax: (907) 767-5518; E-mail: astevens@chilkatindianvillage.org.

Chilkoot Indian Association (Haines), David Berry, Tribal President, P.O. Box 490 Haines, AK 99827; Phone: (907) 766-2323; Fax: (907) 766-2365; E-mail: daveberry@aptalaska.net; Stella Howard, Family Caseworker, P.O. Box 624, Haines, AK 99827; Phone: (907) 766-2810; Fax: (907) 766-2845; E-mail: showard@ccthita.org.

Chinik Eskimo Community (Golovin), Sherri Lewis, Tribal Family Coordinator, P.O. Box 62019, Golovin, AK 99762; Phone: (907) 779-3489; Fax: (907) 779-2000; E-mail: slewis@kawerak.org.

Chistochina (see Cheesh-na)

Native Village of Chitina, Elizabeth Kelley, ICWA Worker, P.O. Box 31, Chitina, AK 99566; Phone: (907) 823-2287; Fax: (907) 823-2233; E-mail bkelly@ctvc.org.

Native Village of Chuathbaluk, Tribal President, P.O. Box CHU, Chuathbaluk, AK 99557; Phone: (907) 467-4323/4313; Fax: (907) 467-4113/4311; E-mail: n/a.

Chuloonawick Native Village, LaVerne Manumik, Tribal Administrator, P.O. Box 245, Emmonak, AK 99581; Phone: (907) 949-1341/1345; Fax: (907) 949-1346; E-mail: coffice@starband.net.

Circle Native Community, Jessica Boyle, ICWA Worker, P.O. Box 89, Circle, AK 99733; Phone: (907) 773-2822; Fax: (907) 773-2823; E-mail: Jessica.boyle@tananachiefs.org and Legal Department, Tanana Chiefs Conference, 122 First Avenue, Suite 600, Fairbanks, AK 99701; Phone: (907) 452-8251 ext. 3178; Fax: (907) 459-3953; E-mail: n/a.

Clarks Point, Village of, Harry Wassily, Sr., Tribal President, P.O. Box 90, Clarks Point, AK 99569; Phone: (907) 236-1427/1435; Fax: (907) 236-1428; E-mail: sharonclark@starband.net and Children's Services Program Manager, Bristol Bay Native Association, P.O. Box 310, 1500 Kanakanak Road, Dillingham, AK 99576; Phone: (907) 842-4139; Fax: (907) 842-4106; E-mail: cnixon@bbna.com.

Copper Center (see Native Village of Kluti-Kaah).

Cordova (See Eyak).

Native Village of Council, Tribal President and ICWA Coordinator, P.O. Box 2050, Nome, AK 99762; Phone: (907) 443-7649; Fax: (907) 443-5965; E-mail: council@alaska.com.

Craig Community Association, Cynthia Mills, Family Caseworker II, P.O. Box 746, Craig AK 99921; Phone: (907) 826-3948; Fax: (907) 826-5526; E-mail: cmills@ccthita.org.

Village of Crooked Creek, Lorraine John, ICWA Worker, P.O. Box 69, Crooked Creek, AK 99575; Phone: (907) 432-2200; Fax: (907) 432-2201; E-mail: bbcc@starband.net.

Curyung Tribal Council (formerly the Native Village of Dillingham), Chris Itumulria, Tribal Children Service Worker, P.O. Box 216, Dillingham, AK 99576; Phone: (907) 842-4508; Fax: (907) 842-4510; E-mail: chris@curyungtribe.com; and Children's Services Program Manager, Bristol Bay Native Association, P.O. Box 310, 1500 Kanakanak Road, Dillingham, AK 99576; Phone: (907) 842-4139; Fax: (907) 842-4106; E-mail: cnixon@bbna.com.

D

Native Village of Deering, Bonita Barr, Tribal Administrator, P.O. Box 89, Deering, AK 99736; Phone: (907) 363-2138; Fax: (907) 363-2195; E-mail: tribeadmin@ipnatchiag.org.

Dillingham (see Curyung).

Diomede (aka Inalik), Native Village of, Arthur Ahkinga, Acting Tribal Family Service Coordinator, P.O. Box 7079, Diomede, AK 99762; Phone: (907) 686-2202/2175; Fax: (907) 686-2203; E-mail: fozenna@kawerak.org.

Dot Lake, Village of, Dewila Lyons, ICWA Coordinator or William Miller, President, P.O. Box 2279, Dot Lake, AK 99737-2275; Phone: (907) 882-2742/2695; Fax: (907) 882-5558; E-mail: n/a.

Douglas Indian Association, Dixon J. Mazon, Caseworker, 3161 Channel Dr. Ste. 1-A Juneau, AK 99801; Phone: (907) 364-2983; Fax: (907) 364-2917; E-mail: djmazon-dia@gci.net.

E

Native Village of Eagle, Maralyn Hinckley, Tribal Family & Youth Services or Joyce Roberts, Tribal Administrator, P.O. Box 19, Eagle, AK 99738; Phone: (907) 547-2271/2281; Fax: (907) 547-2318; E-mail: joyce.roberts@tananachiefs.org and Legal Department, Tanana Chiefs Conference, 122 1st Ave., Ste., 600, Fairbanks, AK 99701; Phone: (907) 452-8251 ext. 3178; Fax: (907) 459-3953; E-mail: n/a.

Native Village of Eek, Lillian Cleveland, ICWA Worker, P.O. Box 89, Eek, AK 99578; Phone: (907) 536-5572; Fax: (907) 536-5711; E-mail: lcleveland@avcp.org; and Association of Village Council Presidents, ICWA Staff, P.O. Box 219, Bethel, AK 99559; Phone: (907) 543-7300; Fax: (907) 543-5759; E-mail: icwa@avcp.org.

Egegik Village, Caseworker II, P.O. Box 154, Egegik, AK 99579; Phone: (907) 233-2207; Fax: (907) 233-2213; and Children's Services Program Manager, Bristol Bay Native Association, P.O. Box 310, 1500 Kanakanak Road, Dillingham, AK 99576; Phone: (907) 842-4139; Fax: (907) 842-4106; E-mail: cnixon@bbna.com.

Eklutna Native Village, Terri Corey, ICWA Coordinator, 26339 Eklutna Village Road, Chugiak, AK 99567; Phone: (907) 688-6020/242-6021; Fax: (907) 688-6021: E-mail: nve.icwa@eklutna-nsn.gov.

Native Village of Ekuk, Helen Foster, Tribal Administrator, 300 Main St., P.O. Box 530, 300 Main Street, Dillingham, AK 99576; Phone: (907) 842-3842; Fax: (907) 842-3843; and Children's Services Program Manager, Bristol Bay Native Association, P.O. Box 310, 1500 Kanakanak Road, Dillingham, AK 99576; Phone: (907) 842-4139; Fax: (907) 842-4106; E-mail: cnixon@bbna.com.

Ekwok Village, Sandra Stermer, Tribal Children Service Worker, P.O. Box 70, Ekwok, AK 99580; Phone: (907) 464-3349; Fax: (907) 464-3350; E-mail: sstermer@starband.net; and Children's Services Program Manager, Bristol Bay Native Association, P.O. Box 310, 1500 Kanakanak Road, Dillingham, AK 99576; Phone: (907) 842-4139; Fax: (907) 842-4106; E-mail: cnixon@bbna.com.

Native Village of Elim, Joseph H. Murray, Tribal Family Coordinator; P.O. Box 39070, Elim, AK 99739; Phone: (907) 890-2457; Fax: (907) 890-2458; E-mail: jmurrayjr@kawerak.org.

Emmonak Village, Priscilla S. Kameroff, ICWA Specialist, P.O. Box 126, Emmonak, AK 99581-0126; Phone: (907) 949-1820/1720; Fax: (907) 949-1384; E-mail: icwa@hughes.net and emktribal@hughes.net.

English Bay (see Native Village of Nanwalek).

Evansville Village (aka Bettles Field), Rachel Hanft, ICWA/Tribal Family & Youth Services, P.O. Box 26087, Bettles, AK 99726; Phone: (907) 692-5005; Fax: (907) 692-5006; E-mail: Rachel.hanft@tananachiefs.org; and Legal Department, Tanana Chiefs Conference, 122 First Avenue, Suite 600, Fairbanks, AK 99701; Phone: (907) 452-8251 ext. 3178; Fax: (907) 459-3953; E-mail: n/a.

Native Village of Eyak (Cordova), Erin Kurz, ICWA Worker, P.O. Box 1388, Cordova, AK 99574; Phone: (907) 424-7738; Fax: (907) 424-7809; E-mail: erin@nveyak.org.

F

Native Village of False Pass, Grace Smith, Family Programs Coordinator, Aleutian/Pribilof Islands Association, 1131 East International Airport Road, Anchorage, AK 99518-1408; Phone: (907) 276-2700 or 222-4236; Fax: (907) 279-4351; E-mail: graces@apiai.org.

Native Village of Fort Yukon (Gwichyaa Gwichin), Arlene Joseph, ICWA Worker, P.O. Box 10, Fort Yukon, AK 99740; Phone: (907) 662-3625; Fax: (907) 662-3118; E-mail: ajoseph@yftribes.org; and Legal Department, Tanana Chiefs Conference, 122 First Avenue, Suite 600, Fairbanks, AK 99701; Phone: (907) 452-8251, ext. 3178; Fax: (907) 459-3953; E-mail: n/a.

Fortuna Ledge (see Native Village of Marshall).

G

Native Village of Gakona, Charlene Nollner, Tribal Administrator, P.O. Box 102, Gakona, AK 99586; Phone: (907) 822-5777; Fax: (907) 822-5997; E-mail: gakonaadmin@cvinternet.net.

Galena Village (aka Louden Village), March Runner, ICWA Director, P.O. Box 244, Galena, AK 99741; Phone: (907) 656-1711; Fax: (907) 656-2491; and Legal Department, Tanana Chiefs Conference, 122 First Avenue, Suite 600, Fairbanks, AK 99701; Phone: (907) 452-8251 ext. 3178; Fax: (907) 452-3953; E-mail: n/a.

Native Village of Gambell, Tyler Campbell, Sr., ICWA Coordinator, P.O. Box 90, Gambell, AK 99742; Phone: (907) 985-5346; Fax: (907) 985-5014; E-mail: n/a.

Native Village of Georgetown, Amber Matthews, Tribal Administrator, 4300 B Street, Suite 207, Anchorage, Alaska 99503; Phone: (907) 274-2195; Fax: (907) 274-2196; E-mail: gtc@gci.net.

Golovin (see Chinik Eskimo Community).

Native Village of Goodnews Bay, Pauline A. Echuck, ICWA, P.O. Box 138, Goodnews Bay, AK 99589; Phone: (907) 967-8331/8929; Fax: (907) 967-8330; E-mail: n/a.

Organized Village of Grayling (aka Holikachuk), Sue Ann Nicholi, Tribal Family Youth Specialist, P.O. Box 49, Grayling, AK 99590; Phone: (907) 453-5142; Fax: (907) 453-5146; and Legal Department, Tanana Chiefs Conference, 122 First Avenue, Suite 600, Fairbanks, AK 99701; Phone: (907) 452-8251 ext. 3178; Fax: (907) 459-3953; E-mail: n/a.

Gulkana Village, Charelle Randall, ICWA Worker, P.O. Box 254, Gakona, AK 99586-0254; Phone: (907) 822-5363; Fax: (907) 822-3976; E-mail: icwa@gulkanacouncil.org.

Gwichyaa Gwichin (see Fort Yukon).

H

Haines (see Chilkoot Indian Association).

Native Village of Hamilton, Irene R. K. Williams, Tribal Administrator, P.O. Box 20248, Kotlik, AK 99620-0248; Phone: (907) 899-4252/4255; Fax: (907) 899-4202; E-mail: iwilliams@avcp.org.

Healy Lake Village, Jo Ann Polston, TFYS, 326 First Avenue, Fairbanks, AK 99701; Phone: (907) 876-0638; Fax: (907) 876-0639; and Legal Department, Tanana Chiefs Conference, 122 First Avenue, Suite 600, Fairbanks, AK 99701; Phone: (907) 452-8251, ext. 3178; Fax: (907) 459-3953; E-mail: n/a.

Holikachuk (See Grayling).

Holy Cross Village, Rebecca J. Turner, Tribal Family Youth Specialist (TFYS), P.O. Box 191, Holy Cross, AK 99602; Phone: (907) 476-7249; Fax: (907) 476-7132; and Legal Department, Tanana Chiefs Conference, 122 First Avenue, Suite 600, Fairbanks, AK 99701; Phone: (907) 452-8251; Fax: (907) 459-3953; E-mail: n/a.

Hoonah Indian Association, Hattie Dalton, Director of Human Services, P.O. Box 602, Hoonah, AK 99829; Phone: (907) 945-3545; Fax: (907) 945-3530; E-mail: hdalton@hiatribe.org.

Native Village of Hooper Bay, Mildred B. Metcalf, ICWA Representative, P.O. Box 62, Hooper Bay, AK 99604; Phone: (907) 758-4006; Fax: (907) 758-4606; and Association of Village Council Presidents, ICWA Staff, P.O. Box 219, Bethel, AK 99559; Phone: (907) 543-7300; Fax: (907) 543-5759; E-mail: icwa@avcp.org.

Hughes Village, Elena Miranda Beatus, Tribal Family Youth Specialist, P.O. Box 45029, Hughes, AK 99745; Phone: (907) 889-2249; Fax; (907) 889-2252; E-mail: Elena.beatus@tananachiefsconference.org and Legal Department, Tanana Chiefs Conference, 122 First Avenue, Suite 600, Fairbanks, AK 99701; Phone: (907) 452-8251 ext. 3178; Fax: (907) 459-3953; E-mail: n/a.

Huslia Village, Cesa Sam, Tribal Family Youth Specialist, P.O. Box 70, Huslia, AK 99746; Phone: (907) 829-2202; Fax: (907) 829-2214; E-mail: Eileen.jackson@tananachiefs.org and Legal Department, Tanana Chiefs Conference, 122 First Avenue, Suite 600, Fairbanks, AK 99701; Phone: (907) 452-8251, ext. 3178; Fax: (907) 459-3953; E-mail: n/a.

Hydaburg Cooperative Association, Jerrilynn Fowler, Human Services Director, P.O. Box 349, Hydaburg AK 99922; Phone: (907) 285-3666; Fax: (907) 285-3541; E-mail: n/a.

I

Igiugig Village, Tanya Salmon, ICWA Worker, P.O. Box 4008, Igiugig, AK 99613; Phone: (907) 533-3211; Fax: (907) 533-3217; and Children's Services Program Manager, Bristol Bay Native Association, P.O. Box 310,1500 Kanakanak Road, Dillingham, AK 99576; Phone: (907) 842-4139; Fax: (907) 842-4106; E-mail: cnixon@bbna.com.

Village of Iliamna, Maria Anelon, Administrative Assistant, P.O. Box 286, Iliamna, AK 99606; Phone: (907) 571-1246; Fax: (907) 571-1256; and Children's Services Program Manager, Bristol Bay Native Association, P.O. Box 310, 1500 Kanakanak Road, Dillingham, AK 99576; Phone: (907) 842-4139; Fax: (907) 842-4106; E-mail: cnixon@bbna.com.

Inupiat Community of Arctic Slope, Price Leavitt, CEO, P.O. Box 934, Barrow, AK 99723; (907) 852-4227; Fax: (907) 852-4246; E-mail: icas.social@barrow.com.

Iqurmuit Traditional Council (formerly the Native Village of Russian Mission), Katie Nick, ICWA Coordinator, P.O. Box 09, Russian Mission, AK 99657-0009; Phone: (907) 584-5594; Fax: (907) 584-5596; and Association of Village Council Presidents, ICWA Staff, P.O. Box 219, Bethel, AK 99559; Phone: (907) 543-7300; Fax: (907) 543-5759; E-mail: icwa@avcp.org.

Ivanoff Bay Village, Edgar Shangin, Tribal President, 7926 Old Seward Hwy, Suite B-5, Anchorage, AK 99518; Phone: (907) 522-2263; Fax: (907) 522-2363; E-mail: n/a. ibvc@ivanofbay.com; and Children's Services Program Manager, Bristol Bay Native Association, P.O. Box 310, 1500 Kanakanak Road, Dillingham, AK 99576; Phone: (907) 842-4139; Fax: (907) 842-4106; E-mail: cnixon@bbna.com.

K

Kaguyak Village, Margie Bezona, Community Development Director, Kodiak Area Native Association, 3449 E. Rezanof Drive, Kodiak, AK 99615; Phone: (907) 486-9816; Fax: (907) 486-9886. E-mail: margie.bezona@kanaweb.org.

Organized Village of Kake, M. Ann Jackson, Social Service Director, P.O. Box 316, Kake, AK 99830; Phone: (907) 785-6471; Fax: (907) 785-4902; E-mail: annjackson@kakefirstnation.org.

Kaktovik Village (aka Barter Island), Isaac Akootchook, President, P.O. Box 73, Kaktovik, AK 99747; Phone: (907) 640-2042; Fax: (907) 640-2044; and Arctic Slope Native Association, Maude Hopson, ICWA Worker; P.O. Box 1232, Barrow, Alaska 99723; Phone: (907) 852-9374; Fax: (907) 852-2761; E-mail: maude.hopson@arcticslope.org.

Village of Kalskag, (aka Upper Kalskag), Bonnie Perrson, Administrator, P.O. Box 50, Upper Kalskag, AK 99607; Phone: (907) 471-2207; Fax: (907) 471-2399; and Association of Village Council Presidents, ICWA Staff, P.O. Box 219, Bethel, AK 99559; Phone: (907) 543-7300; Fax: (907) 543-5759; E-mail: icwa@avcp.org.

Village of Lower Kalkag, Bernice Wise, Community Family Service Specialist, P.O. Box 27, Lower Kalskag, AK 99626; Phone: (907) 471-2412; Fax: (907) 471-2378; and Association of Village Council Presidents, ICWA Staff, P.O. Box 219, Bethel, AK 99559; Phone: (907) 543-7300; Fax: (907) 543-5759; E-mail: icwa@avcp.org.

Village of Kaltag, Marlene Madros, Tribal Family Youth Specialist, P.O. Box 129, Kaltag, AK 99748; Phone: (907) 534-2243; Fax: (907) 534-2264; and Legal Department, Tanana Chiefs Conference, 122 First Avenue, Suite 600, Fairbanks, AK 99701; Phone: (907) 452-8251 ext. 3178; Fax: (907) 459-3953; E-mail: n/a.

Native Village of Kanatak, Tony Olivera, Tribal Administrator/ICWA Director, P.O. Box 872231, Wasilla, AK 99687; Phone: (907) 357-5991; Fax: (907) 357-5992; E-mail: kanatak@mtaonline.net.

Native Village of Karluk, Joyce Jones, ICWA Worker, P.O. Box 22, Karluk, AK 99608; Phone: (907) 241-2218; Fax: (907) 241-2208; E-mail: n/a.

Organized Village of Kasaan, Paula K. Peterson, Tribal Administrator, P.O. Box 26-KXA, Kasaan, Ketchikan, AK 99950; Phone: (907) 542-2230; Fax: (907) 542-3006; E-mail: paula@kasaan.org.

Kashunamiut Tribe (see Chevak).

Kasigluk Traditional Elders Council (formerly the Native Village of Kasigluk), Lena Keene, ICWA Worker, P.O. Box 19, Kasigluk, AK 99609; Phone: (907) 477-6418/6405; Fax: (907) 477-6416/6212; E-mail: n/a.

Kenaitze Indian Tribe, Ms. Vide Van Velzor, ICWA Worker, 150 North Willow Ave., Kenai, AK 99611; Phone: (907) 283-3633; Fax: (907) 283-3828; E-mail: vvanvelzor@kenaitze.org.

Ketchikan Indian Corporation, Wendy Weston, MSW, ICWA Representative, 2960 Tongass Avenue, First Floor, Ketchikan, AK 99901; Phone: (907) 228-4917, Fax: (907) 228-4920; E-mail: wweston@kictribe.org.

Native Village of Kiana, Gloria Shellabarger, Tribe Director, P.O. Box 69, Kiana, AK 99749; Phone: (907) 475-2109; Fax: (907) 475-2180; E-mail: icwa@katyaaq.org or tribedirector@katyaaq.org.

King Cove (see Agdaagux).

King Island Native Community, Rosealee Quanlin, Tribal Family Coordinator, P.O. Box 682, Nome, AK 99762; Phone: (907) 443-5181; Fax: (907) 443-8049; E-mail: vquanlin@kawerak.org.

King Salmon Tribe, Ralph Angasan, Jr., Tribal Administrator, Ruth Monsen, ICWA Worker, P.O. Box 68, King Salmon, AK 99613; Phone: (907) 246-3553/3447; Fax: (907) 246-3449; E-mail: kstvc@starbans.net; windsong1@starband.net; and Children's Services Program Manager, Bristol Bay Native Association, P.O. Box 310, 1500 Kanakanak Road, Dillingham, AK 99576; Phone: (907) 842-4139; Fax: (907) 842-4106; E-mail: cnixon@bbna.com.

Native Village of Kipnuk, Nicole A. Slim, ICWA Specialist, P.O. Box 57, Kipnuk, AK 99614; Phone: (907) 896-5515; Fax: (907) 896-5240; E-mail: nslim@avcp.org; and Association of Village Council Presidents, ICWA Staff, P.O. Box 219, Bethel, AK 99559; Phone: (907) 543-7300; Fax: (907) 543-5759; E-mail: icwa@avcp.org.

Native Village of Kivalina, Millie Hawley, President, P.O. Box 50051, Kivalina, AK 99750; Phone: (907) 645-2153; Fax: (907) 645-2193/2250; and Jackie Hill, Maniilaq Association, P.O. Box 256, Kotzebue, AK 99752; Phone: (907) 442-7919; Fax: (907) 442-7933; E-mail: n/a.

Klawock Cooperative Association, Henrietta Kato, Family Caseworker III/Field Staff Supervisor, P.O. Box 173, Klawock, AK 99925; Phone: (907) 755-2326; Fax: (907) 755-2647; E-mail: hkato@ccthita.org.

Klukwan (see Chilkat Indian Village).

Native Village of Kluti-Kaah (Copper Center), Carl Pete, President, P.O. Box 68, Copper Center, AK 99573; Phone: (907) 822-5541; Fax: (907) 822-5130; E-mail: vkkadmin@cvinternet.net.

Knik Tribe, Geraldine Nicoli, ICWA Worker, P.O. Box 871565, Wasilla, AK 99687-1565; Phone: (907) 373-7991; Fax: (907) 373-2153; E-mail: gnicoli@kniktribe.org.

Native Village of Kobuk, Agnes Bernhardt, Tribal Administrator, P.O. Box 51039, Kobuk, AK 99751-0039; Phone: (907) 948-2203; Fax: (907) 948-2355; E-mail: tribeadmin@laugvik.org.

Kodiak Tribal Council, (see Sun'aq Tribe of Kodiak, formerly Shoonaq Tribe).

Kokhanok Village, Mary Andrew, Tribal Children Service Worker, P.O. Box 1007, Kokhanok, AK 99606; Phone: (907) 282-2224; Fax: (907) 282-2221; and Crystal Nixon, Children's Services Program Manager, Bristol Bay Native Association, P.O. Box 310, 1500 Kanakanak Road, Dillingham, AK 99559; Phone: (907) 842-4139; Fax: (907) 842-4106; E-mail: cnixon@bbna.com.

Koliganek Village (see New Koliganek).

Native Village of Kongiganak, Janet Otto, ICWA Worker, and Wayne Phillip, Tribal Administrator, P.O. Box 5092, Kongiganak, AK 99545; Phone: (907) 557-5311; Fax: (907) 557-5348; E-mail: janet_otto@avcp.org; and Association of Village Council Presidents, ICWA Staff, P.O. Box 219, Bethel, AK 99559; Phone: (907) 543-7300; Fax: (907) 543-5759; E-mail: icwa@avcp.org.

Village of Kotlik, Henrietta M. Teeluk, ICWA Worker, P.O. Box 20210, Kotlik, AK 99620; Phone: (907) 899-4459; Fax: (907) 899-4459/4790; and Association of Village Council Presidents, ICWA Staff, P.O. Box 219, Bethel, AK 99559; Phone: (907) 543-7300; Fax: (907) 543-5759; E-mail: icwa@avcp.org.

Native Village of Kotzebue, Clara Henry, Family Tribal Resource Director, P.O. Box 296, Kotzebue, AK 99752-0296; Phone: (907) 442-3467 Ext: 1021; Fax: (907) 442-4013; E-mail: clara.henry@qira.org.

Native Village of Koyuk, Leo M. Charles Sr., Tribal Family Coordinator, P.O. Box 53149, Koyuk, AK 99753; Phone: (907) 963-2215; Fax: (907) 963-2300; E-mail: lcharles@kawerak.org.

Native Village Koyukuk, Sharon Pilot, TFYS, Tribal Family Youth Specialist, P.O. Box 109, Koyukuk, AK 99754; Phone: (907) 927-2208/2253; Fax: (907) 927-2220; E-mail: Sharon.pilot@tananachiefs.org.; and Legal Department, Tanana Chiefs Conference, 122 First Avenue, Suite 600, Fairbanks, AK 99701; Phone: (907) 452-8251 ext. 3178; Fax: (907) 459-3953; E-mail: n/a.

Organized Village of Kwethluk, Chariton A. Epchook, Indian Child Welfare Act Coordinator, P.O. Box 130, Kwethluk, AK 99621; Phone: (907) 757-6043; Fax: (907) 757-6321; E-mail: ovkssicw@unicom-alaska.com.

Native Village of Kwigillingok, Andrew Kiunya, Tribal Administrator; P.O. Box 90, Kwigillingok, AK 99622; Phone: (907) 588-8114/8117; Fax: (907) 588-8429; E-mail: n/a.

Native Village of Kwinhagak (aka Quinhagak), Grace Friendly, Health & Human Service Director/ICWA, P.O. Box 149, Quinhagak, AK 99655; Phone: (907) 556-8165 ext. 262; Fax: (907) 556-8340; E-mail: gfriendly.nvk@gmail.com.

L

Native Village of Larsen Bay, Rachelle Joy, KANA Foster Parent Support Specialist, 3449 Rezanof Drive East, Kodiak, AK 99615; Phone: (907) 486-9869; Fax: (907) 486-4829; E-mail: rachelle.joy@kanaweb.org.

Lesnoi Village (aka Woody Island), Kathleen Drabek, Tribal Administrator or Shannon Larronoff, financial Specialist/Enrollment, 3248 Mill Bay Road, Kodiak, AK 99615; Phone: (907) 486-2821; Fax: (907) 486-2738; E-mail: village@alaska.com.

Levelock Village, Lucinda Tallekpalek, Tribal Children Service Worker, P.O. Box 70, Levelock, AK 99625; Phone: (907) 287-3030; Fax: (907) 287-3032; E-mail: levelock@starband.net; and Children's Services Program Manager, Bristol Bay Native Association, P.O. Box 310, 1500 Kanakanak Road, Dillingham, AK 99576; Phone: (907) 842-4139; Fax: (907) 842-4106; E-mail: cnixon@bbna.com.

Lime Village, Tribal President, P.O. Box LVD—Lime Village VIA, McGrath, AK 99627-8999; Phone: (907) 526-5236; Fax: (907) 526-5235; E-mail: limevillage@gmail.com.

Louden (See Galena).

M

Manley Hot Springs Village, Michelle James, TFYS P.O. Box 105, Manley Hot Springs, AK 99756; Phone: (907) 672-3180/3177; Fax: (907) 672-3200; and Legal Department, Tanana Chiefs Conference, 122 First Avenue, Suite 600, Fairbanks, AK 99701; Phone: (907) 452-8251 ext. 3178; Fax: (907) 459-3953; E-mail: n/a.

Manokotak Village, Diana Gamechuk, Youth Activities Coordinator, P.O. Box 169, Manokotak, AK 99628; Phone: (907) 289-2074; Fax: (907) 289-1235; and Children's Services Program Manager, Bristol Bay Native Association, P.O. Box 310, 1500 Kanakanak Road, Dillingham, AK 99576; Phone: (907) 842-4139; Fax: (907) 842-4106; E-mail: cnixon@bbna.com.

Native Village of Marshall (aka Fortuna Ledge), Carmen Pitka, Social Service Director, Box 110, Marshall, AK 99585; Phone: (907) 679-6128; Fax: (907) 679-6187; E-mail: Carmen_pitkamlltc@gci.net.

Native Village of Mary's Igloo (Native Village of Teller), Dolly Kugzruk, ICWA Worker/Kawerak, Inc., P.O. Box 546, Teller, AK 99778; Phone: (907) 642-2185; Fax: (907) 642-3000; E-mail: dkugzruk@kawerak.org.

McGrath Native Village, Helen Vanderpool, Tribal Family and Youth Specialist, P.O. Box 134, McGrath, AK 99627; Phone: (907) 524-3023; Fax: (907) 524-3899; E-mail: helenvhf@mcgrathalaska.net and Legal Department Julia Webb, Tanana Chiefs Conference, 122 First Avenue, Suite 200, Fairbanks, AK 99701; Phone: (907) 452-8251 ext. 3178; Fax: (907) 459-3953; E-mail: juliewebb@tananachiefs.org.

Native Village of Mekoryuk, Patricia Williams, ICWA Worker, P.O. Box 66, Mekoryuk, AK 99630; Phone: (907) 827-8828; Fax: (907) 827-8133; E-mail: nvmicwa@gci.net.

Mentasta Traditional Council, Rachele Sanford, ICWA Program P.O. Box 6019, Mentasta, AK 99780; Phone: (907) 291-2319; Fax: (907) 291-2305; E-mail: n/a.

Metlakatla Indian Community (Northwest Region), Marge Edais-Yeltatzie, Director, Social Services Children's Mental Health & ICW, P.O. Box 85, Metlakatla, AK 99926; Phone: (907) 886-6911; Fax: (907) 886-6913; E-mail: marge@msscmh.org.

Native Village of Minto, Lou Ann Williams, Tribal Family Youth Specialist, P.O. Box 26, Minto, AK 99758; Phone: (907) 798-7007; Fax: (907) 798-7914; and Legal Department, Tanana Chiefs Conference, 122 First Avenue, Suite 600, Fairbanks, AK 99701; Phone: (907) 452-8251 ext. 3178; Fax: (907) 459-3953; E-mail: n/a.

Mountain Village (see Asa'carsarmiut Tribe).

N

Naknek Native Village, Patrick E. Patterson Jr., Council President, P.O. Box 210, Naknek, AK 99633; Phone: (907) 246-4210; Fax: (907) 246-3563; E-mail: lkiana@gci.net or icwa@bristolbay.com; and Children's Services Program Manager, Bristol Bay Native Association P.O. Box 310, 1500 Kanakanak Road, Dillingham, AK 99576; Phone: (907) 842-4139; Fax: (907) 842-4106; E-mail: cnixon@bbna.com.

Native Village of Nanwalek, (aka English Bay), Alma Moonin, IRA Administrator, P.O. Box 8028, Nanwalek, AK 99603-6021; Phone: (907) 281-2274; Fax: (907) 281-2252; E-mail: n/a.

Native Village of Napaimute, Marcie Sherer, President, P.O. Box 1301, Bethel, AK 99559; Phone: (907) 543-2887; Fax: (907) 543-2892; napaimute@starband.net; and Association of Village Council Presidents, ICWA Staff, P.O. Box 219, Bethel, AK 99559; Phone: (907) 543-7440; Fax: (907) 543-5759; E-mail: n/a.

Native Village of Napakiak, Sally K. Billy, ICWA-CFSS, P.O. Box 34114, Napakiak, AK 99634; Phone: (907) 589-2815; Fax: (907) 589-2814; E-mail: sbilly@avcp.org; and Association of Village Council Presidents, ICWA Staff, P. O. Box 219, Bethel, AK 99559; Phone: (907) 543-7300; Fax: (907) 543-5759; E-mail: icwa@avcp.org.

Native Village of Napaskiak, Helen Raganak, Tribal Administrator, and Chris G. Larson, Chief, P.O. Box 6009, Napaskiak, AK 99559; Phone: (907) 737-7364; Fax: (907) 737-7039; E-mail: hkaganak@napaskiak.org and Association of Village Council Presidents, ICWA Staff, P.O. Box 219, Bethel, AK 99559; Phone: (907) 543-7300; Fax: (907) 543-5759; E-mail: icwa@avcp.org.

Native Village of Nelson Lagoon, Nanette Johnson, Assistant Administrator, P.O. Box 913, Nelson Lagoon, AK 99571; Phone: (907) 989-2204; Fax: (907) 989-2233; and Grace Smith, Family Programs Coordinator, Aleutian/Pribilof Islands Association, Inc., 1131 East International Airport Road, Anchorage, AK 99518-1408; Phone: (907) 276-2700 or 222-4236; Fax: (907) 279-4351; E-mail: graces@apiai.org.

Nenana Native Association, Nita M. Marks, Tribal Family Youth Specialist, P.O. Box 369, Nenana, AK 99760; Phone: (907) 832-5461 ext. 225; Fax: (907) 832-5447; and Legal Department, Tanana Chiefs Conference, 122 First Avenue, Suite 600, Fairbanks, AK 99701; Phone: (907) 452-8251 ext. 3178; Fax: (907) 459-3953; E-mail: n/a.

New Koliganek Village Council (formerly Koliganek Village), Sally Kayoukluk, Tribal Children Service Worker, P.O. Box 5026, Koliganek, AK 99576; Phone: (907) 596-3425; Fax: (907) 596-3462; and Children's Services Program Manager, Bristol Bay Native Association, P.O. Box 310, 1500 Kanakanak Road, Dillingham, AK 99559; Phone: (907) 842-4139; Fax: (907) 842-4106; E-mail: cnixon@bbna.com.

New Stuyahok Village, Faith Andrews, Tribal Administrator, P.O. Box 49, New Stuyahok, AK 99637; Phone: (907) 693-3173; Fax: (907) 693-3179; E-mail: nstc@starband.net; and Children's Services Program Manager, Bristol Bay Native Association, P.O. Box 310, 1500 Kanakanak Road, Dillingham, AK 99559; Phone: (907) 842-4139; Fax: (907) 842-4106; E-mail: cnixon@bbna.com.

Newhalen Village, Maxine Wassillie, ICWA Worker, and Joanne Wassillie, Administrator; P.O. Box 207, Newhalen, AK 99606-0207; Phone: (907) 571-1410/1317; Fax: (907) 571-1537; and Children's Services Program Manager, Bristol Bay Native Association, P.O. Box 310, 1500 Kanakanak Road, Dillingham, AK 99576; Phone: (907) 842-4139; Fax: (907) 842-4106; E-mail: cnixon@bbna.com.

Newtok Village, Stanley Tom, Tribal Administrator, P.O. Box 5545, Newtok, AK 99559-5545; Phone: (907) 237-2316; Fax: (907) 237-2428; E-mail: n/a.

Native Village of Nightmute, Paul Tulik, Vice President, Box 90023, Nightmute, AK 99690; Phone: (907) 647-6215; Fax: (907) 647-6112; and Association of Village Council Presidents, ICWA Staff, P.O. Box 219, Bethel, AK 99559; Phone: (907) 543-7300; Fax: (907) 543-5759; E-mail: icwa@avcp.org.

Nikolai Village, Beverly Gregory, Tribal Administrator or Deborah Esai-Holm, Tribal Family Youth Specialist, P.O. Box 9105/9107, Nikolai, AK 99691; Phone: (907) 293-2311; Fax: (907) 293-2481; E-mail: Beverly.gregory@tananachiefs.org and Legal Department, Tanana Chiefs Conference, 122 First Avenue, Suite 600, Fairbanks, AK 99701; Phone: (907) 452-8251 ext. 3178 Fax: (907) 459-3953; E-mail: n/a.

Native Village of Nikolski, Grace Smith, Family Programs Coordinator, Aleutian/Pribilof Islands Association, 1131 East International Airport Road, Anchorage, AK 99518-1408; Phone: (907) 276-2700; Fax: (907) 279-4351; E-mail: graces@apiai.org.

Ninilchik Village, Margaret “Augie” Kochuten, ICWA Specialist, P.O. Box 39444, Ninilchik, AK 99669; Phone: (907) 567-3313 Ext. 1010; Fax: (907) 567-3354; E-mail: Augie@ninilchiktribe-nsn.gov.

Native Village of Noatak, Benjamin D. Arnold, ICWA Worker, P.O. Box 89, Noatak, AK 99761; Phone: (907) 485-2176; Fax: (907) 485-2137; E-mail: icwa@nautaag.org.

Nome Eskimo Community, Jason D. Floyd, LBSW, Family Services Director, P.O. Box 1090, Nome, AK 99762-1090; Phone: (907) 443-2246; Fax: (907) 443-9140; E-mail: jfloyd@gci.net.

Nondalton Village, Fawn Silas, Acting Administrator, P.O. Box 49, Nondalton, AK 99640-0049; Phone: (907) 294-2257; Fax: (907) 294-2271; and Children's Services Program Manager, Bristol Bay Native Association, P.O. Box 310, 1500 Kanakanak Road, Dillingham, AK 99559; Phone: (907) 842-4139; Fax: (907) 842-4106; E-mail: cnixon@bbna.com.

Noorvik Native Community, Hendy S. Ballot, Sr., Administrator, P.O. Box 209, Noorvik, AK 99763; Phone: (907) 636-2144; Fax: (907) 636-2284; E-mail: tribemanager@nuurvik.org; and Jackie Hill, Maniilaq Association, P.O. Box 256, Kotzebue, AK 99572, Phone: (907) 442-7657; Fax: (907) 442-7933; E-mail: n/a.

Northway Village, Vicky Nollner, ICWA Coordinator, and Belinda Thomas, President/TA, P.O. Box 516, Northway, AK 99764; Phone: (907) 778-2311; Fax: (907) 778-2220; E-mail: n/a.

Native Village of Nuiqsut, (aka Nooiksut), Sheila K. Baker, Tribal Administrator, P.O. Box 89169, Nuiqsut, AK 99789; Phone: (907) 480-3010; Fax: (907) 480-3009; E-mail: tanvn@astacalaska.net; and Arctic Slope Native Association, Maude Hopson, ICWA Worker; P.O. Box 1232, Barrow, Alaska 99723 Phone: (907) 852-9374; Fax: (907) 852-2761; E-mail: maude.hopson@arcticslope.org; icwa@arcticslope.org.

Nulato Village, Brittany Smith, Director of Human Services, P.O. Box 65049, Nulato, AK 99765; Phone: (907) 898-2329 Fax: (907) 898-2207; E-mail: paulmountain@tananachiefs.org; and Legal Department, Tanana Chiefs Conference, 122 First Avenue, Suite 600, Fairbanks, AK 99701; Phone: (907) 452-8251 ext. 3178; Fax: (907) 459-3953; E-mail: n/a.

Nunakauyarmiut Tribe (formerly the Native Village of Toksook Bay), Marcella White, ICWA Coordinator; P.O. Box 37048; Toksook Bay, AK 99637; Phone: (907) 427-7914/7114; Fax: (907) 427-7206/7714; E-mail: n/a.

Nunam Iqua, (formerly known as Sheldon's Point), Roberta Murphy, Tribal Administrator, P.O. Box 27, Nunam Iqua, AK 99666; Phone: (907) 498-4184; Fax (907) 498-4185; and Association of Village Council Presidents, ICWA Staff, P.O. Box 219, Bethel, AK 99559; Phone: (907) 543-7440; Fax: (907) 543-5759; E-mail: n/a.

Native Village of Nanapitchuk, Charlene Twitchell, Community Family Service Specialist/ICWA, P.O. Box 104, Nunapitchuk, AK 99641-0130; Phone: (907) 527-5731; Fax: (907) 527-5740; E-mail: n/a.

O

Village of Ohogamiut, Nick P. Andrew, Jr., Tribal Administrator, P.O. Box 49, Marshall, AK 99585; Phone: (907) 679-6517/6598; Fax: (907) 679-6516; E-mail: nandrew@gci.net and Association of Village Council Presidents, ICWA Staff, P.O. Box 219, Bethel, AK 99559; Phone: (907) 543-7300; Fax: (907) 543-5759; E-mail: icwa@avcp.org.

Old Harbor, Village of, Fred Brooks, Tribal Administrator, P.O. Box 62, Old Harbor, AK 99643-0062; Phone: (907) 286-2215; Fax: (907) 286-2277; E-mail: n/a.

Orutsararmuit Native Village, (aka Bethel), Scott J. Hoffman, ICWA Advocate, P.O. Box 927, Bethel, AK 99559; Phone: (907) 543-2608; Fax: (907) 543-0520; E-mail: shoffman@nativecouncil.org.

Oscarville Traditional Village, Andrew J. Larson, Jr., ICWA/CFSS Worker, P.O. Box 6129, Napaskiak, AK 99559; Phone: (907) 737-7099; Fax: (907) 737-7428/7101; E-mail: alarson@avcp.org; and Association of Village Council Presidents, ICWA Staff, P.O. Box 219, Bethel, AK 99559; Phone: (907) 543-7300; Fax: (907) 543-5759; E-mail: icwa@avcp.org.

Native Village of Ouzinkie, Bliss Peterson, ICWA Worker, P.O. Box 130, Ouzinkie, AK 99644-0130; Phone: (907) 680-2359; Fax: (907) 680-2214; E-mail: icwa@ouzinkie.org.

P

Native Village of Paimiut, Agatha Napoleon, Clerk/Environmental Programs, P.O. Box 230, Hooper Bay, AK 99604; Phone: (907) 758-4002; Fax: (907) 758-4024; E-mail: paimiuttraditional@gci.net.

Pauloff Harbor Village, Lorraine Boehl, Administrator Assistant, P.O. Box 97, Sand Point, AK 99661; Phone: (907) 383-6075; Fax: (907) 383-6094; E-mail: pauloff@arctic.net; and Grace Smith, Family Programs Coordinator, Aleutian/Pribilof Islands Association, 1131 East International Airport Road, Anchorage, AK 99518-1408; Phone: (907) 276-2700 or 222-4236; Fax: (907) 279-4351; E-mail: graces@apiai.org.

Pedro Bay Village, Verna Jean Kolyaha, Program Specialist II (ICWA), P.O. Box 47020, Pedro Bay, AK 99647-7020; Phone: (907) 850-2341; Fax: (907) 850-2221; E-mail: villagecouncil@pedrobay.com; and Children's Services Program Manager, Bristol Bay Native Association, P.O. Box 310, 1500 Kanakanak Road, Dillingham, AK 99576; Phone: (907) 842-4139; Fax: (907) 842-4106; E-mail: cnixon@bbna.com.

Native Village of Perryville, Bernice O'Domin, Tribal Children's Service Worker, P.O. Box 89, Perryville, AK 99648-0089; Phone: (907) 853-2242; Fax: (907) 853-2229; and Children's Services Program Manager, Bristol Bay Native Association, P.O. Box 310, 1500 Kanakanak Road, Dillingham, AK 99576; Phone: (907) 842-4139; Fax: (907) 842-4106; E-mail: cnixon@bbna.com.

Petersburg Indian Association, Ramona Brooks, ICWA Worker and, Tribal Social Services, P.O. Box 1418, Petersburg, AK 99833; Phone: (907) 772-3636; Fax: (907) 772-3686; E-mail: icwa@piatribal.org.

Pilot Point, Native Village of, Devona Miller, Village Administrator, P.O. Box 449, Pilot Point, AK 99649; Phone: (907) 797-2208; Fax: (907) 797-2258, and Children's Services Program Manager, Bristol Bay Native Association, P.O. Box 310, 1500 Kanakanak Road, Dillingham, AK 99559; Phone: (907) 842-4139; Fax: (907) 842-4106; E-mail: cnixon@bbna.com.

Pilot Station Traditional Village, Nicky Myers, Traditional Council Member, P.O. Box 5119, Pilot Station, AK 99650; Phone: (907) 549-3373; Fax: (907) 549-3301; and Association of Village Council Presidents, ICWA Staff, P.O. Box 219, Bethel, AK 99559; Phone: (907) 543-7300; Fax: (907) 543-5759; E-mail: icwa@avcp.org.

Native Village of Pitka's Point, Thelma H. Wasky, Tribal Administrator, P.O. Box 127, St. Mary's, AK 99658; Phone: (907) 438-2833; Fax: (907) 438-2569.

Platinum Traditional Village, Tribal President and ICWA Worker, P.O. Box 8, Platinum, AK 99651; Phone: (907) 979-8610; Fax: (907) 979-8178; E-mail: n/a.

Native Village of Point Hope, Martha Douglas, Family Caseworker and Lily Tuzroyluke, Tribal Director, P.O. Box 109, Point Hope, AK 99766; Phone: (907) 368-2330; Fax: (907) 368-2332; E-mail: Martha.douglas@tikigaq.org; lilyh.tuzroyluke@tikigaq.org.

Native Village of Point Lay, Sophie Henry, IRA Council Board Member/Village Liaison, Box 59031, Pt. Lay, AK 99757; Phone: (907) 833-2575; Fax: (907) 833-2576; Dalles Lee Brower, Voc Rehab Director, Inupiat Community of the Arctic Slope, P.O. Box 934, Barrow, Alaska 99723; Phone: (907) 852-2448; Fax: (907) 852-2449; E-mail: icasvr@gci.net.

Native Village of Port Graham, Mary Malchoff, ICWA Worker, or Patrick Norman, Chief, P.O. Box 5510, Port Graham, AK 99603; Phone: (907) 284-2227; Fax: (907) 284-2222; E-mail: n/a.

Native Village of Port Heiden, Gerda Kosbruk, Tribal Administrator; P.O. Box 49007, Port Heiden, AK 99549; Phone: (907) 837-2225/2296; Fax: (907) 837-2297; E-mail: n/a; and Children's Services Program Manager, Bristol Bay Native Association, P.O. Box 310, 1500 Kanakanak Road, Dillingham, AK 99576; Phone: (907) 842-4139; Fax: (907) 842-4106; E-mail: cnixon@bbna.com.

Native Village of Port Lions, Lisa Squartsoff, Tribal Services Coordinator, P.O. Box 69, Port Lions, AK 99550-0069; Phone: (907) 454-2234; Fax: (907) 454-2434; E-mail: lisa@portlions.net.

Portage Creek Village (aka Ohgensakale), Mary Ann Johnson, Tribal Administrator, 1327 E. 72nd Ave., Unit B, Anchorage, AK 99508; Phone: (907) 277-1105; Fax: (907) 277-1104; and Children's Services Program Manager, Bristol Bay Native Association, P.O. Box 310, 1500 Kanakanak Road, Dillingham, AK 99576; Phone: (907) 842-4139; Fax: (907) 842-4106; E-mail: cnixon@bbna.com.

Q

Qagan Tayagungin Tribe of Sand Point Village, Marva J. Hatch, Executive Director, Box 447, Sand Point, AK 99661; Phone: (907) 383-5616/5944; Fax: (907) 383-5814; E-mail: qttadmin@arctic.net; and Grace Smith, Family Programs Coordinator, Aleutian/Pribilof Islands Association, 1131 East International Airport Road, Anchorage, AK 99518-1408; Phone: (907) 276-27000 or 222-4236; Fax: (907) 279-4351; E-mail: graces@apiai.org.

Qawalangin Tribe of Unalaska, Kathy M. Dirks, Family Programs Services, P.O. Box 1130, Unalaska, AK. 99685; Phone: (907) 581-6574; Fax: (907) 581-2040; E-mail: kathyd@apiai.org; and Grace Smith, Tribal Representative, Aleutian/Pribilof Islands Association, 1131 East International Airport Road, Anchorage, AK 99518-1408; Phone: (907) 276-2700 or 222-4236; Fax: (907) 279-4351; E-mail: graces@apiai.org.

Quinhagak (see Kwinhagak).

Qissunamiut Tribe (see Chevak).

R

Rampart Village, Elaine Evans, Tribal Family Youth Specialist, P.O. Box 29, Rampart, Alaska 99767; Phone: (907) 358-3312; Fax: (907) 358-3115; and Legal Department, Tanana Chiefs Conference, 122 First Avenue, Suite 600, Fairbanks, AK 99701; Phone: (907) 452-8251 Ext. 3178; Fax: (907) 459-3953; E-mail: n/a.

Village of Red Devil, Tribal Administrator, P.O. Box 27, Red Devil, AK 99656; Phone: (907) 447-3223; Fax: (907) 447-3224; and Association of Village Council Presidents, ICWA Staff, P.O. Box 219, Bethel, AK 99559; Phone: (907) 543-7440; Fax: (907) 543-5759; E-mail: n/a.

Native Village of Ruby, Katherine Dozette, Tribal Family Youth Specialist, P.O. Box 68117, Ruby, AK 99768; Phone: (907) 468-4400; Fax: (907) 468-4500; and Legal Department, Tanana Chiefs Conference, 122 First Avenue, Suite 600, Fairbanks, AK 99701; Phone: (907) 452-8251 ext. 3178; Fax: (907) 459-3953; E-mail: n/a.

Russian Mission (see Iqurmuit Traditional Council).

S

Saint George Island, Sally Merculief, Tribal Administrator, P.O. Box 940, St. George, AK 99591; Phone: (907) 859-2205/2206; Fax: (907) 859-2242; E-mail: sallymerculief@starband.net; Grace Smith, Family Programs Coordinator, Aleutian/Pribilof Islands Association, 1131 East International Airport Road, Anchorage, AK 99518-1408; Phone: (907) 276-2700 or 222-4236; Fax: (907) 279-4351; E-mail: graces@apiai.org.

Native Village of Saint Michael, Diane Thompson, Tribal Family Coordinator or Shirley Martin, IRA President, P.O. Box 50, St. Michael, AK 99659; Phone: (907) 923-2304/2546; Fax: (907) 923-2406; E-mail: dthompson@kawerak.org; smkpres07@gci.net.

Saint Paul Island, Maxim Buterin, Jr., ICWA Children Service Worker, P.O. Box 86, St. Paul Island, Alaska 99660; Phone: (907) 546-8308; Fax: (907) 546-8370 and Grace Smith, Family Programs Coordinator, Aleutian/Pribilof Islands Association, 1131 East International Airport Road, Anchorage, AK 99518-1408; Phone: (907) 276-2700 or 222-4236; Fax: (907) 279-4351; E-mail: graces@apiai.org.

Village of Salamatoff, Ms. Vide Van Velzor, ICWA Worker, 150 North Willow Ave., Kenai, AK 99611; Phone: (907) 283-3633; Fax: (907) 283-3052; E-mail: vvanvelzor@kenaitze.org.

Sand Point (see Qagan Tayagungin Tribe of Sand Point Village).

Native Village of Savoonga, Peggy Akeya, IRA Council Secretary & ICWA Council Liaison, P.O. Box 34, Savoonga, AK 99769; Phone: (907) 984-6211; Fax: (907) 984-6156.

Organized Village of Saxman, Janice Jackson, Family Caseworker II, Central Council Tlingit & Haida Indian Tribes of Alaska, Route 2, Box 2, Ketchikan, AK 99901; Phone: (907) 225-2502. Ext 27; Fax: (907) 247-2912; E-mail: jjackson@ccthita.org.

Native Village of Scammon Bay, Michelle Akerelrea, Community Family Service Specialist, P.O. Box 110, Scammon Bay, AK 99662; Phone: (907) 558-5078; Fax: (907) 558-5134; e-mail: makerelrea@avcp.org; and Association of Village Council Presidents, ICWA Staff, P.O. Box 219, Bethel, AK 99559; Phone: (907) 543-7300; Fax: (907) 543-5759; E-mail: icwa@avcp.org.

Native Village of Selawik, Tribal President, P.O. Box 59, Selawik, AK 99770-0059; Phone: (907) 484-2165 ext.14; Fax: (907) 484-2226; E-mail: tribeadmin@akuligaq.org.

Seldovia Village Tribe, Laurel Hilts, ICWA Worker, Drawer L, Seldovia, AK 99663; Phone: (907) 435-3252; Fax: (907) 234-7865; E-mail: lhilts@svt.org.

Shageluk Native Village, Rebecca Wulf, Tribal Family Youth Specialist, P.O. Box 109, Shageluk, AK 99665; Phone: (907) 473-8229; Fax: (907) 473-8257; E-mail: rebecca.wulf@tananachiefs.org and Legal Department, Tanana Chiefs Conference, 122 First Avenue, Suite 600, Fairbanks, AK 99701; Phone: (907) 452-8251 ext. 3178; Fax: (907) 459-3953; E-mail: n/a.

Native Village of Shaktoolik, Tribal President and Tribal Administrator, P.O. Box 100, Shaktoolik, AK 99771; Phone: (907) 955-2444; Fax: (907) 955-2443; E-mail: n/a.

Sheldon's Point (See Nunam Iqua).

Native Village of Shishmaref, Karla Nayokpuk, Tribal Family Coordinator, P.O. Box 72110, Shishmaref, AK 99772; Phone: (907) 649-3078; Fax: (907) 649-2278; E-mail: knayokpuk@kawerak.org.

Native Village of Shungnak, Kathleen J. Custer, ICWA Coordinator, P.O. Box 64, Shungnak, AK 99773; Phone: (907) 437-2163; Fax: (907) 437-2183; E-mail: n/a.

Sitka Tribe of Alaska, Terri McGraw, ICWA Caseworker, Louise Brady, Social Service Director, Jackie DeBell, ICWA Caseworker, and Peg Blumer, Tribal Family Caseworker, 456 Katlian St., Sitka, AK 99835; Phone: (907) 747-3501; Fax: (907) 747-7643; E-mail: terri.mcgraw@sitkatribe-nsn.gov; louise.brady@sitkatribe-nsn.gov; Jackie.debell@sitkatribe_nsn.gov; peg.blumer@sitkatribe-nsn.gov.

Skagway Village, Delia Commander, Tribal President/Administrator, P.O. Box 1157, Skagway, AK 99840; Phone: (907) 983-4068; Fax: (907) 983-3068; E-mail: dcommander@skagwaytraditional.org; and Indian Child Welfare Coordinator, Central Council Tlingit and Haida Indian Tribes of Alaska, 320 W. Willoughby, Suite 300, Juneau, AK 99801; Phone: (907) 463-7148; Fax: (907) 463-7343; E-mail: mdoyle@ccthita.org.

Village of Sleetmute, Jane Parrish, Healthy Families Coordinator, P.O. Box 109, Sleetmute, AK 99668; Phone: (907) 449-4225; Fax: (907) 449-4203; E-mail: n/a.

Village of Solomon, Lorlie Shield, ICWA Coordinator, P.O. Box 2053, Nome, AK 99762; Phone: (907) 443-4985; Fax: (907) 443-5189; E-mail: tc.sol@kawerak.org.

South Naknek Village, Lorianne Rawson, Tribal Administrator, P.O. Box 70029, South Naknek, AK 99670; Phone: (907) 246-8614; Fax: (907) 246-8613; E-mail: snvc@starband.net; and Children's Services Program Manager, Bristol Bay Native Association, P.O. Box 310, 1500 Kanakanak Road, Dillingham, AK 99576; Phone: (907) 842-4139; Fax: (907) 842-4106; E-mail: cnixon@bbna.com.

St. Mary's (see Algaaciq).

Stebbins Community Association, Anna Nashoanak, ICWA, P.O. Box 71002, Stebbins, AK 99671; Phone: (907) 934-2334; Fax: (907) 934-2675; E-mail: anashoanak@kawerak.org.

Native Village of Stevens, Randy Mayo, Administrator/1st Chief, P.O. Box 71372, Fairbanks, AK 99701; Phone: (907) 452-7162; Fax: (907) 452-5063; E-mail: n/a; and Legal Department, Tanana Chiefs Conference, 122 First Avenue, Suite 600, Fairbanks, AK 99701; Phone: (907) 452-8251 ext. 3178; Fax: (907) 459-3953; E-mail: n/a.

Village of Stony River, Mary Willis, President and Alyssa Willis, ICWA Worker, P.O. Box SRV, Birch Road, Stony River, AK 99557; Phone: (907) 537-3258; Fax: (907) 537-3254; and Association of Village Council Presidents, ICWA Staff, P.O. Box 219, Bethel, AK 99559; Phone: (907) 543-7300; Fax: (907) 543-5759; E-mail: icwa@avcp.org.

Sun'aq Tribe of Kodiak (formerly the Shoonaq' Tribe of Kodiak), Linda Resoff, Social Services Director, 312 W. Marine Way, Kodiak, AK 99615; Phone: (907) 486-4449; Fax: (907) 486-3361; E-mail: socialservices@sunaq.org.

T

Takotna Village, Terry Huffman, Tribal Administrator, P.O. Box 7529, Takotna, AK 99675; Phone: (907) 298-2212; Fax: (907) 298-2314; and Legal Department, Tanana Chiefs Conference, 122 First Avenue, Suite 600, Fairbanks, AK 99701; Phone: (907) 452-8251 ext. 3178; Fax: (907) 459-3953; E-mail: n/a.

Native Village of Tanacross, Dawn Demit, Tribal Family Youth Specialist, P.O. Box 76009, Tanacross, AK 99776; Phone: (907) 883-5024 Ext. 122; Fax: (907) 883-4497; and Legal Department, Tanana Chiefs Conference, 122 First Avenue, Suite 600, Fairbanks, AK 99701; Phone: (907) 452-8251 ext. 3178; Fax: (907) 459-3953; E-mail: n/a.

Native Village of Tanana, Donna May Folger, ICWA/TFYS Agent, P.O. Box 130, Tanana, AK 99777; Phone: (907) 366-7154/7170 Fax: (907) 366-7229; E-mail: n/a.

Native Village of Tatitlek, Kristi Kompkoff, Tribal Administrator, P.O. Box 171, Tatitlek, AK 99677; Phone: (907) 325-2311; Fax: (907) 325-2298; E-mail: kristi@chugachmiut.org.

Native Village of Tazlina, Marce Simeon, ICWA Coordinator, P.O. Box 87, Glennallen, AK 99588; Phone: (907) 822-4375; Fax: (907) 822-5865; E-mail: marce@cvinternet.net.

Telida Village, Josephine Royal, Tribal Family Youth Specialist, P.O. Box 84771, Fairbanks, Alaska, 99708; Phone: (907) 864-0629, Fax: (907)376-3540 ; and Legal Department, Tanana Chiefs Conference, 122 First Avenue, Suite 600, Fairbanks, AK 99701; Phone: (907) 452-8251 ext. 3178; Fax: (907) 459-3953; E-mail: n/a.

Native Village of Teller (Mary's Igloo), Dolly R. Kugzruk, ICWA Worker/Kawerak, Inc., P.O. Box 629, Teller, AK 99778; Phone: (907) 642-2185; Fax: (907) 642-3000; E-mail: dkugzruk@kawerak.org.

Native Village of Tetlin, Kristie Young, Tribal Administrator or Nettie Warbelow, Tribal Family Youth Specialist, P.O. Box 797, Tok, Alaska 99780; Phone: (907) 883-2021, Fax: (907) 883-1267; E-mail: nwarbelow@acsalaska.net; and Legal Department, Tanana Chiefs Conference,122 First Avenue, Suite 600, Fairbanks, AK 99701; Phone: (907) 452-8251 ext. 3178; Fax: (907) 459-3953; E-mail: n/a.

Tlingit & Haida Indian Tribes of Alaska (see Central Council Tlingit and Haida).

Traditional Village of Togiak, Emma Wassillie, ICWA Worker, P.O. Box 310, Togiak, AK 99678; Phone: (907) 493-5431; Fax: (907) 493-5005; and Children's Services Program Manager, Bristol Bay Native Association, P.O. Box 310,1500 Kanakanak Road, Dillingham, AK 99576; Phone: (907) 842-4139; Fax: (907) 842-4106; E-mail: cnixon@bbna.com.

Toksook Bay (see Nunakauyarmiut Tribe).

Tuluksak Native Community, Elizabeth S. Peter, ICWA Woker, P.O. Box 93, Tuluksak, AK 99679; Phone: (907) 695-6902; Fax: (907) 695-6903; and Association of Village Council Presidents, ICWA Staff, P.O. Box 219, Bethel, AK 99559; Phone: (907) 543-7300; Fax: (907) 543-5759; E-mail: icwa@avcp.org.

Native Village of Tuntutuliak, Patrick Pavilla, Tribal Administrator, P.O. Box 8086, Tuntutuliak, AK 99680; Phone: (907) 256-2128; Fax: (907) 256-2040; E-mail: renoch@avcp.org.; and Association of Village Council Presidents, ICWA Staff, P.O. Box 219, Bethel, AK 99559; Phone: (907) 543-7300; Fax: (907) 543-5759; E-mail: icwa@avcp.org.

Native Village of Tununak, Theodore Angaiak, President, P.O. Box 77, Tununak, AK 99681-0077; Phone: (907) 652-6527; Fax: (907) 652-6011; and Association of Village Council Presidents, ICWA Staff, P.O. Box 219, Bethel, AK 99559; Phone: (907) 543-7300; Fax: (907) 543-5759; E-mail: icwa@avcp.org.

Twin Hills Village, John W. Sharp, Tribal President, P.O. Box TWA, Twin Hills, AK 99576; Phone: (907) 525-4821; Fax: (907) 525-4822; E-mail: william15@starband.net; and Children's Services Program Manager, Bristol Bay Native Association, P.O. Box 310,1500 Kanakanak Road, Dillingham, AK 99576; Phone: (907) 842-4139; Fax: (907) 842-4106; E-mail: cnixon@bbna.com.

The Native Village of Tyonek, Arthur Standifer, ICWA Worker, P.O. Box 82009, Tyonek, AK 99682; Phone: (907) 583-2209; Fax: (907) 583-2209; E-mail: Arthur_s@tyonek.net.

U

Ugashik Village, Flora Olrn, Tribal Manager, 206 E. Fireweed Lane, #204, Anchorage, AK 99503; Phone: (907) 338-7694; Fax: (907) 338-7659; E-mail: ugashikoffice4@alaska.net; Children's Services Program Manager, Bristol Bay Native Association, P.O. Box 310,1500 Kanakanak Road, Dillingham, AK 99576; Phone: (907) 842-4139; Fax: (907) 842-4106; E-mail: cnixon@bbna.com.

Umkumiute Native Village, Bertha Kashatok, Secretary Council, P.O. Box 96062, Nightmute, AK 99690; Phone: (907) 647-6145; Fax: (907) 647-6146 and Association of Village Council Presidents, ICWA Staff, P.O. Box 219, Bethel, AK 99559; Phone: (907) 543-7300; Fax: (907) 543-5759; E-mail: icwa@avcp.org.

Native Village of Unalakleet, Laverne Anagick, Tribal Family Coordinator, P.O. Box 357, Unalakleet, AK 99684; Phone: 907-624-3526; Fax: (907) 624-5104; E-mail: tfc.unk@kawerak.org.

Unalaska (see Qawalangin Tribe of Unalaska).

Native Village of Unga, Amy Foster, Tribal Administrator, P.O. Box 508 Sand Point, Alaska 99661; Phone: (907) 383-2415; Fax: (907) 383-5553; E-mail: ungatribe@arctic.net and Grace Smith, Family Programs Coordinator, Aleutian/Pribilof Islands Association, Social Services, 1131 East International Airport Road, Anchorage, AK 99518-1408; Phone: (907) 276-2700 or 222-4236; Fax: (907) 279-4351; E-mail: graces@apiai.org.

Upper Kalskag, Native Village of (see Kalskag).

V

Village of Venetie (see Native Village of Venetie Tribal Government).

Native Village of Venetie Tribal Government, Bertha Tritt, Tribal Family Youth Specialist, P.O. Box 81080, Venetie AK 99781; Phone: (907) 849-8291; Fax: (907) 849-8097; and Legal Department, Tanana Chiefs Conference, 122 First Avenue, Suite 600, Fairbanks, AK 99701; Phone: (907) 452-8251 ext. 3178; Fax: (907) 459-3953; E-mail: n/a.

W

Village of Wainwright, June Childress, President, P.O. Box 143, Wainwright, AK 99782; Phone: (907) 763-2535; Fax: (907) 763-2536; E-mail: junechildress@arcticslope.org.; and Arctic Slope Native Association, Maude Hopson, ICWA Worker; P.O. Box 1232, Barrow, Alaska 99723 Phone: (907) 852-9374; Fax: (907) 852-2761; E-mail: maudehopson@arcticslope.org; icwa@arcticslope.org.

Native Village of Wales, Anna M. Oxereok, Tribal Family Coordinator, P.O. Box 549, Wales, AK 99783; Phone: (907) 664-2185; Fax: (907) 664-2200/3062; E-mail: aoxereok@kawerak.org.

Native Village of White Mountain, Charice Brown, Tribal Family Coordinator, P.O. Box 85, White Mountain, AK 99784; Phone: (907) 638-2008; Fax: (907) 638-2009; E-mail: tfc@wmo@kawerak.org.

Woody Island (see Leisnoi Village).

Wrangell Cooperative Association, Elizabeth Newman, Family Caseworker II, P.O. Box 1198, Wrangell, AK 99929; Phone: (907) 874-3482; Fax: (907) 874-2982; E-mail: bnewman@ccthita.org.

Y

Yakutat Tlingit Tribe, Sheri Nelson, JOM/ICWA Director, P.O. Box 418, Yakutat, AK 99689; Phone: (907) 784-3124; Fax: (907) 784-3664; E-mail: snelson@ytttribe.org.

2. Eastern Oklahoma Region

Charles L. Head, Acting Regional Director, P.O. Box 8002, Muskogee, OK 74402-8002; Telephone: (918) 781-4600; Fax (918) 781-4604.

Clarissa Cole, M.S.W., Regional Social Worker, P.O. Box 8002, 3100 West Peak Boulevard, Muskogee, OK 74402-8002; Phone: (918) 781-4613; Fax: (918) 781-4649.

Michelle Deason, MSW, Regional Social Worker, P.O. Box 8002, 3100 West Peak Boulevard, Muskogee, OK 74402-8002; Phone: (918) 781-4613; Fax: (918) 781-4649.

A

Alabama-Quassarte Tribal Town, Annie Merritt, ICW Director, P.O. Box 187, Wetumka, OK 74883; Telephone: (405) 452-3881; Fax: (405) 452-3889; E-mail: chief@alabama-quassarte.org.

C

Cherokee Nation, Linda Woodward, Director, Children and Family Services, P.O. Box 948, Tahlequah, OK 74465; Telephone: (918) 458-6900; Fax: (918) 458-6146; E-mail: lindawoodward@cherokee.org.

The Chickasaw Nation, Bill Anoatubby, Governor, P.O. Box 1548, Ada, OK 74821-1548; Telephone: (580) 436-7216; Fax: (580) 436-4287; E-mail: jay.keel@chickasaw.net.

Choctaw Nation of Oklahoma, Billy Stephens, Senior Director, P.O. Box 1210, Durant, OK 74701; Telephone: (580) 924-8280; Fax: (580) 920-3197; E-mail: bstephens@choctawnation.com.

D

Delaware Tribe of Indians, Paula Pechonick, Chief 170 N.E. Barbara Bartlesville, OK 74003; Phone: (918)336-5272; Fax: (918) 337-6591; E-mail: ppechonick@delawaretribe.org.

E

Eastern Shawnee Tribe of Oklahoma, Chief Glenna J. Wallace, P.O. Box 350, Seneca, Missouri 64865; Telephone: (918) 666-2435; Fax: (918) 666-2186; E-mail: gjwallace@estoo.net.

K

Kialegee Tribal Town, Augusta Anderson, ICW Director, P.O. Box 332, Wetumka, OK 74883; Telephone: (405) 452-5388; Fax: (405) 452-3413: E-mail: n/a.

M

Miami Tribe of Oklahoma, Callie Lankford, Social Services Director, P.O. Box 1326, Miami, OK 74355; Telephone: (918) 541-1381; Fax: (918) 540-2814; E-mail: clankford@miamination.com.

Modoc Tribe of Oklahoma, Troy Little Axe, Assistant Tribal Administrator, 418 G SE, Miami, OK 74354; Telephone: (918) 542-1190; Fax: (918) 542-5415; E-mail: n/a.

Muscogee (Creek) Nation, Enus Wilson, Deputy Director of Community Services, P.O. Box 580, Okmulgee, OK 74447; Telephone: (918) 732-7869; Fax: (918) 732-7855: E-mail: n/a.

O

Osage Nation, Lee Collins, Director Osage Nation Social Services, 255 Senior Drive, Pawhuska, OK 74056; Telephone: (918) 287-5336; Fax: (918) 287-5231; E-mail: lcollins@osagetribe.org.

Ottawa Tribe of Oklahoma, Roy A. Ross, Social Services/CPS Director, P.O. Box 110, Miami, OK 74355; Telephone: (918) 540-1536; Fax: (918) 542-3214; E-mail: n/a.

P

Peoria Tribe of Indians of Oklahoma, Doug Journeycake, Indian Child Welfare Director, P.O. Box 1527, Miami, OK 74355; Telephone: (918) 540-2535; Fax: (918) 540-2538; E-mail: djourneycake@peoriatribe.com.

Q

Quapaw Tribe of Oklahoma, John Berrey, Chairperson, P.O. Box 765, Quapaw, OK 74363; Telephone: (918) 542-1853; E-mail: n/a.

S

Seminole Nation of Oklahoma, Glenna VanZant, Acting Director of Indian Child Welfare, P.O. Box 1498, Wewoka, OK 74884; Telephone: (405) 257-7200; Fax: (405) 257-7209; E-mail: glenna_icw@se3minolenation.com.

Seneca-Cayuga Tribe of Oklahoma, Darold Wofford, Director of Family Services, 23701 South 655 Road, Grove, OK 74344; Telephone: (918) 787-5452; Fax: (918) 786-5713; E-mail: dwofford@sctribe.com.

Shawnee Tribe, Jodi Hayes, Tribal Administrator, P.O. Box 189 Miami, Oklahoma 74355-0189; Telephone: (918) 542-2441; Fax: (918) 542-2922; E-mail: shawneetribe@shawnee-tribe.com.

T

Thlopthlocco Tribal Town, Janet Wise, Manager, P.O. Box 188, Okemah, OK 74859; Telephone: (918) 560-6198; Fax: (918) 623-3023; E-mail: jwise@tttown.org.

U

United Keetoowah Band of Cherokee Indians in Oklahoma, Joyce Fourkiller-Hawk, Tribal Secretary P.O. Box 746, Tahlequah, OK 74465; Telephone: (918) 431-1818; Fax: (918) 453-9345; E-mail: jfourkiller@unitedkeetoowahband.org.

W

Wyandotte Nation, Kate Randall, Director of Family Services, 64700 E. Hwy 60, Wyandotte, OK 74370; Telephone: (918) 678-2297; Fax: (918) 678-2944; E-mail: krandall@wyandotte-nation.org.

3. Eastern Region

Franklin Keel, Regional Director, 545 Marriott Drive, Suite 700, Nashville, TN 37214; Telephone: (615) 564-6700; Fax: (615) 564-6701.

Gloria York, Regional Social Worker, 545 Marriott Drive, Suite 700, Nashville, TN 37214; Telephone: (615) 564-6740; Fax: (615) 564-6547; E-mail: Gloria.york@bia.gov.

A

Aroostook Band of Micmac Indians, Tania M. Morey, Family Support Case Worker, 7 Northern Road, Presque Isle, Maine 04769; Telephone: (207) 764-1972; Fax: (207) 764-7667; E-mail: tmorey@micmac-nsn.gov.

C

Catawba Indian Nation, Jud Christensen, ICWA Representative and Aliceson McCormick, Director of Social Services, 996 Avenue of Nations, Rock Hill, South Carolina 29730; Telephone: (803) 366-4792; Fax: (803) 325-1242; E-mail: jud.christensen@catwbaindian.net; aliceson.mccormick@catawbaindian.net.

Cayuga Nation of New York, Anita Thompson, Assistant Administration, P.O. Box 803, Versailles, New York 14168; Telephone: (315) 568-0750; Fax: (315) 568-0752; E-mail: anita.thompson@cayuganation-nsn.gov.

Chitimacha Tribe of Louisiana, Karen Matthews, Social Services Director, P.O. Box 520, Charenton, Louisiana 70523; Telephone: (337) 923-7000; Fax: (337) 923-2475; E-mail: n/a.

Coushatta Tribe of Louisiana, Milton Hebert, MSW, CADC, CGAC, Social Service Director, 2003 CC Bel Road, Elton, Louisiana 70532; Telephone: (337) 584-1439; Fax: (337) 584-1473; E-mail: mhebert@coushattatribela.org.

E

Eastern Band of Cherokee Indians, Barbara Jones, Program Manager, 508 Goose Creek Road, P.O. Box 507, Cherokee, North Carolina 28719; Telephone: (828) 497-6092; Fax: (828) 497-3322; E-mail: barbjone@nc-cherokee.com.

H

Houlton Band of Maliseet Indians, Tiffany Randall, ICWA Director, 13-2 Clover Court, Houlton, Maine 04730; Telephone: (207) 694-0213; Fax: (207) 532-7287; E-mail: icwa.director@maliseets.com.

J

Jena Band of Choctaw Indians, Mona Maxwell, Social Services Director, P.O. Box 14, Jena, Louisiana 71342; Telephone: (318) 992-0136; Cell: (318) 419-8432; Fax: (318) 992-4162; E-mail: n/a.

M

Mashantucket Pequot Tribal Nation, Valerie Burgess, Director Child Protective Services, P.O. Box 3313, Mashantucket, Connecticut 06338; Telephone: (860) 396-2007; Fax: (860) 396-2144; E-mail: vburgess@mptn.org.

Mashpee Wampanoag Tribe, Yvonne Avant, Councilwoman & Human and Social Services Liaison, 483 Great Neck Road South Mashpee, MA 02649; Phone: (508) 419-6017 Ext: 1; Cell: (774) 238-8388; Fax: (508) 477-0508; E-mail: yavant@mwtribe.com.

Miccosukee Tribe of Indians of Florida, J. Degaglia, Ph.D. N.C.C., L.M.H.C., Director Social Service Department, P.O. Box 440021, Miami, Florida 33144; Telephone: (305) 223-8380 Ext. 2267; Fax: (305) 223-1011; E-mail: jd@miccosukeetribe.com.

Mississippi Band of Choctaw Indians, Kirsten L. Clegg, Child Welfare Supervisor, Department of Family & Community Services, Children & Family Services Program; P.O. Box 6050, Choctaw, Mississippi 39350; Telephone: (601) 650-1741; Fax: (601) 656-8817; E-mail: kclegg@choctaw.org.

Mohegan Indian Tribe, Irene Miller, APRN, Director, Family Services, 5 Crow Hill Road, Uncasville, Connecticut 06382; Telephone: (860) 862-6236; Fax: (860) 862-6324; E-mail: n/a.

N

Narragansett Indian Tribe, Wenonah Harris, Director, Tribal Child and Family Services, 4375B South County Trail or P.O. Box 268, Charlestown, Rhode Island 02813; Telephone: (401) 364-1100 Ext: 233; Cell: (401) 862-8863; Fax: (401) 364-1104; E-mail: Wenonah@nithpo.com.

O

Oneida Indian Nation, Kim Jacobs, Nation Clerk, Box 1 Vernon, New York 13476; Telephone: (315) 829-8337; Fax: (315) 829-8392; E-mail: kjacobs@oneida.nation.org.

Onondaga Nation of New York, Council of Chiefs, P.O. Box 85, Nedrow, New York 13120; Telephone: (315) 469-9196; Fax: (315) 492-4822; E-mail: n/a

P

Passamaquaddy Indian Township, Dolly Barnes, MSW, Director Child Welfare, P.O. Box 301, Princeton, Maine 04668; Telephone: (207) 796-2301 ext: 406; Fax: (207) 796-5606; E-mail: dbarnes@passamaquoddy.com.

Passamaquoddy Tribe—Pleasant Point, Molly Newell, Sipayik Human Services Director, P.O. Box 343 Perry, Maine 04667; Telephone: (207) 853-2600 Ext: 258; Fax: (207) 853-9618; E-mail: molly@wabanaki.com.

Penobscot Indian Nation of Maine, Chief Kirk Francis or Betsy A. Tannian, Director, Penobscot Department of Human Services, 9 Sarah's Spring Drive, Indian Island, Maine 04468; Telephone: (207) 817-7492 Ext. 7492; Fax: (207) 827-2937 E-mail: betsy.tannian@penobscotnation.org.

Poarch Band of Creek Indians, Carolyn M. White, LSW, Family Services Director, or Martha Gookin, Family Services Coordinator, Family Services Department, 5811 Jack Springs Road, Atmore, Alabama 36502; Telephone: (251) 368-9136 Ext. 2600/2603; Fax: (251) 368-0828; E-mail: cwhite@pci-nsn.gov or mgookin@pci-nsn.gov.

S

Saint Regis Mohawk Tribe, Clarissa Chatland, ICWA Program Coordinator, 412 State, Route 37, Akwesasne, New York 13655; Telephone: (518) 358-4516; Fax: (518) 358-9258; E-mail: clarissa.terrance-chatland@SRMT-nsn.gov.

Seminole Tribe of Florida, Kristi Hill, Family Preservation Administrator, 3006 Josie Billie Avenue, Hollywood, Florida 33024; Telephone: (954) 965-1314; Fax: (954) 965-1304; E-mail: kristihill@semtribe.com.

Seneca Nation of Indians, Tracy Pacini, Program Coordinator, P.O. Box 500 987 Salamanca, New York 14748; Telephone: (716) 945-5894; Fax: (716) 945-7881; E-mail: tracy.pacini@senecahealth.org.

T

Tonawanda Band of Seneca, Roger Hill, Chief, Council of Chiefs, 7027 Meadville Road, Basom, New York 14013; Telephone: (716) 542-4244; Fax: (716) 542-4008; E-mail: n/a.

Tunica Biloxi Indian Tribe of Louisiana, Betty Pierite Logan, Registered Social Worker, P.O. Box 493, Marksville, Louisiana 71351; Telephone: (318) 240-6442; Fax: (318) 253-9791; E-mail: blogan@tunica.org.

Tuscarora Nation of New York, Chief Leo Henry, Clerk, 206 Mount Hope Road, Lewistown, New York 14092; Telephone: (716) 297-1148; Fax: (716) 297-7355; E-mail: n/a.

W

Wampanoag Tribe of Gay Head (Aquinnah), Bonnie Chalifoux, Director Human Services, 20 Black Brook Road, Aquinnah, Massachusetts 02535; Telephone: (508) 645-9265 Ext. 133; Fax: (508) 645-2755; E-mail: bonnie@wampanoagtribe.net.

4. Great Plains Region

Bruce Loudermilk, Acting Regional Director, 115 4th Avenue, S.E., Aberdeen, SD 57401; Telephone: (605) 226-7351; Fax: (605) 226-7643.

Randeen Fitzpatrick, Regional Social Worker, 115 4th Avenue, S.E., Aberdeen, SD 57401; Telephone: (605) 226-7351; Fax: (605) 226-7643.

C

Cheyenne River Sioux Tribe, Diane Garreau, ICWA Director, P.O. Box 590, Eagle Butte, SD 57625; Telephone: (605) 964-6460/6462; Fax: (605) 964-6463; E-mail: n/a.

Crow Creek Sioux Tribe, Dave Valandra, ICWA Specialist, Crow Creek Sioux Tribe, P.O. Box 50, Fort Thompson, SD 57339; Telephone: (605) 245-2322; Fax: (605) 245-2844; E-mail: david.valandra@bia.gov.

F

Flandreau Santee Sioux Tribe—Dakota, Celeste Honomichl, ICWA Adminstrator, Flandreau Santee Sioux Tribal Social Services, P.O. Box 283, Flandreau, SD 57028; Telephone: (605) 997-5055; Fax: (605) 997-3694; E-mail: n/a.

L

Lower Brule Sioux Tribe, L. Greg Miller, LBST Counseling Service Director, 187 Oyate Circle, Lower Brule, SD 57528; Telephone: (605) 473-5584; Fax: (605) 473-8051; E-mail: greg.miller@lbst.org.

O

Oglala Sioux Tribe, Juanita Sherick, ICWA Administrator, Oglala Sioux Tribe—ONTRAC, P.O. Box 2080, Pine Ridge, SD 57770; Telephone: (605) 867-5805 and (605) 791-2267 (Rapid City Office); Fax: (605) 867-1893; E-mail: n/a.

Omaha Tribe of Nebraska, Merry Sheridan, ICWA Director, Child Protection Services, P.O. Box 369, Macy, NE 68039; Telephone: (402) 837-5261; Fax: (402) 837-5362; E-mail: n/a.

P

Ponca Tribe of Nebraska, Jill Holt, ICWA Specialist, 2602 J Street, Omaha, NE 68107; Telephone: (402) 734-5275; Fax: (402) 734-5708; E-mail: n/a.

R

Rosebud Sioux Tribe, Shirley J. Bad Wound, ICWA Specialist, RST ICWA Program, P.O. Box 609, Mission, SD 57555; Telephone: (605) 856-5270; Fax: (605) 856-5268; E-mail: n/a.

S

Santee Sioux Nation, Jerry Denney, ICWA Specialist, Dakota Tiwahe Service Unit, Route 2, Box 5191, Niobrara, NE 68760; Telephone: (402) 857-2342; Fax: (402) 857-2361; E-mail: n/a.

Sisseton-Wahpeton Oyate, Evelyn Pilcher, ICWA Director, P.O. Box 509, Agency Village, SD 57262; Telephone: (605) 698-3992; Fax: (605) 698-3999; E-mail: evelynp@state.sd.us.

Spirit Lake Tribe, ICWA Director (Vacant) P.O. Box 356, Fort Totten, ND 58335; Telephone: (701) 766-4855; Fax: (701) 766-4273; E-mail: n/a.

Standing Rock Sioux Tribe, Rose Mendoza, ICWA Specialist, P.O. Box 526 Fort Yates, ND 58538; Telephone: (701) 854-3095; Fax: (701) 854-5575; E-mail: n/a.

T

Three Affiliated Tribes (Mandan, Arikara & Hidatsa), Katherine Felix, ICWA Specialist, 404 Frontage Road, New Town, ND 58763; Telephone: (701) 627-4781; Fax: (701) 627-5550; E-mail: kfelix@mhanation.com.

Turtle Mountain Band of Chippewa Indians, Marilyn Poitra, ICWA Coordinator, Child Welfare and Family Services, P.O. Box 900, Belcourt, ND 58316; Telephone: (701) 477-5688; Fax: (701) 477-5797; E-mail: mpoitra@tmcwfs.net.

W

Winnebago Tribe of Nebraska, Tracy Henry, ICWA Specialist, P.O. Box 771, Winnebago, NE 68071; Telephone: (402) 878-2469; Fax: (402) 878-2981; E-mail: thenry@winnebagotribe.com.

Y

Yankton Sioux Tribe, Raymond Cournoyer, ICWA Director, P.O. Box 248, Marty, SD 57361; Telephone: (605) 384-5712; Fax: (605) 384-5014; E-mail: n/a.

5. Midwest Region

Diane Rosen, Regional Director, One Federal Drive, Room 550, Fort Snelling, MN 55111-4007; Telephone: (612) 725-4502; Fax: (612) 713-4401.

Valerie Vasquez, Regional Social Worker, One Federal Drive, Room 550, Fort Snelling, MN 55111-4007; Telephone: (612) 725-4571; Fax: (612) 713-4439.

B

Bad River Band of Lake Superior Chippewa, Esie Leoso-Corbine, ICWA Director P.O. Box 55, Odanah, WI 54861; Telephone: (715) 682-7135 Ext: 1414; Fax: (715) 685-7888; E-mail: bricw@badriver-nsn.gov.

Bay Mills Indian Community, Phyllis Kinney, Tribal Court Administrator, 12140 W. Lakeshore Dr., Brimley, MI 49715; Phone: (906) 248-3241; Fax: (906) 248-5817; E-mail: phyllisk@baymills.org.

Bois Fort Band, Angela Wright, Indian Child Welfare Supervisor, 13071 Nett Lake Road Suite A, Nett Lake, MN 55771; Telephone: (218) 757-3476 or (218) 757-3916; Fax: (218) 757-3335; E-mail: amwright@boisforte.nsn.gov.

F

Fond du Lac Reservation Business Committee, Karen Diver, Chairwoman, 1720 Big Lake Road, Cloquet, MN 55720; Telephone: (218) 879-4593; Fax: (218) 878-2189; E-mail: karendiver@fdlrez.com.

Forest County Potawatomi Community of Wisconsin, Vickie Lynn Valenti, ICWA Department Supervisor, 5415 Everybody's Road, Crandon, WI 54520; Telephone: (715) 478-4812; Fax: (715) 478-7442; E-mail: Vickie.valenti@fcpotawatomi-nsn.gov.

G

Grand Portage Reservation Patti Foley, Social Worker, P.O. Box 428, Grand Portage, MN 55605; Telephone: (218) 475-2169; Fax: (218) 475-2455; E-mail: pfoley@grandportage.com.

Grand Traverse Band of Ottawa and Chippewa Indians, Helen Cook, Anishinaabek Family Services Supervisor, 2605 N. West Bayshore Drive, Peshawbestown, MI 49682-9275; Telephone: (231) 534-7681; Fax: (231) 534-7706; E-mail: helen.cook@gtbindians.com.

H

Hannahville Indian Community of Michigan, Jessica White, ICWA Worker, N15019 Hannahville B1 Road, Wilson, MI 49896; Telephone: (906) 723-2514; Fax: (906) 466-7397; E-mail: Jessica.white@hichealth.org.

The Ho-Chunk Nation, Valerie Blackdeer, ICWA Coordinator, P.O. Box 40, Black River Falls, WI 54615; Telephone: (715) 284-9851; Fax: (715) 284-0097; E-mail: Valerie.blackdeer@ho-chunk.com.

Nottawaseppi Huron Band of the Potawatomi, Meg Fairchild, LMSW, CAAC, Clinical Social Worker, 1474 Mno Bmadzewen Way, Fulton, MI 49052; Telephone: (269) 729-4422; Fax: (269) 729-4460; E-mail: socialwpc@nhbp.org.

K

Keweenaw Bay Indian Community, Judy Heath, Director Social Service, 16429 Beartown Road, Baraga, MI 49908; Telephone: (906) 353-4201; Fax: (906) 353-8171; E-mail: judy@kbic-nsn.gov.

L

Lac Courte Oreilles, LuAnn Kolumbus, Tribal Social Services Director, 13394 W. Trepania Road, Hayward, WI 54843; Telephone: (715) 634-8934; Fax: (715) 634-2981; E-mail: n/a.

Lac du Flambeau, Kristin Allen, ICW Director, P.O. Box 189, Lac du Flambeau, WI 54538; Telephone: (715) 588-1511; Fax: (715) 588-3903; E-mail: kallen@nnex.net.

Lac Vieux Desert, Dee Dee McGeshick, Social Services Director, P.O. Box 249, Watersmeet, MI 49969; Telephone: (906) 358-4577; Fax: (906) 358-4785; E-mail: dee.mcgeshick@lvdtribal.com.

Leech Lake Band of Ojibwe, Tamie Finn, Child Welfare Director, 115 Sixth Street, NW, Suite E, Cass Lake, MN 56633; Telephone: (218) 335-8240; Fax: (218) 335-3779; E-mail: tamie.finn@llojibwe.com.

Little River Band of Ottawa Indians, Eugene Zeller, Tribal Prosecutor, 3031 Domres Road, Manistee, MI 49660; Telephone: (231) 398-3384; Fax: (231) 398-3387; E-mail: gzeller@lrboi.com.

Little Traverse Bay Bands, Denneen Smith, Human Services Director, 7500 Odawa Circle, Harbor Springs, MI 49740; Telephone: (231) 242-1620; Fax: (231) 242-1635; E-mail: n/a.

Lower Sioux, Linette Tellinghuisen, ICWA Advocate, 39527 Reservation Highway 1, Morton, MN 56270; Telephone: (507) 697-9108; Fax: (507) 697-9111; E-mail: ltellinghuisen@lowersioux.com.

M

Match-E-Be-Nash-She-Wish Band of Potawatomi Indians of Michigan (Gun Lake Tribe), Leslie Pigeon, Behavior Health/Human Services Coordinator, P.O. Box 306, Dorr, MI 49323; Telephone: (616) 681-0360 ext: 316; Fax: (616) 681-0380; E-mail: n/a.

Menominee Indian Tribe of Wisconsin, Mary Husby, Director of Social Services, P.O. Box 910 Keshena, WI 54135; Telephone: (715) 799-5161; Fax: (715) 799-6061; E-mail: mhusby@mitw.org.

Mille Lacs Band of Ojibwe, Ryan Champagne, Director of Family Services, MilleLacs Band Government Center, 43408 Oodena Drive, Onamia, MN 56359; Telephone: (320) 532-7776 Ext: 7762; Fax: (320) 532-7583; E-mail: ryan.champagne@millelacsband.com.

Minnesota Chippewa Tribe, Linda Johnston, Human Services Director, P.O. Box 217, Cass Lake, MN 56633; Telephone: (218) 335-8585; Fax: (218) 335-8080; E-mail: ljohnston@mnchippewatribe.org.

O

Oneida Tribe of Indians of Wisconsin, Rhonda Tousey, Assistant Director, Children and Family Services, P.O. Box 365, Oneida, WI 54155; Telephone: (920) 490-3724; Fax: (920) 490-3820; E-mail: rtousey@oneidanation.org.

P

Pokagon Band of Potawatomi Indians, Mark Pompey, Social Services Director, 58620 Sink Road, Dowagiac, MI 49047; Telephone: (269) 782-8998; Fax: (269) 782-4295; E-mail: mark.pompey@pokagonband-nsn.gov.

Prairie Island Indian Community Mdewakanton Dakota Sioux of Minnesota, Nancy Anderson, Family Service Manager, 5636 Sturgeon Lake Road, Welch, MN 55089; Telephone: (651) 385-4185; Fax: (651) 385-4183; E-mail: nanderson@piic.org.

R

Red Cliff Band of Lake Superior Chippewa, Susan Crazy Thunder, Indian Child Welfare Department Director, 88385 Pike Road, Highway 13, Bayfield, WI 54814; Telephone: (715) 779-3747; Fax: (715) 779-3783; E-mail: susie.crazythunder@redcliff-nsn.gov.

Red Lake Band of Chippewa Indians, Sheila Stately, ICWA Advocate, Box 427, Red Lake, MN 56671; Telephone: (218) 679-2122; Fax: (218) 679-2929; E-mail: n/a.

S

Sac & Fox Tribe of the Mississippi in Iowa—Meskwaki, Allison W. Lasley, ICWA Consultant/Coordinator, P.O. Box 245, 349 Meskwaki Road, Tama, IA 52339; Telephone: (641) 484-4444 Fax: (641) 484-2103; E-mail: icwaconsult.mfs@meskwaki-nsn.gov.

Saginaw Chippewa Indians of MI, Kimberly Crampton, Director, 7070 East Broadway, Mt. Pleasant, MI 48858; Telephone: (989) 775-4909; Fax: (989) 775-4912; E-mail: kcrampton@sagchip.org.

Sault Ste. Marie Tribe of Chippewa Indians, Juanita Bye, ACFS Division Director, 2218 Shunk Rd., Sault Ste. Marie, MI 49783; Telephone: (906) 632-5250; Fax: (906) 632-5266; E-mail: jbye@saulttribe.net.

Shakopee Mdewakanton Sioux Community, ICWA Representative, 2330 Sioux Trail, NW, Prior Lake, MN 55372; Telephone: (952) 445-8900 or (952) 496-6112; Fax: (952) 445-8906; E-mail: n/a.

Sokaogon Chippewa Community of Wisconsin, Angela Ring, ICWA Director, 10808 Sokaogon Drive, Crandon, WI 54520; Telephone: (715) 478-2520; Fax: (715) 478-7623; E-mail: angelaring@sokaogonchippewa.com.

St. Croix Chippewa Indians of Wisconsin, Donna Churchhill, Director, 24663 Angeline Avenue, Webster, WI 54893; Telephone: (715) 349-2195; Fax: (715) 349-8665; E-mail: donnac@stcroixtribalcenter.com.

Stockbridge Munsee Community, Stephanie Bowman, ICWA Manager, Stockbridge Munsee Health and Wellness Center, W12802 County A, Bowler, WI 54416; Telephone: (715) 793-4580; Fax: (715) 793-1312; E-mail: Stephanie.bowman@mohican.com.

U

Upper Sioux Community of Minnesota, Tanya Ross, ICWA Manager, P.O. Box 147, 5744 Hwy. 67 East, Granite Falls, MN 56241; Telephone: (320) 564-6315; Fax: (320) 564-2550; E-mail: tanya@uppersiouxcommunity-nsn.gov.

W

White Earth Reservation Business Committee, Jeri Jasken, ICWA Coordinator, P.O. Box 358, White Earth, MN 56591; Telephone: (218) 983-4647; Fax: (218) 983-3712; E-mail: jeri@whiteearth.com.

6. Navajo Region

Omar Bradley, Regional Director, Navajo Regional Office, P.O. Box 1060, Gallup, NM 87305; Telephone: (505) 863-8314; Fax: (505) 863-8324.

Navajo Nation, Regina Yazzie, M.S.W., Director, Navajo Children and Family Services (ICWA), P.O. Box 1930, Window Rock, Arizona 86515; Telephone: (928) 871-6806; Fax: (928) 871-7667; E-mail: reginayazzie@nndss.org.

7. Northwest Region

Stanley Speaks, Regional Director, 911 NE 11th Avenue, Portland, OR 97232; Telephone: (503) 231-6702; Fax: (503) 231-2201.

Stella Charles, Regional Social Worker, 911 NE 11th Avenue, Portland, OR 97232; Telephone: (503) 231-6785; Fax: (503) 231-2182.

B

Burns Paiute Tribe, Michelle Bradach, Social Service Director, 100 Pasigo Street, Burns, OR 97720; Telephone: (541) 573-7312 Ext: 230; Fax: (541) 573-4217; E-mail: bradachma@burnspaiute-nsn.gov.

C

Confederated Tribes of the Chehalis Reservation, Tracy Bray, Family Services Director, 420 Howanut Road, Oakville, WA 98568; Telephone: (360) 709-1871; Fax: (360) 273-5207; E-mail: tbray@chehalistribe.org.

Colville Business Council, Lou Stone, ICWA, P.O. Box 150, Nespelem, WA 99155-011; Telephone: (509) 634-2774; Fax: (509) 634-2663; E-mail: n/a.

Coeur d'Alene Tribal Council, Leona Flowers, Social Worker Lead, Box 408, Plummer, ID 83851; Telephone: (208) 686-8106; Fax: (208) 686-4410; E-mail: lflowers@cdatribe-nsn.gov.

Confederated Salish & Kootenai Tribes, Lena Young Running Crane, ICWA Specialist, Box 278, Pablo, MT. 59855; Telephone: (406) 675-2700 X 1234; Fax: (406) 275-2883; E-mail: n/a.

Confederated Tribes of Coos, Lower Umpqua, & Siuslaw Indians, Dottie Garcia, Family Service Coordinator, P.O. Box 3279, Coos Bay, OR 97420; Telephone: (541) 888-3012; Cell: (541) 297-0370; Fax: (541) 888-1027; E-mail: dgarcia@ctclusi.org.

Confederated Tribes of the Grande Ronde Community of Oregon, Dana Ainam, ICWA Contact, 9615 Grand Ronde Road, Grand Ronde, OR 97347-0038; Telephone: (503) 879-2034; Fax: (503) 879-2142; E-mail: n/a.

Confederated Tribes of the Umatilla Indian Reservation, M. Brent Leonhard, Deputy Attorney General, 46411 Timine Way, Pendleton, OR 97801; Telephone/Fax: (541) 429-7406; E-mail: brentleonhard@ctuir.org.

Coquille Indian Tribe, Bridgett Wheeler, ICWA Worker, 3050 Tremont St., North Bend, OR 97459; Telephone: (541) 888-9494; Fax: (541) 888-6701; E-mail: bridgett@uci.net.

Cow Creek Band of Umpqua Tribe of Indians, Rhonda Malone, Human Services Director, 2371 NE Stephens Street, Roseburg, OR 97470; Telephone: (541) 677-5575 ext: 5513; Fax: (541) 677-5574; E-mail: rmalone@cowcreek.com.

Cowlitz Indian Tribe, Carolee Morris, ICWA Director, P.O. Box 2547, Longview, WA 98632-8594; Telephone: (360) 577-8140; Fax: (360) 577-7432; E-mail: n/a.

H

Hoh Indian Tribe, Annette Penn, ICW, P.O. Box 2196, Forks, WA 98331; Telephone: (360) 374-5022; Fax: (360) 374-5039; E-mail: milab@hohtribe-nsn.org.

J

Jamestown Skallam Tribal Council, Liz Mueller, ICWA Specialist, 1033 Old Blyn Hwy, Sequim, WA 98382; Telephone: (360) 681-4639; Fax: (360) 681-3402; E-mail: n/a.

K

Kalispel Tribe of Indians, Wendy L. Thomas, MSW, Support Services Director, 934 S. Gargeld Rd., Airway Heights, WA 99001; Telephone: (509) 789-7634/Cell (509) 671-6972; Fax: (509) 789-7659; E-mail: wthomas@camashealth.com.

The Klamath Tribes, Misty Barney, Child Welfare Program Manager; Candi Crume, Child Protective Specialist; Jim Collins, ICW Specialist; Lisa Ruiz, Child Welfare Caseworker; P.O. Box 436, Chiloquin, OR 97624; Telephone: (541) 783-2219; Fax: (541) 783-7783; E-mail: misty.barney@klamathtribes.com ; Candi.kirk@klamathtribes.com; jim.collins@klamathtribes.com; and Lisa.ruiz@klamathtribes.com.

Kootenai Tribal Council, Velma Bahe, ICWA Contact, P.O. Box 1269, Bonners Ferry, ID 83805-1269; Telephone: (208) 267-8451; E-mail: n/a.

L

Lower Elwha Tribal Community Council, Patricia Elofson, ICWA Contact, 2851 Lower Elwha Road, Port Angeles, WA 98363-9518; Telephone: (360) 452-8471; Fax: (360) 457-8429; E-mail: n/a.

Lummi Nation, Amy Finkbonner, Lummi Children's Services Manager, P.O. Box 1027 Ferndale, WA 98248; Telephone: (360) 384-2324; Fax: (360) 380-2157; E-mail: amyf@lummi-nsn.gov.

M

Makah Indian Tribal Council, Robin Denney, Social Service Manager or Sandy Soeneke, ICW Caseworker, P.O. Box 115, Neah Bay, WA 98357, Telephone: (360) 645-3251/3257; Fax: (360) 645-2806; E-mail: n/a.

Metlakatla Indian Community, Metlakatla Indian Community (Northwest Region), Marge Edais-Yeltatzie, Director, Social Services Children's Mental Health & ICW, P.O. Box 85, Metlakatla, AK 99926; Phone: (907) 886-6911; Fax: (907) 886-6913; E-mail: marge@msscmh.org.

Muckleshoot Indian Tribe, Sharon Hamilton, Human Services Division Director, 39015 172nd Avenue, SE, Auburn, WA 98092; Telephone: (253) 876-3155; Fax: (253) 876-2855; E-mail: sharon.curley@muckleshoot.nsn.us.

N

Nez Perce Tribe, Janet Bennett, ICWA Caseworker, P.O. Box 365,

Lapwai, ID 83540; Telephone: (208) 843-7302; Fax: (208) 843-9401; E-mail: n/a.

Nisqually Indian Community, Raymond Howell, ICWA Contact, 4820 She-Nah-Num Drive, SE, Olympia, WA 98513; Telephone: (360) 456-5221; Fax: (360) 407-0017; E-mail: n/a.

Nooksack Indian Tribe of Washington, Bernadine Roberts, ICW Program Manager 5061 Deming Road, Deming, WA 98244; Telephone: (360) 306-5090; Fax: (360) 306-5099; E-mail: broberts@nooksack-nsn.gov.

Northwestern Band of Shoshoni Nation, Lawrence Honena, ICWA Contact, 427 North Main, Suite 101, Pocatello, ID 83204; Telephone: (208) 478-5712; Fax: (208) 478-5713; E-mail: n/a.

P

Port Gamble S'Klallam, David Delmendo, ICWA Program Manager, 31912 Little Boston Road, NE, Kingston, WA 98346; Telephone: (360) 297-9672; Fax: (360) 297-9666; E-mail: davidd@pgst.nsn.us.

Puyallup Tribe, Sandra Cooper, ICWA Liason, 3009 E. Portland Avenue Tacoma, WA 98404; Telephone: (253) 405-7544; Fax: (253) 680-5998; E-mail: n/a.

Q

Quileute Tribal Council, Bonita Cleveland, Tribal Chair, P.O. Box 279, LaPush, WA 98350; Telephone: (360) 374-6155; Fax: (360) 374-6311; E-mail: bonita.cleveland@quileutenation.org.

Quinault Indian Nation Business Committee, William (Bill) Lay, Quinault Family Services Supervisor, P.O. Box 189, Taholah, WA 98587; Telephone: (360) 276-8215 Ext. 355; Fax: (360) 267-4152; E-mail: wlay@quinault.org.

S

Samish Indian Nation, Robert Ludgate, Samish Nation Social Services, Family Services Specialist, P.O. Box 217, Anacortes, WA 98221; Telephone: (360) 899-5282; Fax: (360) 299-4357; E-mail: rludgate@samishtribe.nsn.us.

Sauk-Suiattle Indian Tribe, Raju A.T. Dahlstrom, MSW, Program Administrator Indian Child Welfare, 5318 Chief Brown Lane, Darrington, WA 98241; Telephone: (425) 760-0306; Fax: (360) 436-0242; E-mail: rdahlstrom@sauk-suiattle.com.

Shoalwater Bay Tribal Council, Katherine Horne, ICWA Contact, P.O. Box 130, Tokeland, WA 98590; Telephone: (360) 267-6766 Ext. 3100; Fax: (360) 267-0247; E-mail: n/a.

Shoshone Bannock Tribe, Brandelle Whitworth, Tribal Attorney, P.O. Box 306, Ft. Hall, ID 83203; Telephone: (208) 478-3923; Fax: (208) 237-9736; E-mail: n/a.

Confederated Tribes of Siletz Indians, Cathern Tufts, Staff Attorney, P.O. Box 549, Siletz, OR 97380; Telephone: (541) 444-8211; Fax: (541) 444-2307; E-mail: cathernt@ctsi.nsn.us.

Skokomish Tribal Council, Renee Guy or Kim Thomas, ICWA Contact, N. 80 Tribal Center Road, Shelton, WA 98584-9748; Telephone: (360) 426-7788; Fax: (360) 462-0082.

Snoqualmie Tribe, Marie Ramirez, MSW, ICWA Contact, P.O. Box 280, Carnation, WA 98014; Telephone: (425) 333-5425; Fax: (425) 333-5428; E-mail: n/a.

Spokane Tribe of Indians, Tawhnee Colvin, Program Manager/Case Manager, P.O. Box 540, Wellpinit, WA 99040; Telephone: (509) 258-7502; Fax: (509) 258-7029; E-mail: tawhneec@spokanetribe.com.

Squaxin Island Tribe, Donald Whitener, Tribal Administrator, 10 SE Squaxin Lane, Shelton, WA 98584-9200; Telephone: (360) 432-3900; Fax: (360) 426-6577; E-mail: dwhitener@squaxin.us.

Stillaguamish Tribe of Indians, Gloria Green, ICW Director, P.O. Box 3782 or 17014 59th Ave, NE, Arlington, WA 98223; Telephone: (360) 435-3985 Ext. 21; Fax: (360) 435-2867; E-mail: n/a.

Suquamish Indian Tribe of the Port Madison Reservation, Dennis Deaton, ICWA Contact, P.O. Box 498, Suquamish, WA 98392; Telephone: (360) 394-8478; Fax: (360) 697-6774; E-mail: n/a.

Swinomish Indians, Tracy Parker, Swinomish Family Services Coordinator, 17337 Resevation Rd., LaConner, WA 98257; Telephone: (360) 466-7222; Fax: (360) 466-1632; E-mail: tparker@swinomish.nsn.us.

T

Tulalip Tribe, Elishia Stewart, ICWA Contact, 6700 Totem Beach Road, Marysville, WA 98271; Telephone: (360) 651-3284; Fax: (360) 651-4742; E-mail: n/a.

U

Upper Skagit Indian Tribe, Felice Keegahn, Indian Child Welfare Coordinator, 25959 Community Plaza Way, Sedro Woolley, WA 98284; Telephone: (360) 854-7077; Fax: (360) 854-7125; E-mail: felicek@upperskagit.com.

W

Warm Springs Tribal Court, Confederated Tribes of Warm Springs Reservation, Chief Judge Lola Sohappy, ICWA Contact, P.O. Box 850, Warm Springs, OR 97761; Telephone: (541) 553-3454; Fax: (541) 553-3281; E-mail: n/a.

Y

Confederated Tribes and Bands of the Yakama Nation, David Lees, Esq., Chief Prosecutor, P.O. Box 1119, Toppenish, WA 98948; Telephone: (509) 865-5121 Ext: 4558; Fax: (509) 865-7078; E-mail: lees@yakama.com.

8. Pacific Region

Dale Morris, Regional Director, BIA, Federal Building, 2800 Cottage Way, Sacramento, CA 95825; Telephone: (916) 978-6000; Fax: (916) 978-6055.

Kevin Sanders, Regional Social Worker, BIA-Federal Building, 2800 Cottage Way, Sacramento, CA 95825; Telephone: (916) 978-6048; Fax: (916) 978-6055.

A

Agua Caliente Band of Cahuilla Indians, Michelle A. Carr, Esq., Attorney, 5401 Dinah Shore Drive Palm Springs, CA 92264; Telephone: (760) 669-6862; Fax: (760) 699-6863; E-mail: mcarr@aguacaliente.net.

Alturas Rancheria, Chairperson, 900 Running Bear Rd., Yreka, CA 96097; Telephone: (530) 949-9877; E-mail: n/a.

Auburn Rancheria, Chairperson, United Auburn Indian Community, 10720 Indian Hill Road, Auburn, CA 95603; Telephone: (916) 663-3720; Fax: (530) 823-8709; E-mail: n/a.

Augustine Band of Cahuilla Indians, Mary Armgreen, Chairperson, P.O. Box 846, Coachella, CA 92236; Telephone: (760) 398-4722; E-mail: n/a.

B

Barona Band of Mission Indians, Charity White-Voth, Kumeyaay Family Services Director, Southern Indian Health Council, Inc., 4058 Willow Rd., Alpine, CA 91903; Telephone: (619) 445-1188; Fax: (619) 445-0765; E-mail: n/a.

Bear River Band of Rohnerville Rancheria, Karen Cahill, Social Services Director, 27 Bear River Drive, Loleta, CA 95551; Telephone: (707) 773-1900 Ext: 290; Fax: (707) 733-1972; E-mail: kcahill@bearrivertribe.com.

Berry Creek Rancheria (See Tyme Maidu Tribe).

Big Lagoon Rancheria, Chairperson, P.O. Box 3060, Trinidad, CA 95570; Telephone: (707) 826-2079; Fax: (707) 826-0495; E-mail: n/a.

Big Pine Paiute Tribe, Cyndie Summers, ICWA Representative, P.O. Box 700, Big Pine, CA 93513; Telephone: (760) 938-2003; Fax: (760) 938-2942; E-mail: c.summers@bigpinepaiute.org.

Big Sandy Rancheria, Dorothy Barton, MSW, ICWA/Social Services Coordinator, P.O. Box 337, Auberry, CA 93602; Telephone: (559) 855-4003 Ext: 215; Fax: (559) 855-4640; E-mail: dbarton@bsrnation.com.

Big Valley Rancheria, Cynthia Jefferson, ICWA, 2726 Mission Rancheria Road, Lakeport, CA 95453; Telephone: (707) 263-7875; Cell: (707) 621-1108; Fax: (707) 263-7280; E-mail: cjefferson@big-valley.net.

Bishop Paiute Tribe, Margaret Romero, ICWA Specialist; 50 Tu Su Lane, Bishop, CA 93514; Telephone: (760) 873-3584; Fax: (760) 873-4143; E-mail: margaret.romero@bishoppaiute.org.

Blue Lake Rancheria, Bonnie Mobbs, Exec Assistant, P.O. Box 428, Blue Lake, CA 95525; Telephone: (707) 668-5101; Fax: (707) 668-4272; E-mail: info@bluelakerancheria-nsn.gov.

Bridgeport Indian Colony, Christy Robles, Tribal Administrator, P.O. Box 37 Bridgeport, CA 93517; Telephone: (760) 932-7083; Fax: (760) 932-7846; E-mail: admin@bridgeportindiancolony.com.

Buena Vista Rancheria of Me-Wuk Indians, Penny Arciniaga, Tribal Member Services, 1418 20th Street, Suite 200, Sacramento, CA 95811; Telephone: (916) 491-0011 x 10; Fax: (916) 491-0012; E-mail: penny@buenavistatribe.com.

C

Cabazon Band of Mission Indians, Chairman, 84-245 Indio Springs Drive, Indio, CA 92201; Telephone: (760) 342-2593; Fax: (760) 347-7880; E-mail: n/a.

California Valley Miwok Tribe, Rashel Reznor, ICWA Coordinator 10601 N. Escondido Pl., Stockton, California 95212; Phone: (209) 931-4567; Fax: (209) 931-4333; E-mail: icwa@californiavalleymiwoktribe-nsn.gov.

Cahuilla Band of Mission Indians, Executive Director, Indian Child & Family Services, P.O. Box 2269, Temecula, CA 92590; Telephone: (951) 676-8832; Fax: (951) 676-3950; E-mail: n/a.

Campo Band of Mission Indians, Charity White-Voth, Kumeyaay Family Services Director, Southern Indian Health Council, Inc., 4058 Willow Rd., Alpine, CA 91903; Telephone: (619) 445-1188; Fax: (619) 445-0765; E-mail: n/a.

Cedarville Rancheria, Duanna Knighton, Tribal Administrator, 300 West First Street, Alturas, CA 96101; Telephone: (530) 233-3969; Fax: (530) 233-4776; E-mail: cedranch@citlink.net.

Cher-Ae Heights Indian Community of the Trinidad Rancheria, Amy Atkins, Executive Manager, P.O. Box 630, Trinidad, CA 95570; Telephone: (707) 677-0211; Fax: (707) 677-3921; E-mail: aatkins@trinidadrancheria.com.

Chicken Ranch Rancheria of Me-Wuk Indians, Jan Costa, Tribal Administrator, P.O. Box 1159, Jamestown, CA 95327; Telephone: (209) 984-4806; Fax: (209) 984-5606; E-mail: chixrnch@mlode.com.

Cloverdale Rancheria of Pomo Indians, Marcellena Becerra, ICWA Advocate, 555 S. Cloverdale Blvd., Cloverdale, CA 95425; Telephone: (707) 894-5775; Home: (707) 545-5228; Cell: (707) 953-9954; Fax: (707) 894-5727; E-mail: marcebecerra@comcast.net.

Cold Springs Rancheria, Terri Works, ICWA Director, 32881 Sycamore Rd., Suite #300, Tollhouse, CA 93667; Telephone: (559) 855-5043/(559) 855-8360; Fax: (559) 855-4445; E-mail: csrancheriaterri@netptc.net.

Colusa Indian Community Council, Daniel Gomez Sr., Chairman, 3730 Highway 45 Colusa, CA 95932; Telephone: (530) 458-8231; Fax: (530) 458-4186; E-mail: dgomez@colusa-nsn.gov.

Cortina Band of Wintun Indians (Cortina Indian Rancheria), Charlie Wright, Tribal Chairman, 570 6th Street Williams, CA 95987; Telephone: (530) 473-3274, Fax: (530) 473-3301; E-mail: n/a.

Coyote Valley Band of Pomo Indians, Melinda Hunter, Health and Human Services Director or John Feliz Jr., Tribal Chairman, 7751 N. State Street Redwood Valley, CA 95470; Telephone: (707) 485-8723; Fax: (707) 485-1247; E-mail: n/a.

In Addition:

Indian Child & Family Preservation Program, Lorain Laiwa, Director/Case Worker, 684 Orchard Ave., Ukiah, CA 95482; Phone: (707) 463-2644; Fax: (707) 463-8956; E-mail: n/a.

Cuyapaipe Ewiiaapaayp Band of Kumeyaay Indians (See Ewiiaapaayp Band of Kumeyaay Indians).

D

Dry Creek Rancheria, Support Services Dept., Percy Tejada, P.O. Box 607, Geyserville, CA 95441; Telephone: (707) 473-2185; Fax: (707) 473-2171; E-mail: percyt@drycreekrancheria.com.

E

Elem Indian Colony, Wahlia Pearce, Family Resource Coordinator, P.O. Box 757 Clearlake Oaks, CA 95423; Telephone: (707) 998-3003; Fax: (707) 998-3033; E-mail: gerri@elemnation.org.

Elk Valley Rancheria, Chairperson, 2332 Howland Hill Rd., Crescent City, CA 95531; Telephone: (707) 464-4680; Fax: (707) 465-2638; E-mail: evrlibrary@elk-valley.com.

Enterprise Rancheria, Shari Ghalayini, Tribal Administrator, 2133 Monte Vista Ave., Oroville, CA 95966; Telephone: (530) 532-9214; Fax: (530) 532-1768; E-mail: sharig@enterpriserancheria.org.

Ewiiaapaayp Band of Kumeyaay Indians, Will Micklin, CEO, 4050 Willow Road, Alpine, CA 91901; Telephone: (619) 445-6315; Fax: (619) 445-9126; E-mail: n/a.

F

Federated Indians—Graton Rancheria, Michele Porter, MSW, Social Services, 6400 Redwood Drive, Suite 300, Rohnert Park, CA 94928; Telephone: (707) 566-2288: Fax: (707) 566-2291; E-mail: mporter@gratonrancheria.com.

Fort Bidwell Indian Community, Mariellen Sam, ICWA Representative/Enrollment Officer, P.O. Box 129, Fort Bidwell, CA 96112; Telephone: (530) 279-6310; Fax: (530) 279-2233; E-mail: n/a.

Fort Independence Reservation, Israel Naylor, Chairman, P.O. Box 67, Independence, CA 93526; Telephone: (760) 878-5160; Fax: (760) 878-2311; E-mail: Israel@fortindependence.com.

G

Greenville Rancheria, Dr. Gonzalo Gonzalez, Behavioral Health, Crystal Rios, Tribal Secretary, Patty Allen, Chief Financial Officer, and Faustina Lopez, Tribal Representative, P.O. Box 279, Greenville, CA 95947; Telephone: (530) 284-7990; Fax: (530) 284-7299; E-mail: ggonzalez@greenvillerancheria.com; pallen@greenvillerancheria.com; crios@greenvillerancheria.com; flopez@greenvillerancheria.com.

Grindstone Indian Rancheria, Aaston Bill, ICWA Officer, P.O. Box 63, Elk Creek, CA 95939; Telephone: (530) 968-5365; Cell: (530) 519-6552; Fax: (530) 968-5366; E-mail: n/a.

Guidiville Band of Pomo Indians, Merlene Sanchez, Tribal Chairperson, P.O. Box 339, Talmage, CA 95481; Telephone: (707) 462-3682; Fax: (707) 462-9183; E-mail: admin@guidiville.net.

H

Habematolel Pomo of Upper Lake, Angelina Arroyo, ICWA Advocate, 375 E. Hwy 20, Suite “I” or P.O. Box 516, Upper Lake, CA 95485; Telephone: (707) 275-0737; Cell: (707) 262-2947; Fax: (707) 275-0757; E-mail: tribaladmin@upperlakepomo.com.

Hoopa Valley Tribe, Millie Grant, Director—Human Services, P.O. Box 1267, Hoopa, CA 95546; Telephone: (530) 625-4236 x 19; Fax: (530) 625-4258; E-mail: n/a.

Hopland Band of Pomo Indians, Gayle Zepeda, Health Director, 3000 Shanel Rd., Hopland, CA 95449; Telephone: (707) 472-2100 Ext: 1105; Fax: (707) 472-2104; E-mail: gzepeda@hoplandtribe.com.

I

Inaja & Cosmit Band of Mission Indians, Tribal Family Services, Manager Indian Health Council, Inc., P.O. Box 406, Pauma Valley, CA 92061; Telephone: (760) 749-1410; Fax: (760) 749-5518; E-mail: n/a.

Ione Band of Miwok Indians, Pamela Baumgartner, Administrator, P.O. Box 699, 9252 Bush Street, Plymouth, CA 95669; Telephone: (209) 245-5800; Fax: (209) 245-3112; E-mail: pam@ionemiwok.org.

J

Jackson Rancheria Band of Miwuk Indians, Kimberly Heffron, Tribal Secretary, P.O. Box 1090, Jackson, CA 95642; Telephone: (209) 223-1935; Fax: (209) 223-5366; E-mail: kheffron@jacksonrancheria-nsn.gov.

Jamul Indian Village, Charity White-Voth, Kumeyaay Family Services Director, Southern Indian Health Council, Inc., 4058 Willow Rd., Alpine, CA 91903; Telephone: (619) 445-1188; Fax: (619) 445-0765; E-mail: n/a.

K

Karuk Tribe, Mike Edwards, Child and Family Services Director, Karuk Health Clinic, 1519 S. Oregon Street, Yreka, CA 96097; Telephone: (530) 842-9200 Ext: 6301; Fax: (530) 841-5150; E-mail: medwards@karuk.us.

L

La Jolla Band of Luiseno Indians, Tribal Family Services, Manager, Indian Health Council, Inc., P.O. Box 406, Pauma Valley, CA 92061; Telephone: (760) 749-1410; Fax: (760) 749-5518; E-mail: n/a.

La Posta Band of Mission Indians, Charity White-Voth, Kumeyaay Family Services Director, Southern Indian Health Council, Inc., 4058 Willow Rd., Alpine, CA 91903; Telephone: (619) 445-1188; Fax: (619) 445-0765; E-mail: n/a.

Cahto Tribe, Laytonville Rancheria, Cherie Smith-Gibson, Tribal Administrator, P.O. Box 1239, Laytonville, CA 95454; Telephone: (707) 984-6197; Fax: (707) 984-6201; E-mail: ta@cahto.org.

Lone Pine Reservation, Kathy Brancroft, Enrollment Committee Chairperson, P.O. Box 747, Lone Pine, CA 93545; Telephone: (760) 876-1034; Fax: (760) 876-8302; E-mail: n/a.

Los Coyotes Band of Cahuilla & Cupeno Indians, Tribal Family Services Manager, Indian Health Council, Inc., P.O. Box 406, Pauma Valley, California 92061; Telephone: (760) 749-1410; Fax: (760) 749-5518; E-mail: n/a.

Lower Lake Rancheria, Chairperson, P.O. Box 3162, Santa Rosa, CA 95402; Telephone: (707) 575-5586; Fax: (707) 575-5586; E-mail: n/a.

Lytton Rancheria, Margie Mejia, Chairwoman, 1300 N. Dutton Avenue, Suite A, Santa Rosa, CA 95401-3515; Telephone: (707) 575-5917; Fax: (707) 575-6974; E-mail: n/a.

M

Manchester-Point Arena Band of Pomo Indians, Christine Dukatz, ICWA Director/Tribal Administrator, P.O. Box 623, Point Arena, CA 95468; Telephone: (707) 882-2788; Fax: (707) 882-3417; E-mail: christimarie@earthlink.net.

Manzanita Band of Mission Indians, Chairperson, P.O. Box 1302, Boulevard, CA 91905; Telephone: (619) 766-4930; Fax: (619) 766-4957; E-mail: n/a.

Mechoopda Indian Tribe, Susan Bromley, Office Manager, 125 Mission Ranch Boulevard, Chico, CA 95926; Telephone: (530) 899-8922; Fax: (530) 899-8517; E-mail: sbromley@mechoopda-nsn.gov.

Mesa Grande Band of Mission Indians, Tribal Family Services, Manager, Indian Health Council, Inc., P.O. Box 406, Pauma Valley, CA 92061; Telephone: (760) 749-1410; Fax: (760) 749-5518; E-mail: n/a.

Middletown Rancheria, Ursula Simon, ICWA Director, P.O. Box 1829, Middletown, CA 95461; Telephone: (707) 987-8288; Fax: (707) 987-8205; E-mail: n/a.

Mooretown Rancheria, Francine Mckinley, ICWA & Social Services Director, 1 Alverda Drive, Oroville, CA 95966; Telephone: (530) 533-3625; Fax: (530) 533-0664; E-mail: icwa@mooretown.org.

Morongo Band of Cahuilla Mission Indians, Duke Steppe, Social Worker, 11581 Potrero Road, Banning, CA 92220; Telephone: (951) 849-4697; Fax: (951) 922-0338; E-mail: n/a.

N

North Fork Rancheria of Mono Indians of California, Judy E. Fink, Tribal Chairperson, P.O. Box 929, North Fork, CA 93643; Telephone: (559) 877-2484; Fax: (559) 877-2467; E-mail: efink@northforkrancheria-nsn.gov.

P

Pala Band of Mission Indians, Maria Garcia, ICWA Manager, Department of Social Services, 35008 Pala-Temecula Road, PMB 50. Pala, CA 92059. Telephone: (760) 891-3542; Fax: (760) 742-1293; E-mail: n/a.

Paskenta Band of Nomlaki Indians, Ines Crosby, ICWA Coordinator, P.O. Box 398, Orland, CA 95963; Telephone: (530) 865-2010; Fax: (530) 865-1870; E-mail: n/a.

Pauma & Yuima Band of Mission Indians, Tribal Family Services, Manager, Indian Health Council, Inc., P.O. Box 406, Pauma Valley, CA 92061; Telephone: (760) 749-1410; Fax: (760) 749-5518; E-mail: n/a.

Pechanga Band of Mission Indians, Mark Macarro, Spokesman, P.O. Box 1477, Temecula, CA 92593; Telephone: (951) 676-2768; Fax: (951) 695-1778; E-mail: n/a.

Picayune Rancheria of the Chukchansi Indians, Orianna Walker, ICWA Coordinator, 46575 Road 417, Coarsegold, CA 93614; Telephone: (559) 683-6633 Ext: 212; Fax: (559) 692-8792; E-mail: orianna.walker@chukchansi.net.

Pinoleville Pomo Nation, Linda Noel, Social Services Director, 500 B Pinoleville Drive, Ukiah, CA 95482; Telephone: (707) 463-1454 ext: 101; Fax: (707) 463-6601; E-mail: linden@pinoleville-nsn.us.

Pit River Tribe, Coordinator—ICWA Program, 36970 Park Avenue, Burney, CA 96013; Telephone: (530) 335-5530; Fax: (530) 335-3140; E-mail: n/a.

Potter Valley Tribe, Salvador Rosales, Tribal Chairman, 2251 South State Street, Ukiah, CA 95482; Telephone: (707) 462-1213; Fax: (707) 462-1240; E-mail: pottervalleytribe@pottervalleytribe.com.

Q

Quartz Valley Indian Tribe, Mary Gowen, ICWA Director, 13601 Quartz Valley Rd., Fort Jones, CA 96032; Telephone: (530) 468-5907 Ext: 314; Fax: (530) 468-5608; E-mail: icwa@qvir.com.

R

Ramona Band or Village of Cahuilla, Susan Reckker, Tribal Administrator; P.O. Box 391670, Anza, CA 92539; Phone: (951) 763-4105; Fax: (951) 763-4325; E-mail: sreckker@ramonatribe.com.

Redding Rancheria, Director, Social Services, 2000 Rancheria Road, Redding, CA 96001-5528; Telephone: (530) 225-8979; E-mail: n/a.

Redwood Valley Rancheria, Beverly Rodriguez, ICWA Coordinator, 3250 Road I, Redwood Valley, CA 95470; Telephone: (707) 485-0361 Ext: 107; Fax: (707) 485-5726; E-mail: brodriguezicwa@gmail.com.

Resighini Rancheria, Rick Dowd, Chairman or Keshan Dowd, Social Service-ICWA, P.O. Box 529, Klamath, CA 95548; Telephone: (707) 482-2431; Fax: (707) 482-3425; E-mail: n/a.

Rincon Band of Mission Indians, Tribal Family Services, Manager, Indian Health Council, P.O. Box 406, Pauma Valley, CA 92061; Telephone: (760) 749-1410; Fax: (760) 749-8901; E-mail: n/a.

Robinson Rancheria, Marsha Lee, ICWA Coordinator, P.O. Box 4015, Nice, CA 95464; Telephone: (707) 275-9363; Fax: (707) 275-9001; E-mail: mlee@robinsonrancheria.org.

Round Valley Reservation, Cynthia Card, ICWA Director, 77826 Covelo Road, Covelo, CA 95428; Telephone: (707) 983-8008; Fax: (707) 983-6128; E-mail: ccard@rvit.org.

Yocha Dehe Wintun Nation (Rumsey Rancheria), Leland Kinter, Tribal Secretary, P.O. Box 18, Brooks, CA 95606; Telephone: (530) 796-3400; Fax: (530) 796-2143; E-mail: tbrady@yochadehe-nsn.gov.

S

San Manuel Band of Mission Indians, Tribal Secretary, 26569 Community Center Drive, Highland, CA 92346; Telephone: (909) 864-8933; Fax: (909) 864-3370; E-mail: n/a.

San Pasqual Band of Diegueno Indians, Tribal Family Services, Manager, Indian Health Council, Inc., P.O. Box 406, Pauma Valley, CA 92061; Telephone: (760) 749-1410; Fax: (760) 749-5518; E-mail: n/a.

Santa Rosa Band of Cahuilla Indians, Mayme Estrada, Chair, P.O. Box 609, Hemet, CA 92546; Telephone: (951) 658-5311; Fax: (951) 685-6733; E-mail: n/a.

Santa Rosa Rancheria, Crystal Soto, Psy.D., Tribal Social Services Director, 16835 Alkali Drive; P.O. Box 8, Lemoore, CA 93245; Telephone: (559) 924-1278, x 4020; Fax: (559) 925-2947; E-mail: csoto@tachi-yokut.com.

Santa Ynez Band of Chumash Indians, Caren Romero, ICWA Representative. Jess Montoya, Executive Director. P.O. Box 539, Santa Ynez, CA 93460. Telephone: (805) 694-2671; Fax: (805) 686-2060; E-mail: cromero@sythc.com.

Santa Ysabel Band of Mission Indians—Iipay Nation, Linda Ruis, Director, Santa Ysabel Social Services Dept., P.O. Box 701, Santa Ysabel, CA 92070; Telephone: (760) 765-1106; Fax: (760) 765-0312; E-mail: n/a.

Scotts Valley Band of Pomo Indians, Sharon Warner, ICWA Rep/Health Department Manager, 301 Industrial Ave., Lakeport, CA 95453; Telephone: (707) 263-4220 ext: 409; Fax: (707) 263-4345; E-mail: swarner@svpomo.org.

Sherwood Valley Rancheria, Scarlett Carmona, Tribal Administrator, 190 Sherwood Hill Drive, Willits, California 95490; Telephone: (707) 459-9690; Fax: (707) 459-6936; E-mail: svradministrator@sbcglobal.net.

Shingle Springs Band of Miwok Indians (Shingle Springs Rancheria), Malissa Tayaba, Social Services Director, P.O. Box 1340, Shingle Springs, CA 95682; Telephone: (530) 698-1436 or (530) 698-1400; Fax: (530) 676-8033; E-mail: mtayaba@ssband.org.

Smith River Rancheria, Dorothy Perry, Director—Community & Family Services, 110 W. First St., Smith River, CA 95567; Telephone: (707) 487-9255; Fax: (707) 487-0137; E-mail: dperry@tolowa.com.

Soboba Band of Luiseno Indians, Tribal Social Worker, Soboba Social Services Department, P.O. Box 487, San Jacinto, CA 92581; Telephone: (951) 487-0283. Fax: (951) 487-1738; E-mail: n/a.

Kashia Band of Pomo Indians of the Stewarts Point Rancheria, Tara Candelaria, Administrative Assistant, 3535 Industrial Drive, Suite B-2, Santa Rosa, CA 95403; Telephone: (707) 591-0580; Fax: (707) 591-0583; E-mail: tribalofc@stewartspointrancheria.com.

Susanville Rancheria, Chairperson, ICWA Coordinator, 745 Joaquin St., Susanville, CA 96130; Telephone: (530) 257-6264; Fax: (530) 257-7986; E-mail: n/a.

Sycuan Band of Mission Indians, Charity White-Voth, Kumeyaay Family Services Director, Southern Indian Health Council, Inc., 4058 Willow Rd., Alpine, CA 91903; Telephone: (619) 445-1188; Fax: (619) 445-0765; E-mail: n/a.

T

Table Mountain Rancheria, Frank Marquez Jr., Tribal Chief of Police, 23736 Sky Harbour Rd., Friant, CA 93626; Telephone: (559) 822-6336; Fax: (559) 822-6340; E-mail: fmarquezjr@tmr.org.

Timbi-sha Shoshone Tribe, As of date there is no recognized government for this federally recognized tribe.

Torres Martinez Desert Cahuilla Indians, Annette Chihuahua, ICWA Case Assistant/Tribal Delegate TMDCI, 66-725 Martinez Rd., Thermal, CA 92274; Telephone: (760) 578-8334 or (760) 397-0455 Ext: 1101; Fax: (760) 397-3925; E-mail: achihuahua@tmdci.org.

Tule River Reservation, Lolita Garfield, MSW, Director Family Social Services, 340 North Reservation Road, Porterville, CA 93258; Telephone: (559) 781-4271 ext: 1013; Fax: (559) 791-2122; E-mail: icwadir@tulerivertribe-nsn.gov.

Tuolumne Band of Me-Wuk Indians, Lisa Ames, Social Services Department Manager, P.O. Box 615, Tuolumne, CA 95379; Telephone: (209) 928-5300; Fax: (209) 928-1552; E-mail: lisa@mewuk.com.

Twenty-Nine Palms Band of Mission Indians, Executive Director, Indian Child & Family Services, P.O. Box 2269, Temecula, CA 92590; Telephone: (951) 676-8832; Fax: (951) 676-3950; E-mail: n/a.

Tyme Maidu Tribe (Berry Creek Rancheria), Terilynn Steel, ICWA Supervisor, 5 Tyme Way, Oroville, CA 95966; Telephone: (530) 534-3859, Fax: (530) 534-1151; E-mail: jessebrown@berrycreekrancheria.com.

U

Utu Utu Gwaitu Paiute Tribe, Adora L. Saulque, Vice-Chairperson, 25669 Hwy 6 PMB I, Benton, CA 93512; Telephone: (760) 933-2321; Fax: (760) 933-2412; E-mail: bentonpaiutetribe@hughes.net and adorasaulque@hughes.net.

V

Viejas (Baron Long) Band of Mission Indians, Charity White-Voth, Kumeyaay Family Services Director, Southern Indian Health Council, Inc., 4058 Willow Rd., Alpine, CA 91903; Telephone: (619) 445-1188; Fax: (619) 445-0765; E-mail: n/a.

W

Wilton Rancheria, Chairperson, 9300 West Stockton Blvd., Ste. 205 Elk Grove, California 95758; Telephone: (916) 683-6000; Fax: (916) 683-6015; E-mail: n/a.

Wiyot Tribe, Michelle Vassel, Director of Social Services, 1000 Wiyot Drive, Loleta, CA 95551; Telephone: (707) 733-5055; E-mail: n/a.

Y

Yurok Tribe, Stephanie Weldon, Director Social Services, 190 Klamath Blvd. or P.O. Box 1027, Klamath, CA 95548; Telephone: (707) 482-1350; Fax: (707) 482-1368; E-mail: sweldon@yuroktribe.nsn.us.

9. Rocky Mountain Region

Edward Parisian, Regional Director, 316 North 26th Street, Billings, Montana 59101; Telephone: (406) 247-7943; Fax: (406) 247-7976.

Jo Ann Birdshead, Regional Social Worker, 316 North 26th Street, Billings, Montana 59101; Telephone: (406) 247-7988; Fax: (406) 247-7566.

B

Blackfeet Tribe of Montana, Raquel Vaile, Indian Child Welfare Act (ICWA) Coordinator, P.O. Box 588, Browning, Montana 59417; Telephone: (406) 338-7806; Cell: (406) 470-0026; Fax: (406) 338-7726; E-mail: n/a.

C

Chippewa Cree Tribe of the Rocky Boy's Reservation of Montana, Tribal Chairman, Rural Route 1, P.O. Box 544, Box Elder, Montana 59521; Telephone: (406) 395-5705; Fax: (406) 395-5702; E-mail: n/a.

Crow Tribe of the Crow Reservation of Montana, Director of Tribal Social Services, P.O. Box 159, Crow Agency, Montana 59022; Telephone: (406) 638-3925; Fax: (406) 638-4042; E-mail: n/a.

E

Eastern Shoshone Tribe of the Wind River Reservation, ICWA Coordinator, P.O. Box 945, Fort Washakie, Wyoming 82514; Telephone: (307) 332-6591; Fax: (307) 332-6593; E-mail: n/a.

F

Fort Belknap Indian Community Assiniboine & Gros Ventre Tribes, Myron L. Trottier, ICWA Case Manager, 158 Tribal Way Fort Belknap Agency Harlem, Montana 59526; Telephone: (406) 353-8328; Fax: (406) 353-4634; E-mail: mtrottier@ftbelknap-nsn.gov.

Fort Peck Assiniboine and Sioux Tribes, A.T. Stafne, Chairman, P.O. Box, 1027, Poplar, Montana 59255; Telephone: (406) 768-5155; Fax: (406) 768-5478; E-mail: atstafne@fortpecktribes.org.

N

Northern Arapaho Tribe of the Wind River Reservation, Chairman, P.O. Box 396, Fort Washakie, Wyoming 82514; Telephone: (406) 332-6120; Fax: (307) 332-7543; E-mail: n/a.

Northern Cheyenne, Leroy A. Spang, President, P.O. Box 128 Lame Deer, Montana 59043; Telephone: (406) 477-4846; Fax: (406) 477-6210; E-mail: leroy.spang@cheyennenation.com.

10. Southern Plains Region

Dan Deerinwater, Regional Director, P.O. Box 368, Anadarko, OK 73005; Telephone: (405) 247-6673 Ext. 217; Fax: (405) 247-5611.

Ofelia De La Rosa, Regional Social Worker, P.O. Box 368, Anadarko, Oklahoma 73005; Telephone: (405) 247-1585 Fax: (405) 247-2895.

A

Absentee-Shawnee Tribe of Oklahoma Indians, Governor, 2025 S. Gordon Cooper Drive, Shawnee, Oklahoma 74801; Telephone: (405) 275-4030; E-mail: n/a.

Alabama-Coushatta Tribe of Texas, Aaron Williams, Social Service Director, 571 State Park Road, 56, Livingston, Texas, 77351; Telephone: (936) 563-1252; Fax: (936) 563-1254; E-mail: Williams.aaron@actribe.org.

Apache Tribe of Oklahoma, Teresa Taylor, ICW Director, P.O. Box 1330, Anadarko, Oklahoma 73005; Telephone: (405) 247-9857; Fax: (405) 247-3153; E-mail: n/a.

C

Caddo Nation of Oklahoma, Mary Prentiss, ICW Caseworker, P.O. Box 487, Binger, Oklahoma 73009; Telephone: (405) 656-9222; Fax: (405) 656-3237; E-mail: mprentiss@caddonation.com.

Cheyenne and Arapaho Tribes of Oklahoma, Mary Davenport, Executive Director and Michael Scott Burgett, ICW Coordinator P.O. Box 38, Concho, Oklahoma 73022; Telephone: (405) 422-7476/(405) 201-3188; Fax: (405) 422-8218 or (405) 422-3164; E-mail: mdavenport@c-a-tribes.org; mburgett@c-a-tribes.org.

Citizen Potawatomi Nation, Janet Draper, ICW Director, 1601 S. Gordon Cooper Drive, Shawnee, Oklahoma 74801; Telephone: (405) 878-4831; Fax: (405) 878-4659; E-mail: jdraper@potawatomi.org.

Comanche Nation-Oklahoma, Mona Perea, ICW Director, P.O. Box 908, Lawton, Oklahoma 73502; Telephone: (580) 492-3374; Fax: (580) 354-3838; E-mail: ramonap@comanchenation.com.

D

Delaware Nation, Lydia Ramirez, ICW Director, P.O. Box 825, Anadarko, Oklahoma 73005; Telephone: (405) 247-2448 Ext: 1152; Fax (405) 247-5942; E-mail: lramirez@delawarenation.com.

F

Fort Sill Apache Tribe of Oklahoma, Ramona Austin, ICWA Director, Route 2, Box 121, Apache, Oklahoma 73006; Telephone: (580) 588-2298; Fax: (580) 588-2106; E-mail: n/a.

I

Iowa Tribe of Kansas, Chairperson, 3345 B. Thrasher Rd., White Cloud, Kansas 66094; Telephone: (785) 595-3258; E-mail: n/a.

Iowa Tribe of Oklahoma, Janice Rowe-Kurak, Chairman, Route 1, Box 721, Perkins, Oklahoma 74045; Telephone: (405) 547-2402; Fax: (405) 547-1060; E-mail: n/a.

K

Kaw Nation, Chairperson, Drawer 50, Kaw City, Oklahoma 74641;

Telephone: (580) 269-2552; E-mail: n/a.

Kickapoo Traditional Tribe of Texas, Connie Valenzuela, Director Indian Child Welfare, 286 Falcon Blvd., Eagle Pass, Texas 78852; Telephone: (830) 766-5601; Work Cell: (830) 513-2937; Fax: (830) 776-5605; E-mail: connie.valenzuela@ktttribe.org.

Kickapoo Tribe of Indians of The Kickapoo Reservation in Kansas, Chairperson, P.O. Box 271, Horton, Kansas 66439; Telephone: (785) 486-2131; E-mail: n/a.

Kickapoo Tribe of Oklahoma, Chairperson, P.O. Box 70, McLoud, Oklahoma 74851; Telephone: (405) 964-7053; E-mail: n/a.

Kiowa Tribe of Oklahoma, Richard Hernasy, ICWA Director, P.O. Box 369, Carnegie, Oklahoma 73015; Telephone: (580) 654-2300; Fax: (580) 654-2363; E-mail: n/a.

O

Otoe-Missouria Indian Tribe of Oklahoma, Ada Mehojah, Social Services Director, 8151 Highway 177, Red Rock, Oklahoma 74651; Telephone: (580) 723-4466 Ext: 256; Cell Phone: (580) 307-7303; Fax: (580) 723-1016; E-mail: amehojah@omtribe.org.

P

Pawnee Nation of Oklahoma, Joanna (Jodi) Flanders, BSW, MSW, ICW Coordinator, P.O. Box 470, Pawnee, Oklahoma 74058; Telephone: (918) 763-3873; Fax: (918) 762-6453 E-mail: jflanders@pawneenation.org.

Ponca Tribe of Oklahoma, Chairperson, 20 White Eagle Drive, Ponca City, Oklahoma 74601; Telephone: (580) 762-8104; E-mail: n/a.

Prairie Band of Potawatomi Nation, Chairperson, 16281 Q. Road, Mayetta, Kansas 66509; Telephone: (785) 966-2255; E-mail: n/a.

S

Sac and Fox of Missouri in Kansas, Chairperson, 305 N. Main St., Reserve, Kansas 66434; Telephone: (785) 742-7471; E-mail: n/a.

Sac and Fox Nation, Principal Chief, Route 2, Box 246, Stroud, Oklahoma 74079; Telephone: (918) 968-3526; E-mail: n/a.

T

Tonkawa Tribe of Oklahoma, President, P.O. Box 70, Tonkawa, Oklahoma 74653; Telephone: (580) 628-2561; E-mail: n/a.

W

Wichita and Affiliated Tribes of Oklahoma, Joan Williams, Indian Child Welfare Director, P.O. Box 729, Anadarko, Oklahoma 73005; Telephone: (405) 247-8627; Cell: (405) 638-0170; Fax: (405) 247-8873; E-mail: joan.williams@wichitatribe.com.

11. Southwest Region

William Tandy Walker, Regional Director, 1001 Indian School Road, NW., Albuquerque, NM 87104; Phone: (505) 563-3103; Fax: (505) 563-3101.

Sandra McCook, Regional Social Worker, 1001 Indian School Road, NW., Albuquerque, NM 87104; Phone: (505) 563-3520; Fax: (505) 563-3058.

A

Pueblo of Acoma, Colinda Garcia, Social Services Director, P.O. Box 309, Acoma, NM 87034; Phone: (505) 552-6604 Ext: 5154; Cell: (505) 382-4429; Fax: (505) 552-6206; E-mail: cvgarcia@puebloofacoma.org.

C

Pueblo of Conchiti, Dee Mody, ICWA Aide, P.O. Box 70, Cochiti Pueblo, NM 87072; Phone: (505) 465-2244; Fax: (505) 465-1135; E-mail: socialservices-icwa@live.com.

I

Pueblo of Isleta, Caroline Dailey, Acting ICWA Director, P.O. Box 1270, Isleta, NM 87022; Phone: (505)869-2772; Fax (505) 869-5923; E-mail: n/a.

J

Pueblo of Jemez, Annette Chinana, Jemez Social Service Program-Child Advocate, P.O. Box 340, Jemez Pueblo, NM 87024; Phone: (575) 834-7117; Fax: (575) 834-7103; E-mail: Annette.chinana@jemezpueblo.us.

Jicarilla Apache Nation, Monica L. Carrasco, Director, P.O. Box 546 Dulce, NM 87528; Phone: (575) 759-3162; Fax: (575) 759-3588; E-mail: mcarrasco@jbhd.org.

L

Pueblo of Laguna, Marie A. Alarid, Program Manager and Rebecca Quam, Social Services Specialist II (back-up), P.O. Box 194, Laguna, NM 87026; Phone: (505) 552-9712 Fax: (505) 552-6484; E-mail: malarid@lagunatribe.org; rquam@launatribe.org.

M

Mescalero Apache Tribe, Crystal Garcia, Tribal Census Clerk, P.O. Box 227 Mescalero, NM 88340; Phone (575) 464-9209; Fax: (575) 464-9191; E-mail: cgarcia@matisp.net.

N

Pueblo of Nambe, Rhonda Padilla, ICWA Manager, Rte 1, Box 117-BB, Santa Fe, NM 87506; Phone (505) 0133; Fax (505) 455-4457; E-mail: rpadilla@nambepueblo.org.

O

Ohkay Owingeh, Rochelle Thompson, ICWA Director, P.O. Box 1187, Ohkay Owingeh, NM 87566; Phone (575) 770-0033; Fax: (505) 852-1372; E-mail: Rochelle_thompson@ohkayowingeh-nsn.gov.

P

Pueblo of Picuris, Jeanette Knowles, ICWA Coordinator, P.O. Box 127, Penasco, NM 87553; Phone (575) 587-2792; Fax (575) 587-1071; E-mail: n/a.

Pueblo of Pojoaque, Jackie Wright, ICWA Case Manager, 58 Cities of Gold Rd. Suite 4, Santa Fe; NM 87506; Phone: (505) 455-0238; Fax: (505) 455-2363; E-mail: jwright@puebloofpojoaque.org.

R

Ramah Navajo School Board, Inc., Marlene Martinez, Administrative Services Director, P.O. Box 10, Pine Hill, NM 87357; Phone (505) 775-3256; Fax: (505) 775-3240; E-mail: marlene@rnsb.k12.nm.us.

S

Pueblo of San Felipe, Darlene Valencia, MSW, Family Services Department Director, P.O. Box 4350, San Felipe Pueblo, NM 87004; Phone (505) 771-9900 Ext: 1150; Fax: (505) 867-6166; E-mail: dvalencia@sfpueblo.com.

Pueblo of San Ildelfonso, William S.Christian, Contracts Administrator, Route 5, P.O. Box 315-A, Santa Fe, NM 87506; Phone (505) 455-2273, ext. 107; Fax: (505) 455-7351; E-mail: n/a.

Pueblo of Sandia, Marina Estrada, Behavioral Health & Social Services Manager, 481 Sandia Loop, Bernalillo, NM 87004; Phone: (505) 771-5131; Fax: (505) 867-4997; E-mail: mestrada@sandiapueblo.nsn.us.

Pueblo of Santa Ana, Jane Jackson-Bear, Social Services Director, 02 Dove Road Santa Ana Pueblo, NM 87004; Phone: (505) 771-6737; Fax:(505) 771-7056; E-mail: jjbear@santaana-nsn.gov.

Santa Clara, Joe Naranjo, Tribal Administrator, P.O. Box 580, Espanola, NM 87532; Phone: (505) 753-7326; Fax: (505) 753-8819; E-mail: n/a.

Santo Domingo-Kewa, Arthur Lucero, ICWA Worker/Doris Bailon, Director, P.O. Box 129, Santo Domingo, NM 87052; Phone: (505) 465-0630; Fax (505) 465-2854; E-mail: Arthurlucero@kewa-nsn.gov or dbailon@kewa-nsn.gov.

Southern Ute Indian Tribe, Jerri Sindelar, ICWA Caseworker II and Peg Rogers, ICWA Case Attorney, MS 40 P.O. Box 737, Ignacio, CO. 81137; Phone (970) 769-2920/(970) 563-4738; Fax (970) 563-0334; E-mail: jsindelar@southern-ute.nsn.us.

T

Pueblo of Taos, Maxine Nakai, Division Director Pueblo of Taos, P.O. Box 1846, Taos, NM 87571; Phone: (575) 758-7824; Fax: (575) 758-3346; Fax: (575) 751-3345; E-mail: n/a.

Pueblo of Tesuque, Niccole Toral, Director, Route 42, Box 360-TP, Santa Fe, NM 87506; Phone: (505) 690-8152; Fax: (505) 955-7791; E-mail: ntoral@pueblooftesuque.org.

U

Ute Mountain Ute Tribe, Cole McKinney, Acting Director CPS/CW, P.O. Box 309, Towaoc, CO, 81334; Phone: (970) 564-5307; Fax: (970) 564-5300; E-mail: cmckinney@utemountain.org.

Y

Ysleta del Sur Pueblo, Sonia Ruedas, Social Services Eligibility Worker, 9314 Juanchido Ln., El Paso, TX 79907; Phone: (915) 860-6119; Fax: (915) 858-2367; E-mail: sruedas@ydsp-nsn.gov.

Z

Pueblo of Zia, Pueblo of Zia, Governor's Office,135 Capital Square Drive, Zia Pueblo, NM 87053; Phone: (505) 867-3304 ext. 241; Fax: (505) 867-3308; E-mail: n/a.

Pueblo of Zuni, Harley Soseesh, Intake Technician, P.O. Box 339, Zuni, NM 87327; Phone: (505) 782-7169; Fax: (505) 782-7221; E-mail: hsosee@ashiwi.org.

12. Western Region

Regional Director, 2600 N. Central Ave. 13th Floor, Phoenix, Arizona 85004; Telephone: (602) 379-6600; Fax: (602) 379-4413; E-mail: n/a.

Marjorie Eagleman, Regional Social Worker, 2600 N.Central Ave. 13th Floor, Phoenix, Arizona 85004; Telephone: (602) 379-6785; Fax: (602) 379-3010; E-mail: n/a.

A

Ak-Chin Indian Community, Joanna Parris, MBA, MAPC., M. Ed., LISAC, Acting Director of Social Services 48227 West Farrell Road, Maricopa, Arizona 85239; Telephone: (520) 568-1086; Fax: (520) 568-1096; E-mail: jparris@ak-chin.nsn.us.

B

Battle Mountain Band Council, Rhonda Hicks, ICWA Coordinator, 37 Mountain View Drive, Battle Mountain, Nevada 89820; Telephone: (775) 635-9189 Ext: 109; Fax: (775) 635-8528; E-mail: n/a.

C

Chemehuevi Indian Tribe, James L. Graves, PhD, Director of Health and Human Services, 1970 Palo Verde Drive, Suite 1, Havasu Lake, California 92363; Telephone: (760) 858-5426; Fax: (760) 858-5428; E-mail: n/a.

Cocopah Indian Tribe, Efrain Rodriguez, Social Services Director, Co. 15 and Ave. G, Somerton, Arizona 85350; Telephone: (928) 627-3729; Fax: (928) 627-3316; E-mail: cocosocser@cocopah.com

Colorado River Indian Tribes, Norma Gonzales, Foster Care Coordinator/Case Manager, 12302 Kennedy Drive, Parker, Arizona 85344; Telephone: (928) 669-8187; Fax: (928) 669-8881; E-mail: norma.gonzales@critdhs.org.

D

Duckwater Shoshone Tribe, Thelma R. Simon, Social Worker IV, LADC, P.O. Box 140068, Duckwater, Nevada 89314; Telephone: (775) 863-0222; Fax: (775) 863-0301; E-mail: n/a.

E

Elko Band Council (AKA: Te Moak), Marlene Dick, ICWA Coordinator/Acting Social Worker; 1745 Silver Eagle Dr., Elko, Nevada 89801; Telephone: (775) 738-9310; Fax: (775) 778-3397; E-mail: n/a.

Ely Shoshone Tribe, Rae Jean Morrill, Social Services Worker II, #16 Shoshone Circle, Ely, Nevada 89301; Telephone: (775) 289-4133; Fax: (775) 289-3237; E-mail: n/a.

F

Fallon Paiute Shoshone Tribe, Alvin Moyle, Chairman Fallon Business Council and Youth and Family Services, 565 Rio Vista Drive, Fallon, Nevada 89406; Telephone: (775) 423-1215; Fax: (775) 423-5202; E-mail: n/a.

Ft. McDermitt Paiute-Shoshone Tribe, Dee Crutcher, ICWA Advocate-Human Services Program, P.O. Box 68, McDermitt, Nevada 89421; Telephone: (775) 532-8263; Fax: (775) 532-8060; E-mail: n/a.

Fort McDowell Yavapai Nation, James Esquirell, Wassaja Family Services CPS/ICWA Coordinator, P.O. Box 17779, Fountain Hills, Arizona 85268; Telephone: (480) 789-7820; Fax: (480) 837-4809; E-mail: jesquirell@ftmcdowell.org.

Fort Mojave Indian Tribe, Melvin Lewis Sr., Director, 500 Merriman Avenue, Needles, California 92363; Telephone: (928) 346-1550 or 866-346-6010; Fax: (928) 346-1552; E-mail: ssdir@ftmojave.com.

G

Gila River Indian Community, Lynda Murden-Sells, Deputy/Acting Director P.O. Box 427 Sacaton, Arizona 85147; Telephone: (520) 562-3396; Fax: (520) 562-3633; E-mail: Lynda.murden@gric.nsn.us.

Confederated Tribes of the Goshute Reservation, Melissa Oppenhein, ICWA Worker, P.O. Box 6104, Ibapah, Utah 84034; Telephone: (435) 234-1178; Fax: (435) 234-1162; E-mail: melissaoppenhein@goshutetribe.com.

H

Havasupai Tribe, Attention: Phyllis Jones, ICWA Coordinator, P.O. Box 10, Supai, Arizona 86435; Telephone: (928) 448-2731; Fax: (928) 448-2143; E-mail: n/a.

The Hopi Tribe, Loren Sekayumptewa, MSW, Ph.D. (ABD), Director of Social & Behavioral Health Services, P.O. Box 68 Second Mesa, Arizona 86043; Telephone: (928) 737-2685; Fax: (928) 737-2667; E-mail: n/a.

Hualapai Tribe, Carrie Imus, Director, Hualapai Human Services, P.O. Box 480, Peach Springs, Arizona 86434; Telephone: (928) 769-2383 or 2269; Fax: (928) 769-2659; E-mail: n/a.

K

Kaibab Band of Paiute Indians, Wendy Reber, Social Services Worker; Lisa Stanfield Assistant; Lorraine Benn, Enrollment, HC 65 Box 2, Fredonia, Arizona 86022; Telephone: (928) 643-8320 (Wendy) (928) 643-8336 (Lisa), and (928) 643-8321 (Lorraine); Fax: (928) 643-7245; E-mail: wreber@kaibabpaiute-nsn.gov; lstanfield@kaibabpaiute-nsn.gov; lbenn@kaibabpaiute-nsn.gov.

L

Las Vegas Paiute Tribe, Ruth Fite-Patrick, Social Service Caseworker, 1257 Paiute Circle, Las Vegas, Nevada 89106; Telephone: (702) 382-0784 Ext: 2236; Fax: (702) 384-5272; E-mail: rfitepatrick@lvpaiute.com.

Lovelock Paiute Tribe, Bebbie George, ICWA Worker or Samualla L. Pry, MSW ICWA Supervisor, P.O. Box 878 & 201 Bowean Street, Lovelock, Nevada 89419; Telephone: (775) 273-7861; Fax: (775) 273-5151; E-mail: n/a.

M

Moapa Band of Paiutes, Dawn M. Bruce, Social Services Director, P.O. Box 340, Moapa, Nevada 89025; Telephone: (702) 371-3685; Fax: (702) 864-0408; E-mail: dawn702@mvdsl.com.

P

Paiute Indian Tribe of Utah, Tyler Goddard, Executive Director, Behavioral Care Department, 440 North Paiute Drive, Cedar City, Utah 84721; Telephone: (435) 586-1112 Ext: 310; Fax: (435) 586-7388; E-mail: tyler.goddard@ihs.gov.

Pascua Yaqui Tribe, Tamara Walters, Asst. Attorney General, 4725 West Calle Tetakusim, Bldg. B, Tucson, Arizona 85757; Telephone: (520) 883-5108; Fax: (520) 883-5084; E-mail: tamara.walters@pascuayaqui-nsn.gov.

Pyramid Lake Paiute Tribe, Chairperson, P.O. Box 256, Nixon, Nevada 89424; Telephone: (775) 574-1000; E-mail: n/a.

Q

Quechan Tribal Council, Mike Jackson, President, P.O. Box 1899, Yuma, Arizona 85366-1899; Telephone: (760) 572-0213; Fax: (760) 572-2102; E-mail: n/a.

R

Reno-Sparks Indian Colony, Jane Smith, Human Srvices Assistant, 405 Golden Lane, Reno, Nevada 89502; Telephone: (775) 329-5071; Fax: (775) 785-8758; E-mail: jsmith@rsic.org.

S

Salt River Pima-Maricopa Indian Community, Chenita Dix, Social Services Manager/ICWA Supervisor, 10,005 East Osborn Road, Scottsdale, Arizona 85256; Telephone: (480) 362-7357; Fax: (480) 362-5574; E-mail: chenita.dix@SRPMIC-nsn.gov.

San Carlos Apache Tribe, Aaron Begay, ICWA Coordinator, P.O. Box 0 San Carlos, Arizona 85550; Telephone: (928) 475-2313; Fax: (928) 475-2342; E-mail: abegay09@tss.scat-nsn.gov.

San Juan Southern Paiute Tribe, Gwendolyn Adakai, Social Worker, P.O. Box 720, St. George, Utah 84771; Telephone: (435) 674-9720; Fax: (435) 674-9714; E-mail: Gwendolyn.adakai@bia.gov.

Shoshone-Paiute Tribes (Nevada), Carol Jones, Assistant Administrator, P.O. Box 219, Owyhee, Nevada 89832; Telephone: (208) 759-3100; Fax: (208) 759-3104; E-mail: jones.carol@shopai.org.

Skull Valley Band of Goshute Indians, Lori Bear, Chairwoman, P.O. Box 448 Grantsville, Utah 84029; Telephone: (435) 882-4532; Fax: (435) 882-4889; E-mail: ibear@svgoshutes.com.

South Fork Band Council, Karen McDade, Director—Human Services, 21 Lee B-13, Spring Creek, Nevada 89815; Telephone: (775) 744-2412; Fax: (775) 744-2306; E-mail: n/a.

Summit Lake Paiute Tribe, Ron Johnny, Acting Administrator, 1708 H Street, Sparks, Nevada 89431; Telephone: (775) 827-9670; Fax: (775) 827-9678; E-mail: ron.johnny@summitlaketribe.org.

T

Te-Moak Tribe of Western Shoshone Indians (See Elko Band Council).

Tohono O'odham Nation, Jonathan L. Jantzen, Office of Attorney General, P.O. Box 830, Sells, Arizona 85634; Telephone: (520) 383-3410; Fax: (520) 383-2689; E-mail: jonathan.jantzen@tonation-nsn.gov.

Tonto Apache Tribe, Lyndsie Butler, Social Services Director, Tonto Apache Reservation # 30, Payson, Arizona 85541; Telephone: (928) 474-5000, Fax: (928) 474-9125; E-mail: lbutler@tontoapache.org.

U

Ute Indian Tribe, Floyd M. Wyasket, Social Service Director, Box 190 or 736, Fort Duchesne, Utah 84026; Telephone: (435) 725-4026 or (435) 823-0141; Fax: (435) 722-5030; E-mail: floydw@utetribe.com.

W

Walker River Paiute Tribe, Elliott Aguilar, ICWA Specialist, P.O. Box 146, Schurz, Nevada 89427; Telephone: (775) 773-2058 Ext: 11; Fax: (775) 773-2096; E-mail: n/a.

Washoe Tribe of Nevada and California, Paula White, Social Services Director, 919 Hwy. 395 South, Gardnerville, Nevada 89410; Telephone: (775) 265-7024; Fax: (775) 265-4593; E-mail: n/a.

Wells Band Council, Paula Salazar, Chairwoman, P.O. Box 809, Wells, Nevada 89835; Telephone: (775) 752-3045; Fax: (775) 752-2179; E-mail: n/a.

White Mountain Apache Tribe, Mariella Dosela, ICWA Representative, P.O. Box 1870 Whiteriver, Arizona 85941; Telephone: (928) 338-4164, Fax: (928) 338-1469; E-mail: mdosela@wmat.us.

Winnemucca Tribe, Chairman, P.O. Box 1370, Winnemucca, Nevada 89446; E-mail: n/a.

Y

Yavapai-Apache Nation, Nancy B. Guzman, ICWA Coordinator, 2400 Datsi Road, Camp Verde, Arizona 86322; Telephone: (928) 649-7115; Fax: (928) 567-6832; E-mail: nguzman@yan-tribe.org.

Yavapai-Prescott Indian Tribe, Elsie Watchman, Family Support Supervisor, 530 East Merritt, Prescott, Arizona 86301; Telephone: (928) 515-7351; Fax: (928) 541-7945; E-mail: ewatchman@ypit.com.

Yerington Paiute Tribe, Rose Mary Joe-Kinale, Human Services Director, 171 Campbell Lane Yerington, Nevada 89447; Telephone: (775) 463-7705; Fax: (775) 463-5929; E-mail: humanservices@ypt-nsn.gov.

Yomba Shoshone Tribe, Elisha A. Mockerman, Eligibility Worker, HC 61 Box 6275 Austin, Nevada 89310; Telephone: (775) 964-2463 Ext: 107; Fax: (775) 964-1352; E-mail: emockerman@yombatribe.org.

B. List of Designated Tribal Agents By Tribal Affiliation

1. Tribes Other Than Alaska Native Tribes and Villages

Alabama-Quassarte (see Creek)

Alabama-Quassarte Tribal Town, Annie Merritt, ICWA Director, P.O. Box 187, 101 E. Broadway, Wetumka, Oklahoma 74883, Phone: (405) 452-3881, Fax: (405) 452-3889, E-mail: n/a, Eastern Oklahoma Region

Apache

Apache Tribe Of Oklahoma, Teresa Taylor, ICW Director, P.O. Box 1330, Anadarko, Oklahoma 73005, Phone: (405) 247-9857, Fax: (405) 247-3153, E-mail: n/a, Southern Plains Region

Apache (see Chiricahua)

Fort Sill Apache Tribe of Oklahoma, Ramona Austin, ICW Director, Route 2, Box 121, Apache, Oklahoma 73006, Phone: (580) 588-2298, Fax: (580) 588-2106, E-mail: n/a, Southern Plains Region

Apache

Jicarilla Apache Nation, Monica L. Carrasco, Director, P.O. Box 546, Dulce, New Mexico 87528, Phone: (505) 759-3162, Fax: (505) 759-3588, E-mail: mcarrasco@jbhd.org, Southwest Region

Mescalero Apache Tribe, Crystal Garcia, Tribal Census Clerk, P.O. Box 227, Mescalero, New Mexico 88340, Phone: (575) 464-9209, Fax: (575) 464-9191, E-mail: cgarcia@matisp.net, Southwest Region

San Carlos Apache Tribe, Aaron Begay, ICWA Coordinator, P.O. Box 0, San Carlos, Arizona 85550, Phone: (928) 475-2313, Fax: (928) 475-2342, E-mail: abegay09@tss.scat-nsn.gov, Western Region

Tonto Apache Tribe of Arizona, Lyndsie Butler, Social Services Director, Tonto Apache Reservation #30, Payson, Arizona 85541, Phone: (928) 474-5000, Fax: (928) 474-9125, E-mail: lbutler@tontoapache.org, Western Region

White Mountain Apache Tribe, Mariella Dosela, ICWA Representative, P.O. Box 1870, Whiteriver, Arizona 85941, Phone: (928) 338-4164, Fax: (928) 338-1469, E-mail: mdosela@wmat.us, Western Region

Apache (see Yavapai)

Yavapai-Apache Nation, Nancy B. Guzman, ICWA Coordinator, 2400 Datsi Road, Camp Verde, Arizona 86322, Phone: (928) 649-7115, Fax: (928) 567-6832, E-mail: nguzman@yan-tribe.org, Western Region

Arapahoe

Northern Arapahoe Tribe of the Wind River Reservation, Chairman, P.O. Box 396, Fort Washakie, Wyoming 82514, Phone: (406) 332-6120, Fax: (406) 332-7543, E-mail: n/a, Rocky Mountain Region

Arapaho (see Cheyenne)

Cheyenne-Arapaho Tribes of Oklahoma, Mary Davenport, Executive Director, Michael Scott Burgett, ICW Coordinator, P.O. Box 38, Concho, Oklahoma 73022, Telephone: (405) 422-7476/(405) 201-3188, Fax: (405) 422-8218 or (405) 422-3164, E-mail: mdavenport@c-a-tribes.org; mburgett@c-a-tribes.org, Southern Plains Region

Arikara (see Three Affiliated Tribes/Hidatsa/Mandan)

Three Affiliated Tribes, (Mandan, Arikara & Hidatsa), Katherine Felix, ICWA Specialist, 404 Frontage Road, New Town, North Dakota 58763, Phone: (701) 627-4781, Fax: (701) 627-5550, E-mail: kfelix@mhanation.com, Great Plains Region

Assiniboine (see Gros Ventre)

Fort Belknap Indian Community, Assiniboine & Gros Ventre Tribes, Myron L. Trottier, ICWA Case Manager, 158 Tribal Way, Fort Belknap Agency, Harlem, Montana 59526, Phone: (406) 353-8328, Fax: (406) 353-4634, E-mail: mtrottier@ftbelknap-nsn.gov, Rocky Mountain Region

Assiniboine (see Sioux)

Assiniboine and Sioux Tribes, Chairman, Fort Peck Indian Reservation, P.O. Box 1027, Popular, Montana 59255, Phone: (406) 768-5155, E-mail: n/a, Rocky Mountain Region

Blackfeet

Blackfeet Tribe of Montana, Raquel Vaile, Indian Child Welfare Act (ICWA) Coordinator, P.O. Box 588, Browning, Montana 59417, Phone: (406) 338-7806, Cell: (406) 470-0026, Fax: (406) 338-7726, E-mail: n/a, Rocky Mountain Region

Caddo

Caddo Nation of Oklahoma, Mary Prentiss, ICW Caseworker, P.O. Box 487, Binger, Oklahoma 73009, Phone: (405) 656-9222, Fax: (405) 656-9237, E-mail: mprentiss@caddonation.com, Southern Plains Region

Cahuilla

Agua Caliente Band of Cahuilla Indians, Michelle A. Carr, Esq., Attorney, 5401 Dinah Shore Drive, Palm Springs, California 92264, Phone: (760) 699-6862, Fax: (760) 699-6863, E-mail: mcarr@aguacaliente.net, Pacific Region

Cahuilla (see Mission)

Augustine Band of Cahuilla Indians, Mary Armgreen, Chairperson, P.O. Box 846, Coachella, California 92236, Phone: (760) 398-4722, E-mail: n/a, Pacific Region

Cabazon Band of Mission Indians, Chairman, 84-245 Indio Springs Drive, Indio, California 92201, Phone: (760) 342-2593, E-mail: n/a, Pacific Region

Cahuilla Band of Mission Indians, Executive Director, Indian Child & Family Services, P.O. Box 2269, Temecula, California 92590, Phone: (951) 676-8832, E-mail: n/a, Pacific Region

Cahuilla (see Mission/Cupeno)

Los Coyotes Band of Cahuilla & Cupeno Indians, Tribal Family Services, Manager, Indian Health Council, Inc., P.O. Box 406, Pauma Valley, California 92061, Phone: (760) 749-1410, E-mail: n/a, Pacific Region

Cahuilla (see Mission)

Morongo Band of Cahuilla Mission Indians, Duke Steppe, Social Worker, 11581 Potrero Road, Banning, California 92220, Phone: (951) 849-4697, E-mail: n/a, Pacific Region

Ramona Band or Village of Cahuilla, Susan Reckker, Tribal Administrator, P.O. Box 391670, Anza, California 92539, Phone: (951) 763-4105, Fax: (951) 763-4325, E-mail: sreckker@ramonatribe.com, Pacific Region

Santa Rosa Band of Cahuilla Indians, Mayme Estrada, Chair, P.O. Box 609, Hemet, California 92546, Phone: (951) 658-5311, Fax: (951) 658-6733, E-mail: n/a, Pacific Region

Soboba Band of Luiseno Indians, Tribal Social Worker, Soboba Social Services Department, P.O. Box 487, San Jacinto, California 92581, Phone: (707) 463-2644, Fax: (707) 487-1738, E-mail: n/a, Pacific Region

Cahuilla

Torres Martinez Desert Cahuilla Indians, Annette Chihuahua, ICWA Case Assistant/Tribal Delegate TMDCI, 66-725 Martinez Rd., Thermal, California 92274, Phone: (760) 578-8334, Phone: (760) 397-0455 Ext: 1101, Fax: (760) 397-3925, E-mail: achihuahua@tmdci.org, Pacific Region

Catawba

Catawba Indian Nation, Jud Christensen, ICWA Representative, Aliceson McCormick, Director Social Services, 996 Avenue of Nations, Rock Hill, South Carolina 29730, Phone: (803) 366-4792, Fax: (803) 325-1242, E-mail: jud.christensen@catawbaindian.net, Aliceson.mccormick@catawbaindian.net, Eastern Region

Cayuga (see Iroquois/Seneca)

Cayuga Nation of New York, Anita Thompson, Assistant Administration, P.O. Box 803, Versailles, New York 14168, Phone: (315) 568-0750, Fax: (315) 568-0752, E-mail: anita.thompson@cayuganation-nsn.gov, Eastern Region

Cayuga (see Seneca)

Seneca-Cayuga Tribe of Oklahoma, Darold Wofford, Director of Family Services, 23701 South 655 Road, Grove, Oklahoma 74344, Phone: (918) 787-5452, Fax: (918) 786-5713, E-mail: dwofford@sctribe.com, Eastern Oklahoma Region

Chehalis

Confederated Tribes of the Chehalis Reservation, Tracy Bray, Family Services Director, 420 Howanut Road, Oakville, Washington 98568, Phone: (360) 709-1871, Fax: (360) 273-5207, E-mail: tbray@chehalistribe.org, Northwest Region

Chemehuevi

Chemehuevi Indian Tribe, James L. Graves, PhD, Director of Health and Human Services, 1970 Palo Verde Drive, Suite 1, Havasu Lake, California 92363, Phone: (760) 858-5426, Fax: (760) 858-5428, E-mail: n/a, Western Region

Chemehuevi (see Colorado River/Hopi/Mojave/Navajo)

Colorado River Indian Tribes, Norma Gonzales, Foster Care Coordinator/Case Manager, 12302 Kennedy Drive, Parker, Arizona 85344, Phone: (928) 669-8187, Fax: (928) 669-8881, E-mail: norma.gonzales@critdhs.org, Western Region

Chemehuevi (see Luiseno/Mission)

Twenty-Nine Palms Band of Mission Indians, Executive Director, Indian Child & Family Services, P.O. Box 2269, Temecula, California 92590, Phone: (951) 676-8832, Fax: (951) 676-3950, E-mail: n/a, Pacific Region

Cherokee

Cherokee Nation of Oklahoma, Linda Woodward, Director, Children & Family Services, P.O. Box 948, Tahlequah, Oklahoma 74465, Phone: (918) 458-6900, Fax: (918) 458-6146, E-mail: lwoodward@cherokee.org, Eastern Oklahoma Region

Eastern Band of Cherokee Indians, Barbara Jones, Program Manager, Family Support Services, 508 Goose Creek Road, P.O. Box 507, Cherokee, North Carolina 28719, Phone: (828) 497-6092, Fax: (828) 497-3322, E-mail: barbjone@nc-cherokee.com, Eastern Region

United Keetoowah Band of Cherokee Indians in Oklahoma, Joyce Fourkiller-Hawk, P.O. Box 746, Tahlequah, Oklahoma 74465, Phone: (918) 431-1818, Fax: (918) 453-9345, E-mail: jfourkiller@unitedkeetoowahband.org, Eastern Oklahoma Region

Cheyenne

Northern Cheyenne, Leroy A. Spang, President, P.O. Box 128, Lame Deer, Montana 59043, Phone: (406) 477-4846, Fax: (406) 477-6210, E-mail: leroy.spang@cheyennenation.com, Rocky Mountain Region

Cheyenne (see Arapaho)

Cheyenne-Arapaho Tribes of Oklahoma, Mary Davenport, Executive Director, Michael Scott Burgett, ICW Coordinator, P.O. Box 38, Concho, Oklahoma 73022, Telephone: (405) 422-7476/(405) 201-3188, Fax: (405) 422-8218 or (405) 422-3164, E-mail: mdavenport@c-a-tribes.org;, mburgett@c-a-tribes.org, Southern Plains Region

Chickasaw

The Chickasaw Nation, Bill Anoatubby, Governor, P.O. Box 1548, Ada, Oklahoma 74821-1548, Phone: (580) 436-7216, Fax: (580) 436-4287, E-mail: jay.keel@chickasaw.net, Eastern Oklahoma Region

Chitimacha

Chitimacha Tribe of Louisiana, Karen Matthews, Social Services Director, P.O. Box 520, Charenton, Louisiana 70523, Phone: (337) 923-7000, Fax: (337) 923-2475, E-mail: Karen@chitimacha.gov, Eastern Region

Chippewa (see Ojibwe)

Bad River Band of Lake Superior Chippewa, Esie Leoso-Corbine, ICWA Director, P.O. Box 55, Odanah, Wisconsin 54861, Phone: (715) 682-7135 Ext: 1414, Fax: (715) 685-7888, E-mail: bricw@badriver-nsn.gov, Midwest Region

Chippewa

Bay Mills Indian Community, Phyllis Kinney, Tribal Court Administrator, 12140 W. Lakeshore Dr., Brimley, MI 49715, Phone: (906) 248-3241, Fax: (906) 248-5817, E-MAIL pHyllisk@Baymills.Org, Midwest Region

Bois Fort Band, Angela Wright, Indian Child Welfare Supervisor, 13071 Nett Lake Road, Suite A, Nett Lake, Minnesota 55771, Phone: (218) 757-3476 or (218) 757-3916, Fax: (218) 757-3335, E-mail: amwright@boisforte.nsn.gov, Midwest Region

Chippewa (see Cree)

Chippewa Cree Tribe of the Rocky Boy's Reservation of Montana, Tribal Chairman, Rural Route 1, P.O. Box 544, Box Elder, Montana 59521, Phone: (406) 395-5705, Fax: (406) 395-5702, E-mail: n/a, Rocky Mountain Region

CHIPPEWA

Fond du Lac Band of Lake Superior Chippewa, Karen Diver, Chairwoman, 1720 Big Lake Road, Cloquet, Minnesota 55720, Phone: (218) 879-4593, Fax: (218) 878-2189, E-mail: karendiver@fdlrez.com, Midwest Region

Grand Portage Reservation, Patti Foley, Social Worker, P.O. Box 428, Grand Portage, Minnesota 55605, Phone: (218) 475-2169, Fax: (218) 475-2455, E-mail: pfoley@grandportage.com, Midwest Region

Chippewa (see Ottawa/Peshawbestown)

Grand Traverse Band of Ottawa and Chippewa Indians, Helen Cook, Anishinaabek Family Services Supervisor, 2605 N. West Bay Shore Drive, Peshawbestown, Michigan 49682-9275, Phone: (231) 534-7681, Fax: (231) 534-7706, E-mail: helen.cook@gtbindians.com, Midwest Region

Chippewa (see Keweenaw)

Keweenaw Bay Indian Community, Judy Heath, Social Service Director, 16429 Beartown Road, Baraga, Michigan 49908, Phone: (906) 353-4201, Fax: (906) 353-8171, E-mail: judy@kbic-nsn.gov, Midwest Region

Chippewa

Lac Courte Oreilles, LuAnn Kolumbus, Director of Indian Child Welfare, 13394 W. Trepania Road, Hayward, Wisconsin 54843, Phone: (715) 634-8934, Fax: (715) 634-2981, E-mail: n/a, Midwest Region

Lac du Flambeau, Kristin Allen, ICW Director, P.O. Box 189, Lac du Flambeau, Wisconsin 54538, Phone: (715) 588-1511, Fax: (715) 588-3903, E-mail: kallen@nnex.net, Midwest Region

Lac Vieux Desert, Dee Dee McGeshick, Social Services Director, P.O. Box 249, Watersmeet, Michigan 49969, Phone: (906) 358-4940, Fax: (906) 358-4900, E-mail: dee.mcgeshick@lvdtribal.com, Midwest Region

Chippewa (see Ojibwe)

Leech Lake Band of Ojibwe, Tammie Finn, Child Welfare Director, 115 Sixth Street NW, Suite E, Cass Lake, Minnesota 56633, Phone: (218) 335-8240, Fax: (218) 335-3779, E-mail: tamie.finn@llojibwe.com, Midwest Region

Mille Lacs Band of Ojibwe, Ryan Champagne, Director of Family Services, MilleLacs Band Government Center, 43408 Oodena Drive, Onamia, Minnesota 56359, Phone: (320) 532-7776 Ext: 7762, Fax: (320) 532-7583, E-mail: ryan.champagne@millelacsband.com, Midwest Region

Chippewa

Minnesota Chippewa Tribe, Linda Johnson, Human Services Director, (Includes Six Component Reservations:, Bois Forte Band, Fond Du Lac band; Grand Portage Band; Leech Lake Band; Mille Lacs Band; White Earth Band), Adrienne Adkins, Human Services Director, P.O. Box 217, Cass Lake, Minnesota 56633, Phone: (218) 335-8585, Fax: (218) 335-8080, E-mail: ljohnston@mnchippewatribe.org, Midwest Region

Red Cliff Band of, Lake Superior Chippewa, Susan Crazy Thunder, Director, Indian Child Welfare Dept., 88385 Pike Road, Highway 13, Bayfield, Wisconsin 54814, Phone: (715) 779-3747, Fax: (715) 779-3783, E-mail: susie.crazythunder@redcliff-nsn.gov, Midwest Region

Red Lake Band of Chippewa Indians, Sheila Stately, ICWA Advocate, Box 427, Red Lake, Minnesota 56671, Phone: (218) 679-2122, Fax: (218) 679-2929, E-mail: n/a, Midwest Region

Saginaw Chippewa Indian Tribe of Michigan, Kimberly Crampton, Director, 7070 East Broadway, Mt. Pleasant, MI 48858, Phone: (989) 775-4909, Fax: (989) 775-4912, E-mail: kcrampton@sagchip.org, Midwest Region

Chippewa (see Ojibwe)

St. Croix Tribe of Wisconsin, Donna Churchill, Director, 24663 Angeline Avenue, Webster, Wisconsin 54893, Phone: (715) 349-2195, Fax: (715) 349-8665, E-mail: donnac@stcroixtribalcenter.com, Midwest Region

Chippewa

Sault Ste. Marie Tribe of Chippewa Indians, Juanita Bye, ACFS Division Director, 2218 Shunk Rd., Sault Ste Marie, Michigan 49783, Phone: (906) 632-5250, Fax: (906) 632-5266, E-mail: jbye@saulttribe.net, Midwest Region

Sokaogon Chippewa Community of Wisconsin, Angela Ring, ICWA Director, 10808 Sokaogon Drive, Crandon, Wisconsin 54520, Phone: (715) 478-2520, Fax: (715) 478-7623, E-mail: angelaring@sokaogonchippewa.com, Midwest Region

Turtle Mountain Band of Chippewa Indians, Marilyn Poitra, ICWA Coordinator, Child Welfare and Family Services, P.O. Box 900, Belcourt, North Dakota 58316, Phone: (701) 477-5688, Fax: (701) 477-5797, E-mail: mpoitra@tmcwfs.net, Great Plains Region

White Earth Reservation Business Committee, Jeri Jasken, ICWA Coordinator, P.O. Box 358, White Earth, Minnesota 56591, Phone: (218) 983-4647, Fax: (218) 983-3712, E-mail: jeri@whiteearth.com, Midwest Region, Midwest Region

Chiricahua (see Apache)

Fort Sill Apache Tribe of Oklahoma, Ramona Austin, ICW Director, Route 2, Box 121, Apache, Oklahoma 73006, Phone: (580) 588-2298, Fax: (580) 588-2106, E-mail: n/a, Southern Plains Region

Choctaw

Choctaw Nation of Oklahoma, Billy Stephens, Senior Director, P.O. Box 1210, Durant, Oklahoma 74701, Phone: (580) 924-8280, Fax: (580) 920-3197, E-mail: bstephens@choctawnation.com, Eastern Oklahoma Region

Jena Band of Choctaw Indians, Mona Maxwell, Social Services Director, P.O. Box 14, Jena, Louisiana 71342, Phone: (318) 992-0136, Cell: (318) 419-8432, Fax: (318) 992-4162, E-mail: n/a, Eastern Region

Mississippi Band of Choctaw Indians, Kirsten L. Clegg, Child Welfare Supervisor, Department of Family & Community Services, Children & Family Services Program, P.O. Box 6050, Choctaw, Mississippi 39350, Phone: (601) 650-1741, Fax: (601) 656-8817, E-mail: kclegg@choctaw.org, Eastern Region

Chukchansi

Picayune Rancheria of the Chukchansi Indians, Orianna Walker, ICWA Coordinator, 46575 Road 417, Coarsegold, California 93614, Phone: (559) 683-6633 Ext: 212, Fax: (559) 692-8792, E-mail: orianna.walker@chukchansi.net, Pacific Region

Chimash (see Mission)

Santa Ynez Band of Chumash Indians, Caren Romero, Jess Montoya, ICWA Representative, Executive Director, Santa Ynez, California 93460, Phone: (805) 694-2671, Fax: (805) 686-2060, E-mail: cromero@sythc.com, Pacific Region

Cocopah

Cocopah Indian Tribe, Efrain Rodriguez, Social Services Director, County 15 and Ave. G, Somerton, Arizona 85350, Phone: (928) 627-3729, Fax: (928) 627-3316, E-mail: cocosocser@cocopah.com, Western Region

Coeur D'Alene

Coeur D' Alene Tribal Council, Leona M. Flowers, Social Worker Lead, Box 408, Plummer, Idaho 83851, Phone: (208) 686-8106, Fax: (208) 686-4410, E-mail: lflowers@cdatribe-nsn.gov, Northwest Region

Colorado River (see Chemehuevi/Hopi/Mojave/Navajo)

Colorado River Indian Tribes, Norma Gonzales, Foster Care Coordinator/Case Manager, 12302 Kennedy Drive, Parker, Arizona 85344, Phone: (928) 669-8187, Fax: (928) 669-8881, E-mail: norma.gonzales@critdhs.org, Western Region

Colville

Colville Business Council, ICWA, P.O. Box 150, Nespelem, Washington 99155-011, Phone: (509) 634-2200, Fax: (509) 634-2663, E-mail: n/a, Northwest Region

Comanche

Comanche Nation-Oklahoma, Mona Perea, ICW Director, P.O. Box 908, Lawton, Oklahoma 73502, Phone: (580) 492-3347, Fax: (508) 354-3838, E-mail: ramonap@comanchenation.com, Southern Plains Region

Coquille

Coquille Indian Tribe, Bridgett Wheeler, ICWA Worker, 3050 Tremont St., North Bend, Oregon 97459, Phone: (541) 888-9494, Fax: (541) 888-6701, E-mail: bridgett@uci.net, Northwest Region

Coushatta

Alabama-Coushatta Tribe of Texas, Aaron Williams, Social Service Director, 571 State Park Road 56, Livingston, Texas 77351, Telephone: (936) 563-1252, Fax: (936) 563-1254, E-mail: Williams.aaron@actribe.ord, Southern Plains Region

Coushatta Tribe of Louisiana, Milton Hebert, MSW, CADC, CGAC, Social Service Director, 2003 CC Bel Road, Elton, Louisiana 70532, Phone: (337) 584-1439, Fax: (337) 584-1473, E-mail: mhebert@caushattatribela.org, Eastern Region

Cowlitz

Cowlitz Indian Tribe, Carolee Morris, ICWA Director, P.O. Box 2547, Longview, Washington 98632-8594, Phone: (360) 577-8140, Fax: (360) 577-7432, E-mail: n/a, Northwest Region

Cree (see Chippewa)

Chippewa Cree Tribe of the Rocky Boy's Reservation of Montana, Tribal Chairman, Rural Route 1, P.O. Box 544, Box Elder, Montana 59521, Phone: (406) 395-5705, Fax: (406) 395-5702, E-mail: n/a, Rocky Mountain Region

Creek (see Alabama-Quassarte)

Alabama-Quassarte Tribal Town, Annie Merritt, ICWA Director, P.O. Box 187, 101 E. Broadway, Wetumka, Oklahoma 74883, Phone: (405) 452-3881, Fax: (405) 452-3889, E-mail: n/a, Eastern Oklahoma Region

Creek

Kialegee Tribal Town, Augusta Anderson, ICW Director, P.O. Box 332, Wetumka, Oklahoma 74883, Phone: (405) 452-5388, Fax: (405) 452-3413, E-mail: n/a, Eastern Oklahoma Region

The Muscogee (Creek) Nation, Steven Wahnee, ICW Coordinator, P.O. Box 580, Okmulgee, Oklahoma 74447, Phone: (918) 732-7869, Fax: (918) 732-7855, E-mail: swahnee@muscogeenation-nsn.gov, Eastern Oklahoma Region

Poarch Band of Creek Indians, Carolyn M. White, LSW, Director, Martha Gookin, Family Services Coordinator, Department of Family Services, 5811 Jack Springs Road, Atmore, Alabama 36502, Phone: (251) 368-9136 Ext. 2600/2603, Fax: (251) 368-0828, E-mail: cwhite@pci-nsn.gov, mgookin@pci-nsn.gov, Eastern Region

Thlopthlocco Tribal Town, Janet Wise, Manager, P.O. 188, Okemah, Oklahoma 74859, Phone: (918) 560-6130, Fax: (918) 623-3023, E-mail: jwise@tttown.org, Eastern Oklahoma Region

Crow

Crow Tribe, Director of Tribal Social Services, P.O. Box 159, Crow Agency, Montana 59022, Phone: (406) 638-3925, Fax: (406) 638-4042, E-mail: n/a, Rocky Mountain Region

Cupeno (see Cahuilla/Mission)

Los Coyotes Band of Cahuilla & Cupeno Indians, Tribal Family Services, Manager, Indian Health Council, Inc., P.O. Box 406, Pauma Valley, California 92061, Phone: (760) 749-1410, E-mail: n/a, Pacific Region

Delaware (see Lenapi/Munsee)

Delaware Nation, Lydia Ramirez, ICW Director, P.O. Box 825, Anadarko, Oklahoma 73005, Phone: (405) 247-2448 Ext: 1152, Fax: (405) 247-5942, E-mail: lramirez@delawarenation.com, Southern Plains Region

Delaware

Delaware Tribe of Indians, Paula Pechonick, Chief, 170 N.E. Barbar, Bartlesville, OK 74003, Phone: (918) 336-5272, Fax: (918) 337-6591, E-mail: ppechonick@delawaretribe.org, Eastern Oklahoma Region

Diegueno (see Mission)

Barona Band of Mission Indians, Charity White-Voth, Kumeyaay Family Services Director, Southern Indian Health Council, Inc., 4058 Willow Road, Alpine, California 91903, Phone: (619) 445-1188, Fax: (619) 445-0765, E-mail: n/a, Pacific Region

Campo Band of Mission Indians, Charity White-Voth, Kumeyaay Family Services Director, Southern Indian Health Council, Inc., 4058 Willow Road, Alpine, California 91903, Phone: (619) 445-1188, Fax: (619) 445-0765, E-mail: n/a, Pacific Region

Diegueno (see Kumeyaay)

Ewiiaapaayp Band of Kumeyaay Indians, Will Micklin, CEO, Ewiiaapaayp Tribal Government, 4054 Willow Road, Alpine, California 91903, Phone: (619) 445-6315, Fax: (619) 445-9126, E-mail: n/a, Pacific Region

Diegueno (see Mission)

Inaja & Cosmit Band of Mission Indians, Tribal Family Services, Manager, Indian Health Services, Inc., P.O. Box 406, Pauma Valley, California 92061, Phone: (706) 749-1410, E-mail: n/a, Pacific Region

Diegueno (see Kumeyaay)

Jamul Indian Village, Program Director, Kumeyaay Family Services, Southern Indian Health Council, Inc., 4058 Willow Road, Alpine, California 91903, Phone: (619) 445-1188, E-mail: n/a, Pacific Region

Diegueno (see Mission)

La Posta Band of Mission Indians, Charity White-Voth, Kumeyaay Family Services Director, Southern Indian Health Council, Inc., 4058 Willow Road, Alpine, California 91903, Phone: (619) 445-1188, Fax: (619) 445-0765, E-mail: n/a, Pacific Region

Manzanita Band of Mission Indians, Chairperson, P.O. Box 1302, Boulevard, California 91905, Phone: (619) 766-4930, E-mail: n/a, Pacific Region

Mesa Grande Band of Mission Indians, Tribal Family Services, Manager, Indian Health Services, Inc., P.O. Box 406, Pauma Valley, California 92061, Phone: (706) 749-1410, E-mail: n/a, Pacific Region

Rincon Band of Mission Indians, Tribal Family Services, Manager, Indian Health Services, Inc., P.O. Box 406, Pauma Valley, California 92061, Phone: (706) 749-1410, E-mail: n/a, Pacific Region

Diegueno

San Pasqual Band of Diegueno Indians, Tribal Family Services, Manager, Indian Health Services, Inc., P.O. Box 406, Pauma Valley, California 92061, Phone: (706) 749-1410, E-mail: n/a, Pacific Region

Diegueno (see Mission)

Santa Ysabel Band of Mission Indians, Iipay Nation, Linda Ruis, Director, Santa Ysabel Social Services Department, P.O. Box 701, Santa Ysabel, California 92070, Phone: (760) 765-1106, Fax: (760) 765-0312, E-mail: n/a, Pacific Region

Sycuan Band of Mission Indians, Charity White-Voth, Kumeyaay Family Services Director, Southern Indian Health Council, Inc., 4058 Willow Road, Alpine, California 91903, Phone: (619) 445-1188, Fax: (619) 445-0765, E-mail: n/a, Pacific Region

Viejas (Baron Long), Charity White-Voth, Kumeyaay Family Services Director, Southern Indian Health Council, Inc., 4058 Willow Road, Alpine, California 91903, Phone: (619) 445-1188, Fax: (619) 445-0765, E-mail: n/a, Pacific Region

Flathead (see Kootenai/Salish)

Confederated Salish & Kootenai Tribes, Lena Young Running Crane, ICWA Specialist, Box 278, Pablo, Montana 59855, Phone: (406) 675-2700, Fax: (406) 275-2883, E-mail: n/a, Northwest Region

Kootenai

Kootenai Tribal Council, Velma Bahe, ICWA Contact, P.O. Box 1269, Bonners Ferry, ID 83805-1269, Telephone: (208) 267-8451, E-mail: n/a, Northwest Region

Goshute

Goshute Business Council (Nevada and Utah), Melissa Oppenhein, ICWA Worker, Confederated Tribes of the Goshute Reservation, Melissa Oppenhein, ICWA Worker, P.O. Box 6104, Ibapah, Utah 84034, Phone: (435) 234-1178, Fax: (435) 234-1162, E-mail: melissaoppenhein@gashutetribe.com, Western Region

Skull Valley Band of Goshute Indians, Lori Bear, Chairwoman, P.O. Box 448, Grantsville, Utah 84029, Phone: (435) 882-4532, Fax: (435) 882-4889, E-mail: lbear@svgoshutes.com, Western Region

Grand Ronde (see Shasta/Siletz)

Confederated Tribes of the Grande Ronde Community of Oregon, Dana Ainma, ICWA Contact, 9615 Grand Ronde Road, Grand Ronde, Oregon 97347-0038, Phone: (503) 879-2034, Fax: (503) 879-2142, E-mail: n/a, Northwest Region

Gros Ventre (see Assiniboine)

Gros Ventre and Assiniboine, Fort Belknap Indian Community, Assiniboine & Gros Ventre Tribes, Myron L. Trottier, ICWA Case Manager, 158 Tribal Way, Fort Belknap Agency, Harlem, Montana 59526, Phone: (406) 353-8328, Fax: (406) 353-4634, E-mail: mtrottier@ftbelknap-nsn.gov, Rocky Mountain Region

Havasupai

Havasupai Tribe, Attention: Phyllis Jones, ICWA Coordinator, P.O. Box 10, Supai, Arizona 86435, Phone: (928) 448-2731, E-mail: n/a, Western Region

Hidatsa (see Arikara/Mandan/Three Affiliated Tribes)

Three Affiliated Tribes, (Mandan, Arikara & Hidatsa), Katherine Felix, ICWA Specialist, 404 Frontage Road, New Town, North Dakota 58763, Phone: (701) 627-4781, Fax: (701) 627-5550, E-mail: kfelix@mhanation.com, Great Plains Region

Ho-Chunk (see Winnebago)

The Ho-Chunk Nation, Valerie Blackdeer, ICWA Coordinator, P.O. Box 40, Black River Falls, Wisconsin 54615, Phone: (715) 284-9851, Fax: (715) 284-0097, E-mail: valerie.blackdeer@ho-chunk.com, Midwest Region

Hoh

Hoh Indian Tribe, Annette Pen, ICW, P.O. Box 2196, Forks, Washington 98331, Phone: (360) 374-5022, Fax: (360) 374-5039, E-mail: milab@hohtribe-nsn.org, Northwest Region

Hoopa

Hoopa Valley Tribe, Millie Grant, Director—Human Services, P.O. Box 1267, Hoopa, California 95546, Phone: (530) 625-4236 x 19, E-mail: n/a, Pacific Region

Hopi (see Chemehuevi/Mohave/Colorado River/Navajo)

Colorado River Indian Tribes, Norma Gonzales, Foster Care Coordinator/Case Manager, 12302 Kennedy Drive, Parker, Arizona 85344, Phone: (928) 669-8187, Fax: (928) 669-8881, E-mail: norma.gonzales@critdhs.org, Western Region

Hopi

The Hopi Tribe, Loren Sekayumptewa, MSW, PhD (ABD), Director of Social & Behavioral Health Services, P.O. Box 68, Second Mesa, Arizona 86043, Phone: (928) 737-2685, Fax: (928) 737-2667, E-mail: n/a, Western Region

Hualapai

Hualapai Tribe, Carrie Imus, Director, Hualapai Human Services, P.O. Box 480, Peach Springs, Arizona 86434, Phone: (928) 769-2383/2269, Fax: (928) 769-2659, E-mail: cimus@frontiernet.net, Western Region

Huron (see Potawatomi)

Nottawaseppi Huron Band of the Potawatomi, Meg Fairchild, LMSW, CAAC, Clinical Social Worker, 1474 Mno Bmadzewen Way, Fulton, Michigan 49052, Phone: (269) 729-4422, Fax: (269) 729-4460, E-mail: socialwpc@nhbp.org, Midwest Region

Huron (see Wyandotte)

Wyandotte Nation, Kate Randall, Director of Family Services, 64700 E. Hwy 60, Wyandotte, Oklahoma 74370, Phone: (918) 678-2297, Fax: (918) 678-2944, E-mail: krandall@wyandotte-nation.org, Eastern Oklahoma Region

Iowa

Iowa Tribe of Kansas, Chairperson, 3345 B. Thrasher Road, White Cloud, Kansas 66094, Phone: (785) 595-3258, Southern Plains Region

Iowa Tribe of Oklahoma, Janice Rowe-Kurak, Chairman, Route 1, Box 721, Perkins, Oklahoma 74045, (405) 547-2402, (405) 547-1060, Southern Plains Region

Iroquois (see Cayuga/Seneca)

Cayuga Nation of New York, Anita Thompson, Assistant Administration, P.O. Box 803, Versailles, New York 14168, Phone: (315) 568-0750, Fax: (315) 568-0752, E-mail: anita.thompson@cayuganation-nsn.gov, Eastern Region

Iroquois (see Oneida)

Oneida Indian Nation, Kim Jacobs, Nation Clerk, Box 1, Vernon, New York 13476, Phone: (315) 829-8337, Fax: (315) 829-8392, E-mail: kjacobs@oneida.nation.org, Eastern Region

Iroquois (see Onondaga)

Onondaga Nation of New York, Council of Chiefs, P.O. Box 85, Nedrow, New York 13120, Phone: (315) 469-9196, Fax: (315) 492-4822, E-mail: n/a, Eastern Region

Iroquois (see Mohawk)

Saint Regis Mohawk Tribe, Clarissa Chatland, ICWA Program Coordinator, 412 State, Route 37, Akwesasne, New York 13655, Phone: (518) 358-4516, Fax: (518) 358-9258, E-mail:, clarissa.terrance-chatland@SRMT-nsn.gov, Eastern Region

Iroquois (see Seneca)

Seneca Nation of Indians, Tracy Pacini, Program Coordinator, P.O. Box 500, Salamanca, New York 14748, Phone: (716) 945-5894, Fax: (716) 945-7881, E-mail: tracy.pacini@senecahealth.org, Eastern Region

Iroquois (see Seneca/Tonawanda)

Tonawanda Band of Seneca, Roger Hill, Chief, Council of Chiefs, 7027 Meadville Road, Basom, New York 14013, Phone: (716) 542-4244, Fax: (716) 542-4008, E-mail: n/a, Eastern Region

Iroquois (see Tuscarora)

Tuscarora Nation of New York, Chief Leo Henry, Clerk, 206 Mount Hope Road, Lewistown, New York 14092, Phone: (716) 297-1148, Fax: (716) 297-7355, E-mail: n/a, Eastern Region

Kalispel

Kalispel Tribe of Indians, Wendy L. Thomas, MSW, Support Services Director, 934 S. Gargeld Rd., Airway Heights, Washington 99001, Phone: (509) 789-7634, Cell: (509) 671-6972, Fax: (509) 789-7659, E-mail: wthomas@camashealth.com, Northwest Region

Karuk (see Tolowa/Yurok)

Elk Valley Rancheria, Chairperson, 2332 Howland Hill Road, Crescent City, California 95531, Phone: (707) 464-4680, Fax: (707) 465-2638, E-mail: evrlibrary@elk-valley.com, Pacific Region

Karuk

Karuk Tribe, Mike Edwards, Child and Family Services Director, Karuk Health Clinic, 1519 S. Oregon Street, Yreka, California 96097, Phone: (530) 842-9200 Ext: 6301, Fax: (530) 841-5150, E-mail: medwards@karuk.us, Pacific Region

Karuk (see Shasta)

Quartz Valley Indian Tribe, Mary Gowen, ICWA Director, 13601 Quartz Valley Road, Fort Jones, California 96032, Phone: (530) 468-5907 Ext: 314, Fax: (530) 468-5608, E-mail: icwa@qvir.com, Pacific Region

Kashia (see Pomo)

Kashia Band of Pomo Indians of the Stewarts Point Rancheria, Tara Candelaria, Administrative Assistant, 3535 Industrial Drive, Suite B-2, Santa Rosa, CA 95403, Telephone: (707) 591-0580, Fax: (707) 591-0583, E-mail: tribalofc@stewartspointrancheria.com, Pacific Region

Kaw

Kaw Nation, Chairperson, Drawer 50, Kaw City, Oklahoma 74641, Phone: (580) 269-2552, E-mail: n/a, Southern Plains Region

Keweenaw (see Chippewa)

Keweenaw Bay Indian Community, Judy Heath, Social Service Director, 16429 Beartown Road, Baraga, Michigan 49908, Phone: (906) 353-4201, Fax: (906) 353-8171, E-mail: judy@kbic-nsn.gov, Midwest Region

Kickapoo

Kickapoo Tribe of Indians of the, Kickapoo Reservation in Kansas, Chairperson, P.O. Box 271, Horton, Kansas 66439, Phone: (785) 486-2131, E-mail: n/a, Southern Plains Region

Kickapoo Tribe of Oklahoma, Chairperson, P.O. Box 70, McLoud, Oklahoma 74851, Phone: (405) 964-7053, E-mail: n/a, Southern Plains Region

Kickapoo Traditional Tribe of Texas, Connie Valenzuela, Indian Child Welfare Director, 286 Falcon Blvd., Eagle Pass, Texas 78852, Phone: (830) 776-5601, Fax: (830) 776-5605, Work Cell: (830) 513-2937, E-mail: connie.valenzuela@ktttribe.org, Southern Plains Region

Kiowa

Kiowa Tribe of Oklahoma, Richard Hernasy, ICWA Director, P.O. Box 369, Carnegie, Oklahoma 73015, Phone: (580) 654-2300, (580) 654-2363, E-mail: n/a, Southern Plains Region

Klamath (see Modoc/Yahooskin)

The Klamath Tribe, Misty Barney, Child Welfare Manager, Candi Crume, Child Protective Specialist, Jim Collins, ICW Specialist, Lisa Ruiz, Child Welfare Caseworker, P.O. Box 436, Chiloquin, Oregon 97624, Phone: (541) 783-2219, Misty Barnes Cell: (541) 891-9584, Candi Crume Cell: (541) 891-7289, Jim Collins Cell: (541) 891-6683, Lisa Ruiz (541) 891-1457, Fax: (541) 783-7783, E-mail: Misty.barney@klamathtribes.com; Candi.kirk@klamathtribes.com; jim.collins@klamathtribes.com;, Lisa.ruiz@klamathtribes.com, Northwest Region

Klamath (see Modoc)

Modoc Tribe of Oklahoma, Troy Little Axe, Assistant Tribal Administrator, 418 G SE, Miami, Oklahoma 74354, Phone: (918) 542-1190, Fax: (918) 542-5415, E-mail: n/a, Eastern Oklahoma Region

Kootenai (see Flathead/Salish)

Confederated Salish & Kootenai Tribes, Lena Young Running Crane, ICWA Specialist, Box 278, Pablo, Montana 59855, Phone: (406) 675-2700, Fax: (406) 275-2883, E-mail: n/a, Northwest Region

Kumeyaay (see Diegueno)

Ewiiaapaayp Band of Kumeyaay Indians, Will Micklin, CEO, Ewiiaapaayp Tribal Government, 4054 Willow Road, Alpine, California 91903, Phone: (619) 445-6315, FaxL (619) 445-9126, E-mail: n/a, Pacific Region

Jamul Indian Village, Charity White-Voth, Kumeyaay Family Services Director, Southern Indian Health Council, Inc., 4058 Willow Road, Alpine, California 91903, Phone: (619) 445-1188, Fax: (619) 445-0765, E-mail: n/a, Pacific Region

Lenapi (see Delaware/Munsee)

Delaware Nation, Lydia Ramirez, ICW Director, P.O. Box 825, Anadarko, Oklahoma 73005, Phone: (405) 247-2448 Ext: 1152, Fax: (405) 247-5942, E-mail: lramirez@delawarenation.com, Southern Plains Region

Luiseno

La Jolla Band of Luiseno Indians, Manager Tribal Family Services, Indian Health Council, Inc., P.O. Box 406, Pauma Valley, CA 92061, Telephone: (760) 749-1410, Fax: (760) 749-5518, E-mail: n/a, Pacific Region

Pauma & Yuima Band of Mission Indians, Maria Garcia, ICWA Manager, Department of Social Services, 35008 Pala-Temecula Road, PMB 50, Pala, California 92059, Phone: (760) 891-3542, E-mail: n/a, Pacific Region

Pechanga Band of Mission Indians, Mark Macarro, Spokesman, P.O. Box 1477, Temecula, California 92593, Phone: (951) 676-2768, Pacific Region

Luiseno (see Cahuilla/Mission)

Soboba Band of Luiseno Indians, Tribal Social Worker, Sobboba Social Services Department, P.O. Box 487, San Jacinto, California 92581, Phone: (707) 463-2644, Fax: (707) 487-1738, E-mail: n/a, Pacific Region

Luiseno (see Chemehuevi/Mission)

Twenty-Nine Palms Band of Mission Indians, Executive Director, Indian Child & Family Services, P.O. Box 2269, Temecula, California 92590, Phone: (951) 676-8832, Fax: (951) 676-3950, E-mail: n/a, Pacific Region

Lummi

Lummi Nation, Amy Finkbonner, Lummi Children's Services Manager, P.O. Box 1024, Ferndale, Washington 98248, Phone: (360) 384-2324, Fax: (360) 380-2157, E-mail: amyf@lummi-nsn.gov, Northwest Region

Maidu

Tyme Maidu Tribe (Berry Creek Rancheria), Terilynn Steele, ICWA Supervisor, 5 Tyme Way, Oroville, California 95966, Phone: (530) 534-3859, Fax: (530) 534-1151, E-mail: jessebrown@berrycreekrancheria.com, Pacific Region

Maidu (see Me-Wuk/Miwok)

Enterprise Rancheria, Shari Ghalayini, ICWA Coordinator, 2133 Monte Vista Ave., Oroville, California 95966, Phone: (530) 532-9214, Fax: (530) 532-1768, E-mail: sharig@enterpriserancheria.org, Pacific Region

Maidu

Greenville Rancheria, Dr. Gonzalo Gonzalez, Behavioral Health, Patty Allen, Chief Financial Officer, Crystal Rios, Tribal Secretary/Tresurer, Faustina Lopez, Tribal Representative, P.O. Box 279, Greenville, California 95947, Phone: (530) 284-7990, Fax: (530) 284-7299, E-mail: ggonzalez@greenvillerancheria.com, pallen@greenvillerancheria.com, crios@greenvillerancheria.com, flopez@greenvillerancheria.com, Pacific Region

Maidu (see Mechoopda)

Mechoopda Tribe, Susan Bromley, Office Manager, 125 Mission Ranch Boulevard, Chico, California 95926, Phone: (530) 899-8922, Fax: (530) 899-8517, E-mail: sbromley@mechoopda-nsn.gov, Pacific Region

Maidu

Mooretown Rancheria, Francine McKinley, ICWA & Social Service Director, 1 Alverda Drive, Oroville, California 95966, Phone: (530) 533-3625, Fax: (530) 533-3625, E-mail: icwa@mooretown.org, Pacific Region

Maidu (see Paiute/Pit River)

Susanville Rancheria, Chairperson, ICWA Director, 745 Joaquin Street, Susanville, California 96130, Phone: (530) 257-6264, Fax: (530) 257-7986, E-mail: n/a, Pacific Region

Maidu (see Miwok/Me-Wuk)

Auburn Rancheria, Chairperson, United Auburn Indian Community, 10720 Indian Hill Road, Auburn, California 95603, Phone: (916) 663-3720, Fax: (530) 823-8709, E-mail: n/a, Pacific Region

Makah

Makah Indian Tribal Council, Robin Denney, Social Service Manager, Sandy Soeneke, ICW Caseworker, P.O. Box 115, Neah Bay, Washington 98357, Phone: (360) 645-3251/3257, Fax: (360) 645-2685/2806, E-mail: n/a, Northwest Region

Maliseet

Houlton Band of Maliseet Indians, Tiffany Randall, ICWA Director, 13-2 Clover Court, Hourton, Maine 04730, Phone: (207) 694-0213, Fax: (207) 532-7287, E-mail: icwa.director@maliseets.com, Eastern Region

Mandan (see Arikara/Three Affiliated Tribes/Hidatsa)

Three Affiliated Tribes (Mandan, Arikara & Hidatsa), Katherine Felix, ICWA Specialist, 404 Frontage Road, New Town, North Dakota 58763, Phone: (701) 627-4781, Fax: (701) 627-5550, E-mail: kfelix@mhanation.com, Great Plains Region

Maricopa (see Pima)

Gila River Indian Community, Lynda Murden-Sells, Deputy/Acting Director, P.O. Box 427, Sacaton, Arizona 85147, Phone: (520) 562-3396, Fax: (520) 562-3633, E-mail: Lynda.murden@gric.nsn.us, Western Region

Salt River Pima-Maricopa Indian Community, Chenita Dix, Social Services Manager/ICWA Manager, 10,005 East Osborn Road, Scottsdale, Arizona 85256, Phone: (480) 362-7357, Fax: (480) 362-5574, E-mail: chenita.dix@SRPMIC-nsn.gov, Western Region

Mechoopda (see Maidu)

Mechoopda Tribe, Susan Bromley, Office Manager, 125 Mission Ranch Boulevard, Chico, California 95926, Phone: (530) 899-8922, Fax: (530) 899-8517, E-mail: sbromley@mechoopda-nsn.gov, Pacific Region

Menominee

Menominee Indian Tribe of Wisconsin, Mary Husby, Director of Social Services, P.O. Box 910, Keshena, Wisconsin 54135, Phone: (715) 799-5161, Fax: (715) 799-6061, E-mail: mhusby@mitw.org, Midwest Region

Me-Wuk (see Miwok/Maidu)

Auburn Rancheria, Chairperson, United Auburn Indian Community, 10720 Indian Hill Road, Auburn, California 95603, Phone: (916) 663-3720, Fax: (530) 823-8709, E-mail: n/a, Pacific Region

Me-Wuk (see Miwok/Pomo)

Buena Vista Rancheria of Me-Wuk Indians, Penny Arciniaga, Tribal Member Services, 1418 20th Street, Suite 200, Sacramento, California 95811, Phone: (916) 491-0011 x 10, Fax: (916) 491-0012, E-mail: penny@buenavistatribe.com, Pacific Region

Me-Wuk (see Miwok)

California Valley Miwok Tribe, Rashel Reznor, ICWA Coordinator, 10601 N. Escondido Pl., Stockton, CA 95212, Phone: (209) 931-4567, Fax: (209) 931-4333, E-mail: icwa@californiavalleymiwoktribe-nsn.gov, Pacific Region

Cher-Ae Heights Indian Community of the Trinidad Rancheria, Amy Atkins, ICWA Representative, P.O. Box 630, Trinidad, California 95570, Phone: (707) 677-0211, Fax: (707) 677-3921, E-mail: aatkins@trinidadrancheria.com, Pacific Region

Chicken Ranch Rancheria of Me-Wuk Indians Jan Costa, Tribal Administrator, P.O. Box 1159, Jamestown, California 95327, Phone: (209) 984-4806, Fax: (209) 984-5606, E-mail: chixrnch@mlode.com, Pacific Region

Me-Wuk (see Miwok/Maidu)

Enterprise Rancheria, Shari Ghalayini, ICWA Coordinator, 2133 Monte Vista Ave., Oroville, California 95966, Phone: (530) 532-9214, Fax: (530) 532-1768, E-mail: sharig@enterpriserancheria.org, Pacific Region

Me-Wuk (see Miwok/Pomo)

Federated Indians—Graton Rancheria, Michele Porter, Social Sevices, 6400 Redwood Drive, Suite 104, Rohnert Park, California 94928, Phone: (707) 566-2288, Fax: (707) 566-2291 or 206-0351, E-mail: mporter@gratonrancheria.com, Pacific Region

Me-Wuk (see Miwok)

Ione Band of Miwok Indians, Pamela Baumgartner, Administrator, P.O. Box 699, Plymouth, California 95669, Phone: (209) 245-5800, Fax: (209) 245-3112, E-mail: pam@ionemiwok.org, Pacific Region

Jackson Rancheria, Kimberly Heffron, Tribal Secretary, P.O. Box 1090, Jackson, California 95642, Phone: (209) 223-1935, Fax: (209) 223-5366, E-mail: kheffron@jacksonrancheria-nsn.gov, Pacific Region

Shingle Springs Band of Miwok Indians (Shingle Springs Rancheria), Malissa Tayaba, Director, Social Services, P.O. Box 1340, Shingle Springs, California 95682, Phone: (530) 698-1400 or (530) 698-1436, Fax: (530) 676-8033, E-mail: mtayaba@ssband.org, Pacific Region

Tuolumne Band of Me-wuk Indians, Lisa Ames, Social Services Department Manager, P.O. Box 615, Tuolumne, California 95379, Phone: (209) 928-5300, Fax: (209) 928-1552, E-mail: lisa@mewuk.com, Pacific Region

Wilton Rancheria, Chairperson, 9300 West Stockton Blvd., Ste. 205, Elk Grove, California 95758, Telephone: (916) 683-6000, Fax: (916) 683-6015, E-mail: n/a, Pacific Region

Miami

Miami Tribe of Oklahoma, Callie Lankford, MSW, Social Services Director, P.O. Box 1326, Miami, Oklahoma 74355, Phone: (918) 541-1381, Fax: (918) 540-2814, E-mail: clankford@miamination.com, Eastern Oklahoma Region

Miccosukee

Miccosukee Tribe of Indians of Florida, J. Degaglia, PhD, N.C.C., L.M.H.C., Director Social Service Department, P.O. Box 440021, Miami, Florida 33144, Phone: (305) 223-8380 Ext: 2267, Fax: (305) 223-1011, E-mail: jd@miccosukeetribe.com, Eastern Region

Micmac

Aroostook Band of Micmacs, Tania M. Morey, Family Support Caseworker, 7 Northern Road, Presque Isle, Maine 04769, Phone: (207) 764-1972, Fax: (207) 764-7667, E-mail: tmorey@micmac-nsn.gov, Eastern Region

Mission (see Cahuilla)

Augustine Band of Cahuilla Indians, Mary Armgreen, Chairperson, P.O. Box 846, Coachella, California 92236, Phone: (760) 398-4722, E-mail: n/a, Pacific Region

Mission (see Diegueno)

Barona Band of Mission Indians, Charity White-Voth, Kumeyaay Family Services Director, Southern Indian Health Council, Inc., 4058 Willow Road, Alpine, California 91903, Phone: (619) 445-1188, Fax: (619) 445-0765, E-mail: n/a, Pacific Region

Mission (see Cahuilla)

Cabazon Band of Mission Indians, Chairman, 84-245 Indio Springs Drive, Indio, California 92201, Phone: (760) 342-2593, E-mail: n/a, Pacific Region

Cahuilla Band of Mission Indians, Executive Director, Indian Child & Family Services, P.O. Box 2269, Temecula, California 92590, Phone: (951) 676-8832, E-mail: n/a, Pacific Region

Mission (see Diegueno)

Campo Band of Mission Indians, Charity White-Voth, Kumeyaay Family Services Director, Southern Indian Health Council, Inc., 4058 Willow Road, Alpine, California 91903, Phone: (619) 445-1188, Fax: (619) 445-0765, E-mail: n/a, Pacific Region

Inaja & Cosmit Band of Mission Indians, Tribal Family Services, Manager, Indian Health Services, Inc., P.O. Box 406, Pauma Valley, California 92061, Phone: (706) 749-1410, E-mail: n/a, Pacific Region

Mission (see Cahuilla/Cupeno)

Los Coyotes Band of Cahuilla & Cupeno Indians, Tribal Family Services, Manager, Indian Health Council, Inc., P.O. Box 406, Pauma Valley, California 92061, Phone: (760) 749-1410, E-mail: n/a, Pacific Region

Mission (see Diegueno)

La Posta Band of Mission Indians, Charity White-Voth, Kumeyaay Family Services Director, Southern Indian Health Council, Inc., 4058 Willow Road, Alpine, California 91903, Phone: (619) 445-1188, Fax: (619) 445-0765, E-mail: n/a, Pacific Region

Mission (see Cahuilla/Cupeno)

Los Coyotes Band of Cahuilla &, Cupeno Indians, Tribal Family Services, Manager, Indian Health Council, Inc., P.O. Box 406, Pauma Valley, California 92061, Phone: (760) 749-1410, E-mail: n/a, Pacific Region

Mission (see Diegueno)

Manzanita Band of Mission Indians, Chairperson, P.O. Box 1302, Boulevard, California 91905, Phone: (619) 766-4930, E-mail: n/a, Pacific Region

Mesa Grande Band of Mission Indians, Tribal Family Services, Manager, Indian Health Services, Inc., P.O. Box 406, Pauma Valley, California 92061, Phone: (706) 749-1410, E-mail: n/a, Pacific Region

Mission (see Cahuilla)

Morongo Band of Cahuilla Mission Indians, Duke Steppe, Social Worker, 11581 Potrero Road, Banning, California 92220, Phone: (951) 849-4697, E-mail: n/a, Pacific Region

Mission (see Luiseno)

Pala Band of Mission Indians, Maria Garcia, ICWA Manager, Department of Social Services, 35008 Pala-Temecula Road, PMB 50, Pala, California 92059, Phone: (760) 891-3542, E-mail: n/a, Pacific Region

Pala Band of Mission Indians, Maria Garcia, ICWA Manager, Department of Social Services, 35008 Pala-Temecula Road, PMB 50, Pala, California 92059, Phone: (760) 891-3542, E-mail: n/a, Pacific Region

Pauma & Yuima Band of Mission Indians, Tribal Family Services, Manager, Indian Health Council, Inc., P.O. Box 406, Pauma Valley, California 92061, Phone: (760) 749-1410, E-mail: n/a, Pacific Region

Pechanga Band of Mission Indians, Mark Macarro, Spokesman, P.O. Box 1477, Temecula, California 92593, Phone: (951) 676-2768, E-mail: n/a, Pacific Region

Mission (see Cahuilla)

Ramona Band or Village of Cahuilla, Susan Reckker, Tribal Administrator, P.O. Box 391670, Anza, California 92539, Phone: (951) 763-4105, Fax: (951) 763-4325, E-mail: sreckker@ramonatribe.com, Pacific Region

Mission (see Diegueno)

Rincon Band of Mission Indians, Tribal Family Services, Manager, Indian Health Services, Inc., P.O. Box 406, Pauma Valley, California 92061, Phone: (706) 749-1410, E-mail: n/a, Pacific Region

Mission (see Cahuilla)

Santa Rosa Band of Cahuilla Indians, Mayme Estrada, Chair, P.O. Box 609, Hemet, California 92546, Phone: (951) 658-5311, Fax: (951) 658-6733, E-mail: n/a, Pacific Region

Mission (see Chimash)

Santa Ynez Band of Chumash Indians, Caren Romero, Jess Montoya, ICWA Representative, Executive Director, Santa Ynez, California 93460, Phone: (805) 694-2671, Fax: (805) 686-2060, E-mail: cromero@sythc.com, Pacific Region

Mission (see Diegueno)

Santa Ysabel Band of Mission Indians, Iipay Nation, Linda Ruis, Director, Santa Ysabel Social Services Department, P.O. Box 701, Santa Ysabel, California 92070, Phone: (760) 765-1106, Fax: (760) 765-0312, E-mail: n/a, Pacific Region

Mission (see Cahuilla/Luiseno)

Soboba Band of Luiseno Indians, Tribal Social Worker, Sobboba Social Services Department, P.O. Box 487, San Jacinto, California 92581, Phone: (707) 463-2644, Fax: (707) 487-1738, E-mail: n/a, Pacific Region

Mission (see Diegueno)

Sycuan Band of Mission Indians, Charity White-Voth, Kumeyaay Family Services Director, Southern Indian Health Council, Inc., 4058 Willow Road, Alpine, California 91903, Phone: (619) 445-1188, Fax: (619) 445-0765, E-mail: n/a, Pacific Region

Mission (see Chemehuevi/Luiseno)

Twenty-Nine Palms Band of Mission Indians, Executive Director, Indian Child & Family Services, P.O. Box 2269, Temecula, California 92590, Phone: (951) 676-8832, Fax: (951) 676-3950, E-mail: n/a, Pacific Region

Mission (see Diegueno)

Viejas (Baron Long) Band of Mission Indians, Charity White-Voth, Kumeyaay Family Services Director, Southern Indian Health Council, Inc., 4058 Willow Road, Alpine, California 91903, Phone: (619) 445-1188, Fax: (619) 445-0765, E-mail: n/a, Pacific Region

Miwok (see Me-Wok/Maidu)

Auburn Rancheria, Chairperson, United Auburn Indian Community, 10720 Indian Hill Road, Auburn, California 95603, Phone: (916) 663-3720, Fax: (530) 823-8709, E-mail: n/a, Pacific Region

Miwok (see Me-Wok/Pomo)

Buena Vista Rancheria of Me-Wuk Indians, Penny Arciniaga, Tribal Member Services, 1418 20th Street, Suite 200, Sacramento, California 95811, Phone: (916) 491-0011 x 10, Fax: (916) 491-0012, E-mail: penny@buenavistatribe.com, Pacific RegionPacific Region

Miwok (see Me-Wok)

California Valley Miwok Tribe, Rashel Reznor, ICWA Coordinator, 10601 N. Escondido Pl., Stockton, CA 95212, Phone: (209) 931-4567, Fax: (209) 931-4333, E-mail: icwa@californiavalleymiwoktribe-nsn.gov, Pacific Region

Miwok (see Me-Wuk)

Cher-Ae Heights Indian Community of the Trinidad Rancheria, Amy Atkins, ICWA Representative, P.O. Box 630, Trinidad, California 95570, Phone: (707) 677-0211, Fax: (707) 677-3921, E-mail: aatkins@trinidadrancheria.com, Pacific Region

Miwok (see Me-Wok)

Chicken Ranch Rancheria of Me-Wuk Indians, Jan Costa, Tribal Administrator, P.O. Box 1159, Jamestown, California 95327, Phone: (209) 984-4806, Fax: (209) 984-5606, E-mail: chixrnch@mlode.com, Pacific Region

Miwok (see Me-Wok/Maidu)

Enterprise Rancheria, Shari Ghalayini, ICWA Coordinator, 2133 Monte Vista Ave., Oroville, California 95966, Phone: (530) 532-9214, Fax: (530) 532-1768, E-mail: sharig@enterpriserancheria.org, Pacific Region

Miwok (see Me-Wok/Pomo)

Federated Indians—Graton Rancheria, Michele Porter, Social Sevices, 6400 Redwood Drive, Suite 104, Rohnert Park, California 94928, Phone: (707) 566-2288, Fax: (707) 566-2291 or 206-0351, E-mail: mporter@gratonrancheria.com, Pacific Region

Miwok (see Me-Wok)

Ione Band of Miwok Indians, Pamela Baumgartner, Administrator, P.O. Box 699, Plymouth, California 95669, Phone: (209) 245-5800, Fax: (209) 245-3112, E-mail: pam@ionemiwok.org, Pacific Region

Jackson Rancheria, Kimberly Heffron, Tribal Secretary, P.O. Box 1090, Jackson, California 95642, Phone: (209) 223-1935, Fax: (209) 223-5366, E-mail: kheffron@jacksonrancheria-nsn.gov, Pacific Region

Shingle Springs Band of Miwok Indians (Shingle Springs Rancheria), Malissa Tayaba, Director, Social Services, P.O. Box 1340, Shingle Springs, California 95682, Phone: (530) 698-1400 or (530) 698-1436, Fax: (530) 676-8033, E-mail: mtayaba@ssband.org, Pacific Region

Tuolumne Band of Me-wuk Indians, Lisa Ames, Social Services Department Manager, P.O. Box 615, Tuolumne, California 95379, Phone: (209) 928-5300, Fax: (209) 928-1552, E-mail: lisa@mewuk.com, Pacific Region

Wilton Rancheria, Chairperson, 9300 West Stockton Blvd. Ste., 205 Elk Grove, California 95758, Telephone: (916) 683-6000, Fax: (916) 683-6015, E-mail: n/a, Pacific Region

Modoc (see Klamath/Yahooskin)

The Klamath Tribe, Misty Barney, Child Welfare Manager, Candi Crume, Child Protective Specialist, Jim Collins, ICW Specialist, Lisa Ruiz, Child Welfare Caseworker, P.O. Box 436, Chiloquin, Oregon 97624, Phone: (541) 783-2219, Misty Barnes Cell: (541) 891-9584, Candi Crume Cell: (541) 891-7289, Jim Collins Cell: (541) 891-6683, Lisa Ruiz (541) 891-1457, Fax: (541) 783-7783, E-mail: Misty.barney@klamathtribes.com; Candi.kirk@klamathtribes.com; jim.collins@klamathtribes.com; Lisa.ruiz@klamathtribes.com, Northwest Region

Modoc (see Klamath)

Modoc Tribe of Oklahoma, Troy Little Axe, Assistant Tribal Administrator, 418 G SE, Miami, Oklahoma 74354, Phone: (918) 542-1190, Fax: (918) 542-5415, E-mail: n/a, Eastern Oklahoma Region

Mohawk (see Iroquois)

Saint Regis Mohawk Tribe, Clarissa Chatland, ICWA Program Coordinator, 412 State, Route 37, Akwesasne, New York 13655, Phone: (518) 358-4516, Fax: (518) 358-9258, E-mail: clarissa.terrance-chatland@SRMT-nsn.gov, Eastern Region

Mohegan

Mohegan Indian Tribe, Irene Miller, APRN, Director, Family Services, 5 Crow Hill Road, Uncasville, Connecticut 06382, Phone: (860) 862-6236, E-mail: n/a, Eastern Region

Mohican (see Munsee)

Stockbridge Munsee Community, Stephanie Bowman, ICWA Manager, Stockbridge Munsee Health and Wellness Center, W12802 County A, Bowler, Wisconsin 54416, Phone: (715) 793-4580, Fax: (715) 793-1312, E-mail: stephanie.bowman@mohican.com, Midwest Region

Mojave (see Chemehuevi/Hopi/Colorado River/Navajo)

Colorado River Indian Tribes, Norma Gonzales, Foster Care Coordinator/Case Manager, 12302 Kennedy Drive, Parker, Arizona 85344, Phone: (928) 669-8187, Fax: (928) 669-8881, E-mail: norma.gonzales@critdhs.org, Western Region

Mojave

Fort Mojave Indian Tribe, Attention: Social Services Director, 500 Merriman Avenue, Needles, California 92363, Phone: (760) 629-3745, E-mail: n/a, Western Region

Mono

Big Sandy Rancheria Band of Western Mono Indians, Dorothy Barton, MSW, ICWA/Social Services Coordinator, P.O. Box 337, Auberrry, California 93602, Phone: (559) 855-4003 Ext: 215, Fax: (559) 855-4640, E-mail: dbarton@bsrnation.com, Pacific Region

Cold Spring Rancheria, Terri Works, ICWA Director, 32881 Sycamore Rd., Suite #300, Tollhouse, California 93667, Phone: (559) 855-5043/(559) 855-8360, Fax: (559) 855-4445, E-mail: csrancheriaterri@netptc.net, Pacific Region

North Fork Rancheria of Mono Indians of California, Judy E. Fink, Tribal Chairperson, P.O. Box 929, North Fork, California 93643, Phone: (559) 877-2484, Fax: (559) 877-2467, E-mail: efink@northforkrancheria-nsn.gov, Pacific Region

Mono (see Yokut)

Tule River Reservation, Lolita Garfield, MSW, Director Family Social Services, 340 North Reservation Road, Porterville, California 93258, Phone: (559) 781-4271 ext: 1013, Fax: (559) 791-2122, E-mail: icwadir@tulerivertribe-nsn.gov, Pacific Region

Muckleshoot

Muckleshoot Indian Tribe, Sharon Hamilton-Curley, Human Services Division Director, 39015 172nd Avenue, SE, Auburn, Washington 98092, Phone: (253) 876-3155, Fax: (253) 876-2855, E-mail: Sharon.curley@muckleshoot.nsn.us, Northwest Region

Munsee (see Delaware/Lenapi)

Delaware Nation, Lydia Ramirez, ICW Director, P.O. Box 825, Anadarko, Oklahoma 73005, Phone: (405) 247-2448 Ext: 1152, Fax: (405) 247-5942, E-mail: lramirez@delawarenation.com, Southern Plains Region

Munsee (see Mohican)

Stockbridge Munsee Community, Stephanie Bowman, ICWA Manager, Stockbridge Munsee Health and Wellness Center, W12802 County A, Bowler, Wisconsin 54416, Phone: (715) 793-4580, Fax: (715) 793-1312, E-mail: stephanie.bowman@mohican.com, Midwest Region

Narragansett

Narragansett Tribe of Rhode Island, Wenoah Harris, Director, Tribal Child and Family Services, 4375B South County Trail, P.O. Box 268, Charlestown, Rhode Island 02813, Phone: (401) 364-1100 ext: 233, Cell: (401) 862-8863, Fax: (401) 364-1104, E-mail: Wenonah@nithpo.com, Eastern Region

Navajo (see Chemehuevi/Hopi/Colorado River/Mojave)

Colorado River Indian Tribes, Norma Gonzales, Foster Care Coordinator/Case Manager, 12302 Kennedy Drive, Parker, Arizona 85344, Phone: (928) 669-8187, Fax: (928) 669-8881, E-mail: norma.gonzales@critdhs.org, Western Region

Navajo

Navajo Nation, Regina Yazzie M.S.W., Program Director, Navajo Children and Family Services (ICWA), P.O. Box 1930, Window Rock, Arizona 86515, Phone: (928) 871-6806, Fax: (928) 871-7667, E-mail: reginayazzie@nndss.org, Navajo Region

Ramah Navajo School Board, Inc., Ms. Marlene Martinez, Administrative Services Director, P.O. Box 10, Pine Hill, New Mexico 87357, Phone; (505) 775-3256, Fax: (505) 775-3240, E-mail: marlene@rnsb.k12.nm.us, Navajo Region

Nez Perce

Nez Perce Tribe, Janet Bennett, ICWA Caseworker, P.O. Box 365, Lapwai, Idaho 83540, Phone: (208) 843-2463, Fax: (208) 843-9401, Northwest Region

Nisqually

Nisqually Indian Community, Raymond Howell, ICWA Contact, 4820 She-Nah-Num Drive, SE., Olympia, Washington 98513, Phone: (360) 456-5221, Fax: (360) 407-0017, E-mail: n/a, Northwest Region

Nomlaki (see Wintun)

Cortina Rancheria, (Cortina Indian Rancheria), Charlie Wright, Tribal Chairman, 570 6th Street, Williams, California 95987, Phone: (530) 473-3274, Fax: (530) 473-3301, E-mail: n/a, Pacific Region

Paskenta Band of Nomlaki Indians, Ines Crosby, Tribal Administrator, P.O. Box 398, Orland, California 95963, Phone: (530) 865-2010, Fax: (530) 865-1870, E-mail: office@paskenta.org, Pacific Region

Nomlaki (see Pit River/Pomo/Wintun/Wailaki/Yuki)

Round Valley Indian Tribes, Cynthia Card, ICWA Director, 77826 Covelo Road, Covelo, California 95428, Phone: (707) 983-8008, Fax: (707) 983-6128, E-mail: ccard@rvit.org, Pacific Region

Nooksack

Nooksack Indian Tribe, Bernadine Roberts, ICW Program Manager, 5061 Deming Road, Deming, Washington 98244, Phone: (360) 306-5090, Fax: (360) 306-5099, E-mail: broberts@nooksack-nsn.gov, Northwest Region

Odawa

Little Traverse Bay Band of Odawa Indians, Denneen Smith, Human Services Director, 7500 Odawa Circle, Harbor Springs, Michigan 49740, Phone: (213) 242-1620, Fax: (213) 242-1635, E-mail: n/a, Midwest Region

Ojibwe (see Chippewa)

Bad River Band of Lake Superior Chippewa, Esie Leoso-Corbine, ICWA Director, P.O. Box 55, Odanah, Wisconsin 54861, Phone: (715) 682-7135 Ext: 1414, Fax: (715) 685-7888, E-mail: bricw@badriver-nsn.gov, Midwest Region

Leech Lake Band of Ojibwe, Tammie Finn, Child Welfare Director, 115 Sixth Street NW, Suite E, Cass Lake, Minnesota 56633, Phone: (218) 335-8240, Fax: (218) 335-3779, E-mail: tamie.finn@llojibwe.com, Midwest Region

Mille Lacs Band of Ojibwe, Ryan Champagne, Director of Family Services, MilleLacs Band Government Center, 43408 Oodena Drive, Onamia, Minnesota 56359, Phone: (320) 532-7776 Ext: 7762, Fax: (320) 532-7583, E-mail: ryan.champagne@millelacsband.com, Midwest Region

St. Croix Tribe of Wisconsin, Donna Churchill, Director, 24663 Angeline Avenue, Webster, Wisconsin 54893, Phone: (715) 349-2195, Fax: (715) 349-8665, E-mail: donnac@stcroixtribalcenter.com, Midwest Region

Omaha

Omaha Tribe of Nebraska, Merry Sheridan, ICWA Director, Child Protection Services, P.O. Box 500, Macy, Nebraska 68039, Phone: (402) 837-5261, Fax: (402) 837-5263, E-mail: n/a, Great Plains Region

Oneida

Oneida Tribe of Indians of Wisconsin, Rhonda Tousey, Assistant Director, Children and Family Services, P.O. Box 365, Oneida, Wisconsin 54155, Phone: (920) 490-3724, Fax: (920) 490-3820, E-mail: rtousey@oneidanation.org, Midwest Region

Oneida (see Iroquois)

Oneida Indian Nation, Kim Jacobs, Nation Clerk, Box 1, Vernon, New York 13476, Phone: (315) 829-8337, Fax: (315) 829-8392, E-mail: kjacobs@oneida.nation.org, Eastern Region

Onondaga (see Iroquois)

Onondaga Nation of New York, Council of Chiefs, P.O. Box 85, Nedrow, New York 13120, Phone: (315) 469-9196, Fax: (315) 492-4822, E-mail: n/a, Eastern Region

Osage

Osage Nation, Lee Collins, Director Osage Nation Social Services, 255 Senior Drive, Pawhuska, Oklahoma 74056, Phone: (918) 287-5335, Fax: (918) 287-5231, E-mail: lcollins@osagetribe.org, Eastern Oklahoma Region

Otoe

Otoe-Missouria Indian Tribe of Oklahoma, Ada Mohojah, Social Services Director, 8151 Highway 177, Red Rock, Oklahoma 74651, Phone: (580) 723-4466 Ext: 256, Cell: (580) 307-7303, Fax: (580) 723-1016, E-mail: amehojah@omtribe.org, Southern Plains Region

Ottawa (see Chippewa/Peshawbestown)

Grand Traverse Band of Ottawa and Chippewa Indians, Helen Cook, Anishinaabek Family Services Supervisor, 2605 N. West Bay Shore Drive, Peshawbestown, Michigan 49682-9275, Phone: (231) 534-7681, Fax: (231) 534-7706, E-mail: helen.cook@gtbindians.com, Midwest Region

Ottawa

Little River Band of Ottawa Indians, Inc. Eugene Zeller, Tribal Prosecutor, 3031 Domres Road, Manistee, Michigan 49660, Phone: (231) 398-3384, Fax: (231) 398-3387, E-mail: gzeller@lrboi.com, Midwest Region

Ottawa Tribe of Oklahoma, Roy A. Ross, Social Service/CPS Director, P.O. Box 110, Miami, Oklahoma 74355, Phone: (918) 540-1536, Fax: (918) 542-3214, E-mail: n/a, Eastern Oklahoma Region

Paiute (see Shoshone)

Big Pine Paiute Tribe, Cyndie Summers, ICWA Representative, P.O. Box 700, Big Pine, California 93513, Phone: (760) 938-2003, Fax: (760) 938-2942, E-mail: c.summers@bigpinepaiute.org, Pacific Region

Bishop Paiute Tribe, Margaret Romero, ICWA Specialist, 50 Tu Su Lane, Bishop, California 93514, Phone: (760) 873-3584, Fax: (760) 873-4143, E-mail: Margaret.romero@bishoppaiute.org, Pacific Region

Paiute

Bridgeport Indian Colony, Christy Robles, Tribal Administrator, P.O. Box 37, Bridgeport, California 93517, Phone: (760) 932-7083, Fax: (760) 932-7846, E-mail: admin@bridgeportindiancolony.com, Pacific Region

Burns Paiute Tribe, Michelle Bradach, Social Service Director, 100 Pasigo Street, Burns, Oregon 97720, Phone: (541) 573-7312 Ext: 230, Fax: (541) 573-4217, E-mail: bradachma@burnspaiute-nsn.gov, Northwest Region

Cedarville Rancheria, Duanna Knighton, Tribal Administrator, 300 West First Street, Alturas, California 96101, Phone: (530) 223-3969, Fax: (530) 223-4776, E-mail: cedranch@citlink.net, Pacific Region

Paiute (see Warm Springs/Wasco/Washoe)

Confederated Tribes of Warm Springs Reservation, Warms Springs Tribal Court, Chief Judge Lola Sohappy, ICWA Contact, P.O. Box 850, Warm Springs, Oregon 97761, Phone; (541) 553-3454, Fax: (541) 553-3281, E-mail: n/a, Northwest Region

Paiute (see Shoshone)

Fallon Paiute Shoshone Tribe, Fallon Business Council, Alvin Moyle, Chairman, Youth & Family Services, 565 Rio Vista Drive, Fallon, Nevada 89406, Phone: (775) 423-1215, Fax: (775) 423-5202, E-mail: n/a, Western Region

Paiute

Fort Bidwell Indian Community, Mariellen Sam, ICWA Representative/Enrollment Officer, P.O. Box 129, Fort Bidwell, California 96112, Phone: (530) 279-6310, Fax: (530) 279-2233, E-mail: n/a, Pacific Region

Fort Independence Paiute Tribe, Israel Naylor, Chairman, P.O. Box 67, Independence, California 93526, Phone: (760) 878-5160, Fax: (760) 878-2311, E-mail: israel@fortindependence.com, Pacific Region

Paiute (see Shoshone)

Ft. McDermitt Paiute-Shoshone Tribes, Dee Crutcher, ICWA Advocate-Human Services Program, P.O. Box 68, McDermitt, Nevada 89421, Phone: (775) 532-8263, Fax: (775) 532-8060, E-mail: deecrutcher@gmail.com, Western Region

Paiute

Kaibab Band of Paiute Indians, Wendy Reber—Social Services, Lisa Stanfield—Secretary, Lorraine Benn—Enrollment, HC 65-Box 2, Fredonia, Arizona 86022, Phone: (928) 643-8320 (Wendy), (928) 643-8336 (Lisa), (928) 643-8321 (Lorraine), Fax: (928) 643-7245, E-mail: wreber@kaibabpaiute-nsn.gov; lstanfield@kaibabpaiute-nsn.gov; lbenn@kaibabpaiute-nsn.gov, Western Region

Las Vegas Paiute Tribe, Ruth Fite-Patrick, Social Service Caseworker, 1257 Paiute Circle, Las Vegas, Nevada 89106, Phone: (702) 382-0784 Ext: 2236, Fax: (702) 384-5272, E-mail: rfitepatrick@lvpaiute.com, Western Region

Paiute (see Shoshone)

Lone Pine Paiute Shoshone Reservation, Kathy Bancroft, Enrollment Committee Chairperson, P.O. Box 747, Lone Pine, California 96545, Phone: (760) 876-1034, Fax: (760) 876-8302, E-mail: n/a, Pacific Region

Paiute

Lovelock Paiute Tribe, Debbie George, ICWA Worker, Samualla L. Pry, MSW, ICWA Supervisor, P.O. Box 878, 201 Bowean Street, Lovelock, Nevada 89419, Phone: (775) 273-7861, Fax: (775) 273-5151, E-mail: n/a, Western Region

Moapa Band of Paiutes, Dawn M. Bruce, Social Services Director, P.O. box 340, Moapa, Nevada 89025, Phone: (702) 371-3685, Fax: (702) 864-0408, E-mail: dawn702@mvdsl.com, Western Region

Paiute (see Shoshone)

Northwestern Band of Shoshoni Nation, Lawrence Honena, ICWA Contact, 427 North Main, Suite 101, Pcatello, Idaho 83204, Phone: (208) 478-5712, Fax: (208) 478-5713, E-mail: n/a, Northwest Region

Paiute

Paiute Indian Tribe of Utah, Tyler Goddard, Executive Director, Behavioral Care Department, 440 North Paiute Drive, Cedar City, Utah 84721, Phone: (435) 586-1112 Ext: 310, Fax: (435) 586-7388, E-mail: tyler.goddard@ihs.gov, Western Region

Pyramid Lake Paiute Tribe, Chairperson, P.O. Box 256, Nixon, Nevada 89424, Phone: (775) 574-1000, E-mail: n/a, Western Region

Paiute (see Shoshone/Washoe)

Reno-Sparks Indian Colony, Jane Smith, Human Services Assistant, 405 Golden Lane, Reno, Nevada 89502, Phone: (775) 329-5071, Fax: (775) 785-8758, E-mail: jsmith@rsic.org, Western Region

Paiute

San Juan Southern Paiute Tribe, Gwendolyn Adakai, Social Worker, P.O. Box 720, St. George, UT 84771, Phone: (435) 674-9720, Fax: (435) 674-9714, E-mail: gwendolyn.adakai@bia.gov, Western Region

Paiute (see Shoshone)

Shoshone-Paiute Tribes, Carol Jones, Assistant Administrator, P.O. Box 219, Owyhee, Nevada 89832, Phone: (208) 759-3100, Fax: (208) 759-3104, E-mail: jones.carol@shopai.org, Western Region

Paiute

Summit Lake Paiute Tribe, Ron Johnny, Acting Administrator, 1708 H Street, Sparks, Nevada 89431, (775) 827-9670, (775) 827-9678, E-mail: ron.johnny@summitlaketribe.org, Western Region

Paiute (see Maidu/Pit River)

Susanville Rancheria, Chairperson, ICWA Director, 745 Joaquin Street, Susanville, California 96130, Phone: (530) 257-6264, Fax: (530) 257-7986, E-mail: n/a, Pacific Region

Paiute (see Shoshone)

Timbi-sha Shoshone Tribe, As of date there is no recognized government for this federally recognized tribe, Pacific Region

Paiute

Utu Utu Gwaitu Paiute Tribe, Adora L. Saulque, Vice-Chairperson, 25669 Hwy 6 PMB I, Benton, California 93512, Phone: (760) 933-2321, Fax: (760) 933-2412, E-mail: bentonpaiutetribe@hughes.net, adorasaulque@hughes.net, Pacific Region

Walker River Paiute Tribe, Elliott Aguilar, ICWA Specialist, P.O. Box 146, Schurz, Nevada 89427, Phone: (775) 773-2058 Ext: 11, E-mail: n/a, Western Region

Paiute (see Shoshone)

Winnemucca Tribe, Chairman, P.O. Box 1370, Winnemucca, Nevada 89446, E-mail: n/a, Western Region

Paiute

Yerington Paiute Tribe, Rose Mary Joe-Kinale, Human Services Director, 171 Campbell Lane, Yerington, Nevada 89447, Phone: (775) 463-7705, Fax: (775) 463-5929, E-mail: humanservices@ypt-nsn.gov, Western Region

Papago

Ak-Chin Indian Community, Joanna Paris, MCA, MAPC., M. Ed., LISAC, Acting Director Social Services, 48227 West Farrell Road, Maricopa, Arizona 85239, Phone: (520) 568-1086, (520) 568-1096, E-mail: jparris@ak-chin.nsn.us, Western Region

Papago (see Tohono O'odham)

Tohono O'Odham Nation, Jonathan L. Jantzen, Office of Attorney General, P.O. Box 830, Sells, Arizona 85634, Phone: (520) 383-3410, Fax: (520) 383-2689, E-mail: jonathan.jantzen@tonation-nsn.gov, Western Region

Passamaquoddy

Passamaquaddy Indian Township, Dolly Barnes, MSW, Director Child Welfare, P.O. Box 301, Princeton, Maine 04668, Phone: (207) 796-2301 ext: 406, Fax: (207) 796-2231, E-mail: dbarnes@passamaquoddy.com, Eastern Region

Passamaquaddy Tribe-Pleasant Point, Molly Newell, Sipayik Human Services Director, P.O. Box 343, Perry, Maine 04667, Phone: (207) 853-2600 Ext: 258, Fax: (207) 853-9618, E-mail: molly@wabanaki.com, Eastern Region

Pawnee

Pawnee Tribe of Oklahoma, Joanna (Jodi) Flanders, BSW, MSW, ICW Coordinator, P.O. Box 470, Pawnee, Oklahoma 74058, Phone: (918) 763-3873, Fax: (918) 762-6453, E-mail: jflanders@pawneenation.org, Southern Plains Region

Penobscot

Penobscot Indian Nation of Maine, Chief Kirk Francis, Betsy A. Tannian, Director, Department of Human Services, 9 Sarah's Spring Drive, Indian Island, Maine 04468, Phone: (207) 817-7492, Fax: (207) 827-2937, E-mail: betsy.tannian@penobscotnation.org, Eastern Region

Peoria

Peoria Tribe of Indians of Oklahoma, Doug Journeycake, Indian Child Welfare Director, P.O. Box 1527, Miami, Oklahoma 74354, Phone: (918) 540-2535, Fax: (918) 540-3538, E-mail: djourneycake@peoriatribe.com, Eastern Oklahoma Region

Pequot

Mashantucket Pequot Tribal Nation, Valerie Burgess, Director Child Protective Services, P.O. Box 3313, Mashantucket, Connecticut 06338, Phone: (860) 396-2007, Fax: (860) 396-2144, E-mail: vburgess@mptn.org, Eastern Region

Peshawbestown (see Chippewa/Ottawa)

Grand Traverse Band of Ottawa and Chippewa Indians, Helen Cook, Anishinaabek Family Services Supervisor, 2605 N. West Bay Shore Drive, Peshawbestown, Michigan 49682-9275, Phone: (231) 534-7681, Fax: (231) 534-7706, E-mail: helen.cook@gtbindians.com, Midwest Region

Pima (see Maricopa)

Gila River Indian Community, Lynda Murden-Sells, Deputy/Acting Director, P.O. Box 427, Sacaton, Arizona 85147, Phone: (520) 562-3396, Fax: (520) 562-3633, E-mail: Lynda.murden@gric.nsn.us, Western Region

Salt River Pima-Maricopa Indian Community, Office of the General Counsel or Social Services Division, Child Protective Services, 10,005 East Osborn Road, Scottsdale, Arizona 85256, Phone: (480) 850-4130, E-mail: n/a, Western Region

Pit River

Alturas Rancheria, Chairperson, 900 Running Bear Rd., Yreka, California 96097, Phone: (530) 949-9877, E-mail: n/a, Pacific Region

Pit River Reservation, Coordinator—ICWA Program, 36970 Park Avenue, Burney, California 96013, Phone: (530) 335-5530, Fax: (530) 335-3140, E-mail: n/a, Pacific Region

Pit River (see Wintun/Yana)

Redding Rancheria, Director, Social Services, 2000 Rancheria Road, Redding, California 96001-5528, Phone: (530) 225-8979, E-mail: n/a, Pacific Region

Pit River (see Nomlaki/Pomo/Wailaki, Wintun/Yuki)

Round Valley Indian Tribes, Cynthia Card, ICWA Director, 77826 Covelo Road, Covelo, California 95428, Phone: (707) 983-8008, Fax: (707) 983-6128, E-mail: ccard@rvit.org, Pacific Region

Pit River (see Maidu/Paiute)

Susanville Rancheria, Chairperson, ICWA Director, 745 Joaquin Street, Susanville, California 96130, Phone: (530) 257-6264, Fax: (530) 257-7986, E-mail: n/a, Pacific Region

Pomo

Big Valley Band Rancheria, Cynthia Jefferson, ICWA, 2726 Mission Rancheria Road, Lakeport, California 95453, Phone: (707) 263-3924, Cell: (707) 621-1108, Fax: (707) 263-7280, E-mail: cjefferson@big-valley.net, Pacific Region

Pomo (see Me-Wuk/Miwok)

Buena Vista Rancheria of Me-Wuk Indians, Penny Arciniaga, Tribal Member Services, 1418 20th Street, Suite 200, Sacramento, California 95811, Phone: (916) 491-0011 x 10, Fax: (916) 491-0012, E-mail: penny@buenavistatribe.com, Pacific Region

California Valley Miwok Tribe, Rashel Reznor, ICWA Coordinator, 10601 N. Escondido Pl., Stockton, CA 95212, Phone: (209) 931-4567, Fax: (209) 931-4333, E-mail: icwa@californiavalleymiwoktribe-nsn.gov, Pacific Region

Pomo

Cloverdale Rancheria, Marcellena Becerra, ICWA Advocate, 555 S. Cloverdale Blvd., Cloverdale, California 95425, Phone: (707) 894-5775, Home: (707) 545-5228, Cell: (707) 953-9954, Fax: (707) 894-5727, E-mail: marcebecerra@comcast.net, Pacific Region

Coyote Valley Band of Pomo Indians, Melinda Hunter, HHS Director, John Feliz Jr., Tribal Chairman, 7751 North State Street, Redwood Valley, California 95470, Phone: (707) 485-8723, Fax: (707) 485-1247, E-mail: n/a, Indian Child & Family Preservation Program, Lorain Laiwa, Director/Case Worker, 684 Orchard Ave., Ukiah, CA 95482, Phone: (707) 463-2644, Fax: (707) 463-8956, E-mail: n/a, Pacific Region

Dry Creek Rancheria, Support Services Department, Percy Tejada, P.O. Box 607, Geyserville, California 95441, Phone: (707) 473-2144, Fax: (707) 473-2171, E-mail: percyt@drycreekrancheria.com, Pacific Region

Elem Indian Colony, Wahlia Pearce, Family Resource Coordinator, P.O. Box 757, Clearlake Oaks, California 95423, Phone: (707) 998-3003, Fax: (707) 998-3033, E-mail: gerri@elemnation.org, Pacific Region

Pomo (see Me-Wuk/Miwok)

Federated Indians—Graton Rancheria, Michele Porter, Social Sevices, 6400 Redwood Drive, Suite 104, Rohnert Park, California 94928, Phone: (707) 566-2288, Fax: (707) 566-2291 or 206-0351, E-mail: mporter@gratonrancheria.com, Pacific Region

Pomo

Guidiville Band of Pomo Indians, Merlene Sanchez, Tribal Chairperson, P.O. Box 339, Talmage, California 95481, Phone: (707) 462-3682, (707) 462-3183, E-mail: admin@guidiville.net, Pacific Region

Habematolel Pomo of Upper Lake, Angelina Arroyo, ICWA Advocate, 375 E. Hwy 20, Suite “I”, P.O. Box 516, Upper lake, California 95485, Phone: (707) 275-0737, Fax: (707) 275-0757, E-mail: tribaladmin@upperlakepomo.com, Pacific Region

Hopland Band of Pomo Indians, Gayle Zepeda, Health Director, 3000 Shanel Road, Hopland, California 95449, Phone: (707) 472-2100 Ext: 1105, Fax: (707) 472-2104, E-mail: gzepeda@hoplandtribe.com, Pacific Region

Cahto Tribe—Laytonville Rancheria, Cherie Smith-Gibson, Tribal Administrator, P.O. Box 1239, Laytonville, California 95454, Phone: (707) 984-6197, Fax: (707) 984-6201, E-mail: ta@cahto.org, Pacific Region

Lower Lake Rancheria, Chairperson, P.O. Box 3162, Santa Rosa, California 95402, Phone: (707) 575-5586, E-mail: n/a, Pacific Region

Lytton Rancheria, Margie Mejia, Chairwoman, 1300 N. Dutton Avenue, Suite A, Santa Rosa, California 95401-3515, Phone: (707) 575-5917, Fax: (707) 575-6974, E-mail: n/a, Pacific Region

Machester-Point Arena Band of Pomo Indians, Christine Dukatz, ICWA Director/Tribal Administrator, P.O. Box 623, Point Arena, California 95468, Phone: (707) 882-2788, Fax: 707) 882-3417, E-mail: christimarie@earthlink.net, Pacific Region

Middletown Rancheria, Ursula Simon, ICWA Director, P.O. Box 1829, Middletown, California 65461, Phone: (707) 987-8288, Fax: (707) 9877-8205, E-mail: n/a, Pacific Region

Pinoleville Pomo Nation, Linda Noel, Social Services Director, 500 B Pinoleville Drive, Ukiah, California 95482, Phone: (707) 463-1454 Ext: 101, Fax: (707) 469-6601, E-mail: linden@penoleville-nsn.us, Pacific Region

Potter Valley Tribe, Salvador Rosales, Tribal Chairman, 2251 South State St., Ukiah, California 95482, Phone: (707) 462-1213, Fax: (707) 462-1240, E-mail: pottervalleytribe@pottervalleytribe.com, Pacific Region

Redwood Valley Rancheria, Beverly Rodriguez, ICWA Coordinator, 3250 Road I, Redwood Valley, California 95470, Phone: (707) 485-0361 Ext: 107, Fax: (707) 485-5726, E-mail: brodriguezicwa@gmail.com, Pacific Region

Robinson Rancheria, Marsha Lee, ICWA Coordinator, P.O. Box 4015, Nice, California 95464, Phone: (707) 275-9363, Fax: (707) 275-9001, E-mail: mlee@robinsonrancheria.org, Pacific Region

Pomo (see Nomlaki/Pit River/Wailaki/Wintun/Yuki)

Round Valley Indian Tribes, Cynthia Card, ICWA Director, 77826 Covelo Road, Covelo, California 95428, Phone: (707) 983-8008, Fax: (707) 983-6128, E-mail: ccard@rvit.org, Pacific Region

Pomo (see Wailaki)

Scotts Valley Band of Pomo Indians, Sharon Warner, ICWA Rep/Health Department Manager, Health and Social Services, 301 Industrial Avenue, Lakeport, California 95453, Phone: (707) 263-4220 ext: 409, Fax: (707) 263-4345, E-mail: swarner@svpomo.org, Pacific Region

Sherwood Valley Rancheria, Scarlett Carmona, Tribal Administrator, 190 Sherwood Hill Drive, Willits, California 95490, Phone: (707) 459-9690, Fax: (707) 459-6936, E-mail: svradministrator@sbcglobal.net, Pacific Region

Pomo (see Kashia)

Stewarts Point Rancheria—,Kashia Band of Pomo Indians of the Stewarts Point Rancheria, Tara Candelaria, Administrative Assistant, 3535 Industrial Drive, Suite B-2, Santa Rosa, CA 95403, Telephone: (707) 591-0580, Fax: (707) 591-0583, E-mail: tribalofc@stewartspointrancheria.com, Pacific Region

Ponca

Ponca Tribe of Nebraska, Designated Agent (Vacant), Ponca Tribe of Nebraska, 1800 Syracuse Avenue, Norfolk, Nebraska 68701, Phone: (402) 371-8834, E-mail: (402) 371-7564, Great Plains Region

Ponca Tribe of Oklahoma, Chairperson, 20 White Eagle Drive, Ponca City, Oklahoma 74601, Phone: (580) 762-810, E-mail: n/a, Southern Plains Region

Potawatomi

Citizen Potawatomi Nation, Janet Draper, ICW Director, 1601 S. Gordon Copper Drive, Shawnee, Oklahoma 74801, Phone: (405) 878-4831, Fax: (405) 878-4659, E-mail: jdraper@potawatomi.org, Southern Plains Region

Forest County Potawatomi Community of Wisconsin, Vickie Lynn Valenti, ICWA Department Supervisor, 5415 Everybody's Road, Crandon, Wisconsin 54520, Phone: (715) 478-4812, Fax: (715) 478-7442, E-mail: vickie.valenti@fcpotawatomi-nsn.gov, Midwest Region

Hannahville Indian Community of Michigan, Jessica White, ICWA Worker, N15019 Hannahville B1 Road, Wilson, Michigan 49896, Phone: (906) 723-2514, Fax: (906) 466-7397, E-mail: Jessica.white@hichealth.org, Midwest Region

Potawatomi (see Chippewa)

Nottawaseppi Huron Band of the Potawatomi, Meg Fairchild, LMSW, CAAC, Clinical Social Worker, 1474 Mno Bmadzewen Way, Fulton, Michigan 49052, Phone: (269) 729-4422, Fax: (269) 729-4460, E-mail: socialwpc@nhbp.org, Midwest Region

Potawatomi

Match-E-Be-Nash-She-Wish Band of Potawatomi Indians of Michigan, (Gun Lake Tribe), Leslie Pigeon, Behavioral Health/Human Services Coordinator, P.O. Box 306, Dorr, Michigan 49323, Phone: (616) 681-0360 Ext: 316, Fax: (616) 681-0380, E-mail: n/a, Midwest Region

Pokagon Band of Potawatomi, Mark Pompey, Director of Social Services, 58620 Sink Road, Dowagiac, Michigan 49047, Phone: (269) 782-8998, Fax: (269) 782-4295, E-mail: mark.pompey@pokagonband-nsn.gov, Midwest Region

Prairie Band of Potawatomi Nation, Chairperson, 16281 Q. Road, Mayetta, Kansas 66509, Phone: (785) 966-2255, E-mail: n/a, Southern Plains Region

Pueblo

Pueblo of Acoma, Colinda Garcia, Social Services Director, P.O. Box 354, Acoma, New Mexico 87034, Phone: (505) 552-6604 Ext: 5154, Cell: (505) 382-4429, Fax: (505) 552-6206, E-mail: cvgarcia@puebloofacoma.org, Southwest Region

Pueblo of Cochiti, Dee Mody, ICWA Aide, P.O. Box 70, Cochiti Pueblo, New Mexico 87022, Phone: (505) 465-2244, Fax: (505) 465-1135, E-mail: socialservices-icwa@live.com, Southwest Region

Pueblo (see Tigua)

Pueblo of Isleta, Caroline Dailey, Acting ICWA Director, P.O. Box 1270, Isleta, New Mexico 87022, Phone: (505) 869-2772, E-mail: n/a, Southwest Region

Pueblo

Pueblo of Jemez, Annette Chinana, Jemez Social Services Program-Child Advocate, P.O. Box 340, Jemez Pueblo, New Mexico 87024, Phone: (505) 834-7117, Fax: (505) 834-7103, E-mail: Annette.chinana@jemezpueblo.us, Southwest Region

Pueblo of Laguna, Marie A. Alarid, Program Manager, Rebecca Quam, Soc. Services Specialist II, P.O. Box 194, Laguna, New Mexico 87026, Phone: (505) 552-9712, Fax: (505) 552-6484, E-mail: malarid@lagunatribe.org, rquam@lagunatribe.org, Southwest Region

Pueblo of Nambe, Rhonda Padilla, ICWA Manager, Rte. 1, Box 117-BB, Santa Fe, New Mexico 87506, Phone: (505) 455-0133, Fax: (505) 455-4457, E-mail: rpadilla@nambepueblo.org, Southwest Region

Ohkay Owingeh, Rochelle Thompson, ICWA Director, P.O. Box 1187, Ohkay Owingeh, NM 87566, Phone (575) 770-0033, Fax: (505) 852-1372, E-mail: Rochelle_thompson@ohkayowingeh-nsn.gov, Southwest Region

Pueblo of Picuris, Terrance Snake, ICWA Coordinator, P.O. Box 127, Penasco, New Mexico 87553, Phone: (505) 587-1003/2519, E-mail: n/a, Southwest Region

Pueblo of Pojoaque, Jackie Wright, ICWA Case Manager, 58 Cities of Gold Road, Suite 4, Santa Fe, New Mexico 87506, Phone: (505) 455-0238, Fax: (505) 455-2363, E-mail: jwright@puebloofpojoaque.org, Southwest Region

Pueblo of San Felipe, Darlene Valencia, Family Services Department Director, P.O. Box 4350, San Felipe Pueblo, New Mexico 87004, Phone: (505) 771-9900 Ext: 1150, Fax: (505) 867-6166, E-mail: dvalencia@sfpueblo.com, Southwest Region

Pueblo of San Ildelfonso, William Christian, Contracts Administrator, Route 5, P.O. Box 315-A, Santa Fe, New Mexico 87506, Phone: (505) 455-2273 Ext 310, E-mail: n/a, Southwest Region

Pueblo of Sandia, Marina Estrada, Behavioral Health & Social Services Manager, 481 Sandia Loop, Bernalillo, New Mexico 87004, Phone: (505) 771-5131, Fax: (505) 867-4997, E-mail: mestrada@sandiapueblo.nsn.us, Southwest Region

Pueblo of Santa Ana, Jane Jackson-Bear, Social Services Director, 02 Dove Road, Santa Ana Pueblo, New Mexico 87004, Phone: (505) 771-6737, Fax: (505) 771-7056, E-mail: jjbear@santaana-nsn.gov, Southwest Region

Pueblo of Santa Clara, Joe Naranjo, Tribal Administrator, P.O. Box 580, Espanola, New Mexico 87532, Phone: (505) 747-7326, E-mail: n/a, Southwest Region

Santo Domingo-Kewa, Arthur Lucero/Doris Bailon, ICWA Worker/Director, P.O. Box 129, Santo Domingo, New Mexico 87052, Phone: (505) 465-0630, Fax: (505) 465-2854, E-mail: arthurlucero@kewa-nsn.us, E-mail: dbailon@kewa-nsn.com, Southwest Region

Pueblo of Taos, Macine Nakai, Division Director, P.O. Box 1846, Taos, New Mexico 87571, Phone: (505) 758-7824, E-mail: n/a, Southwest Region

Pueblo of Tesuque, Niccole Toral, Director of Social Services, Route 42, Box 360-TP, Santa Fe, New Mexico 87506, Phone: (505) 690-8152, Fax: (505) 955-7791, E-mail: ntoral@pueblooftesuque.org, Southwest Region

Pueblo of Zia, Eileen Gachupin/Mark Medina, ICWA Director/ICWA Coordinator, 135 Capital Square Drive, Zia Pueblo, New Mexico 87053, Phone: (505) 867-3304 Ext. 241, E-mail: n/a, Southwest Region

Pueblo of Zuni, Harley Soseeah, Intake Technician, P.O. Box 339, Zuni, New Mexico 87327-0339, Phone: (505) 782-7166, Fax: (505) 782-7221, E-mail: hsosee@ashiwi.org, Southwest Region

Ysleta Del Sur Pueblo, Sonia Ruedas, Social Services Eligibilty Worker, 9314 Juanchido Ln., El Paso, Texas 79907, Phone: (915) 860-6119, Fax: (915) 858-2367, E-mail: sruedas@ydsp-nsn.gov, Southwest Region

Puyallup

Puyallup Tribe, Sandra Cooper, ICWA Liason, 1850 Alexander Avenue, Tacoma, Washington 98421, Phone: (253) 573-7827, Fax: (253) 680-5998, E-mail: n/a, Northwest Region

Quapaw

Quapaw Tribe of Oklahoma, John Berrey, Chairperson, P.O. Box 765, Quapaw, Oklahoma 74363, Phone: (918) 542-1853, E-mail: n/a, Eastern Oklahoma Region

Quechan

Quechan Tribal Council, Mike Jackson Sr., President, P.O. Box 1899, Yuma Arizona 85366-1899, Phone: (760) 572-0213, Fax: (760) 572-2102, E-mail: n/a, Western Region

Quileute

Quileute Tribal Council, Bonita Cleveland, Tribal Chair, P.O. Box 279, LaPush, Washington 98350, Phone: (360) 374-6155, Fax: (360) 374-6311, E-mail: bonita.cleveland@quileutenation.org, Northwest Region

Quinault

Quinault Indian Nation Business Committee, William (Bill) Lay, Quinault Family Services Supervisor, QFS, P.O. Box 189, Taholah, Washington 98587, Phone: (360) 276-8215 Ext. 355, Fax: (360) 267-4152, E-mail: wlay@quinault.org, Northwest Region

Sac & Fox

Sac & Fox Tribe of the Mississippi in Iowa Meskwaki, Allison W. Lasley, ICWA Consultant/Coordinator, 349 Meskwaki Road, P.O. Box 245, Tama, Iowa 52339, Phone: (641) 484-4444, Fax: (641) 484-2103, E-mail: icwaconsult.mfs@meskwaki-nsn.gov, Midwest Region

Sac & Fox of Missouri in Kansas, Chairperson, 305 N. Main Street, Reserve, Kansas 66434, Phone: (785) 742-7471, E-mail: n/a, Southern Plains Region

Sac & Fox Nation, Principal Chief, Route 2, Box 246, Stroud, Oklahoma 74079, Phone: (918) 968-3526, E-mail: n/a, Southern Plains Region

Salish (see Flathead/Kootenai)

Confederated Salish & Kootenai Tribes, Lena Young Running Crane, ICWA Specialist, Box 278, Pablo, Montana 59855, Phone: (406) 675-2700, Fax: (406) 275-2883, E-mail: n/a, Northwest Region

Samish

Samish Indian Nation, Robert Ludgate, Samish Nation Social Services, Family Services Specialist, P.O. Box 217, Anacortes, Washington 98221, Phone: (360) 899-5282, Fax: (360) 299-4357, E-mail: rludgate@samishtribe.nsn.us, Northwest Region

Sauk-Suiattle

Sauk-Suiattle Indian Tribe of Washington, Raju A.T. Dahlstrom, MSW, Program Administrator for Indian Child Welfare, 5318 Chief Brown Lane, Darrington, Washington 98241, Phone: (425) 760-0306, Fax: (360) 436-0242, E-mail: rdahlstrom@sauk-suiattle.com, Northwest Region

Seminole

Seminole Tribe of Florida, Kristi Hill, Family Preservation Administrator, 3006 Josie Billie Avenue, Hollywood, Florida 33024, Phone: (954) 965-1314, Fax: (945) 965-1304, E-mail: kristihill@semtribe.com, Eastern Region

Seminole Nation of Oklahoma, Glenna VanZant, Acting Indian Child Welfare Director, P.O. Box 1498, Wewoka, Oklahoma 74884, Phone: (405) 257-7273, Fax: (405) 257-7284, E-mail: glenna_icw@seminolenation.com, Eastern Oklahoma Region

Seneca (see Cayuga/Iroquois)

Cayuga Nation of New York, Anita Thompson, Assistant Administration, P.O. Box 803, Versailles, New York 14168, Phone: (315) 568-0750, Fax: (315) 568-0752, E-mail: anita.thompson@cayuganation-nsn.gov, Eastern Region

Seneca (see Cayuga)

Seneca-Cayuga Tribe of Oklahoma, Darold Wofford, Director of Family Services, 23701 South 655 Road, Grove, Oklahoma 74344, Phone: (918) 787-5452, Fax: (918) 786-5713, E-mail: dwofford@sctribe.com, Eastern Oklahoma Region

Seneca (see Iroquois)

Seneca Nation of Indians, Tracy Pacini, Program Coordinator, P.O. Box 500, Salamanca, New York 14748, Phone: (716) 945-5894, Fax: (716) 945-7881, E-mail: tracy.pacini@senecahealth.org, Eastern Region

Seneca (see Iroquois/Tonawanda)

Tonawanda Band of Seneca, Roger Hill, Chief, Council of Chiefs, 7027 Meadville Road, Basom, New York 14013, Phone: (716) 542-4244, Fax: (716) 542-4008, E-mail: n/a, Eastern Region

Seneca (see Iroquois)

Seneca Nation of Indians, Tracy Pacini, Program Coordinator, Child and Family Services, P.O. Box 500, Salamanca, New York 14799, Phone: (716) 945-5894 Ext: 3233, E-mail: n/a, Eastern Region

Serrano

San Manuel Band of Mission Indians, Tribal Secretary, 26569 Community Center Drive, Highland, California 92346, Phone: (909) 864-8933, Fax: (909) 864-3370, E-mail: n/a, Pacific Region

Shasta (see Grand Ronde/Siletz)

Confederated Tribes of the Grande Ronde Community of Oregon, Dana Ainma, ICWA Contact, 9615 Grand Ronde Road, Grand Ronde, Oregon 97347-0038, Phone: (503) 879-2034, Fax: (503) 879-2142, E-mail: n/a, Northwest Region

Shasta (see Karuk)

Quartz Valley Indian Reservation, Director—ICWA Program, 13601 Quartz Valley Road, Fort Jones, California 96032, Phone: (530) 468-5907, Fax: (530) 468-5608, E-mail: lkent@qvir.com, Pacific Region

Shawnee

Absentee Shawnee Tribe of Oklahoma Indians, Governor, 2025 S. Gordon Cooper Drive, Shawnee, Oklahoma 74801, Phone: (405) 275-4030, E-mail: n/a, Southern Plains Region

Eastern Shawnee Tribe of Oklahoma, Chief Glenna J. Wallace, P.O. Box 350, Seneca, MO 64865, Phone: (918) 666-2435, Fax: (918) 666-2186, E-mail: gjwallace@estoo.net, Eastern Oklahoma Region

Shawnee Tribe, Jodi Hayes, Tribal Administrator, P.O. Box 189, Miami, Oklahoma 74355-0189, Telephone: (918) 542-2441, Fax: (918) 542-2922, E-mail: shawneetribe@shawnee-tribe.com

Shoalwater

Shoalwater Bay Tribal Council, Katherine Horne, ICWA Contact, P.O. Box 130, Tokeland, Washington 98590, Phone: (360) 267-6766, Fax: (360) 267-0247, E-mail: n/a, Northwest Region

Shoshone

Battle Mountain Band Council, Rhonda Hicks, ICWA Coordinator, 37 Mountain View Drive, Battle Mountain, Nevada 89820, Phone: (775) 635-9189 Ext: 109, Fax: (775) 635-8528, E-mail: n/a, Western Region

Shoshone (see Paiute)

Big Pine Paiute Tribe, Cyndie Summers, ICWA Representative, P.O. Box 700, Big Pine, California 93513, Phone: (760) 938-2003, Fax: (760) 938-2942, E-mail: c.summers@bigpinepaiute.org, Pacific Region

Bishop Paiute Tribe, Margaret Romero, ICWA Specialist, 50 Tu Su Lane, Bishop, California 93514, Phone: (760) 873-3584, Fax: (760) 873-4143, E-mail: Margaret.romero@bishoppaiute.org, Pacific Region

Shoshone

Duckwater Shoshone Tribe, Thelma R. Simon, Social Worker IV/LADC, P.O. Box 140068, Duckwater, Nevada 89314, Phone: (775) 863-0227, Fax: (775) 863-0301, E-mail: n/a, Western Region

Eastern Shoshone Tribe of the Wind River Reservation, ICWA Coordinator, P.O. Box 945, Fort Washakie, Wyoming 82514, Phone: (307) 332-6591, Fax: (307) 332-6593, E-mail: n/a, Rocky Mountain Region

Elko Band Council, Marlene Dick, ICWA Coordinator/Acting Social Worker, 1745 Silver Eagle Drive, Elko, Nevada 89801, Phone: (775) 738-9310, Fax: (775) 778-3397, E-mail: n/a, Western Region

Ely Shoshone Tribe, Rae Jean Morrill, Social Services Worker II, #16 Shoshone Circle, Ely, Nevada 89301, Phone: (775) 289-4133, Fax: (775) 289-3237, E-mail: n/a, Western Region

Shoshone (see Paiute)

Fallon Paiute Shoshone Tribe, Fallon Business Council, Alvin Moyle, Chairman, Youth & Family Services, 565 Rio Vista Drive, Fallon, Nevada 89406, Phone: (775) 423-1215, Fax: (775) 423-5202, E-mail: n/a, Western Region

Ft. McDermitt Paiute-Shoshone Tribes, Dee Crutcher, ICWA Advocate-Human Services Program, P.O. Box 68, McDermitt, Nevada 89421, Phone: (775) 532-8263, Fax: (775) 532-8060, E-mail: deecrutcher@gmail.com, Western Region

Lone Pine Paiute Shoshone Reservation, Kathy Bancroft, Enrollment Committee Chairperson, P.O. Box 747, Lone Pine, California 96545, Phone: (760) 876-1034, Fax: (760) 876-8302, E-mail: n/a, Pacific Region

Northwestern Band of Shoshoni Nation, Lawrence Honena, ICWA Contact, 427 North Main, Suite 101, Pcatello, Idaho 83204, Phone: (208) 478-5712, Fax: (208) 478-5713, E-mail: n/a, Northwest Region

Shoshone (see Paiute/Washoe)

Reno-Sparks Indian Colony, Jane Smith, Human Services Assistant, 405 Golden Lane, Reno, Nevada 89502, Phone: (775) 329-5071, Fax: (775) 785-8758, E-mail: jsmith@rsic.org, Western Region

Shoshone (see Shoshone-Bannock)

Shoshone Bannock Tribe, Brandelle Whitworth, Tribal Attorney, P.O. Box 306, Fort Hall, Idaho 83203, Phone: (208) 478-3923, Fax: (208) 237-9736, E-mail: n/a, Northwest Region

Shoshone (see Paiute)

Shoshone-Paiute Tribes, Carol Jones, Assistant Administrator, P.O. Box 219, Owyhee, Nevada 89832, Phone: (208) 759-3100, Fax: (208) 759-3104, E-mail: jones.carol@shopai.org, Western Region

Shoshone

South Fork Band, Karen McDade, Director—Human Services, 21 Lee, B-13, Spring Creek, Nevada 89815, Phone: (775) 744-2412, Fax: (775) 744-2306, E-mail: n/a, Western Region

Te-Moak Tribe of Western Shoshone Indians, Marlene Dick, ICWA Coordinator/Acting Social Worker, 1745 Silver Eagle Drive, Elko, NV 89801, Phone: (775) 738-9310, Fax: (775) 778-3397, E-mail: n/a, Western Region

Shoshone (see Paiute)

Timbi-sha Shoshone Tribe, As of date there is no recognized government for this federally recognized tribe, Pacific Region

Shoshone

Wells Band Council, Paula Salazar, Chairwoman, P.O. Box 809, Wells, Nevada 89835, Phone: (775) 752-3045, Fax: (775) 752-2179, E-mail: n/a, Western Region

Shoshone (see Paiute)

Winnemucca Tribe, Chairman, P.O. Box 1370, Winnemucca, Nevada 89446, E-mail: n/a, Western Region

Shoshone (see Yomba)

Yomba Shoshone Tribe, Elisha A. Mockerman, Eligibility Worker, HC 61 Box 6275, Austin, Nevada 89310, Phone: (775) 964-2463 Ext: 107, Fax: (775) 964-1352, E-mail: emockerman@yombatribe.org, Western Region

Shoshone-Bannock (see Shoshone)

Shoshone Bannock Tribe, Brandelle Whitworth, Tribal Attorney, P.O. Box 306, Fort Hall, Idaho 83203, Phone: (208) 478-3923, Fax: (208) 237-9736, E-mail: n/a, Northwest Region

Siletz (see Grand Ronde/Shasta)

Confederated Tribes of the Grande Ronde Community of Oregon, Dana Ainma, ICWA Contact, 9615 Grand Ronde Road, Grand Ronde, Oregon 97347-0038, Phone: (503) 879-2034, Fax: (503) 879-2142, E-mail: n/a, Northwest Region

Siletz

Confederated Tribes of Siletz Indians, Cathern Tufts, Staff Attorney, P.O. Box 549, Siletz, Oregon 97380, Phone: (541) 444-8211, Fax; (541) 444-2307, E-mail: cathernt@ctsi.nsn.us, Northwest Region

Sioux (see Assiniboine)

Assiniboine and Sioux Tribes, Chairman, Fort Beck Indian Reservation, P.O. Box 1027, Popular, Montana 59255, Phone: (406) 768-5155, E-mail: n/a, Rocky Mountain Region

Sioux

Cheyenne River Sioux Tribe, Dianne Garreaux, ICWA Director, P.O. Box 590, Eagle Butte, South Dakota 57625, Phone: (605) 964-6460/6462, Fax: (605) 964-6463, E-mail: n/a, Great Plains Region

Crow Creek Sioux Tribe, Dave Valandra, ICWA Specialist, P.O. Box 139, Fort Thompson, South Dakota 57339, Phone: (605) 245-2322, Fax: (605) 245-2343, E-mail: david.valandra@bia.gov, Great Plains Region

Flandreau Santee Sioux Tribe, Celeste Honomichl, ICWA Adminstrator, Flandreau Santee Sioux Tribal Social Services, P.O. Box 283, Flandreau, South Dakota 57028, Phone: (605) 997-5055, Fax: (605) 997-3694, E-mail: n/a, Great Plains Region

Lower Brule Sioux Tribe, Greg Miller, LBST Counseling Service Director, 187 Oyate Circle, Lower Brule, South Dakota 57528, Phone: (605) 473-5584, Fax: (605) 473-8051, E-mail: greg.miller@lbst.org, Great Plains Region

Lower Sioux, Linette Tellinghuisen, ICWA Advocate, 39527 Res Highway 1, Morton, Minnesota 56270, Phone: (507) 697-9108, Fax: (507) 697-9111, E-mail: ltellinghuisen@lowersioux.com, Midwest Region

Oglala Sioux Tribe, Juanita Sherick, ICWA Administrator, Oglala Sioux Tribe—ONTRAC, P.O. Box 2080, Pine Ridge, South Dakota 57770, Phone: (605) 867-5805, Rapid City Office: (605) 791-2267, Fax: (605) 867-1893, E-mail: n/a, Great Plains Region

Prairie Island Indian Community Mdewakanton Dakota Sioux of Minnesota, Nancy Anderson, Family Services Manager, 5636 Sturgeon Lake Road, Welch, Minnesota 55089, Phone: (651) 385-4185, Fax: (651) 385-4183, E-mail: nanderson@piic.org, Midwest Region

Rosebud Sioux Tribe, Shirley J. Bad Wound, MSW, Indian Child Welfare Act Specialist, RST ICWA Program, P.O. Box 609, Mission, South Dakota 57555, Phone: (605) 856-5270, Fax: (605) 856-5268, E-mail: n/a, Great Plains Region

Santee Sioux Nation, Jerry Denney, ICWA Specialist, Dakota Tiwahe Service Unit, Route 2, Box 5191, Niobrara, Nebraska 68760, Phone: (402) 857-2342, Fax: (402) 857-2361, E-mail: n/a, Great Plains Region

Shakopee Mdewakanton Sioux Community, ICWA Representative, 2330 Sioux Trail NW., Prior Lake, Minnesota 55372, Phone: (952) 445-8900 or (952) 496-6112, Fax: (952) 455-8906, E-mail: n/a, Midwest Region

Sisseton-Wahpeton Oyate, Evelyn Pilcher, ICWA Director, P.O. Box 509, Agency Village, South Dakota 57262, Phone: (605) 698-3992, Fax: (605) 698-3999, E-mail: evelynp@state.sd.us, Great Plains Region

Spirit Lake Tribe, ICWA Director (Vacant), P.O. Box 356, Fort Totten, North Dakota 58335, Phone: (701) 766-4855, Fax: (701) 766-4273, E-mail: n/a, Great Plains Region

Standing Rock Sioux Tribe, Rose Mendoza, ICWA Specialist, P.O. Box 526, Fort Yates, North Dakota 58538, Phone: (701) 854-3095, Fax: (701) 854-5575, E-mail: n/a, Great Plains Region

Upper Sioux Community, Tanya Ross, ICWA Manager, P.O. Box 147, 5744 Hwy, 67 East, Granite Falls, Minnesota 56241, Phone: (320) 564-6315, Fax: (320) 564-2550, E-mail: tanya@uppersiouxcommunity-nsn.gov, Midwest Region

Yankton Sioux Tribe, Raymond Cournoyer, ICWA Director, P.O. Box 248, Marty, South Dakota 57361, Phone: (605) 384-5712, Fax: (605) 384-5014, E-mail: n/a, Great Plains Region

S'Kllalam

Jamestown S'Kllalam Tribal Council, Liz Mueller, ICWA Specialist, 1033 Old Blyn Hwy, Squim, Washington 98382, Phone: (360) 681-4628, Fax: (360) 681-3402, E-mail: n/a, Northwest Region

Lower Elwha Tribal Community Council, Patricia Elofson, ICWA Contact, 2851 Lower Elwha Road, Port Angeles, Washington 98363-9518, Phone: (360) 452-8471, Fax: (360) 457-8429, E-mail: n/a, Northwest Region

Port Gamble S'Klallam, David Delmendo, ICWA Program Manager, 31912 Little Boston Road, NE., Kingston, Washington 98346, Phone: (360) 297-7623, Fax: (360) 297-9666, E-mail: davidd@pgst.nsn.us, Northwest Region

Skokomish

Skokomish Tribal Council, Renee Guy/Kim Thomas, ICWA Contact, N. 80 Tribal Center Road, Shelton, Washington 98584-9748, Phone: (360) 426-7788, Fax: (360) 462-0082, E-mail: n/a, Northwest Region

Snoqualmie

Snoqualmie Tribe, Marie Ramirez, MSW, ICWA Contact, P.O. Box 280, Carnation, Washington 98014, Phone: (425) 333-5425, Fax: (425) 333-5428, E-mail: n/a, Northwest Region

Spokane

Spokane Tribe of Indians, Tawhnee Colvin, Program Manager/Case Manager, P.O. Box 540, Wellpinit, Washington 99040, Phone: (509) 258-7502, Fax: (509) 258-7029, E-mail: tawhneec@spokanetribe.com, Northwest Region

Squaxin

Squaxin Island Tribe, Donald Whitener, Tribal Administrator, 10 SE Squaxin Lane, Shelton, Washington 98584-9200, Phone: (360) 432-3900, Fax: (360) 426-6577, E-mail: dwhitener@squaxin.us, Northwest Region

Stillaguamish

Stillaguamish Tribe of Indians, Gloria Green, ICW Director, 17014 59th Ave NE., P.O. Box 3782, Arlington, Washington 98223, Phone: (360) 435-3985 Ext: 21, Fax: (360) 435-2867, E-mail: n/a, Northwest Region

Suquamish

Suquamish Tribe of the Port Madison Reservation, Dennis Deaton, ICWA Contact, P.O. Box 498, Suquamish, Washington 98392, Phone: (360) 394-8478, Fax: (360) 697-6774, E-mail: n/a, Northwest Region

Swinomish

Swinomish Indians, Tracy Parker, Swinomish Family Services Coordinator, 17337 Reservation Rd., LaConner, Washington 98257, Phone: (360) 466-7222, Fax: (360) 466-1632, E-mail: tparker@swinomish.nsn.us, Northwest Region

Tachi (see Yokut)

Santa Rosa Rancheria, Crystal Soto, Psy.D., Tribal Social Services Director, 16835 Alkali Drive, P.O. Box 8, Lemoore, California 93245, Phone: (559) 924-1278 Ext. 4020, Fax: (559) 925-2947, E-mail: csoto@tachi-yokut.com, Pacific Region

Three Affiliated Tribes (see Arikara/Hidatsa/Mandan)

Three Affiliated Tribes, (Mandan, Arikara & Hidatsa), Katherine Felix, ICWA Specialist, 404 Frontage Road, New Town, North Dakota 58763, Phone: (701) 627-4781, Fax: (701) 627-5550, E-mail: kfelix@mhanation.com, Great Plains Region

Tigua (see Pueblo)

Pueblo of Isleta, Caroline Dailey, Acting ICWA Director, P.O. Box 1270, Isleta, New Mexico 87022, Phone: (505) 869- 2772, E-mail: n/a, Southwest Region

Tohono' O'Odham (see Papago)

Tohono O'Odham Nation, Jonathan L. Jantzen, Office of Attorney General, P.O. Box 830, Sells, Arizona 85634, Phone: (520) 383-3410, Fax: (520) 383-2689, E-mail: jonathan.jantzen@tonation-nsn.gov, Western Region

Tolowa (see Me-Wuk/Miwok)

Cher-Ae Heights Indian Community of the Trinidad Rancheria, Amy Atkins, ICWA Representative, P.O. Box 630, Trinidad, California 95570, Phone: (707) 677-0211, Fax: (707) 677-3921, E-mail: aatkins@trinidadrancheria.com, Pacific Region

Tolowa (see Karuk/Yurok)

Elk Valley Rancheria, Chairperson, 2332 Howland Hill Road, Crescent City, California 95531, Phone: (707) 464-4680, Fax: (707) 465-2638, E-mail: evrlibrary@elk-valley.com, Pacific Region

Tolowa

Smith River Rancheria, Dorothy Perry, Director—Community & Family Services, 110 W. First Street, Smith River, California 95567, Phone: (707) 487-9255, Fax: (707) 487-0137, E-mail: dperry@tolowa.com, Pacific Region

Tonawanda (see Iroquois/Seneca)

Tonawanda Band of Seneca, Roger Hill, Chief, Council of Chiefs, 7027 Meadville Road, Basom, New York 14013, Phone: (716) 542-4244, Fax: (716) 542-4008, E-mail: n/a, Eastern Region

Tonkawa

Tonkawa Tribe of Oklahoma, President, P.O. Box 70, Tonkawa, Oklahoma 74653, Phone: (580) 628-2561, E-mail: n/a, Southern Plains Region

Tulalip

Tulalip Tribe, Elishia Stewart, ICWA Contact, 6700 Totem Beach Road, Marysville, Washington 98271, Phone: (360) 651-3290, Fax: (360) 651-4742, E-mail: n/a, Northwest Region

Tunica-Biloxi

Tunica Biloxi Indian Tribe of Louisiana, Betty Pierite Logan, Registered Social Worker, P.O. Box 493, Marksville, Louisiana 71351, Telephone: (318) 240-6442, Fax: (318) 253-9791, E-mail: blogan@tunica.org, Eastern Region

Tuscarora (see Iroquois)

Tuscarora Nation of New York, Chief Leo Henry, Clerk, 206 Mount Hope Road, Lewistown, New York 14092, Phone: (716) 297-1148, Fax: (716) 297-7355, E-mail: n/a, Eastern Region

Umatilla

Confederated Tribes of the Umatilla Indian Reservation, M. Brent Leonhard, Deputy Attorney General, 46411 Timine Way, Pendleton, Oregon 97801, Phone: (541) 429-7406, Fax: (541) 429-7406, E-mail: brentleonhard@ctuir.org, Northwest Region

Umpqua

Cow Creek Band of Umpqua Tribe of Indians, Rhonda Malone, Human Services Director, 2371 NE Stephens Street, Roseburg, Oregon 97470, (541) 677-5575 ext: 5513, Fax: (541) 677-5574, E-mail: rmalone@cowcreek.com, Northwest Region

Umpqua & Siuslaw

Confederated Tribes of Coos, Lower Umpqua & Siuslaw Indians, Dottie Garcis, Family Services Coordinator, P.O. Box 3279, Coos Bay, Oregon 97420, Phone: (541) 888-3012 or Cell: (541) 297-0370, Fax: (541) 888-1027, E-mail: dcarcia@ctclusi.org, Northwest Region

Upper Skagit

Upper Skagit Indian Tribe of Washington, Felice Keegahn, Indian Child Welfare Coordinator, 2284 Community Plaza Way, Sedro Woolley, Washington 98284, Phone: (360) 854-7077, Fax: (360) 854-7125, E-mail: felicek@upperskagit.com, Northwest Region

Ute

Southern Ute Indian Tribe, Jerri Sindelar, ICWA Caseworker II, Peg Rogers, ICWA Case Attorney, MS 40, P.O. Box 737, Ignacio, Colorado 81137, Phone: (970) 769-2920/(970) 563-4738, Fax: (970) 563-0334, E-mail: jsindelar@southern-ute.nsn.us, Southwest Region

Ute Indian Tribe, Floyd Wyasket, Social Service Director, Box 190 or Box 736, Fort Duschesne, Utah 84026, Phone: (435) 725-4026 or (435) 823-0141, Fax: (435) 722-5030, E-mail: floydw@utetribe.com, Western Region

Ute Mountain Ute Tribe, Cole McKinney, Acting Director CPS/CW, P.O. Box 309, Towaoc, Colorado 81334, Phone: (970) 564-5307, Fax: (970) 564-5300, E-mail: cmckinney@utemountain.org, Southwest Region

Wailaki (see Wintun)

Grindstone Indian Rancheria, Aaston Bill, ICWA officer, P.O. Box 63, Elk Creek, California 95939, Phone: (530) 968-5365, Cell: (530) 519-6552, Fax: (530) 968-5366, E-mail: n/a, Pacific Region

Wailaki (see Nomlaki/Pit River/Pomo/Wintun/Yuki)

Round Valley Indian Tribes, Cynthia Card, ICWA Director, 77826 Covelo Road, Covelo, California 95428, Phone: (707) 983-8008, Fax: (707) 983-6128, E-mail: ccard@rvit.org, Pacific Region

Wailaki (see Pomo)

Scotts Valley Band of Pomo Indians, Sharon Warner, ICWA Rep/Health Department Manager, Health and Social Services, 301 Industrial Avenue, Lakeport, California 95453, Phone: (707) 263-4220 ext: 409, Fax: (707) 263-4345, E-mail: swarner@svpomo.org, Pacific Region

Sherwood Valley Rancheria, Scarlett Carmona, Tribal Administrator, 190 Sherwood Hill Drive, Willits, California 95490, Phone: (707) 459-9690, Fax: (707) 459-6936, E-mail: svradministrator@sbcglobal.net, Pacific Region

Wampanoag

Mashpee Wampanoag Tribe, Yvonne Avant, Councilwoman, Human and Social Services Liaison, 483 Great Neck Road South, Mashpee, MA 02649, Phone: (508) 419-6017 Ext: 1, Cell: (774) 238-8388, Fax: (508) 477-0508, E-mail: yavant@mwtribe.com, Eastern Region

Wampanoag Tribe of Gay Head (Aquinnah), Bonnie Chalifoux, Director of Human Services, 20 Black Brook Road, Aquinnah, Massachusetts 02535, Phone: (508) 645-9265 Ext: 133, Fax: (508) 645-2755, E-mail: bonnie@wampanoagtribe.net, Eastern Region

Warm Springs (see Paiute/Wasco/Washoe)

Confederated Tribes of Warm Springs Reservation, Warms Springs Tribal Court, Chief Judge Lola Sohappy, ICWA Contact, P.O. Box 850, Warm Springs, Oregon 97761, Phone; (541) 553-3454, Fax: (541) 553-3281, E-mail: n/a, Northwest Region

Wasco (see Paiute/Warm Springs/Washoe)

Confederated Tribes of Warm Springs Reservation, Warms Springs Tribal Court, Chief Judge Lola Sohappy, ICWA Contact, P.O. Box 850, Warm Springs, Oregon 97761, Phone; (541) 553-3454, Fax: (541) 553-3281, E-mail: n/a, Northwest Region

Washoe (see Paiute/Warm Springs/Wasco)

Confederated Tribes of Warm Springs Reservation, Warms Springs Tribal Court, Chief Judge Lola Sohappy, ICWA Contact, P.O. Box 850, Warm Springs, Oregon 97761, Phone; (541) 553-3454, Fax: (541) 553-3281, E-mail: n/a, Northwest Region

Washoe (see Paiute/Shoshone)

Reno-Sparks Indian Colony, Jane Smith, Human Services Assistant, 405 Golden Lane, Reno, Nevada 89502, Phone: (775) 329-5071, Fax: (775) 785-8758, E-mail: jsmith@rsic.org, Western Region

Washoe

Washoe Tribe of Nevada and California, Paula White, Social Services Director, 919 HWY. 395 South, Gardnerville, Nevada 89410, Phone: (775) 265-7024, Fax: (775) 265-4593, E-mail: n/a, Western Region

Wichita

Witchita and Affiliated Tribe of Oklahoma, Joan Williams, Indian Child Welfare Director, P.O. Box 729, Anadarko, Oklahoma 73005, Phone: (405) 247-8627, Cell: (405) 638-0170, Fax: (405) 247-8873, E-mail: joan.williams@wichitatribe.com, Southern Plains Region

Winnebago (see Ho-Chunk)

The Ho-Chunk Nation, Valerie Blackdeer, ICWA Coordinator, P.O. Box 40, Black River Falls, Wisconsin 54615, Phone: (715) 284-9851, Fax: (715) 284-0097, E-mail: valerie.blackdeer@ho-chunk.com, Midwest Region

Winnebago

Winnebago Tribe of Nebraska, Tracy Henry, ICWA Specialist, P.O. Box 771, Winnebago, Nebraska 68071, Phone: (402) 878-2469, Fax: (402) 878-2981, E-mail: thenry@winnebagotribe.com, Great Plains Region

Wintun

Colusa Indian Community Council, Daniel Gomez Sr., Chairman, 3730 Highway 45, Colusa, California 95932, Phone: (530) 458-8231, Fax: (530) 458-4186, E-mail: dgomez@colusa-nsn.gov, Pacific Region

Wintun (see Nomlaki)

Cortina Rancheria, (Cortina Indian Rancheria), Charlie Wright, Tribal Chairman, 570 6th Street, Williams, California 95987, Phone: (530) 473-3274, Fax: (530) 473-3301, E-mail: n/a, Pacific Region

Wintun (see Wailaki)

Grindstone Indian Rancheria, Aaston Bill, ICWA officer, P.O. Box 63, Elk Creek, California 95939, Phone: (530) 968-5365, Cell: (530) 519-6552, Fax: (530) 968-5366, E-mail: n/a, Pacific Region

Wintun (see Nomlaki)

Paskenta Band of Nomlaki Indians, Ines Crosby, Tribal Administrator, P.O. Box 398, Orland, California 95963, Phone: (530) 865-2010, Fax: (530) 865-1870, E-mail: office@paskenta.org, Pacific Region

Wintun (see Pit River/Yana)

Redding Rancheria, Director, Social Services, 2000 Rancheria Road, Redding, California 96001-5528, Phone: (530) 225-8979, E-mail: n/a, Pacific Region

Wintun (see Pit River/Pomo/Wailaki/Nomlaki/Yuki)

Round Valley Indian Tribes, Cynthia Card, ICWA Director, 77826 Covelo Road, Covelo, California 95428, Phone: (707) 983-8008, Fax: (707) 983-6128, E-mail: ccard@rvit.org, Pacific Region

Wintun

Yocha Dehe Wintun Nation Rumsey Rancheria, Leland Kinter—Tribal Secretary, P.O. Box 18, Brooks, California 95606, Phone: (530) 796-3400, Fax: (530) 796-2143, E-mail: tbrady@yochadehe-nsn.gov, Pacific Region

Wiyot

Bear River Band of Rhonerville Rancheria, Karen Cahill, Social Services Director, 27 Bear River Drive, Loleta, California 95551, Phone: (707) 733-1900 Ext: 290, Fax: (707) 733-1972, E-mail: kcahill@bearrivertribe.com, Pacific Region

Wiyot (see Huron)

Blue Lake Rancheria, Bonnie Mobbs, Exec. Assistant, P.O. Box 428, Blue Lake, California 95525, Phone: (707) 668-5101, Fax: (707) 668-4272, E-mail: bmobbs@bluelakerancheria-nsn.gov, Pacific Region

Wiyot

Wiyot Tribe, Michelle Vassel, Director of Social Services, 1000 Wiyot Drive, Loleta, California 95551, Phone: (707) 733-5055, Fax: (707) 733-5601, E-mail: www.wiyot.com, Pacific Region

Wyandotte (see Huron)

Wyandotte Nation, Kate Randall, Director of Family Services, 64700 E. Hwy 60, Wyandotte, Oklahoma 74370, Phone: (918) 678-2297, Fax: (918) 678-2944, E-mail: krandall@wyandotte-nation.org, Eastern Oklahoma Region

Yahooskin (see Klamath/Modoc)

The Klamath Tribe, Misty Barney, Child Welfare Manager, Candi Crume, Child Protective Specialist, Jim Collins, ICW Specialist, Lisa Ruiz, Child Welfare Caseworker, P.O. Box 436, Chiloquin, Oregon 97624, Phone: (541) 783-2219, Misty Barnes Cell: (541) 891-9584, Candi Crume Cell: (541) 891-7289, Jim Collins Cell: (541) 891-6683, Lisa Ruiz (541) 891-1457, Fax: (541) 783-7783, E-mail: Misty.barney@klamathtribes.com; Candi.kirk@klamathtribes.com; jim.collins@klamathtribes.com; Lisa.ruiz@klamathtribes.com, Northwest Region

Yana (see Pit River/Wintun)

Redding Rancheria, Director, Social Services, 2000 Rancheria Road, Redding, California 96001-5528, Phone: (530) 225-8979, E-mail: n/a, Pacific Region

Yakama

Confederated Tribes & Bands of the, Yakama Nation, David Lees, Esq., P.O. Box 1190, Toppenish, Washington 98948, Phone: (509) 865-5121 Ext: 4558, Fax: (509) 865-7078, E-mail: lees@yakama.com, Northwest Region

Yaqui

Pascua Yaqui Tribe, Tamara Walters, Assisstant Attorney General, 4725 West Calle Tetakusim, Bldg. B, Tucson, Arizona 85757, Phone: (520) 883-5108, Fax: (520) 883-5084, E-mail: tamara.walters@pascuayaqui-nsn.gov, Western Region

Yavapai

Fort McDowell Yavapai Nation, James Esquirell, Wassaja Family Services CPS/ICWA Coordinator, P.O. Box 17779, Fountain Hills, Arizona 85268, Phone: (480) 789-7820, Fax: (480) 837-4809, E-mail: jesquirell@ftmcdowell.org, Western Region

Yavapai (see Apache)

Yavapai-Apache Nation, Nancy B. Guzman, ICWA Coordinator, 2400 Datsi Road, Camp Verde, Arizona 86322, Phone: (928) 649-7115, Fax: (928) 567-6832, E-mail: nguzman@yan-tribe.org, Western Region

Yavapai

Yavapai-Prescott Indian Tribe, Elsie Watchman, Family Support Supervisor, 530 East Merritt, Prescott, Arizona 86301, Phone: (928) 515-7351, Fax: (928) 541-7945, E-mail: ewatchman@ypit.com, Western Region

Yokut (see Tachi)

Santa Rosa Rancheria, Crystal Soto, Psy.D., Tribal Social Services Director, 16835 Alkali Drive, P.O. Box 8, Lemoore, California 93245, Phone: (559) 924-1278 Ext. 4020, Fax: (559) 925-2947, E-mail: csoto@tachi-yokut.com, Pacific Region

Yokut

Table Mountain Rancheria, Frank Marquez Jr., Tribal Chief of Police, 23736 Sky Harbour Rd., Friant, California 93626, Phone: (559) 822-6336, Fax: (559) 822-6340, E-mail: fmarquezjr@tmr.org, Pacific Region

Yokut (see Mono)

Tule River Reservation, Lolita Garfield, MSW, Director Family Social Services, 340 North Reservation Road, Porterville, California 93258, Phone: (559) 781-4271 ext: 1013, Fax: (559) 791-2122, E-mail: icwadir@tulerivertribe-nsn.gov, Pacific Region

Yomba (see Shoshone)

Yomba Shoshone Tribe, Elisha A. Mockerman, Eligibility Worker, HC 61 Box 6275, Austin, Nevada 89310, Phone: (775) 964-2463 Ext: 107, Fax: (775) 964-1352, E-mail: emockerman@yombatribe.org, Western Region

Yuki (see Pit River/Pomo/Nomlaki/Wailaki/Wintun)

Round Valley Indian Tribes, Cynthia Card, ICWA Director, 77826 Covelo Road, Covelo, California 95428, Phone: (707) 983-8008, Fax: (707) 983-6128, E-mail: ccard@rvit.org, Pacific Region

Yurok

Big Lagoon Rancheria, Chairperson, P.O. Box 3060, Trinidad, California 95570, Phone: (707) 826-2079, Fax: (707) 826-0495, E-mail: jstmartin@yuroktribe.nsn.us, Pacific Region

Yurok (see Wiyot)

Blue Lake Rancheria, Bonnie Mobbs, Exec. Assistant, P.O. Box 428, Blue Lake, California 95525, Phone: (707) 668-5101, Fax: (707) 668-4272, E-mail: bmobbs@bluelakerancheria-nsn.gov, Pacific Region

Yurok (see Me-Wok/Miwok/Tolowa)

Cher-Ae Heights Indian Community of the Trinidad Rancheria, Amy Atkins, ICWA Representative, P.O. Box 630, Trinidad, California 95570, Phone: (707) 677-0211, Fax: (707) 677-3921, E-mail: aatkins@trinidadrancheria.com, Pacific Region

Yurok (see Karuk/Tolowa)

Elk Valley Rancheria, Chairperson, 2332 Howland Hill Road, Crescent City, California 95531, Phone: (707) 464-4680, Fax: (707) 465-2638, E-mail: evrlibrary@elk-valley.com, Pacific Region

Yurok

Resighini Rancheria, Rick Dowd, Chairperson, Keshan Dowd, Social Service/ICWA, P.O. Box 529, Klamath, California 95548, Phone: (707) 482-2431, Fax: (707) 482-3425, E-mail: n/a, Pacific Region

Yurok Tribe, Stephanie Weldon, Social Services Director, 190 Klamath Blvd., P.O. Box 1027, Klamath, California 95548, Phone: (707) 482-1350, Fax: (707) 482-1368, E-mail: sweldon@yuroktribe.nsn.us, Pacific Region

2. Alaska Native Tribes and Villages

Aleut

Agdaagux Tribe of King Cove, Arthur Newman, Tribal Administrator, P.O. Box 249, King Cove, Alaska 99612, Phone: (907) 497-2648, Fax: (907) 497-2803, E-mail: atc@arctic.net.

Grace Smith—Family Programs Coordinator, Aleutian/Pribilof Islands Association, 1131 E. International Airport Rd., Anchorage, AK 99518-1408, Phone: (907) 276-2700/(907) 222-4236, Fax: (907) 279-4351, E-mail: graces@apiai.org, Alaska Region

Aleut (see Alutiiq)

Native Village of Akhiok, Rachelle Joy, KANA Foster Parent Support Specialist, 3449 Rezanof Drive East, Kodiak, Alaska 99615, Phone: (907) 486-9869, Fax: (907) 486-4829, E-mail: rachelle.joy@kanaweb.org, Alaska Region

Aleut

Native Village of Akutan, Grace Smith, Family Programs Coordinator, Aleutian/Pribilof Islands Association, 1131 East International Airport Road, Anchorage, Alaska 99518-1408, Phone: (907) 276-2700, Fax: (907) 279-4351, E-mail: graces@apiai.org, Alaska Region

Native Village of Atka, Kathy Dirks, ICWA Coordinator, Unalaska, AK 99685, Phone: (907) 581-6574, Fax: (907) 581-2040, E-mail: kathyd@apiai.org, Grace Smith, Family Programs Coordinator, Aleutian/Pribilof Islands Association, 1131 East International Airport Road, Anchorage, Alaska 99518-1408, Phone: (907) 276-2700 or (907) 222-4236, Fax: (907) 279-4351, E-mail: graces@apiai.org, Alaska Region

Native Village of Belkofski, Grace Smith, Family Programs Coordinator, Aleutian/Pribilof Islands Association, 1131 East International Airport Road, Anchorage, Alaska 99518-1408, Phone: 1-800-478-2742, Fax: (907) 222-9735, E-mail: graces@apiai.org, Alaska Region

Aleut (see Alutiiq)

Native Village of Chanega (aka: Chenega), Norma Selanoff, ICWA Worker, GayDell Trumblee, Tribal Administrator, P.O. Box 8079, Chenega Bay, Alaska 99574, Phone: (907) 573-5386/5130, Fax: (907) 573-5387/5120, E-mail: g.trumblee@nativevillageofchanega.com, Alaska Region

Chignik Bay Tribal Council ¹, Debbie Carlson, Administrator, P.O. Box 50, Chignik, Alaska 99564, Phone: (907) 749-2445, Fax: (907) 749-2423, E-mail: n/a, Alaska Region

Chignik Bay Tribal Council ², Children's Services Program Manager, Bristol Bay Native Association, P.O. Box 310, 1500 Kanakanak Road, Dillingham, Alaska 99576, Phone: (907) 842-4139, Fax: (907) 842-4106, E-mail: cnixon@bbna.com, Alaska Region

Native Village of Chignik Lagoon ¹, Clemence Grunert, Jr., President, P.O. Box 09, Chignik Lagoon, Alaska 99565, Phone: (907) 840-2281, Fax: (907) 840-2217, clagoon@gci.net, Alaska Region

Native Village of Chignik Lagoon ², Children's Services Program Manager, Bristol Bay Native Association, P.O. Box 310, 1500 Kanakanak Road, Dillingham, Alaska 99576, Phone: (907) 842-4139, Fax: (907) 842-4106, cnixon@bbna.com, Alaska Region

Chignik Lake Village ¹, John Lind, President, P.O. Box 33, Chignik Lake, Alaska 99548, Phone: (907) 845-2212, Fax: (907) 845-2217, E-mail: n/a, Alaska Region

Chignik Lake Village ², Children's Services Program Manager, Bristol Bay Native Association, P.O. Box 310, 1500 Kanakanak Road, Dillingham, Alaska 99576, Phone: (907) 842-4139, Fax: (907) 842-4106, cnixon@bbna.com, Alaska Region

Cordova (see Eyak)

Egegik Village ¹, Caseworker II, P.O. Box 154, Egegik, Alaska 99579, Phone: (907) 233-2207, Fax: (907) 233-2213, E-mail: n/a, Alaska Region

Egegik Village ², Children's Services Program Manager, Bristol Bay Native Association, P.O. Box 310, 1500 Kanakanak Road, Dillingham, Alaska 99576, Phone: (907) 842-4139, Fax: (907) 842-4106, E-mail: cnixon@bbna.com, Alaska Region

English Bay (see Native Village of Nanwalek)

Native Village of Afognak, Denise Malutin, ICWA Worker, 115 Mill Bay Road, Suite 201, Kodiak, Alaska 99615, Phone: (907) 486-6357, Fax: (907) 486-6529, E-mail: denise@afognak.org, Alaska Region

Native Village of Eyak (Cordova), Erin Kurz, ICWA Worker, P.O. Box 1388, Cordova, Alaska 99574, Phone: (907) 424-7738, Fax: (907) 424-7809, E-mail: erin@nveyak.org, Alaska Region

Aleut

Native Village of False Pass, Grace Smith, Family Programs Coordinator, Aleutian/Pribilof Islands Association, 1131 East International Airport Road, Anchorage, Alaska 99518-1408, Phone: (907) 276-2700 or (907) 222-4236, Fax: (907) 279-4351, E-mail: graces@apiai.org, Alaska Region

Aleut (see Alutiiq)

Ivanoff Bay Village ¹, Edgar Shangin, Tribal President, 7926 Old Seward Hwy, Suite B-5, Anchorage, Alaska 99518, Phone: (907) 522-2263, Fax: (907) 522-2363, E-mail: ibvc@ivanofbay.com, Alaska Region

Ivanoff Bay Village ², Children's Services Program Manager, Bristol Bay Native Association, P.O. Box 310, 1500 Kanakanak Road, Dillingham, Alaska 99576, Phone: (907) 842-4139, Fax: (907) 842-4106, E-mail: cnixon@bbna.com, Alaska Region

Kaguyak Village, Margie Bezona, Community Development Director, Kodiak Area Native Association, 3449 E. Rezanof Drive, Kodiak, Alaska 99615, Phone: (907) 486-9816, Fax: (907) 486-9886, E-mail: Margie.bezona@kanaweb.org, Alaska Region

Native Village of Kanatak, Tony Olivera, Tribal Administrator/ICWA Director, P.O. Box 872231, Wailla, Alaska 99687, Phone: (907) 357-5991, Fax: (907) 357-5992, kanatak@mtaonline.net, Alaska Region

Native Village of Karluk, Joyce Jones, ICWA Worker, P.O. Box 22, Karluk, Alaska 99608, Phone: (907) 241-2218, Fax: (907) 241-2208, E-mail: n/a, Alaska Region

Aleut

King Cove (see Agdaagux)

King Salmon Tribe ¹, Ralph Angasan, Jr.—Tribal Administrator, Ruth Monsen—ICWA Worker, P.O. Box 68, King Salmon, Alaska 99613, Phone: (907) 246-3553/3447, Fax: (907) 246-3449, E-mail: n/a, Alaska Region

King Salmon Tribe ², Children's Services Program Manager, Bristol Bay Native Association, P.O. Box 310, 1500 Kanakanak Road, Dillingham, Alaska 99576, Phone: (907) 842-4139, Fax: (907) 842-4106, E-mail: cnixon@bbna.com, Alaska Region

Aleut (see Alutiiq)

Kodiak Tribal Council (see Sun'aq Tribe of Kodiak)

Native Village of Larsen Bay, Rachelle Joy, KANA Foster Parent Support Specialist, 3449 Rezanof Drive East, Kodiak, AK 99615, Phone: (907) 486-9869, Fax: (907) 486-4829, E-mail: rachelle.joy@kanaweb.org, Alaska Region

Lesnoi Village (aka Woody Island), Kathleen Drabek, Tribal Administrator, Shannon Larronoff, Financial Specialist/Enrollment, 3248 Mill Bay Road, Kodiak, Alaska 99615, Phone: (907) 486-2821, Fax: (907) 486-2738, E-mail: village@alaska.com, Alaska Region

Native Village of Nanwalek (aka English Bay), Alma Moonin, IRA Administrator, P.O. Box 8028, Nanwalek, Alaska 99603-6021, Phone: (907) 281-2274, Fax: (907) 281-2252, E-mail: n/a, Alaska Region

Aleut

Native Village of Nelson Lagoon ¹, Nanette Johnson, Assistant Administrator, P.O. Box 913, Nelson Lagoon, Alaska 99571, Phone: (907) 989-2204, Fax: (907) 989-2233, E-mail: n/a, Alaska Region

Native Village of Nelson Lagoon ², Grace Smith, Family Programs Coordinator, Aleutian/Pribilof Islands Association, 1131 East International Airport Road, Anchorage, Alaska 99518-1408, Phone: (907) 276-2700 or (907) 222-4236, Fax: (907) 279-4351, E-mail: graces@apiai.org, Alaska Region

Native Village of Nikolski, Grace Smith, Family Programs Coordinator, Aleutian/Pribilof Islands Association, 1131 East International Airport Road, Anchorage, Alaska 99518-1408, Phone: (907) 276-2700, Fax: (907) 279-4351, E-mail: graces@apiai.org, Alaska Region

Aleut (see Alutiiq)

Village of Old Harbor, Fred Brooks, Tribal Administrator, P.O. Box 62, Old Harbor, Alaska 99643-0062, Phone: (907) 286-2215, Fax: (907) 286-2277, Alaska Region

Native Village of Ouzinkie, Bliss Peterson, ICWA Worker, P.O. Box 130, Ouzinkie, Alaska 99644-0130, Phone: (907) 680-2359, Fax: (907) 680-2214, E-mail: icwa@ouzinkie.org, Alaska Region

Aleut

Pauloff Harbor Village ¹, Lorraine Boehl, Administrator Assistant, P.O. Box 97, Sand Point, Alaska 99661, Phone: (907) 383-6075, Fax: (907) 383-6094, E-mail: pauloff@artic.net, Alaska Region

Pauloff Harbor Village ², Grace Smith, Family Programs Coordinator, Aleutian/Pribilof Islands Association, 1131 East International Airport Road, Anchorage, Alaska 99518-1408, Phone: (907) 276-2700 or (907) 222-4236, Fax: (907) 279-4351, E-mail: graces@apiai.org, Alaska Region

Aleut (see Alutiiq)

Native Village of Perryville ¹, Bernice O'Domin, Tribal Children's Service Worker, P.O. Box 89, Perryville, Alaska 99648-0089, Phone: (907) 853-2242, Fax: (907) 853-2229, E-mail: n/a, Alaska Region

Native Village of Perryville ², Children's Services Program Manager, Bristol Bay Native Association, P.O. Box 310, 1500 Kanakanak Road, Dillingham, Alaska 99576, Phone: (907) 842-4139, Fax: (907) 842-4106, E-mail: cnixon@bbna.com, Alaska Region

Native Village of Pilot Point ¹, Devona Miller, Village Administrator, P.O. Box 449, Pilot Point, Alaska 99649, Phone: (907) 797-2208, Fax: (907) 797-2258, E-mail: n/a, Alaska Region

Native Village of Pilot Point ², Bristol Bay Native Association, Children's Services Program Manager, P.O. Box 310, 1500 Kanakanak Road, Dillingham, Alaska 99559, Phone: (907) 842-4139, Fax: (907) 842-4106, E-mail: cnixon@bbna.com, Alaska Region

Native Village of Port Graham, Mary Malchoff/Patrick Norman, ICWA Worker/Chief, P.O. Box 5510, Port Graham, Alaska 99603, Phone: (907) 284-2227, Fax: (907) 284-2222, E-mail: n/a, Alaska Region

Native Village of Port Heiden ¹, Gerda Kosbruk—Tribal Administrator, P.O. Box 49007, Port Heiden, Alaska 99549, Phone: (907) 837-2225/2296, Fax: (907) 837-2297, E-mail: n/a, Alaska Region

Native Village of Port Heiden ², Children's Services Program Manager, Bristol Bay Native Association, P.O. Box 310, 1500 Kanakanak Road, Dillingham, Alaska 99576, Phone: (907) 842-4139, Fax: (907) 842-4106, E-mail: cnixon@bbna.com, Alaska Region

Native Village of Port Lions, Lisa Squartsoff, Tribal Services Coordinator, P.O. Box 69, Port Lions, Alaska 99550-0069, Phone: (907) 454-2234, Fax: (907) 454-2434, E-mail: Lisa@portlions.net, Alaska Region

Aleut

Qagan Tayagungin Tribe of Sand Point Village ¹, Marva J. Hatch, Executive Director, Box 447, Sand Point, Alaska 99661, Phone: (907) 383-5616/5944, Fax: (907) 383-5616, E-mail: qttadmin@arctic.net, Alaska Region

Qagan Tayagungin Tribe of Sand Point Village ², Grace Smith, Family Programs Coordinator, Aleutian/Pribilof Islands Association, 1131 East International Airport Road, Anchorage, Alaska 99518-1408, Phone: (907) 276-2700 or (907) 222-4236, Fax: (907) 279-4351, E-mail: graces@apiai.org, Alaska Region

Qawalangin Tribe of Unalaska ¹, Kathy M. Dirks, Family Porgrams Services, P.O. Box 1130, Unalaska, Alaska 99685, Phone: (907) 581-6574, Fax: (907) 581-2040, E-mail: kathyd@apiai.org, Alaska Region

Qawalangin Tribe of Unalaska ², Grace Smith, Family Programs Coordinator, Aleutian/Pribilof Islands Association, 1131 East International Airport Road, Anchorage, Alaska 99518-1408, Phone: (907) 276-2700 or (907) 222-4236, Fax: (907) 279-4351, E-mail: graces@apiai.org, Alaska Region

Aleut (see Alutiiq)

Seldovia Village Tribe, Laurel Hilts, ICWA Worker, Drawer L, Seldovia, Alaska 99663, Phone: (907) 435-3252, Fax: (907) 234-7865, E-mail: lhilts@svt.org, Alaska Region

Sun'aq Tribe of Kodiak, Linda Resoff, Social Services Director, 312 W. Marine Way, Kodiak, Alaska 99615, Phone: (907) 486-4449, Fax: (907) 486-3361, E-mail: socialservices@sunaq.org, Alaska Region

Aleut

Saint George Island ¹, Sally Merculief, Tribal Administrator, P.O. Box 940, St. George, Alaska 99591, Phone: (907) 859-2205/2206, Fax: (907) 859-2242, E-mail: sallymerculief@starband.net, Alaska Region

Saint George Island ², Aleutian/Pribilof Islands Association, Grace Smith, Family Programs Coordinator, 1131 East International Airport Road, Anchorage, Alaska 99518-1408, Phone: (907) 276-2700/222-4236, Fax: (907) 279-4351, E-mail: dthompson@kawerak.org, Alaska Region

Saint Paul Island ¹, Maxim Buterin, Jr., ICWA Children Service Worker, P.O. Box 86, St. Paul Island, Alaska 99660, Phone: (907) 546-8308, Phone: (907) 546-8370, E-mail: n/a, Alaska Region

St. Paul Island ², Grace Smith, Family Programs Coordinator, Aleutian/Pribilof Islands Association, 1131 East International Airport Road, Anchorage, Alaska 99518-1408, Phone: (907) 276-2700 or (907) 222-4236, Fax: (907) 279-4351, E-mail: graces@apiai.org, Alaska Region

Aleut (see Alutiiq)

Native Village of Tatitlek, Kristi Kompkoff, Tribal Administrator, P.O. Box 171, Tatitlek, Alaska 99677, Phone: (907) 325-2311, Fax: (907) 325-2298, E-mail: Kristi@chugachmiut.org, Alaska Region

Ugashik Village ¹, Flora Olrun, Tribal Manager, 206 E. Fireweed Lane, #204, Anchorage, Alaska 99503, Phone: (907) 338-7694, Fax: (907) 338-7659, E-mail: ugashikoffice4@alaska.net, Alaska Region

Ugashik Village ², Children's Services Program Manager, Bristol Bay Native Association, P.O. Box 310, 1500 Kanakanak Road, Dillingham, Alaska 99576, Phone: (907) 842-4139, Fax: (907) 842-4106, E-mail: cnixon@bbna.com, Alaska Region

Aleut

Unalaska (see Qawalangin Tribe of Unalaska)

Native Village of Unga ¹, Amy Foster, Tribal Administrator, P.O. Box 508, Sand Point, Alaska 99661, Phone: (907) 383-2415, Fax: (907) 383-5553, E-mail: ungatribe@arctic.net, Alaska Region

Native Village of Unga ², Grace Smith, Family Programs Coordinator, Aleutian/Pribilof Islands Association, 1131 East International Airport Road, Anchorage, Alaska 99518-1408, Phone: (907) 276-2700 or (907) 222-4236, Fax: (907) 279-4351, E-mail: graces@apiai.org, Alaska Region

Aleut (see Alutiiq)

Woody Island (see Lesnoi Village)

Native Village of Afognak, Denise Malutin, ICWA Worker, 115 Mill Bay Road, Suite 201, Kodiak, Alaska 99615, Phone: (907) 486-6357, Fax: (907) 486-6529, E-mail: denise@afognak.org, Alaska Region

Native Village of Akhiok, Rachelle Joy, KANA Foster Parent Support Specialist, 3449 Rezanof Drive East, Kodiak, Alaska 99615, Phone: (907) 486-9869, Fax: (907) 486-4829, E-mail: rachelle.joy@kanaweb.org, Alaska Region

Native Village of Chanega (aka: Chenega), Norma Selanoff, ICWA Worker, GayDell Trumblee, Tribal Administrator, P.O. Box 8079, Chenega Bay, Alaska 99574, Phone: (907) 573-5386/5130, Fax: (907) 573-5387/5120, E-mail: g.trumblee@nativevillageofchanega.com, Alaska Region

Chignik Bay Tribal Council ¹, Debbie Carlson, Administrator, P.O. Box 50, Chignik, Alaska 99564, Phone: (907) 749-2445, Fax: (907) 749-2423, E-mail: n/a, Alaska Region

Chignik Bay Tribal Council ², Children's Services Program Manager, Bristol Bay Native Association, P.O. Box 310, 1500 Kanakanak Road, Dillingham, Alaska 99576, Phone: (907) 842-4139, Fax: (907) 842-4106, E-mail: cnixon@bbna.com, Alaska Region

Native Village of Chignik Lagoon ¹, Clemence Grunert, Jr., President, P.O. Box 09, Chignik Lagoon, Alaska 99565, Phone: (907) 840-2281, Fax: (907) 840-2217, E-mail: clagoon@gci.net, Alaska Region

Native Village of Chignik Lagoon ², Children's Services Program Manager, Bristol Bay Native Association, P.O. Box 310, 1500 Kanakanak Road, Dillingham, Alaska 99576, Phone: (907) 842-4139, Fax: (907) 842-4106, cnixon@bbna.com, Alaska Region

Chignik Lake Village ¹, John Lind, President, P.O. Box 33, Chignik Lake, Alaska 99548, Phone: (907) 845-2212, Fax: (907) 845-2217, E-mail: n/a, Alaska Region

Chignik Lake Village ², Children's Services Program Manager, Bristol Bay Native Association, P.O. Box 310, 1500 Kanakanak Road, Dillingham, Alaska 99576, Phone: (907) 842-4139, Fax: (907) 842-4106, E-mail: cnixon@bbna.com, Alaska Region

Egegik Village ¹, Caseworker II, P.O. Box 154, Egegik, Alaska 99579, Phone: (907) 233-2207, Fax: (907) 233-2213, E-mail: n/a, Alaska Region

Egegik Village ², Children's Services Program Manager, Bristol Bay Native Association, P.O. Box 310, 1500 Kanakanak Road, Dillingham, Alaska 99576, Phone: (907) 842-4139, Fax: (907) 842-4106, E-mail: cnixon@bbna.com, Alaska Region

English Bay (see Native Village of Nanwalek)

Native Village of Eyak (Cordova), Erin Kurz, ICWA Worker, P.O. Box 1388, Cordova, Alaska 99574, Phone: (907) 424-7738, Fax: (907) 424-7809, E-mail: erin@nveyak.org, Alaska Region

Ivanoff Bay Village ¹, Edgar Shangin, Tribal President, 7926 Old Seward Hwy, Suite B-5, Anchorage, Alaska 99518, Phone: (907) 522-2263, Fax: (907) 522-2363, E-mail: ibvc@ivanofbay.com, Alaska Region

Ivanoff Bay Village ², Children's Services Program Manager, Bristol Bay Native Association, P.O. Box 310, 1500 Kanakanak Road, Dillingham, Alaska 99576, Phone: (907) 842-4139, Fax: (907) 842-4106, E-mail: cnixon@bbna.com, Alaska Region

Kaguyak Village, Margie Bezona, Community Development Director, Kodiak Area Native Association, 3449 E. Rezanof Drive, Kodiak, Alaska 99615, Phone: (907) 486-9816, Fax: (907) 486-9886, E-mail: Margie.bezona@kanaweb.org, Alaska Region

Native Village of Kanatak, Tony Olivera, Tribal Administrator/ICWA Director, P.O. Box 872231, Wailla, Alaska 99687, Phone: (907) 357-5991, Fax: (907) 357-5992, E-mail: kanatak@mtaonline.net, Alaska Region

Native Village of Karluk, Joyce Jones, ICWA Worker, P.O. Box 22, Karluk, Alaska 99608, Phone: (907) 241-2218, Fax: (907) 241-2208, E-mail: n/a, Alaska Region

Kodiak Tribal Council (see Sun'aq Tribe of Kodiak)

Native Village of Larsen Bay, Rachelle Joy, KANA Foster Parent Support Specialist, 3449 Rezanof Drive East, Kodiak, AK 99615, Phone: (907) 486-9869, Fax: (907) 486-4829, E-mail: rachelle.joy@kanaweb.org, Alaska Region

Lesnoi Village (aka Woody Island), Kathleen Drabek, Tribal Administrator, Shannon Larronoff, Financial Specialist/Enrollment, 3248 Mill Bay Road, Kodiak, Alaska 99615, Phone: (907) 486-2821, Fax: (907) 486-2738, E-mail: village@alaska.com, Alaska Region

Native Village of Nanwalek (aka English Bay), Alma Moonin, IRA Administrator, P.O. Box 8028, Nanwalek, Alaska 99603-6021, Phone: (907) 281-2274, Fax: (907) 281-2252, E-mail: n/a, Alaska Region

Village of Old Harbor, Fred Brooks, Tribal Administrator, P.O. Box 62, Old Harbor, Alaska 99643-0062, Phone: (907) 286-2215, Fax: (907) 286-2277, Alaska Region

Native Village of Ouzinkie, Bliss Peterson, ICWA Worker, P.O. Box 130, Ouzinkie, Alaska 99644-0130, Phone: (907) 680-2359, Fax: (907) 680-2214, E-mail: icwa@ouzinkie.org, Alaska Region

Native Village of Perryville ¹, Bernice O'Domin, Tribal Children's Service Worker, P.O. Box 89, Perryville, Alaska 99648-0089, Phone: (907) 853-2242, Fax: (907) 853-2229, E-mail: n/a, Alaska Region

Native Village of Perryville ², Children's Services Program Manager, Bristol Bay Native Association, P.O. Box 310, 1500 Kanakanak Road, Dillingham, Alaska 99576, Phone: (907) 842-4139, Fax: (907) 842-4106, E-mail: cnixon@bbna.com, Alaska Region

Native Village of Pilot Point ¹, Devona Miller, Village Administrator, P.O. Box 449, Pilot Point, Alaska 99649, Phone: (907) 797-2208, Fax: (907) 797-2258, E-mail: n/a, Alaska Region

Bristol Bay Native Association, Children's Services Program Manager, P.O. Box 310, 1500 Kanakanak Road, Dillingham, Alaska 99559, Phone: (907) 842-4139, Fax: (907) 842-4106, E-mail: cnixon@bbna.com, Alaska Region

Native Village of Port Graham, Mary Malchoff/Patrick Norman, ICWA Worker/Chief, P.O. Box 5510, Port Graham, Alaska 99603, Phone: (907) 284-2227, Fax: (907) 284-2222, E-mail: n/a, Alaska Region

Native Village of Port Heiden ¹, Gerda Kosbruk—Tribal Administrator, P.O. Box 49007, Port Heiden, Alaska 99549, Phone: (907) 837-2225/2296, Fax: (907) 837-2297, E-mail: n/a, Alaska Region

Native Village of Port Heiden ², Children's Services Program Manager, Bristol Bay Native Association, P.O. Box 310, 1500 Kanakanak Road, Dillingham, Alaska 99576, Phone: (907) 842-4139, Fax: (907) 842-4106, E-mail: cnixon@bbna.com, Alaska Region

Native Village of Port Lions, Lisa Squartsoff, Tribal Services Coordinator, P.O. Box 69, Port Lions, Alaska 99550-0069, Phone: (907) 454-2234, Fax: (907) 454-2434, E-mail: lisa@portlions.net, Alaska Region

Seldovia Village Tribe, Laurel Hilts, ICWA Worker, Drawer L, Seldovia, Alaska 99663, Phone: (907) 435-3252, Fax: (907) 234-7865, E-mail: lhilts@svt.org, Alaska Region

Sun'aq Tribe of Kodiak, Linda Resoff, Social Services Director, 312 W. Marine Way, Kodiak, Alaska 99615, Phone: (907) 486-4449, Fax: (907) 486-3361, E-mail: socialservices@sunaq.org, Alaska Region

Native Village of Tatitlek, Kristi Kompkoff, Tribal Administrator, P.O. Box 171, Tatitlek, Alaska 99677, Phone: (907) 325-2311, Fax: (907) 325-2298, E-mail: Kristi@chugachmiut.org, Alaska Region

Ugashik Village ¹, Flora Olrun, Tribal Manager, 206 E. Fireweed Lane, #204, Anchorage, Alaska 99503, Phone: (907) 338-7694, Fax: (907) 338-7659, E-mail: ugashikoffice4@alaska.net, Alaska Region

Ugashik Village ², Children's Services Program Manager, Bristol Bay Native Association, P.O. Box 310, 1500 Kanakanak Road, Dillingham, Alaska 99576, Phone: (907) 842-4139, Fax: (907) 842-4106, E-mail: cnixon@bbna.com, Alaska Region

Woody Island (see Lesnoi Village)

Athabascan Indian

Alatna Village ¹, Wilma David, Tribal Family Youth Specialist, P.O. Box 70, Allakaket, Alaska 99720, Phone: (907) 968-8397, Fax: (907) 238-3705, E-mail: n/a, Alaska Region

Alatna Village ², Legal Department, Tanana Chiefs Conference, 122 First Avenue, Suite 600, Fairbanks, Alaska 99701, Phone: (907) 452-8251 Ext. 3178, Fax: (907) 459-3953, E-mail: n/a, Alaska Region

Allakaket Village ¹, Emily Bergman, Tribal Family Youth Specialist (TFYS), P.O. Box 50, Allakaket, Alaska 99720, Phone: (907) 968-2303, Fax: (907) 968-2233, E-mail: emily.bergman@tananachiefs.org, Alaska Region

Allakaket Village ², Legal Department, Tanana Chiefs Conference, 122 First Avenue, Suite 600, Fairbanks, Alaska 99701, Phone: (907) 452-8251 ext. 3178, Fax: (907) 459-3953, E-mail: n/a, Alaska Region

Anvik Village ¹, Alberta Walker, Tribal Family Youth Specialist (TFYS), P.O. Box 10, Anvik, Alaska 99558, Phone: (907) 663-6378, Fax: (907) 663-6357, E-mail: n/a, Alaska Region

Anvik Village ², Legal Department, Tanana Chiefs Conference, 122 First Avenue, Suite 600, Fairbanks, Alaska 99701, Phone: (907) 452-8251 ext. 3178, Fax: (907) 459-3953, E-mail: n/a, Alaska Region

Arctic Village, Nena C. Wilson—ICWA Manager, Margorie Gemmill—Tribal Administrator, P.O. Box 69, Arctic Village, AK 99722, Phone: (907) 587-5523/5328, Fax: (907) 587-5128, E-mail: n/a, Alaska Region

Beaver Village ¹, Arlene Pitka, ICWA Coordinator, P.O. Box 24029, Beaver, Alaska 99724, Phone: (907) 628-6126, Fax: (907) 628-6815, E-mail: n/a, Alaska Region

Beaver Village ², Legal Department, Tanana Chiefs Conference, 122 First Avenue, Suite 600, Fairbanks, Alaska 99701, Phone: (907) 452-8251 ext. 3178, Fax: (907) 459-3953, E-mail: n/a, Alaska Region

Bettles Field (see Evansville Village)

Birch Creek Tribe, Jackie Baalam, Tribal Family Youth Specialist (TFYS), 1410 S. Cushman Street, Suite 3B, Fairbanks, Alaska 99701, Phone: (907) 221-2215, Fax: (907) 455-8486, E-mail: n/a, Legal Department, Tanana Chiefs Conference, 122 First Avenue, Suite 600, Fairbanks, Alaska 99701, Phone: (907) 452-8251 Ext: 3178, Fax: (907) 459-3953, E-mail: n/a, Alaska Region

Native Village of Cantwell, Veronica Nicholas, President, P.O. Box 94, Cantwell, Alaska 99729, Phone: (907) 768-2591, Fax: (907) 768-1111, E-mail: hallvc@mtaonline.net, Copper River Native Association, Katherine McConkey, Director Tribal Community Services, Drawer H, Copper Center, Alaska 99573, Phone: (907) 822-5241 ext. 232, Fax: (907) 822-8801, E-mail: Kathy@crnative.org, Alaska Region

Chalkyitski Village ¹, Donna L. Crow, Tribal Family Youth Specialist, P.O. Box 57, Chalkyitsik, Alaska 99788, Phone: (907) 848-8117, Fax: (907) 848-8119, E-mail: n/a, Alaska Region

Chalkyitski Village ², Legal Department, Tanana Chiefs Conference, 122 First Avenue, Suite 600, Fairbanks, Alaska 99701, Phone: (907) 452-8251 ext. 3178, Fax: (907) 459-3953, E-mail: n/a, Alaska Region

Cheesh-Na Tribe, Wilson Justin, Tribal Administrator, P.O. Box 241, Gakona, Alaska 99586, Phone: (907) 822-3503, Fax: (907) 822-5179, E-mail: wjustin@cheeshna.com, Alaska Region

Chickaloon Native Village, Penny Westing, ICWA Case Manager, P.O. Box Manager, P.O. Box 1105, Chickaloon, Alaska 99674, Phone: (907) 745-0749/0794, Fax: (907) 745-0709, E-mail: cvadmin@chickaloon.org; penny@chickaloon.org, Alaska Region

Chistochina (see Cheesh-Na)

Native Village of Chitina, Elizabeth Kelley, ICWA Worker, P.O. Box 31, Chitina, Alaska 99566, Phone: (907) 823-2287, Fax: (907) 823-2233, E-mail: bkelly@ctvc.org, Alaska Region

Circle Native Community ¹, Jessica Boyle, ICWA Worker, P.O. Box 89, Circle, Alaska 99733, Phone: (907) 773-2822, Fax: (907) 773-2823, E-mail: Jessica.boyle@tananachiefs.org, Alaska Region

Circle Native Community ², Legal Department, Tanana Chiefs Conference, 122 First Avenue, Suite 600, Fairbanks, Alaska 99701, Phone: (907) 452-8251 ext. 3178, Fax: (907) 459-3953, E-mail: n/a, Alaska Region

Copper Center (see Native Village of Kluti-Kaah)

Village of Dot Lake, Dewila Lyons, ICWA Coordinator, William Miller, President, P.O. Box 2279, Dot Lake, Alaska 99737-2275, Phone: (907) 882-2742/2695, Fax: (907) 882-5558, E-mail: n/a, Alaska Region

Native Village of Eagle ¹, Maralyn Hinckley, Tribal Family & Youth Services, and, Joyce Roberts, Tribal Administrator, P.O. Box 19, Eagle, Alaska 99738, Phone: (907) 547-2271/2281, Fax: (907) 547-2318, E-mail: joyce.roberts@tananachiefs.org, Alaska Region

Native Village of Eagle ², Legal Department, Tanana Chiefs Conference, 122 First Avenue, Suite 600, Fairbanks, Alaska 99701, Phone: (907) 452-8251 ext. 3178, Fax: (907) 459-3953, E-mail: n/a, Alaska Region

Eklutna Native Village, Terri Corey, ICWA Coordinator, 26339 Eklutna Village Road, Chugiak, Alaska 99567, Phone: (907) 688-6020/242-6021, Fax: (907) 688-6021, E-mail: nve.icwa@eklutna-nan.gov, Alaska Region

Evansville Village (aka Bettles Field) ¹, Rachel Hanft, ICWA/Tribal Family & Youth Services, P.O. Box 26087, Bettles, Alaska 99726, Phone: (907) 692-5005, Fax: (907) 692-5006, E-mail: Rachel.hanft@tananachiefs.org, Alaska Region

Evansville Village (aka Bettles Field) ², Legal Department, Tanana Chiefs Conference, 122 First Avenue, Suite 600, Fairbanks, Alaska 99701, Phone: (907) 452-8251 ext. 3178, Fax: (907) 459-3953, E-mail: n/a, Alaska Region

Native Village of Fort Yukon (Gwichyaa Gwichin) ¹, Arlene Joseph, ICWA Worker, P.O. Box 10, Fort Yukon, Alaska 99740, Phone: (907) 662-3625, Fax: (907) 662-3118, E-mail: n/a, Alaska Region

Native Village of Fort Yukon (Gwichyaa Gwichin) ², Legal Department, Tanana Chiefs Conference, 122 First Avenue, Suite 600, Fairbanks, Alaska 99701, Phone: (907) 452-8251 ext. 3178, Fax: (907) 459-3953, E-mail: n/a, Alaska Region

Native Village of Gakona, Charlene Nollner, Tribal Administrator, P.O. Box 102, Gakona, Alaska 99586, Phone: (907) 822-5777, Fax: (907) 822-5997, E-mail: gakonaadmin@cvinternet.net, Alaska Region

Galena Village (aka Louden Village) ¹, March Runner, ICWA Director, P.O. Box 244, Galena, Alaska 99741, Phone: (907) 656-1711, Fax: (907) 656-2491, E-mail: n/a, Alaska Region

Galena Village (aka Louden Village) ², Legal Department, Tanana Chiefs Conference, 122 First Avenue, Suite 600, Fairbanks, Alaska 99701, Phone: (907) 452-8251 ext. 3178, Fax: (907) 459-3953, E-mail: n/a, Alaska Region

Organized Village of Grayling, (aka Holikachuk) ¹, Sue Ann Nicholi, Tribal Family Youth Specialist, P.O. Box 49, Grayling, Alaska 99590, Phone: (907) 453-5142, Fax: (907) 453-5146, E-mail: n/a, Alaska Region

Organized Village of Grayling, (aka Holikachuk) ², Legal Department, Tanana Chiefs Conference, 122 First Avenue, Suite 600, Fairbanks, Alaska 99701, Phone: (907) 452-8251 ext. 3178, Fax: (907) 459-3953, E-mail: n/a, Alaska Region

Gulkana Village, Charelle Randall, ICWA Worker, P.O. Box 254, Gakona, Alaska 99586-0254, Phone: (907) 822-5363, Fax: (907) 822-3976, E-mail: icwa@gulkanacouncil.org, Alaska Region

Gwichyaa Gwichin (see Fort Yukon)

Healy Lake Village ¹, Jo Ann Polston, TFYS, 326 First Avenue, Fairbanks, Alaska 99701, Phone: (907) 876-0638, Fax: (907) 876-0639, E-mail: n/a, Alaska Region

Healy Lake Village ², Legal Department, Tanana Chiefs Conference, 122 First Avenue, Suite 600, Fairbanks, Alaska 99701, Phone: (907) 452-8251 ext. 3178, Fax: (907) 459-3953, E-mail: n/a, Alaska Region

Holikachuk (see Grayling)

Holy Cross Village ¹, Rebecca J. Turner, Tribal Family Youth Specialist, P.O. Box 191, Holy Cross, Alaska 99602, Phone: (907) 476-7249, Fax: (907) 476-7132, E-mail: n/a, Alaska Region

Holy Cross Village ², Legal Department, Tanana Chiefs Conference, 122 First Avenue, Suite 600, Fairbanks, Alaska 99701, Phone: (907) 452-8251 ext. 3177, Fax: (907) 459-3953, E-mail: n/a, Alaska Region

Hughes Village ¹, Elena Miranda Beatus, Tribal Family Youth Specialist, P.O. Box 45029, Hughes, Alaska 99745, Phone: (907) 889-2249, Fax: (907) 889-2252, E-mail: Elena.beatus@tananachiefsconference.org, Alaska Region

Hughes Village ², Legal Department, Tanana Chiefs Conference, 122 First Avenue, Suite 600, Fairbanks, Alaska 99701, Phone: (907) 452-8251 ext. 3178, Fax: (907) 459-3953, E-mail: n/a, Alaska Region

Huslia Village ¹, Cesa Sam, Tribal Family Youth Specialist/ICWA, P.O. Box 70, Huslia, Alaska 99746, Phone: (907) 829-2202, Fax: (907) 829-2214, E-mail: Eileen.jackson@tananachiefs.org, Alaska Region

Huslia Village ², Legal Department, Tanana Chiefs Conference, 122 First Avenue, Suite 600, Fairbanks, Alaska 99701, Phone: (907) 452-8251 ext. 3178, Fax: (907) 459-3953, E-mail: n/a, Alaska Region

Villiage of Iliamna ¹, Maria Anelon—Administrative Asst., P.O. Box 286, Iliamna, Alaska 99606, Phone: (907) 571-1246, Fax: (907) 571-1256, E-mail: n/a, Alaska Region

Villiage of Iliamna ², Children's Services Program Manager, Bristol Bay Native Association, P.O. Box 310, 1500 Kanakanak Road, Dillingham, Alaska 99576, Phone: (907) 842-4139, Fax: (907) 842-4106, E-mail: cnixon@bbna.com, Alaska Region

Village of Kaltag ¹, Marlene Madros, Tribal Family Youth Specialist, P.O. Box 129, Kaltag, Alaska 99748, Phone: (907) 534-2243, Fax: (907) 534-2264, E-mail: n/a, Alaska Region

Village of Kaltag ², Legal Department, Tanana Chiefs Conference, 122 First Avenue, Suite 600, Fairbanks, Alaska 99701, Phone: (907) 452-8251 ext. 3178, Fax: (907) 459-3953, E-mail: n/a, Alaska Region

Kenaitze Indian Tribe, Ms. Vide Van Velzor, ICWA Worker, 150 North Willow Avenue, Kenai, Alaska 99611, Phone: (907) 283-3633, Fax: (907) 283-3828, E-mail: vvanvelzor@kenaitze.org, Alaska Region

Native Village of Kluti-Kaah (Copper Center), Carl Pete, President, P.O. Box 68, Copper Center, Alaska 99573, Phone: (907) 822-5541, Fax: (907) 822-5130, E-mail: vkkadmin@cvinternet.net, Alaska Region

Knik Tribe, Geraldine Nicoli, ICWA Worker, P.O. Box 871565, Wasilla, Alaska 99687-1565, Phone: (907) 373-7991, Fax: (907) 373-2153, E-mail: gnicoli@kniktribe.org, Alaska Region

Koyukuk Native Village ¹, Sharon Pilot, TFYS/Tribal Family Youth Specialist, P.O. Box 109, Koyukuk, Alaska 99754, Phone: (907) 927-2253/2253, Fax: (907) 927-2220, E-mail: sharon.pilot@tananachiefs.org, Alaska Region

Koyukuk Native Village ², Legal Department, Tanana Chiefs Conference, 122 First Avenue, Suite 600, Fairbanks, Alaska 99701, Phone: (907) 452-8251 ext. 3178, Fax: (907) 459-3953, E-mail: n/a, Alaska Region

Lime Village, Tribal President, P.O. Box LVD, McGrath, Alaska 99627-8999, Phone: (907) 526-5236, Fax: (907) 526-5235, E-mail: n/a, Alaska Region

Louden (see Galena)

Manley Hot Springs Village ¹, Michelle James—TFYS, P.O. Box 105, Manley Hot Springs, Alaska 99756, Phone: (907) 672-3180/3177, Fax: (907) 672-3200, E-mail: n/a, Alaska Region

Manley Hot Springs Village ², Legal Department, Tanana Chiefs Conference, 122 First Avenue, Suite 600, Fairbanks, Alaska 99701, Phone: (907) 452-8251 ext. 3178, Fax: (907) 459-3953, E-mail: n/a, Alaska Region

McGrath Native Village ¹, Helen Vanderpool, Tribal Family and Youth Specialist, P.O. Box 134, McGrath, Alaska 99627, Phone: (907) 524-3023, Fax: (907) 524-3899, E-mail: helenvhf@mcgrathalaska.net, Alaska Region

McGrath Native Village ², Legal Department, Julia Webb, Tanana Chiefs Conference, 122 First Avenue, Suite 600, Fairbanks, Alaska 99701, Phone: (907) 452-8251 ext. 3178, Fax: (907) 459-3953, E-mail: juliewebb@tananachiefs.org, Alaska Region

Mentasta Traditional Council, Rachele Sanford, ICWA Program, P.O. Box 6019, Mentasta, Alaska 99780, Phone: (907) 291-2319, Fax: (907) 291-2305, E-mail: n/a, Alaska Region

Native Village of Minto ¹, Lou Ann Williams, Tribal Family Youth Specialist, P.O. Box 26, Minto, Alaska 99758, Phone: (907) 798-7007, Fax: (907) 798-7914, E-mail: n/a, Alaska Region

Native Village of Minto ², Legal Department, Tanana Chiefs Conference, 122 First Avenue, Suite 600, Fairbanks, Alaska 99701, Phone: (907) 452-8251 ext. 3178, Fax: (907) 459-3953, E-mail: n/a, Alaska Region

Nenana Native Association ¹, Nita M. Marks, Tribal Family Youth Specialist, P.O. Box 369, Nenana, Alaska 99760, Phone: (907) 832-5461 ext. 225, Fax: (907) 832-5447, E-mail: n/a, Alaska Region

Nenana Native Association ², Legal Department, Tanana Chiefs Conference, 122 First Avenue, Suite 600, Fairbanks, Alaska 99701, Phone: (907) 452-8251 ext. 3178, Fax: (907) 459-3953, E-mail: n/a, Alaska Region

Nikolai Village, Beverly Gregory, Tribal Administrator, Deborah Esai-Holm, Tribal Family Youth Specialist, P.O. Box 9105, Nikolai, Alaska 99691, Phone: (907) 293-2311, Fax: (907) 293-2481, E-mail: Beverly.gregory@tananachiefs.org, Alaska Region

Nikolai Village ², Legal Department, Tanana Chiefs Conference, 122 First Avenue, Suite 600, Fairbanks, Alaska 99701, Phone: (907) 452-8251 ext. 3178, Fax: (907) 459-3953, E-mail: n/a, Alaska Region

Ninilchik Village, Margaret “Augie” Kochuten, ICWA Specialist, P.O. Box 39444, Ninilchik, Alaska 99669, Phone: (907) 567-3313 ext. 1010, Fax: (907) 567-3354, E-mail: augie@ninilchiktribe-nsn.gov, Alaska Region

Nondalton Village ¹, Fawn Silas, Acting Administrator, P.O. Box 49, Nondalton, Alaska 99640-0049, Phone: (907) 294-2257, Fax: (907) 294-2271, E-mail: n/a, Alaska Region

Nondalton Village ², Children's Services Program Manager, Bristol Bay Native Association, P.O. Box 310, 1500 Kanakanak Road, Dillingham, AK 99559, Phone: (907) 842-4139, Fax: (907) 842-4106, E-mail: cnixon@bbna.com, Alaska Region

Northway Village, Vicky Nollner, ICWA Coordinator, Belinda Thomas, ICWA Coordinator/Tribal Administrator, P.O. Box 516, Northway, Alaska 99764, Phone: (907) 778-2311, Fax: (907) 778-2220, E-mail: n/a, Alaska Region

Nulato Village ¹, Brittany Smith, Director of Human Services, P.O. Box 65049, Nulato, Alaska 99765, Phone: (907) 898-2329, Fax: (907) 898-2207, E-mail: paulmountain@tananachiefs.org, Alaska Region

Nulato Village ², Legal Department, Tanana Chiefs Conference, 122 First Avenue, Suite 600, Fairbanks, Alaska 99701, Phone: (907) 452-8251 ext. 3178, Fax: (907) 459-3953, E-mail: n/a, Alaska Region

Pedro Bay Village ¹, Verna Jean Kolyaha, Program Specialist II (ICWA), P.O. Box 47020, Pedro Bay, Alaska 99647-7020, Phone: (907) 850-2341, Fax: (907) 850-2221, E-mail: villagecouncil@pedrobay.com, Alaska Region

Pedro Bay Village ², Children's Services Program Manager, Bristol Bay Native Association, P.O. Box 310, 1500 Kanakanak Road, Dillingham, Alaska 99576, Phone: (907) 842-4139, Fax: (907) 842-4106, E-mail: cnixon@bbna.com, Alaska Region

Rampart Village ¹, Elaine Evans, Tribal Family Youth Specialist, P.O. Box 76029, Rampart, Alaska 99767, Phone: (907) 358-3312, Fax: (907) 358-3115, E-mail: n/a, Alaska Region

Rampart Village ², Legal Department, Tanana Chiefs Conference, 122 First Avenue, Suite 600, Fairbanks, Alaska 99701, Phone: (907) 452-8251 ext. 3178, Fax: (907) 459-3953, E-mail: n/a, Alaska Region

Native Village of Ruby ¹, Katherine Dozette, Tribal Family Youth Specialist, P.O. Box 117, Ruby, Alaska 99768, Phone: (907) 468-4479, Fax: (907) 468-4500, E-mail: n/a, Alaska Region

Native Village of Ruby ², Legal Department, Tanana Chiefs Conference, 122 First Avenue, Suite 600, Fairbanks, Alaska 99701, Phone: (907) 452-8251 ext. 3178, Fax: (907) 459-3953, E-mail: n/a, Alaska Region

Village of Salamatoff, Vide Van Velzor, ICWA Worker, 150 North Willow Avenue, Kenai, Alaska 99611, Phone: (907) 283-3633, Fax: (907) 283-3052, E-mail: vvanvelzor@kenaitze.org, Alaska Region

Shageluk Native Village ¹, Rebecca Wulf, TFYS, P.O. Box 109, Shageluk, Alaska 99665, Phone: (907) 473-8229, Fax: (907) 473-8275, E-mail: rebecca.wulf@tananachiefs.org, Alaska Region

Shageluk Native Village ², Legal Department, Tanana Chiefs Conference, 122 First Avenue, Suite 600, Fairbanks, Alaska 99701, Phone: (907) 452-8251 ext. 3178, Fax: (907) 459-3953, E-mail: n/a, Alaska Region

Native Village of Stevens ¹, Randy Mayo, 1st Chief/Administrator, P.O. Box 71372, Fairbanks, Alaska 99701, Phone: (907) 452-7162, Fax: (907) 452-5063, E-mail: n/a, Alaska Region

Native Village of Stevens ², Legal Department, Tanana Chiefs Conference, 122 First Avenue, Suite 600, Fairbanks, Alaska 99701, Phone: (907) 452-8251 ext. 3178, Fax: (907) 459-3953, E-mail: n/a, Alaska Region

Takotna Village ¹, Terry Huffman, Tribal Administrator, P.O. Box 7529, Takotna, Alaska 99675, Phone: (907) 298-2212, Fax: (907) 298-2314, E-mail: n/a, Alaska Region

Takotna Village ², Legal Department, Tanana Chiefs Conference, 122 First Avenue, Suite 600, Fairbanks, Alaska 99701, Phone: (907) 452-8251 ext. 3178, Fax: (907) 459-3953, E-mail: n/a, Alaska Region

Native Village of Tanacross ¹, Dawn Demit, Tribal Family Youth Specialist, P.O. Box 76009, Tanacross, Alaska 99776, Phone: (907) 883-5024 ext. 122, Fax: (907) 883-4497, E-mail: n/a, Alaska Region

Native Village of Tanacross ², Tanana Chiefs Conference, Legal Department, 122 First Avenue, Suite 600, Fairbanks, Alaska 99701, Phone: (907) 452-8251, Fax: (907) 459-3953, E-mail: n/a, Alaska Region

Native Village of Tanana, Donna May Folger, ICWA/TFYS Agent, P.O. Box 77130, Tanana, Alaska 99777, Phone: (907) 366-7154/7170, Fax: (907) 366-7229, E-mail: n/a, Alaska Region

Native Village of Tazlina, Marce Simeon, ICWA Coordinator, P.O. Box 87, Glennallen, Alaska 99588, Phone: (907) 822-4375, Fax: (907) 822-5865, E-mail: marce@cvinternet.net, Alaska Region

Telida Village ¹, Jo Royal, Tribal Family Youth Specialist, P.O. Box 84771, Fairbanks, Alaska 99708, Phone: (907) 864-0629, Fax: (907) 376-3540, E-mail: n/a, Alaska Region

Telida Village ², Legal Department, Tanana Chiefs Conference, 122 First Avenue, Suite 600, Fairbanks, Alaska 99701, Phone: (907) 452-8251 ext. 3178, Fax: (907) 459-3953, E-mail: n/a, Alaska Region

Native Village of Tetlin ¹, Kristie Young, Tribal Administrator, Nettie Warbelow, Tribal Family Youth Specialist, P.O. Box 797, Tok, Alaska 99780, Phone: (907) 883-2021, Fax: (907) 883-1267, E-mail: nwarbelow@acsalaska.net, Alaska Region

Native Village of Tetlin ², Legal Department, Tanana Chiefs Conference, 122 First Avenue, Suite 600, Fairbanks, Alaska 99701, Phone: (907) 452-8251 ext. 3178, Fax: (907) 459-3953, E-mail: n/a, Alaska Region

The Native Village of Tyonek, Arthur Standifer, ICWA Worker, P.O. Box 82009, Tyonek, Alaska 99682, Phone: (907) 583-2209, Fax: (907) 583-2209, E-mail: Arthur_s@tyonek.net, Alaska Region

Native Village of Venetie Tribal Government ¹, Bertha Tritt, Tribal Family Youth Specialist, P.O. Box 81080, Venetie, Alaska 99781, Phone: (907) 849-8291, Fax: (907) 849-8097, E-mail: n/a, Alaska Region

Native Village of Venetie Tribal Government ², Legal Department, Tanana Chiefs Conference, 122 First Avenue, Suite 600, Fairbanks, Alaska 99701, Phone: (907) 452-8251 ext. 3178, Fax: (907) 459-3953, E-mail: n/a, Alaska Region

Haida Indian (see Tlingit)

Central Council of the Tlingit and Haida Indian Tribes, Leonora Florendo, ICWA Coordinator, 320 W. Willoughby Avenue, Suite 300, Juneau, Alaska 99801-9983, Phone: (907) 463-7163, Fax: (907) 463-7343, E-mail: lflorendo@ccthita.org, Alaska Region

Haida Indian

Hydaburg Cooperative Association, Jerrilynn Fowler, Human Services Director, P.O. Box 349, Hydaburg, Alaska 99922, Phone: (907) 285-3666, Fax: (907) 285-3541, E-mail: n/a, Alaska Region

Organized Village of Kasaan, Paula R. Peterson, Tribal Administrator, P.O. Box 26-KXA, Kasaan-Ketchikan, Alaska 99950, Phone: (907) 542-2230, Fax; (907) 542-3006, E-mail: Paula@kasaan.org, Alaska Region

Inupiaq Eskimo

Native Village of Ambler, Carol B. Cleveland, ICWA Coordinator, Box 86047, Ambler, Alaska 99786, Phone: (907) 445-2189, Fax: (907) 445-2257, E-mail: icwa@ivisaappaat.org, Alaska Region

Village of Anaktuvuk Pass ¹, Tribal President, P.O. Box 21065, Anaktuvuk Pass, Alaska 99721, Phone: (907) 661-2575, Fax: (907) 661-2576, E-mail: n/a, Alaska Region

Village of Anaktuvuk Pass ², Dalles Lee Brower, Voc Rehab Director, Inupiat Community of the Arctic Slope, P.O. Box 934, Barrow, Alaska 99723, Phone: (907) 852-2448, Fax: (907) 852-2449, E-mail: casvr@gci.net, Alaska Region

Atqasuk Village (Atkasook) ¹, Candace Itta, President, P.O. Box 91108, Atqasuk, Alaska 99791, Phone: (907) 633-2575, Fax: (907) 633-2576, E-mail: icastaq@astacalaska.net, Alaska Region

Atqasuk Village (Atkasook) ², Arctic Slope Native Association, Maude Hopson, ICWA Worker, P.O. Box 1232, Barrow, Alaska 99723, Phone: (907) 852-9374, Fax: (907) 852-2761, E-mail: maude.hopson@arcticslope.org, Alaska Region

Native Village of Barrow Inupiat Traditional Government, Edith Kaleak, Social Services Director, P.O. Box 1130, Barrow, Alaska 99723, Phone: (907) 852-4411, Direct Line: (907) 852-8909, Fax: (907) 852-4413, E-mail: ekaleak@nvbarrow.net, Alaska Region

Native Village of Brevig Mission, Linda M. Divers, Tribal Family Coordinator, P.O. Box 85039, Brevig Mission, Alaska 99785, Phone: (907) 642-3012, Fax: (907) 642-3042, E-mail: linda@kawerak.org, Alaska Region

Native Village of Buckland, Lani Hadley, ICWA Coordinator, P.O. Box 67, Buckland, Alaska 99727-0067, Phone: (907) 494-2169, Fax: (907) 494-2168, E-mail: n/a, Alaska Region

Native Village of Council, Tribal President and ICWA Coordinator, P.O. Box 2050, Nome, Alaska 99762, Phone: (907) 443-7649, Fax: (907) 443-5965, E-mail: n/a, Alaska Region

Native Village of Deering, Bonita Barr, Tribal Administrator, P.O. Box 36089, Deering, Alaska 99763, Phone: (907) 363-2138, Fax: (907) 363-2195, E-mail: tribeadmin@ipnatchiag.org, Alaska Region

Native Village of Elim, Joseph H. Murray, Tribal Family Coordinator, P.O. Box 39070, Elim, Alaska 99739, Phone: (907) 890-2457, Fax: (907) 890-2458, E-mail: jmurrayjr@kawerak.org, Alaska Region

Inupiat Community of Arctic Slope, Price Leavitt, CEO, P.O. Box 934, Barrow, Alaska 99723, Phone: (907) 852-4227, Fax: (907) 852-4068/4246, E-mail: icas.social@barrow.com, Alaska Region

Kaktovik Village (aka Barter Island) ¹, Isaac Akootchook, President, P.O. Box 73, Kaktovik, Alaska 99747, Phone: (907) 640-2042, Fax: (907) 640-2044, E-mail: n/a, Alaska Region

Kaktovik Village (aka Barter Island) ², Arctic Slope Native Association, Maude Hopson, ICWA Worker, P.O. Box 1232, Barrow, Alaska 99723, Phone: (907) 852-9374, Fax: (907) 852-2761, E-mail: maude.hopson@arcticslope.org, Alaska Region

Native Village of Kiana, Gloria Shellabarger, Tribe Director, P.O. Box 69, Kiana, Alaska 99749, Phone: (907) 475-2109, Fax: (907) 475-2180, E-mail: icwa@katyaaq.org or, tribedirector@katyaaq.org, Alaska Region

King Island Native Community, Rosealee Quanlin, Tribal Family Coordinator, P.O. Box 682, Nome, Alaska 99762, Phone: (907) 443-5181, Fax: (907) 443-8049, E-mail: vquanlin@kawerak.org, Alaska Region

Native Village of Kivalina ¹, Millie Hawley, President, P.O. Box 50051, Kivalina, Alaska 99750, Phone: (907) 645-2153, Fax: (907) 645-2193/2250, E-mail: n/a, Alaska Region

Native Village of Kivalina ², Jackie Hill, Maniilaq Association, P.O. Box 256, Kotzebue, Alaska 99752, Phone: (907) 442-7919, Fax: (907) 442-7933, E-mail: n/a, Alaska Region

Native Village of Kobuk, Agnes Bernhardt, Tribal Administrator, P.O. Box 51039, Kobuk, Alaska 99751-0039, Phone: (907) 948-2203, Fax: 9907) 948-2355, E-mail: tribeadmin@laugvik.org, Alaska Region

Native Village of Kotzebue, Clara Henry, Family Tribal Resource Director, P.O. Box 296, Kotzebue, Alaska 99752-0296, Phone: (907) 442-3467 Ext: 1021, Fax: (907) 442-4013, E-mail: clara.henry@qira.org, Alaska Region

Native Village of Koyuk, Leo M. Charles Sr., Tribal Family Coordinator, P.O. Box 53149, Koyuk, Alaska 99753, Phone: (907) 963-2215, Fax: (907) 963-2300, E-mail: lcharles@kawerak.org, Alaska Region

Native Village of Mary's Igloo, Dolly Kugzruk, ICWA Worker/Kawerak Inc., P.O. Box 546, Teller, Alaska 99778, Phone: (907) 642-2185, Fax: (907) 642-3000, E-mail: dkugzruk@kawerak.org, Alaska Region

Native Village of Noatak, Benjamin D. Arnold, ICWA Worker, P.O. Box 89, Noatak, Alaska 99761, Phone: (907) 485-2176, Fax: (907) 485-2137, E-mail: icwa@nautaag.org, Alaska Region

Nome Eskimo Community, Jason D. Floyd, LBSW, Family Services Director, P.O. Box 1090, Nome, Alaska 99762-1090, Phone: (907) 443-2246, Fax: (907) 443-9140, E-mail: jfloyd@gci.net, Alaska Region

Noorvik Native Community ¹, Hendy S. Ballot Sr., Administrator, P.O. Box 209, Noorvik, Alaska 99763, Phone: (907) 636-2144, Fax: (907) 636-2284, E-mail: tribemanager@nuurvik.org, Alaska Region

Noorvik Native Community ², Jackie Hill, Maniilaq Association, P.O. Box 256, Kotzebue, Alaska 99752, Phone: (907) 442-7919, Fax: (907) 442-7933, E-mail: n/a, Alaska Region

Native Village of Nuiqsut (aka Nooiksut) ¹, Sheila K. Baker, Tribal Administrator, P.O. Box 89169, Nuiqsut, Alaska 99789, Phone: (907) 480-3010, Fax: (907) 480-3009, E-mail: tanvn@astacalaska.net, Alaska Region

Native Village of Nuiqsut (aka Nooiksut) ², Arctic Slope Native Association, Maude Hopson, ICWA Worker, P.O. Box 1232, Barrow, Alaska 99723, Phone: (907) 852-9374, Fax: (907) 852-2761, E-mail: maude.hopson@arcticslope.org, Alaska Region

Native Village of Point Hope, Martha Douglas, Family Caseworker, Lily Tuzroyluke, Tribal Director, P.O. Box 109, Point Hope, AK 99766, Phone: (907) 368-2330, Fax: (907) 368-2332, E-mail: Martha.douglas@tikigaq.org; lilyh.tuzroyluke@tikigaq.org, Alaska Region

Native Village of Point Lay ¹, Sophie Henry, IRA Council Board Member/Village Liaison, Box 59031, Point Lay, Alaska 99757, Phone: (907) 833-2575, Fax: (907) 833-2576, E-mail: n/a, Alaska Region

Native Village of Point Lay ², Delles Lee Brower, Voc Rebab Director, Inupiat Community of the Arctic Slope, P.O. Box 934, 6986 Ahmaogak Street, Barrow, Alaska 99723, Phone: (907) 852-2448, Fax: (907) 852-2449, E-mail: icasvr@gci.net, Alaska Region

Native Village of Selawik, Tribal President, P.O. Box 59, Selawik, Alaska 99770-0059, Phone: (907) 484-2165 ext. 14, Fax: (907) 484-2226, E-mail: tribeadmin@akuligaq.org, Alaska Region

Native Village of Shaktoolik, Tribal President and Tribal Administrator, P.O. Box 100, Shaktoolik, Alaska 99771, Phone: (907) 955-2444, Fax: (907) 955-2443, E-mail: n/a, Alaska Region

Native Village of Shishmaref, Karla Nayokpuk, Tribal Family Coordinator, P.O. Box 72110, Shishmaref, Alaska 99772, Phone: (907) 649-3078, Fax: (907) 649-2278, E-mail: knayokpuk@kawerak.org, Alaska Region

Native Village of Shungnak, Kathleen J. Custer, ICWA Coordinator, P.O. Box 64, Shungnak, Alaska 99773, Phone: (907) 437-2163, Fax: (907) 437-2183, E-mail: n/a, Alaska Region

Village of Solomon, Lorlie Shield, ICWA Coordinator, P.O. Box 2053, Nome, Alaska 99762, Phone: (907) 443-4985, Fax: (907) 443-5189, E-mail: tc.sol@kawerak.org, Alaska Region

Native Village of Teller (Mary's Igloo), Dolly Kugzruk, ICWA Worker/Kawerak Inc., P.O. Box 546, Teller, Alaska 99778, Phone: (907) 642-2185, Fax: (907) 642-3000, E-mail: dkugzruk@kawerak.org, Alaska Region

Native Village of Unalakleet, Laverne Anagick, Tribal Family Coordinator, P.O. Box 357, Unalakleet, Alaska 99684, Phone: (907) 624-3526, Fax: (907) 624-5104, E-mail: tfc.unk@kawerak.org, Alaska Region

Village of Wainwright ¹, June Childress, President, P.O. Box 143, Wainwright, Alaska 99782, Phone: (907) 763-2535, Fax: (907) 763-2536, E-mail: junechildress@arcticslope.org, Alaska Region

Village of Wainwright ², Arctic Slope Native Association, Maude Hopson, ICWA Worker, P.O. Box 1232, Barrow, Alaska 99723, Phone: (907) 852-9374, Fax: (907) 852-2761, E-mail: maudehopson@arcticslope.org; icwa@arcticslope.org, Alaska Region

Native Village of Wales, Anna M. Oxereok, Tribal Family Coordinator, P.O. Box 549, Wales, Alaska 99783, Phone: (907) 664-2185, Fax: (907) 664-2200/3062, E-mail: aoxereok@kawerak.org, Alaska Region

Native Village of White Mountain, Charice Brown, Tribal Family Coordinator, P.O. Box 85, White Mountain, Alaska 99784, Phone: (907) 638-2008, Fax: (907) 638-2009, E-mail: tfc@wmo@kawerak.org, Alaska Region

Tlingit Indian

Angoon Community Association, Marlene F. Zuboff, ICWA/Social Services Manager, P.O. Box 328, Angoon, Alaska 99820, Phone: (907) 788-3411, Fax: (907) 788-3412, E-mail: mzuboff@ccthita.org, Alaska Region

Tlingit Indian (see Haida)

Central Council of the Tlingit and Haida Indian Tribes, Leonora Florendo, ICWA Coordinator, 320 W. Willoughby Avenue, Suite 300, Juneau, Alaska 99801-9983, Phone: (907) 463-7163, Fax: (907) 463-7343, E-mail: lflorendo@ccthita.org, Alaska Region

Tlingit Indian

Chilkat Indian Village (Klukwan), Anna Stevens, Tribal Service Specialist/ICWA Worker, P.O. Box 2207, Haines, Alaska 99827, Phone: (907) 767-5505, Fax: (907) 767-5518, astevens@chilkatindianvillage.org, Alaska Region

Chilkoot Indian Association (Haines), David Berry, Tribal President, P.O. Box 490, Haines, AK 99827, Phone: (907) 766-2323, Fax: (907) 766-2365, E-mail: daveberry@aptalaska.net, Stella Howard, Family Caseworker, P.O. Box 624, Haines, Alaska 99827, Phone: (907) 766-2810, Fax: (907) 766-2845, E-mail: showard@ccthita.org, Alaska Region

Craig Community Association, Cynthia Mills, Family Caseworker II, P.O. Box 746, Craig, Alaska 99921, Phone: (907) 826-3948, Fax: (907) 826-5526, E-mail: n/a, Alaska Region

Douglas Indian Association, Dixon J. Mazon, Caseworker, 3161 Channel Dr. Ste. 1-A, Juneau, Alaska 99801, Phone: (907) 364-2983, Fax: (907) 364-2917, E-mail: djmazon-dia@gci.net, Alaska Region

Haines (see Chilkoot Indian Association)

Hoonah Indian Association, Hattie Dalton, Director of Human Services, P.O. Box 602, Hoonah, Alaska 99829, Phone: (907) 945-3545, Fax: (907) 945-3530, E-mail: hdalton@hiatribe.org, Alaska Region

Organized Village of Kake, M. Ann Jackson, Social Services Director, P.O. Box 316, Kake, Alaska 99830, Phone: (907) 785-6471, Fax: (907) 785-4902, E-mail: annjackson@kakefirstnation.org, Alaska Region

Ketchikan Indian Corporation, Wendy Weston, MSW, ICWA Representative, 2960 Tongass Avenue, First Floor, Ketchikan, Alaska 99901, Phone: (907) 228-4917, Fax: (907) 228-4920, E-mail: wweston@kictribe.org, Alaska Region

Klawock Cooperative Association, Henrietta Kato, Family Caseworker III/Field Supervisor, P.O. Box 173, Klawock, Alaska 99925, Phone: (907) 755-2326, Fax: (907) 755-2647, E-mail: hkato@ccthita.org, Alaska Region

Klukwan (see Chilkat Indian Village)

Petersburg Indian Association, Ramona Brooks, ICWA Worker Tribal Social Services, P.O. Box 1418, Petersburg, Alaska 99833, Phone: (907) 772-3636, Fax: (907) 722-3686, E-mail: icwa@piatribal.org, Alaska Region

Organized Village of Saxman, Janice Jackson, Family Caseworker II, Central Council Tlingit & Haida Indian tribes of Alaska, Route 2, Box 2, Ketchikan, Alaska 99901, Phone: (907) 225-2502 Ext: 27, Fax: (907) 247-2912, E-mail: jjackson@ccthita.org, Alaska Region

Sitka Tribe of Alaska, Terri McGraw—ICWA Caseworker, Louise Brady, Social Service Director, Jackie DeBell—ICWA Caseworker, Peg Blumer, Tribal Family Caseworker, 456 Katlian Street, Sitka, Alaska 99835, Phone: (907) 747-3501, Fax: (907) 747-7643, E-mail: terri.mcgraw@sitkatribe-nsn.gov, Louise.brady@sitkatribe-nsn.gov, Jackie.debell@sitkatribe-nsn.gov, Peg.blumer@sitkatribe-nsn.gov, Alaska Region

Skagway Village ¹, Delia Commander, Tribal President/Administrator, P.O. Box 1157, Skagway, Alaska 99840, Phone: (907) 983-4068, Fax: (907) 983-3068, E-mail: dcommander@skagwaytraditional.org, Alaska Region

Skagway Village ², Indian Child Welfare Coordinator, Central Council Tlingit and Haida Indian Tribes of Alaska, 320 W. Willoughby, Suite 300, Juneau, Alaska 99801, Phone: (907) 463-7148, Fax: (907) 463-7343, E-mail: mdoyle@ccthita.org, Alaska Region

Wrangell Cooperative Association, Elizabeth Newman, Family Caseworker II, P.O. Box 1198, Wrangell, Alaska 99929, Phone: (907) 874-3482, Fax: (907) 874-2982, E-mail: bnewman@ccthita.org, Alaska Region

Yakutat Tlingit Tribe, Sheri Nelson, JOM/ICWA Director, P.O. Box 418, Yakutat, Alaska 99689, Phone: (907) 784-3124, Fax: (907) 784-3664, E-mail: snelson@ytttribe.org, Alaska Region

Tsimshian Indian

Metlakatla Indian Community, (Annette Island Reserve), Marge Edais-Yeltatzie, Director Social Services Children's Mental Health ICWA Representative, P.O. Box 85, Metlakatala, Alaska 99926, Phone: (907) 886-6911, Fax: (907) 886-6913, E-mail: marge@msscmh.org, Northwest Region

Yupik Eskimo

Akiachak Native Community, Georgiann Wassilie, Tribal Family Services, P.O. Box 51070, Akiachak, Alaska 99551-0070, Phone: (907) 825-4626/4073, Fax: (907) 825-4029, E-mail: n/a, Alaska Region

Akiak Native Community, Sheila Williams, Tribal Administrator, Andrea Jasper, ICWA Worker, P.O. Box 52127, Akiak, Alaska 99552, Phone: (907) 765-7112/7117, Fax: (907) 765-7512, E-mail: n/a, Alaska Region

Village of Alakanuk, Charlene Smith or Daisy Lamont, ICWA Specialist/CFSS-ICWA, P.O. Box 149, Alakanuk, Alaska 99554, Phone: (907) 238-3704/3730, Fax: (907) 238-3705, E-mail: csmith@avcp.org, dlamont@avcp.org, AVCP ICWA Staff, Association of Village Council Presidents, ICWA Staff, P.O. Box 219, Bethel, Alaska 99559, Phone: (907) 543-7300, Fax: (907) 543-5759, E-mail: icwa@avcp.org, Alaska Region

Native Village of Aleknagik ¹, Jane Gottschalk, Caseworker II, P.O. Box 115, Aleknagik, Alaska 99555, Phone: (907) 842-4577, Fax: (907) 842-2229, E-mail: n/a, Alaska Region

Native Village of Aleknagik ², Children's Services Program Manager, Bristol Bay Native Association, P.O. Box 310, 1500 Kanakanak Road, Dillingham, Alaska 99576, Phone: (907) 842-4139, Fax: (907) 842-4106, E-mail: cnixon@bbna.com, Alaska Region

Algaaciq Native Village (St. Mary's) ¹, Gertrude Paukan, ICWA Caseworker, P.O. Box 48, 200 Paukan Avenue, St. Mary's, Alaska 99658-0048, Phone: (907) 438-2932/2933, Fax: (907) 438-2227, E-mail: gpaukan@avcp.org, Alaska Region

Algaaciq Native Village (St. Mary's) ², Association of Village Council Presidents, ICWA Staff, P.O. Box 219, Bethel, Alaska 99559, Phone: (907) 543-7300, Fax: (907) 543-5759, E-mail: icwa@avcp.org, Alaska Region

Yupiit of Andreafski, Tribal Administrator, P.O. Box 88, St. Mary's, Alaska 99658-0088, Phone: (907) 438-2572, Fax: (907) 438-2573, E-mail: n/a, Alaska Region

Village of Aniak, Muriel Morgan, ICWA Worker, Box 349, Aniak, Alaska 99557, Phone: (907) 675-4349, Fax: (907) 675-4513, E-mail: n/a, Alaska Region

Asa'carsarmiut Tribe, James C. Landlord, Tribal Administrator, P.O. Box 32249, Mountain Village, Alaska 99632, Phone: (907) 591-2815, Fax: (907) 591-2811, E-mail: n/a, Evelyn D. Peterson, Social Services Director, Asastasia Larson, P.O. Box 32107, Mountain Village, Alaska 99632, Phone: (907) 591-2428, Fax: (907) 591-2934, E-mail: atcicwa@gci.net, Alaska Region

Village of Atmautluak, Moses Pavilla Sr., Tribal Judge, Melvina Nicholai, ICWA Worker, Nicholai O. Pavilla Sr., Vice-President, P.O. Box 6568, Atmautluak, Alaska 99559, Phone: (907) 553-5610/5510, Fax: (907) 553-561-5150, E-mail: atmautluaktc@hughes.net, Alaska Region

Village of Bill Moore's Slough, Nancy C. Andrews, ICWA Family Specialist, Pauline Okitkun, Tribal Administrator, P.O. Box 20288, Kotlik, Alaska 99620, Phone: (907) 899-4236/(907) 899-4232, Fax: (907) 899-4002/(907) 899-4461, E-mail: n/a, Alaska Region

Village of Chefornak ¹, Edward Kinegak, ICWA Specialist, P.O. Box 110, Chefornak, Alaska 99561-0110, Phone: (907) 867-8808, Fax: (907) 867-8711, E-mail: ekinegak@avcp.org, Alaska Region

Village of Chefornak ², Association of Village Council Presidents, ICWA Staff, P.O. Box 219, Bethel, Alaska 99559, Phone: (907) 543-7300, Fax: (907) 543-5759, E-mail: icwa@avcp.org, Alaska Region

Chevak Native Village, (aka Qissunamiut Tribe) ¹, Esther Friday, ICWA Director/Worker, P.O. Box 140, Chevak, Alaska 99563, Phone: (907) 858-7918, Fax: (907) 858-7919, E-mail: n/a, Alaska Region

Chevak Native Village, (aka Qissunamiut Tribe) ², Association of Village Council Presidents, ICWA Staff, P.O. Box 219, Bethel, Alaska 99559, Phone: (907) 543-7300, Fax: (907) 543-5759, E-mail: icwa@avcp.org, Alaska Region

Chinik Eskimo Community (Golovin), Sherri Lewis, Tribal Family Coordinator, P.O. Box 62019, Golovin, Alaska 99762, Phone: (907) 779-3489, Fax: (907) 779-2000, E-mail: slewis@kawerak.org, Alaska Region

Native Village of Chuathbaluk, Tribal President, P.O. Box CHU, Chuathbaluk, Alaska 99557, Phone: (907) 467-4323/4313, Fax: (907) 467-4113/4311, E-mail: n/a, Alaska Region

Chuloonawick Native Village, LaVerne Manumik, Tribal Administrator, P.O. Box 245, Emmonak, Alaska 99581, Phone: (907) 949-1341/1345, Fax: (907) 949-1346, E-mail: coffice@starband.net, Alaska Region

Village of Clarks Point ¹, Harry Wassily Sr., Tribal President, P.O. Box 90, Clarks Point, Alaska 99569, Phone: (907) 236-1427/1435, Fax: (907) 236-1428, E-mail: sharonclark@starband.net, Alaska Region

Village of Clarks Point ², Children's Services Program Manager, Bristol Bay Native Association, P.O. Box 310, 1500 Kanakanak Road, Dillingham, Alaska 99576, Phone: (907) 842-4139, Fax: (907) 842-4106, E-mail: cnixon@bbna.com, Alaska Region

Village of Crooked Creek, Lorraine John, ICWA Worker, P.O. Box 69, Crooked Creek, Alaska 99575, Phone: (907) 432-2200, Fax: (907) 432-2201, E-mail: bbcc@starband.net, Alaska Region

Curyung Tribal Council, (Native Village of Dillingham) ¹, Chris Itumulria, Tribal Children Service Worker, P.O. Box 216, Dillingham, Alaska 99576, Phone: (907) 842-4508, Fax: (907) 842-4510, E-mail: chris@curyungtribe.com, Alaska Region

Curyung Tribal Council, (Native Village of Dillingham) ², Children's Services Program Manager, Bristol Bay Native Association, P.O. Box 310, 1500 Kanakanak Road, Dillingham, Alaska 99576, Phone: (907) 842-4139, Fax: (907) 842-4106, E-mail: cnixon@bbna.com, Alaska Region

Dillingham (see Curyung Tribal Council)

Native Village of Diomede (aka Inalik), Arthur Ahkinga, Acting Tribal Family Service Coordinator, P.O. Box 7079, Diomede, Alaska 99762, Phone: (907) 686-2202/2175, Fax: (907) 686-2203, fozenna@kawerak.org, Alaska Region

Native Village of Eek ¹, Lillian Cleveland, ICWA Worker, P.O. Box 89, Eek, Alaska 99578, Phone: (907) 536-5572, Fax: (907) 536-5711, E-mail: lcleveland@avcp.org, Alaska Region

Native Village of Eek ², Association of Village Council Presidents, ICWA Staff, P.O. Box 219, Bethel, Alaska 99559, Phone: (907) 543-7300, Fax: (907) 543-5759, E-mail: icwa@avcp.org, Alaska Region

Native Village of Ekuk ¹, Helen Foster, Tribal Administrator, 300 Main Street, P.O. Box 530, Dillingham, Alaska 99576, Phone: (907) 842-3842, Fax: (907) 842-3843, E-mail: n/a, Alaska Region

Native Village of Ekuk ², Children's Services Program Manager, Bristol Bay Native Association, P.O. Box 310, 1500 Kanakanak Road, Dillingham, Alaska 99576, Phone: (907) 842-4139, Fax: (907) 842-4106, E-mail: cnixon@bbna.com, Alaska Region

Ekwok Village ¹, Sandra Stermer, Tribal Children Service Worker, P.O. Box 70, Ekwok, Alaska 99580, Phone: (907) 464-3349, Fax: (907) 464-3350, E-mail: n/a, Alaska Region

Ekwok Village ², Children's Services Program Manager, Bristol Bay Native Association, P.O. Box 310, 1500 Kanakanak Road, Dillingham, Alaska 99576, Phone: (907) 842-4139, Fax: (907) 842-4106, E-mail: cnixon@bbna.com, Alaska Region

Emmonak Village, Priscilla S. Kameroff—ICWA Specialist, P.O. Box 126, Emmonak, Alaska 99581-0126, Phone: (907) 949-1820/1720, Fax: (907) 949-1384, E-mail: icwa@hughes.net and, emktribal@hughes.net, Alaska Region

Fortuna Ledge (see Native Village of Marshall)

Native Village of Council, Tribal President and ICWA Coordinator, P.O. Box 2050, Nome, AK 99762, Phone: (907) 443-7649, Fax: (907) 443-5965, E-mail: council@alaska.com, Alaska Region

Native Village of Gambell, Tyler Campbell Sr., ICWA Coordinator, P.O. Box 90, Gambell, Alaska 99742, Phone: (907) 985-5346, Fax: (907) 985-5014, E-mail: n/a, Alaska Region

Native Village of Georgetown, Amber Matthews, Tribal Administrator, 4300 B Street, Suite 207, Anchorage, Alaska 99503, Phone: (907) 274-2195, Fax: (907) 274-2196, E-mail: gtc@gci.net, Alaska Region

Golovin (see Chinik Eskimo Community)

Native Village of Goodnews Bay, Pauline A. Echuck, ICWA, P.O. Box 138, Goodnews Bay, Alaska 99589, Phone: (907) 967-8331/8929, Fax: (907) 967-8330, E-mail: n/a, Alaska Region

Native Village of Hamilton, Irene R.K. Williams, Tribal Administrator, P.O. Box 20248, Kotlik, Alaska 99620-0248, Phone: (907) 899-4252/4255, Fax: (907) 899-4202, E-mail: iwilliams@avcp.org, Alaska Region

Native Village of Hopper Bay ¹, Mildred B. Metcalf, ICWA Representative, P.O. Box 62, Hooper Bay, Alaska 99604, Phone: (907) 758-4068/4006, Fax: (907) 758-4066/4606, E-mail: n/a, Alaska Region

Native Village of Hopper Bay ², Association of Village Council Presidents, ICWA Staff, P.O. Box 219, Bethel, Alaska 99559, Phone: (907) 543-7300, Fax: (907) 543-5759, E-mail: icwa@avcp.org, Alaska Region

Igiugig Village ¹, Tanya Salmon, ICWA Worker, P.O. Box 4008, Igiugig, Alaska 996013, Phone: (907) 533-3211, Fax: (907) 533-3217, E-mail: n/a, Alaska Region

Igiugig Village ², Children's Services Program Manager, Bristol Bay Native Association, P.O. Box 310, 1500 Kanakanak Road, Dillingham, Alaska 99576, Phone: (907) 842-4139, Fax: (907) 842-4106, E-mail: cnixon@bbna.com, Alaska Region

Iqurmuit Traditional Council ¹, Katie Nick, ICWA Coordinator, P.O. Box 09, Russian Mission, Alaska 99657-0009, Phone: (907) 584-5594, Fax: (907) 584-5596, E-mail: n/a, Alaska Region

Iqurmuit Traditional Council ², Association of Village Council Presidents, ICWA Staff, P.O. Box 219, Bethel, Alaska 99559, Phone: (907) 543-7300, Fax: (907) 543-5759, E-mail: icwa@avcp.org, Alaska Region

Village of Kalskag (aka Upper Kalskag) ¹, Bonnie Perrson, Administrator, P.O. Box 50, Upper Kalskag, Alaska 99607, Phone: (907) 471-2207, Fax: (907) 471-2399, E-mail: n/a, Alaska Region

Village of Kalskag (aka Upper Kalskag) ², Association of Village Council Presidents, ICWA Staff, P.O. Box 219, Bethel, Alaska 99559, Phone: (907) 543-7300, Fax: (907) 543-5759, E-mail: icwa@avcp.org, Alaska Region

Village of Lower Kalskag ¹, Bernice Wise, Community Family Service Specialist, P.O. Box 27, Lower Kalskag, Alaska 99626, Phone: (907) 471-2412, Fax: (907) 471-2412, E-mail: n/a, Alaska Region

Village of Lower Kalskag ², Association of Village Council Presidents, ICWA Staff, P.O. Box 219, Bethel, Alaska 99559, Phone: (907) 543-7300, Fax: (907) 543-5759, E-mail: icwa@avcp.org, Alaska Region

Kashunamiut Tribe (see Chevak)

Kasigluk Traditional Elders Council, (Formerly The Native Village of Kasigluk), Lena Keene, ICWA Worker, P.O. Box 19, Kasigluk, Alaska 99609, Phone: (907) 477-6418, Fax: (907) 477-6416, E-mail: n/a, Alaska Region

Native Village of Kipnuk ¹, Nicole A. Slim, ICWA Specialist, P.O. Box 57, Kipnuk, Alaska 99614, Phone: (907) 896-5515, Fax: (907) 896-5240, E-mail: nslim@avcp.org, Alaska Region

Native Village of Kipnuk ², Association of Village Council Presidents, ICWA Staff, P.O. Box 219, Bethel, Alaska 99559, Phone: (907) 543-7300, Fax: (907) 543-5759, E-mail: icwa@avcp.org, Alaska Region

Kokhanok Village ¹, Mary Andrew, Tribal Children Service Worker, P.O. Box 1007, Kokhanok, Alaska 99606, Phone: (907) 282-2224, Fax: (907) 282-2221, E-mail: n/a, Alaska Region

Kokhanok Village ², Children's Services Program Manager, Bristol Bay Native Association, P.O. Box 310, 1500 Kanakanak Road, Dillingham, Alaska 99576, Phone: (907) 842-4139, Fax: (907) 842-4106, E-mail: cnixon@bbna.com, Alaska Region

Koliganek Village (see New Koliganek)

Native Village of Kongiganak ¹, Janet Otto, ICWA Worker, Wayne Phillip, Tribal Administrator, P.O. Box 5092, Kongiganak, Alaska 99545, Phone: (907) 557-5311, Fax: (907) 557-5348, E-mail: janet_otto@avcp.org, Alaska Region

Native Village of Kongiganak ², Association of Village Council Presidents, ICWA Staff, P.O. Box 219, Bethel, Alaska 99559, Phone: (907) 543-7300, Fax: (907) 543-5759, E-mail: icwa@avcp.org, Alaska Region

Village of Kotlik ¹, Henrietta M. Teeluk, ICWA Worker, P.O. Box 20210, Kotlik, Alaska 99620, Phone: (907) 899-4459, Fax: (907) 899-4459/4790, E-mail: n/a, Alaska Region

Village of Kotlik ², Association of Village Council Presidents, ICWA Staff, P.O. Box 219, Bethel, Alaska 99559, Phone: (907) 543-7300, Fax: (907) 543-5759, E-mail: icwa@avcp.org, Alaska Region

Organized Village of Kwethluk, Chariton A. Epchook, ICWA Coordinator, P.O. Box 130, Kwethluk, Alaska 99621, Phone: (907) 588-8705, Fax: (907) 588-8429, E-mail: ovkssicw@unicom-alaska.com, Alaska Region

Native Village of Kwigillingok, Andrew Kiunya—Tribal Administrator, P.O. Box 90, Kwigillingok, Alaska 99622, Phone: (907) 588-8114/88117, Fax: (907) 588-8429, E-mail: n/a, Alaska Region

Native Village of Kwinhagak (aka Quinhagak), Grace Friendly, Health & Human Service Director/ICWA, P.O. Box 149, Quinhagak, Alaska 99655, Phone: (907) 556-8167 ext. 262, Fax: (907) 556-8340, E-mail: n/a, Alaska Region

Levelock Village ¹, Lucinda Tallekpalek, Tribal Children Service Worker, P.O. Box 70, Levelock, Alaska 99625, Phone: (907) 287-3030, Fax: (907) 287-3032, E-mail: lovelock@starband.net, Alaska Region

Levelock Village ², Children's Services Program Manager, Bristol Bay Native Association, P.O. Box 310, 1500 Kanakanak Road, Dillingham, Alaska 99576, Phone: (907) 842-4139, Fax: (907) 842-4106, E-mail: cnixon@bbna.com, Alaska Region

Manokotak Village ¹, Diana Gamechuk, Youth Activities Coordinator, P.O. Box 169, Manokotak, Alaska 99628, Phone: (907) 289-2067/2074, Fax: (907) 289-1235, E-mail: n/a, Alaska Region

Manokotak Village ², Children's Services Program Manager, Bristol Bay Native Association, P.O. Box 310, 1500 Kanakanak Road, Dillingham, Alaska 99576, Phone: (907) 842-4139, Fax: (907) 842-4106, E-mail: cnixon@bbna.com, Alaska Region

Native Village of Marshall, (aka Fortuna Ledge), Carmen Pitka, Social Service Director, Box 110, Marshall, Alaska 99585, Phone: (907) 679-6128, Fax: (907) 679-6187, E-mail: Carmen_pitkamlltc@gci.net, Alaska Region

Native Village of Mekoryuk, Patricia Williams, ICWA Worker, P.O. Box 66, Mekoryuk, Alaska 99630, Phone: (907) 827-8828, Fax: (907) 827-8133, E-mail: nvmicwa@gci.net, Alaska Region

Mountain Village (see Asa'carsarmiut Tribe)

Naknek Native Village ¹, Patrick E. Patterson Jr., Council President, P.O. Box 106, Naknek, Alaska 99633, Phone: (907) 246-4210, Fax: (907) 246-3563, E-mail: lkiana@gci.net or icwa@bristolbay.com, Alaska Region

Naknek Native Village ², Children's Services Program Manager, Bristol Bay Native Association, P.O. Box 310, 1500 Kanakanak Road, Dillingham, AK 99576, Phone: (907) 842-4139, Fax: (907) 842-4106, E-mail: cnixon@bbna.com, Alaska Region

Native Village of Napaimute ¹, Marcie Sherer, President, P.O. Box 1301, Bethel, Alaska 99559, Phone: (907) 543-2887, Fax: (907) 543-2892, E-mail: napaimute@starband.net, Alaska Region

Native Village of Napaimute ², Association of Village Council Presidents, ICWA Staff, P.O. Box 219, Bethel, Alaska 99559, Phone: (907) 543-7440, Fax: (907) 543-5759, E-mail: n/a, Alaska Region

Native Village of Napakiak ¹, Sally K. Billy, ICWA-CFSS, P.O. Box 34114, Napakiak, Alaska 99634, Phone: (907) 589-2815, Fax: (907) 589-2814, E-mail: sbilly@avcp.org, Alaska Region

Native Village of Napakiak ², Association of Village Council Presidents, ICWA Staff, P.O. Box 219, Bethel, Alaska 99559, Phone: (907) 543-7300, Fax: (907) 543-5759, E-mail: icwa@avcp.org, Alaska Region

Native Village of Napaskiak ¹, Helen Raganak—Tribal Administrator, Chris G. Larson—Chief, P.O. Box 6009, Napaskiak, Alaska 99559, Phone: (907) 737-7364, Fax: (907) 737-7845, E-mail: hkaganak@napaskiak.org, Alaska Region

Native Village of Napaskiak ², Association of Village Council Presidents, ICWA Staff, P.O. Box 219, Bethel, AK 99559, Phone: (907) 543-7300, Fax: (907) 543-5759, E-mail: icwa@avcp.org, Alaska Region

New Koliganek Village Council, (Koliganek Village) ¹, Sally Kayoukluk, Tribal Service Worker, P.O. Box 5026, Koliganek, Alaska 99576, Phone: (907) 596-3425, Fax: (907) 596-3462, E-mail: n/a, Alaska Region

New Koliganek Village Council, (Koliganek Village) ², Children's Services Program Manager, Bristol Bay Native Association, P.O. Box 310, 1500 Kanakanak Road, Dillingham, Alaska 99576, Phone: (907) 842-4139, Fax: (907) 842-4106, E-mail: cnixon@bbna.com, Alaska Region

New Stuyahok Village ¹, Wassillie Andrews, Tribal Administrator, P.O. Box 49, New Stuyahok, Alaska 99637, Phone: (907) 693-3102/3173, Fax: (907) 693-3179, E-mail: nstc@starband.net, Alaska Region

New Stuyahok Village ², Children's Services Program Manager, Bristol Bay Native Association, P.O. Box 310, 1500 Kanakanak Road, Dillingham, AK 99559, Phone: (907) 842-4139, Fax: (907) 842-4106, E-mail: cnixon@bbna.com, Alaska Region

Newhalen Village ¹, Maxine Wasillie—ICWA Worker, Joanne Wassillie—Administrator, P.O. Box 207, Newhalen, Alaska 99606-0207, Phone: (907) 571-1410/1317, Fax: (907) 571-1537, E-mail: n/a, Alaska Region

Newhalen Village ², Children's Services Program Manager, Bristol Bay Native Association, P.O. Box 310, 1500 Kanakanak Road, Dillingham, Alaska 99576, Phone: (907) 842-4139, Fax: (907) 842-4106, E-mail: cnixon@bbna.com, Alaska Region

Newtok Village, Stanley Tom, Tribal Administrator, P.O. Box 5545, Newtok, Alaska 99559-5545, Phone: (907) 237-2316, Fax: (907) 237-2428, E-mail: n/a, Alaska Region

Native Village of Nightmute ¹, Paul Tulik, Vice President, Box 90023, Nightmute, Alaska 99690, Phone: (907) 647-6215, Fax: (907) 647-6112, E-mail: n/a, Alaska Region

Native Village of Nightmute ², Association of Village Council Presidents, ICWA Staff, P.O. Box 219, Bethel, AK 99559, Phone: (907) 543-7300, Fax: (907) 543-5759, E-mail: icwa@avcp.org, Alaska Region

Nunakauyarmiut Tribe, (Native Village of Toksook Bay), Marcella White, ICWA Coordinator, P.O. Box 37048, Toksook Bay, Alaska 99637, Phone: (907) 427-7914, Fax: (907) 427-7206, E-mail: n/a, Alaska Region

Nunam Iqua (formerly Sheldon's Point) ¹, Roberta Murphy, Tribal Administrator, P.O. Box 27, Nunam Iqua, Alaska 99666, Phone: (907) 498-4184, Fax: (907) 498-4185, E-mail: n/a, Alaska Region

Nunam Iqua (formerly Sheldon's Point) ², Association of Village Council Presidents, ICWA Staff, P.O. Box 219, Bethel, Alaska 99559, Phone: (907) 543-7440, Fax: (907) 543-5759, E-mail: n/a, Alaska Region

Native Village of Nunapitchuk, Charlene Twitchell, Community Family Service Specialist/ICWA, P.O. Box 104, Nunapitchuk, Alaska 99641-0130, Phone: (907) 527-5731, Fax: (907) 527-5740, E-mail: n/a, Alaska Region

Village of Ohogamiut ¹, Nick P. Andrews Jr., Tribal Administrator, P.O. Box 49, Marshall, Alaska 99585, Phone: (907) 679-6517/6598, Fax: (907) 679-6516, E-mail: nandrew@gci.net, Alaska Region

Village of Ohogamiut ², Association of Village Council Presidents, ICWA Staff, P.O. Box 219, Bethel, AK 99559, Phone: (907) 543-7300, Fax: (907) 543-5759, E-mail: icwa@avcp.org, Alaska Region

Orutsararmuit Native Village (aka Bethel), Scott J. Hoffman, ICWA Advocate, P.O. Box 327, Bethel, Alaska 99559, Phone: (907) 543-2608, Fax: (907) 543-0520, E-mail: shoffman@nativecouncil.org, Alaska Region

Oscarville Traditional Village ¹, Andrew J. Larson Jr., ICWA/CFSS Worker, P.O. Box 6129, Napaskiak, Alaska 99559, Phone: (907) 737-7099, Fax: (907) 737-7428/7101, E-mail: n/a, Alaska Region

Oscarville Traditional Village ², Association of Village Council Presidents, ICWA Staff, P.O. Box 219, Bethel, Alaska 99559, Phone: (907) 543-7300, Fax: (907) 543-5759, E-mail: icwa@avcp.org, Alaska Region

Native Village of Paimiut, Agatha Napoleon, Clerk/Environmental Programs, P.O. Box 230, Hooper Bay, Alaska 99604, Phone: (907) 758-4002, Fax: (907) 758-4024, E-mail: paimiuttraditional@gci.net, Alaska Region

Pilot Station Traditional Village ¹, Nicky Myers, Traditional Council Member, P.O. Box 5119, Pilot Station, AK 99650, Phone: (907) 549-3373, Fax: (907) 549-3301, Alaska Region

Pilot Station Traditional Village ², Association of Village Council Presidents, ICWA Staff, P.O. Box 219, Bethel, Alaska 99559, Phone: (907) 543-7300, Fax: (907) 543-5759, E-mail: icwa@avcp.org, Alaska Region

Native Village of Pitka's Point, Thelma H. Wasky, Tribal Administrator, P.O. Box 127, St. Mary's, Alaska 99658, Phone: (907) 438-2833, Fax: (907) 438-2569, E-mail: n/a, Alaska Region

Platinum Traditional Village, Traditional President and ICWA Worker, P.O. Box 8, Platinum, Alaska 99651, Phone: (907) 979-8610, Fax: (907) 979-8178, E-mail: n/a, Alaska Region

Portage Creek Village (aka Ohgensakale) ¹, Mary Ann Johnson, Tribal Administrator, 1327 E. 72nd Ave., Unit B, Anchorage, Alaska 99508, Phone: (907) 277-1105, Fax: (907) 277-1104, E-mail: n/a, Alaska Region

Portage Creek Village (aka Ohgensakale) ², Children's Services Program Manager, Bristol Bay Native Association, P.O. Box 310, 1500 Kanakanak Road, Dillingham, Alaska 99576, Phone: (907) 842-4139, Fax: (907) 842-4106, E-mail: cnixon@bbna.com, Alaska Region

Quinhagak (see Kwinhagak)

Village of Red Devil ¹, Tribal Administrator, P.O. Box 27, Red Devil, Alaska 99656, Phone: (907) 447-3223, Fax: (907) 447-3224, E-mail: n/a, Alaska Region

Village of Red Devil ², Association of Village Council Presidents, ICWA Staff, P.O. Box 219, Bethel, Alaska 99559, Phone: (907) 543-7440, Fax: (907) 543-5759, E-mail: n/a, Alaska Region

Russian Mission (see Iqurmuit Traditional Council)

Native Village of Saint Michael, Diane Thompson, Tribal Family Coordinator, Shirley Martin, IRA President, P.O. Box 50, St. Michael, Alaska 99659, Phone: (907) 923-2304/2546, Fax: (907) 923-2406, E-mail: dthompson@kawerak.org, Smkpres07@gci.net, Alaska Region

Native Village of Savoonga, Peggy Akeya, IRA Council Secretary & ICWA Council Liaison, P.O. Box 34, Savoonga, Alaska 99769, Phone: (907) 984-6211, Fax: (907) 984-6156, E-mail: n/a, Alaska Region

Native Village of Scammon Bay ¹, Michelle Akerelrea, Community Family Service Specialist, P.O. Box 110, Scammon Bay, Alaska 99662, Phone: (907) 558-5078/5127, Fax: (907) 558-5134, E-mail: makerelrea@avcp.org, Alaska Region

Native Village of Scammon Bay ², Association of Village Council Presidents, ICWA Staff, P.O. Box 219, Bethel, Alaska 99559, Phone: (907) 543-7300, Fax: (907) 543-5759, E-mail: icwa@avcp.org, Alaska Region

Stebbins Community Association, Anna Nashoanak, ICWA, P.O. Box 71002, Stebbins, Alaska 99671, Phone: (907) 934-2334, Fax: (907) 934-2675, E-mail: anashoanak@kawerak.org, Alaska Region

Sheldon's Point (see Nunam Iqua)

Village of Sleetmute, Jane Parrish, Healthy Families Coordinator, P.O. Box 109, Sleetmute, Alaska 99668, Phone: (907) 449-4225, Fax: (907) 449-4203, E-mail: n/a, Alaska Region

South Naknek Village ¹, Lorianne Rawson, Tribal Administrator, P.O. Box 70029, South Naknek, Alaska 99670, Phone: (907) 246-8614, Fax: (907) 246-8613, E-mail: snvc@starband.net, Alaska Region

South Naknek Village ², Children's Services Program Manager, Bristol Bay Native Association, P.O. Box 310, 1500 Kanakanak Road, Dillingham, Alaska 99576, Phone: (907) 842-4139, Fax: (907) 842-4106, E-mail: cnixon@bbna.com, Alaska Region

St. Mary's (see Algaaciq)

Village of Stony River ¹, Mary Willis, President, Alyssa Willis, ICWA Worker, P.O. Box SRV, Birch Road, Stony River, Alaska 99557, Phone: (907) 537-3258, Fax: (907) 537-3254, E-mail: n/a, Alaska Region

Village of Stony River ², Association of Village Council Presidents, ICWA Staff, P.O. Box 219, Bethel, Alaska 99559, Phone: (907) 543-7300, Fax: (907) 543-5759, E-mail: icwa@avcp.org, Alaska Region

Traditional Village of Togiak ¹, Emma Wassillie, ICWA Worker, P.O. Box 310, Togiak, Alaska 99678, Phone: (907) 493-5431, Fax: (907) 493-5005, E-mail: n/a, Alaska Region

Traditional Village of Togiak ², Children's Services Program Manager, Bristol Bay Native Association, P.O. Box 310, 1500 Kanakanak Road, Dillingham, Alaska 99576, Phone: (907) 842-4139, Fax: (907) 842-4106, E-mail: cnixon@bbna.com, Alaska Region

Toksook Bay (see Nunakauyarmiut Tribe)

Tuluksak Native Community ¹, Elizabeth S. Peter, ICWA Worker, P.O. Box 93, Tuluksak, Alaska 99679, Phone: (907) 695-6902, Fax: (907) 695-6903, E-mail: n/a, Alaska Region

Tuluksak Native Community ², Association of Village Council Presidents, ICWA Staff, P.O. Box 219, Bethel, Alaska 99559, Phone: (907) 543-7300, Fax: (907) 543-5759, E-mail: icwa@avcp.org, Alaska Region

Native Village of Tuntutuliak ¹, Patricia Pavilla, Tribal Administrator, P.O. Box 8086, Tuntutuliak, Alaska 99680, Phone: (907) 256-2128, Fax: (907) 256-2040, E-mail: renoch@avcp.org, Alaska Region

Native Village of Tuntutuliak ², Association of Village Council Presidents, ICWA Staff, P.O. Box 219, Bethel, Alaska 99559, Phone: (907) 543-7300, Fax: (907) 543-5759, E-mail: icwa@avcp.org, Alaska Region

Native Village of Tununak ¹, Theodore Angaiak, President, P.O. Box 77, Tununak, Alaska 99681-0077, Phone: (907) 652-6527, Fax: (907) 652-6011, E-mail: n/a, Alaska Region

Native Village of Tununak ², Association of Village Council Presidents, ICWA Staff, P.O. Box 219, Bethel, Alaska 99559, Phone: (907) 543-7300, Fax: (907) 543-5759, E-mail: icwa@avcp.org, Alaska Region

Twin Hills Village ¹, John W. Sharp, Tribal President, P.O. Box TWA, Twin Hills, Alaska 99576, Phone: (907) 525-4821, Fax: (907) 525-4822, E-mail: n/a, Alaska Region

Twin Hills Village ², Children's Services Program Manager, Bristol Bay Native Association, P.O. Box 310, 1500 Kanakanak Road, Dillingham, Alaska 99576, Phone: (907) 842-4139, Fax: (907) 842-4106, E-mail: cnixon@bbna.com, Alaska Region

Umkumiute Native Village ¹, Bertha Kashatok, Secretary Council, P.O. Box 96062, Nightmute, Alaska 99690, Phone: (907) 647-6145, Fax: (907) 647-6146, E-mail: n/a, Alaska Region

Umkumiute Native Village ², Association of Village Council Presidents, ICWA Staff, P.O. Box 219, Bethel, AK 99559, Phone: (907) 543-7300, Fax: (907) 543-5759, E-mail: icwa@avcp.org, Alaska Region

Native Village of Upper Kalskag (see Kalskag)

Dated: May 6, 2011.
Donald E. Laverdure,
Principal Deputy Assistant Secretary—Indian Affairs.

[FR Doc. 2011-12536 Filed 5-24-11; 8:45 am]

BILLING CODE 4310-4J-P